ENVIRONMENTAL PROTECTION AGENCY

40 CFR Part 63

[AD-FRL-6585-7]

RIN 2060-AH47

National Emission Standards for Hazardous Air Pollutants: Group I Polymers and Resins; and National Emission Standards for Hazardous Air Pollutants: Group IV Polymers and Resins

AGENCY: Environmental Protection Agency (EPA).

ACTION: Final rules; amendments.

SUMMARY: On September 5, 1996 and September 12, 1996, the EPA promulgated national emission standards for hazardous air pollutants (NESHAP) for Group I Polymers and Resins and the NESHAP for Group IV Polymers and Resins, respectively. In November 1996, petitions for review of the September 1996 Polymers and Resins I and IV rules were filed in the U.S. Court of Appeals for the District of Columbia Circuit. The petitioners raised numerous technical issues and concerns with these rules. In addition, on January 17, 1997, amendments to the Synthetic Organic Chemical Manufacturing Industry NESHAP (i.e., the Hazardous Organic NESHAP, or HON) were promulgated; the HON is heavily referenced by both of the Polymers and Resins I and IV NESHAP. On March 9, 1999, the EPA proposed amendments to the Polymers and Resins I and IV NESHAP to address the issues raised by the petitioners and to update the rules as necessitated by the HON amendments. This document takes final action on those proposed amendments.

EFFECTIVE DATE: June 19, 2000.

ADDRESSES: Docket number A-92-44 for the Group I Polymers and Resins NESHAP and Docket number A-92-45 for the Group IV Polymers and Resins NESHAP contain supporting information used in developing the standards. The dockets are located at the U.S. Environmental Protection Agency, 401 M Street, SW, Washington, DC 20460 in Room M-1500, Waterside Mall (ground floor), and may be inspected from 8:30 a.m. to 5:30 p.m., Monday through Friday, excluding legal holidays.

FOR FURTHER INFORMATION CONTACT: For information concerning these final rule amendments, contact Mr. Robert Rosensteel, Organic Chemicals Group, Emission Standards Division (MD-13), Office of Air Quality Planning and Standards, U.S. EPA, Research Triangle Park, North Carolina 27711, telephone number (919) 541-5608, facsimile number (919) 541-3470, electronic mail address rosensteel.bob@epa.gov. For information concerning applicability and rule determinations, contact your State or local representative or the appropriate EPA Regional Office representatives.

SUPPLEMENTARY INFORMATION: Following is a listing of EPA Regional contacts.

EPA Regional Office Contacts

Director, Office of Environmental Stewardship

Attn: Air Compliance Clerk

U.S. EPA Region I, 1 Congress Street, Suite 1100 (SEA), Boston, MA 02114-2023, (617) 918-1740

Umesh Dholakia

U.S. EPA Region II, 290 Broadway Street, New York, NY 10007-1866, (212) 637-4023

Doreen Au

U.S. EPA Region III, 1650 Arch Street, Philadelphia, PA 19103, (215) 814-5471

Lee Page

U.S. EPA Region IV, 61 Forsyth Street, SW, Atlanta, GA 30303-3104, (404) 562-9131

Shaun Burke, IL/IN, (312) 353-5713

Joseph Cardile, MI/WI, (312) 353-2151

Erik Hardin, MN/OH, (312) 353-2402

U.S. EPA Region V, 77 West Jackson Boulevard, Chicago, IL 60604-3507

John Jones

U.S. EPA Region VI, 1445 Ross Avenue, Suite 1200 (6EN-AT), Dallas, TX 75202, (214) 665-7233

Gary Schlicht

U.S. EPA Region VII, 726 Minnesota Avenue, Kansas City, KS 66101, (913) 551-7097

Tami Thomas-Burton

U.S. EPA Region VIII, 999 18th Street, Suite 500, Denver, CO 80202, (303) 312-6581

Ken Bigos

U.S. EPA Region IX, 75 Hawthorne Street, San Francisco, CA 94105, (415) 744-1240

Dan Meyer

U.S. EPA Region X, 1200 Sixth Street, Seattle, WA 98101, (206) 553-4150

Docket. The docket is an organized and complete file of all the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the Clean Air Act (CAA).) An index for each docket, as well as individual items contained within the dockets, may be obtained by calling (202) 260-7548 or (202) 260-7549. Alternatively, docket indexes are available by facsimile, as described on the Office of Air and Radiation, Docket and Information Center Website at http://www.epa.gov/oar/docket. A reasonable fee may be charged for copying docket materials.

Worldwide Web (WWW). In addition to being available in the docket, an electronic copy of this final rule will be available on the WWW through the Technology Transfer Network (TTN). Following signature, a copy of the rule will be posted on the TTN's policy and guidance page for newly proposed or promulgated rules http://www.epa.gov/ttn/oarpg. The TTN provides information and technology exchange in various areas of air pollution control. If more information regarding the TTN is needed, call the TTN HELP line at (919) 541-5384.

Regulated Entities. The regulated category and entities affected by this action include:

Category | Standard Industrial Classification (SIC) Codes | (NAICS) | Examples of regulated entities
Industry | 2821, 2822 | 325211, 325212 | Butyl Rubber, Halobutyl Rubber, Epichlorohydrin Elastomer, Ethylene Propylene Rubber, Hypalon™, Neoprene, Nitrile Butadiene Rubber, Nitrile Butadiene Latex, Polybutadiene Rubber, Styrene-Butadiene Rubber or Latex, Acrylonitrile Butadiene Styrene Resin, Styrene Acrylonitrile Resin, Methyl Methacrylate Acrylonitrile Butadiene Styrene Resin, Methyl Methacrylate Butadiene Styrene Resin, Poly(ethylene terephthalate) Resin, Polystyrene Resin, and Nitrile Resin producers.

This table is not intended to be exhaustive, but rather provides a guide for readers likely to be interested in the revisions to the regulations affected by this action. To determine whether your facility is regulated by this action, you should carefully examine all of the applicability criteria in § 63.480 of the Polymers and Resins I rule and § 63.1310 of the Polymers and Resins IV rule. If you have any questions regarding the applicability of these amendments to a particular entity, consult your State or local representative or the appropriate EPA Regional Office representatives listed in the preceding FOR FURTHER INFORMATION CONTACT section.

Judicial Review. Amendments to Polymers and Resins I and IV NESHAP were proposed on March 9, 1999 (64 FR 11560). This action announces the EPA's final decisions on the rules. Under section 307(b)(1) of the CAA, judicial review of final rules is available by filing a petition for review in the U.S. Court of Appeals for the District of Columbia Circuit August 18, 2000. Under section 307(b)(2) of CAA, the requirements that are the subject of these final amendments may not be challenged later in civil or criminal proceedings brought by the EPA to enforce these requirements.

Outline. The information presented in this preamble is organized as follows:

I. What is the background of these rules?

II. What types of public comments were received on the March 9, 1999 proposal?

III. What major issues were raised in the public comments and what changes were made for the final amendments?

A. Compliance Dates

B. Flexible Operation Unit Applicability Provisions

C. Definitions

D. Additions to Existing Affected Sources

E. Halogenated Batch Process Vents

F. PET and Polystyrene Continuous Process Vents

G. Start-up, Shutdown, and Malfunction and Periods of Nonoperation

H. Organic HAP Lists

I. Other Clarifications

IV. What are the administrative requirements for these final amendments?

A. Executive Order 12866

B. Executive Order 13132

C. Executive Order 13084

D. Executive Order 13045

E. Unfunded Mandates Reform Act

F. Regulatory Flexibility Act (RFA), as amended by the Small Business Regulatory Enforcement Fairness Act of 1996 (SBREFA), 5 U.S.C. 601 et seq.

G. Paperwork Reduction Act

H. National Technology Transfer and Advancement Act

I. Congressional Review Act

I. What is the Background of These Rules?

On September 5, 1996 (61 FR 46906) and September 12, 1996 (61 FR 48208), we issued NESHAP for Group I Polymers and Resins (40 CFR part 63, subpart U) and Group IV Polymers and Resins (40 CFR part 63, subpart JJJ), respectively. On August 26, 1996 (61 FR 43698), prior to the promulgation of subparts U and JJJ, we proposed amendments to the HON, which subparts U and JJJ both reference. Subparts U and JJJ were modeled after the HON due to similarities in emission characteristics and emission controls at HON and Polymers and Resins affected sources.

On November 4, 1996, the Dow Chemical Company (Dow) filed petitions for review of the promulgated Polymers and Resins I and IV NESHAP in the U.S. Court of Appeals for the District of Columbia Circuit, The Dow Chemical Company v. EPA, 96-1417 and 96-1421 (D.C. Cir.). Dow raised over 280 technical issues on the rules' structure and applicability, including questions about the applicability of the HON amendments to subparts U and JJJ. Dow raised issues regarding details of the technical requirements, drafting clarity, and structural errors in the drafting of certain sections of the rules. On October 30, 1996, the Union Carbide Corporation filed a petition for review of the promulgated Polymers and Resins I NESHAP in the U.S. Court of Appeals for the District of Columbia Circuit, Union Carbide Corporation v. EPA, 96-1413 and Consolidated Cases (D.C. Cir.).

On March 9, 1999 (64 FR 11561), we proposed amendments to subparts U and JJJ to incorporate the concepts and new references related to the promulgated HON amendments and to propose changes pursuant to settlements reached with industry. In this action, we are promulgating the amendments proposed on March 9, 1999.

In addition to these final amendments to subparts U and JJJ, other actions taken to amend various aspects of subparts U and JJJ since the original promulgation of these rules in September of 1996 include the following Federal Register notices: January 14, 1997 (62 FR 1835), equipment leaks compliance date extension for both rules; June 6, 1997 (62 FR 30993), equipment leaks compliance date extension for poly(ethylene terephthalate) (PET) resin affected sources; July 15, 1997 (62 FR 37720), minor corrections and clarifications to the rules; February 27, 1998 (63 FR 9944), change in the effective date of the rule for subpart JJJ to February 27, 1998; March 31, 1998 (63 FR 15312), a temporary compliance extension until February 27, 2001 for existing affected sources producing PET using the continuous terephthalic acid (TPA) high viscosity multiple end finisher process; December 9, 1998 (63 FR 67879), notification of a proposed partial settlement; March 9, 1999 (64 FR 11536), clarifications and corrections to the promulgated rules; May 7, 1999 (64 FR 24511), withdrawal, as a result of adverse comments, of one amendment from the amendments in the March 9, 1999 direct final rule; June 8, 1999 (64 FR 30406), equipment leaks compliance date extension for new and existing affected sources producing PET; June 8, 1999 (64 FR 30456), proposed denial of petition for reconsideration of the equipment leak requirements in subpart JJJ; and June 30, 1999 (64 FR 35023), indefinite stay of the compliance dates for certain provisions under subparts U and JJJ.

II. What Types of Public Comments Were Received on the March 9, 1999 Proposal?

We received six public comment letters on the March 9, 1999 proposed amendments. All comment letters were from industry representatives. The comment letters generally supported the proposed amendments, but also suggested clarifications and corrections to the proposed amendments. We considered these comments and, where appropriate, made changes to the proposed amendments. This preamble summarizes significant issues raised and the changes to the proposed amendments. Our response to all comments can be found in National Emission Standards for Hazardous Air Pollutants for Polymers and Resins (Groups I and IV): Summary of Public Comments and Responses on Proposed Amendments, EPA-453/R-99-001. This document may be found in both dockets.

III. What Major Issues Were Raised in the Public Comments and What Changes Were Made for the Final Amendments?

As noted above, these final amendments incorporate the concepts and new references in response to the promulgated HON amendments and include changes related to settlement negotiations with industry. In addition to a number of clarifications and reference changes, the amendments include changes to the applicability provisions for flexible operation units, the batch process vent group determination procedures, and the reporting and recordkeeping requirements. We believe that these changes provide additional clarity to the rules. In the preamble to the March 9, 1999 proposed amendments, we provided a detailed explanation of the proposed amendments. The following discussion summarizes the major public comments on the proposed amendments and significant changes made in response to these comments.

A. Compliance Dates

Due to the extensive nature of the proposed amendments and the proximity of the proposed amendments to the September 1999 compliance dates (September 5 for subpart U and September 12 for subpart JJJ), several commenters requested an extension of the compliance dates for existing sources. They indicated that due to the proposed amendments, they would have to re-evaluate applicability, compliance status, and the basis for demonstrating compliance. As discussed in the preamble to the proposed amendments (64 FR 11573), we were aware of the possibility that specific proposed amendments might affect the compliance status of one or more facilities. We specifically requested comments on this issue, along with specific examples of the proposed rule changes that could cause a facility to be out of compliance.

After review of the comments submitted in response to that request and the specific proposed rule examples provided, we decided that setting a new compliance date for the amended rule was warranted. Therefore, on June 30, 1999, we published a direct final rule in the Federal Register (64 FR 35023) which stayed certain compliance dates “indefinitely.” That stay was effective August 30, 1999. Specifically, that action stayed the existing source compliance dates for storage vessels, process vents, back-end process operations (subpart U only), heat exchange systems, and wastewater. That stay did not impact the equipment leaks at any facility or the process contact cooling tower provisions at facilities that produce PET using a continuous terephthalic acid high viscosity multiple end finisher process. That action also stayed the compliance date for all emission sources at new affected sources that had an initial start-up date on or after March 9, 1999.

In the June 30, 1999 Federal Register document, we indicated that we would publish new compliance dates, which would provide a reasonable amount of time in which to comply with the amended regulations, when we promulgated the final amendments to the regulations. As pointed out by the commenters, many of the proposed rule changes that may affect compliance are related to the provisions that are used to determine whether controls are required for a particular emission point. In addition, we recognized that a change in compliance date also affects certain reports that the promulgated rules required to be submitted prior to the compliance date (discussed below). One commenter suggested a compliance date of at least 9 months after promulgation of the amendments. However, we did not believe that 9 months was a sufficient time period to allow for (1) the re-evaluation of whether controls are required by the owner or operator, (2) the submission of reports that are due prior to the compliance date, and (3) the review of these reports by the Administrator. We concluded that 1 year was a reasonable amount of time for accomplishment of these activities.

Therefore, the final amendments require that existing affected sources comply with the nonequipment leak requirements by June 19, 2001. The final amendments also require, in accordance with the CAA, that all new affected sources comply with the amended regulations on June 19, 2000, or at initial start-up, whichever is later. Note: New affected sources that produce PET as their primary product are not required to comply with the equipment leak provisions in § 63.1331 until February 27, 2001 or at initial start-up, whichever is later.

The promulgated rules require the owner or operator to submit two reports, the precompliance report and the emissions averaging plan (if applicable), prior to the compliance date. The promulgated rules originally required the owner or operator to submit these reports prior to the publication of the proposed amendments on March 9, 1999. We believe that facilities should have the opportunity to submit, or resubmit, these reports after evaluating the final amendments. Therefore, the final amendments change the required submission date of the emissions averaging plan to September 19, 2000 (9 months before the compliance date) and the due date of the precompliance report to December 19, 2000 (6 months before the compliance date). Even if a facility does not need to make changes to an emissions averaging plan or precompliance report previously submitted, the facility must either resubmit the plan or report, or submit a notification that the previously submitted plan or report is still valid. This will avoid any confusion regarding your intention.

In another compliance date issue, a commenter requested that the EPA change the compliance date for new emission points and newly created Group 1 emission points to 120 days after the initial start-up, rather than the proposed requirement that such points be in compliance at initial start-up. Upon consideration of the comments, we agree that time may be necessary to evaluate the actual impact of a process change after initial start-up in some instances. Therefore, the final rule requires that new emission points and newly created Group 1 emission points be in compliance with the existing source requirements within 120 days of initial start-up.

B. Flexible Operation Unit Applicability Provisions

The promulgated rules specify that the owner or operator must redetermine the primary product of a flexible operation unit (based on actual previous production) whenever changes in products occur that could reasonably be expected to change the primary product. If the primary product indeed changes, then the process unit would no longer be subject to subpart U or JJJ if the new primary product makes the process unit subject to another subpart of 40 CFR part 63 (i.e., another maximum achievable control technology (MACT) standard). If the new primary product does not make the process unit subject to another MACT standard, then the process unit must continue to comply with subpart U or JJJ, provided that the production of elastomer/thermoplastic continues. One commenter objected to the idea that the owner or operator of an elastomer product process unit (EPPU) or thermoplastic product process unit (TPPU) that has been operating as a flexible operation unit must continue to comply with subpart U or JJJ, even when an elastomer/thermoplastic product is no longer the primary product of the flexible operation unit.

If we had incorporated the commenter's suggestion, a major source could have continued to produce a product covered by a MACT standard (i.e., an elastomer or thermoplastic) and emit hazardous air pollutants (HAP) but not be subject to any requirements to reduce those HAP emissions. Therefore, controls used to reduce HAP might be removed. We believe that such a situation is contrary to the intent of section 112 of the CAA; therefore, we did not change the final rule in response to this comment.

We did make a clarification to the proposed flexible operation unit applicability provisions with regard to annual redeterminations. This change clarifies that annual applicability determinations are not required for flexible operation units in which the owner or operator does not intend to produce elastomer/thermoplastic in the future.

C. Definitions

We revised several proposed definitions in response to comments. The proposed addition of a definition of net positive heating value was an attempt to provide additional clarification to the definition of recovery device, which uses the term net positive heating value. After review of the comments, we concluded that a single all-inclusive definition that works for this term was not possible, and we removed the entire term from the final amendments. Therefore, you must be able to demonstrate, in engineering terms appropriate to each individual situation, that a recovered stream has net positive heating value.

A commenter pointed out that the proposed definition of supplemental combustion air could be interpreted to require application of the oxygen correction factor when a facility adds air to exhaust streams controlled by catalytic oxidizers to ensure proper operation and to prevent damage to the catalyst bed. We agree a facility should not consider air added to ensure proper operation and to avoid damage to a catalytic oxidizer to be supplemental combustion air; therefore, the definition of supplemental combustion air in the final amendments includes an additional sentence clarifying this point.

We agree with a commenter that the proposed definition of stripping in subpart U used language that excluded certain operations, specifically drum dryers which have devolatilization as their primary purpose. Therefore, the final definition of stripping clarifies that processes that occur in dryers with the primary purpose of devolatilization are considered to be stripping.

We also agree with commenters that the proposed change to the definition of elastomer product in subpart U, which separated polybutadiene rubber by solution and styrene butadiene rubber by solution into two different products, was not appropriate. At the majority of facilities, these two polymers are produced in the same process. Further, in the solution process that is used at these facilities, the HAP emissions are primarily from the use of the solvent, not the reactants, which means that there is little difference in emissions between the two products. In fact, total HAP emissions were usually reported for the entire facility and not for the individual products, so we originally developed the back-end process operation limitations based on the emissions from both of these polymers. Therefore, we recombined these polymers as a single elastomer product in the final amendments.

Changes were also made to the definition of material recovery section in subpart JJJ to clarify that contact and non-contact condensers removing ethylene glycol from vapor streams coming out of polymerization vessels are part of the polymerization reaction section.

D. Additions to Existing Affected Sources

The proposed definition of reconstruction and the proposed provisions that applied the definition of reconstruction (§§ 63.480(i)(2)(i) and 63.1310(i)(2)(i)) were inconsistent. To summarize, the proposed §§ 63.480(i)(2)(i) and 63.1310(i)(2)(i) stated that if a facility made any process change or addition that met the definition of reconstruction after June 5, 1995 (June 12, 1995 for subpart JJJ), the source is a new affected source. However, the proposed definition of reconstruction in §§ 63.482 and 63.1312 only addressed the replacement, and not the addition, of components. One commenter suggested that we amend the definition of reconstruction to also include additions.

The general provisions for part 63 clearly separate replacements from additions. The definition of reconstruction in the general provisions only addresses the replacement of components, while § 63.5(b)(6) of the general provisions addresses additions. In the proposed language for §§ 63.480(i)(2)(i) and 63.1310(i)(2)(i), we combined these two concepts, thus creating confusion and making them inconsistent with our policies regarding replacements and additions. Therefore, rather than amend the definition of reconstruction in §§ 63.482 and 63.1312, we revised the provisions in §§ 63.480(i)(2) and 63.1312(i)(2) to clearly distinguish how a facility is to handle replacements of components and additions. In summary, if the replacement of components at an existing affected source meets the definition of reconstruction, then the affected source becomes a new affected source. If an owner or operator makes an addition to an existing affected source, then the addition becomes part of the existing affected source.

E. Halogenated Batch Process Vents

The purpose of the halogenated vent provisions is to reduce the hydrogen halides that are created when halogenated organic compounds are routed to a combustion device. Therefore, the important location for determining whether a vent stream is halogenated is prior to the stream entering a combustion device. The location specified in both subparts U and JJJ for making batch vent group determinations is at the exit of the batch unit operation (i.e., before any recovery, recapture, or combustion device). Therefore, any reduction in the mass emission rate of halogen atoms that occurs in a recovery or recapture device would not be taken into account. A commenter requested that the rules allow the determination of the concentration of each organic compound containing halogen atoms at the recovery device or process discharge for the purposes of determining the halogenated status of a vent stream. We agree with the commenter. We have changed the rules to specify that an owner or operator must determine the concentration of each organic compound containing halogen atoms at the exit of the last recovery or recapture device.

F. PET and Polystyrene Continuous Process Vents

Continuous process vents at PET and polystyrene affected sources are subject to emission limitations that apply to all process vents in entire sections (i.e., material recovery section, polymerization reaction section) of the process unit. This differs from the requirements for other continuous process vents which are subject to control requirements based on the group status of individual process vents.

One commenter requested that the rule exempt process vents at PET and polystyrene affected sources subject to these section-specific emission limitations from certain control, testing, and recordkeeping requirements if they meet the Group 2 criteria. However, since the concept of group status does not apply for these process vents, we did not make changes in response to these comments. We believe that the emission limitations for process vents in the applicable sections, which were determined to be the MACT floor for the applicable subcategories, provide an owner or operator with various compliance demonstration options, including a kilogram of HAP per megagram of product limit, which allow the owner or operator to choose which process vents to control.

Paragraph § 63.1313(b) of subpart JJJ addresses the control of combined streams. One commenter believed that these provisions do not adequately address how to handle process vents in sections of PET and polystyrene facilities that are subject to the requirements in §§ 63.1316 through 63.1320 and other combined streams that do not include Group 1 emission streams. The commenter suggests using the Total Resource Effectiveness (TRE) value to determine applicability for this combined vent stream, and if the combined stream does not meet the Group 1 criteria, no control would be required.

If a combined emission stream has no Group 1 emission streams, the combined emission stream could either (1) have no emission streams requiring control, or (2) have process vent emission streams subject to §§ 63.1316 through 63.1320. For the first case, there is no reason for an owner or operator to evaluate the combined emission stream for control. For the second case, consider the following example. A facility makes polystyrene using a continuous process so emissions from the material recovery section must be controlled in accordance with § 63.1316(c). If a stream from the material recovery section is combined with emission streams that are not required to be controlled (i.e., Group 2 emission streams), and the TRE of the combined stream does not meet the Group 1 criteria, then no control would be required if we adopted the commenter's suggested approach of applying the TRE to these combined streams. The result would be that emissions that are required to be controlled under § 63.1316(c) would not be controlled. This approach would result in a situation where the control requirements of §§ 63.1316 through 63.1320 could be circumvented by combining subject streams with other streams that are not required to be controlled. Therefore, we believe that the provisions in § 63.1313(b) adequately address the situations raised by the commenter, and we did not change the rule in response to this comment.

G. Start-up, Shutdown, and Malfunction and Periods of Nonoperation

We received several comments on the provisions related to the requirements during start-up, shutdown, and malfunction and during periods of nonoperation. As a result of these comments, we made the following changes. The promulgated rules require that owners and operators implement measures to prevent or minimize excess emissions during periods of start-up, shutdown, and malfunction. One commenter suggested changes to the definition of excess emissions with which we agreed. Therefore, in the final rule, we have defined excess emissions as “emissions greater than those allowed by the emissions limitation which would apply during operational periods other than start-up, shutdown, and malfunction.” Commenters also made suggestions related to the records required during periods of start-up, shutdown, and malfunction. In response to these comments, we reduced the amount of information required to be submitted with reports of start-ups, shutdowns, and malfunctions to the level specified by the 40 CFR part 63 general provisions. Finally, we revised Table 1 of both promulgated rules to clarify that immediate start-up, shutdown, and malfunction reports are not required.

H. Organic HAP Lists

As a result of comments, we revised the tables specifying known HAP emitted from the production of specific elastomer/thermoplastic products (Table 5 in subpart U and Table 6 in subpart JJJ). Specifically, Table 5 in subpart U no longer identifies hexane, toluene, and xylenes as known organic HAP emitted from the production of styrene butadiene rubber by emulsion and styrene butadiene latex elastomer. We have no information that indicates that these HAP are used or emitted from the production of these elastomer products, but they were inadvertently identified in the table as known organic HAP emitted from their production. Carbon disulfide is a HAP known to be emitted during the production of styrene butadiene rubber via an emulsion process, so we added carbon disulfide to the table and indicated that it is a known organic HAP emitted from the production of styrene butadiene rubber by emulsion. Also, Table 6 of subpart JJJ no longer identifies 1,3-butadiene as a known organic HAP emitted from the production of actrylonitrile styrene acrylate resin/alpha methyl styrene acrylonitrile resin (ASA/AMSAN), as we have no information that indicates ASA/AMSAN production processes use or emit this HAP.

I. Other Clarifications

A change was made to clarify that process units that produce elastomers which are, in turn, used at least 50 percent of the time to produce thermoplastics, are subject to subpart JJJ and not subpart U. Another change clarifies that changes that do not alter the equipment configuration and operation conditions are not process changes, and that these configurations and conditions are not required to be documented in the Notification of Compliance Status reports. We made changes to clarify the organic HAP subject to the process and maintenance wastewater requirements. In subpart U, we made a change to clarify the elastomer products that are not subject to back-end process operation residual HAP limitations. We also clarified the monitoring requirements for flares used to control process back-end HAP emissions.

IV. What Are the Administrative Requirements for These Final Amendments?

A. Executive Order 12866

Under Executive Order 12866 (58 FR 51735, October 4, 1993), the EPA must determine whether the regulatory action is “significant” and therefore subject to the Office of Management and Budget (OMB) review and the requirements of the Executive Order. The Executive Order defines “significant regulatory action” as one that is likely to result in a rule that may:

(1) Have an annual effect on the economy of $100 million or more or adversely affect in a material way the economy, productivity, competition, jobs, the environment, public health or safety, or state, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Pursuant to the terms of Executive Order 12866, it has been determined that these amendments are not a “significant regulatory action” because they do not meet any of the above criteria. Consequently, these amendments were not submitted to OMB for review under Executive Order 12866.

B. Executive Order 13132

Executive Order 13132, entitled “Federalism” (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under section 6 of Executive Order 13132, EPA may not issue a regulation that has federalism implications, that imposes substantial direct compliance costs, and that is not required by statute, unless the Federal government provides the funds necessary to pay the direct compliance costs incurred by State and local governments, or EPA consults with State and local officials early in the process of developing the regulation. The EPA also may not issue a regulation that has federalism implications and that preempts State law unless the Agency consults with State and local officials early in the process of developing the regulation.

These amendments do not have federalism implications. They will not have substantial direct effects on the States, on the relationship between the national government and the States, or on the distribution of power and responsibilities among the various levels of government, as specified in Executive Order 13132. Thus, the requirements of section 6 of Executive Order 13084 do not apply to these amendments.

C. Executive Order 13084

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.” These rules do not significantly or uniquely affect the communities of Indian tribal governments. No tribal governments own or operate an affected source. Accordingly, the requirements of section 3(b) of Executive Order 13084 do not apply to these amendments.

D. Executive Order 13045

Executive Order 13045 (62 FR 19885, April 23, 1997), applies to any rule that: (1) Is determined to be “economically significant” as defined under Executive Order 12866, and (2) concerns an environmental health or safety risk that the EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Order has the potential to influence the regulation. These rules fall into that category only in part: the minimum rule stringency for subparts U and JJJ is set according to a congressionally-mandated, technology-based lower limit called the “floor,” while a decision to increase the stringency beyond this floor can be based on risk considerations. Thus, Executive Order 13045 applies to these rules only to the extent that the Agency may consider the inherent toxicity of a regulated pollutant, and any differential impact such a pollutant may have on children's health, in deciding whether to adopt control requirements more stringent than the floor level.

These amendments are not subject to Executive Order 13045 because they are not economically significant as defined in Executive Order 12866. No children's risk analysis was performed for these amendments because no alternative technologies exist that would provide greater stringency at a reasonable cost. Therefore, the results of any such analysis would have no impact on the stringency decision.

E. Unfunded Mandates Reform Act

Title II of the Unfunded Mandates Reform Act of 1995 (UMRA), Public Law 104-4, establishes requirements for Federal agencies to assess the effects of their regulatory actions on State, local, and tribal governments and the private sector. Under section 202 of the UMRA, the EPA generally must prepare a written statement, including a cost-benefit analysis, for proposed and final rules with “Federal mandates” that may result in expenditures to State, local, and tribal governments, in the aggregate, or by the private sector, of $100 million or more in any 1 year. Before promulgating an EPA rule for which a written statement is needed, section 205 of the UMRA generally requires the EPA to identify and consider a reasonable number of regulatory alternatives and adopt the least costly, most cost-effective, or least-burdensome alternative that achieves the objectives of the rule. The provisions of section 205 do not apply when they are inconsistent with applicable law. Moreover, section 205 allows the EPA to adopt an alternative other than the least-costly, most cost-effective, or least-burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that these amendments do not contain a Federal mandate that may result in expenditures of $100 million or more for State, local, and tribal governments, in the aggregate, or in the private sector in any 1 year. Thus, today's amendments are not subject to the requirements of sections 202 and 205 of the UMRA. In addition, the EPA has determined that these amendments contain no regulatory requirements that might significantly or uniquely affect small governments, because they contain no requirements that apply to such governments or impose obligations on them. Therefore, today's amendments are not subject to the requirements of section 203 of the UMRA.

F. Regulatory Flexibility Act (RFA), as Amended by the Small Business Regulatory Enforcement Fairness Act of 1996 (SBREFA), 5 U.S.C. 601 et seq.

The RFA generally requires an agency to prepare a regulatory flexibility analysis of a rule subject to notice and comment rulemaking requirements under the Administrative Procedure Act or any other statute unless the agency certifies that the rule will not have a significant economic impact on a substantial number of small entities. Small entities include small businesses, small organizations, and small governmental jurisdictions.

For purposes of assessing the impacts of these amendments on small entities, small entity is defined as: (1) A small business that has less than 750 employees and is unaffiliated with a larger domestic entity; (2) a small governmental jurisdiction that is a government of a city, county, town, school district, or special district with a population of less than 50,000; and (3) a small organization that is any not-for-profit enterprise which is independently owned and operated and is not dominant in its field.

After considering the economic impacts of these amendments on small entities, we have concluded that these actions will not have a significant economic impact on a substantial number of small entities, because they include primarily clarifications and amendments to reduce the reporting and recordkeeping burden, thus they impose no additional regulatory requirements on owners or operators of affected sources.

G. Paperwork Reduction Act

For both the Group I and Group IV Polymers and Resins NESHAP, the information collection requirements (ICRs) were submitted to OMB under the Paperwork Reduction Act. At promulgation, OMB had already approved the ICR for the Group IV Polymers and Resins NESHAP and assigned OMB control number 2060-0351. Subsequently, OMB approved the ICR for the Group I Polymers and Resins NESHAP, and on July 15, 1997 (62 FR 37720) assigned OMB control number 2060-0356.

An Agency may not conduct or sponsor, and a person is not required to respond to a collection of information unless it displays a currently valid OMB control number. The OMB control numbers for EPA's regulations are listed in 40 CFR part 9 and 48 CFR Chapter 15. The EPA has amended 40 CFR 9.1 to indicate the ICRs contained in the Group I and IV Polymers and Resins NESHAP.

The amendments to the NESHAP contained in this final rule should have no impact on the information collection burden estimates made previously. Therefore, the ICRs have not been revised.

H. National Technology Transfer and Advancement Act

Section 12(d) of the National Technology Transfer and Advancement Act of 1995 (NTTAA), Public Law 104-113, (15 U.S.C. 272 note), directs all Federal agencies to use voluntary consensus standards instead of government-unique standards in their regulatory activities unless to do so would be inconsistent with applicable law or would be otherwise impractical. Voluntary consensus standards are technical standards (e.g., material specifications, test method, sampling and analytical procedures, business practices, etc.) that are developed or adopted by one or more voluntary consensus standards bodies. Examples of organizations generally regarded as voluntary consensus standards bodies include the American Society for Testing and Materials (ASTM), the National Fire Protection Association (NFPA), and the Society of Automotive Engineers (SAE). The NTTAA requires Federal agencies like EPA to provide Congress, through OMB, with explanations when the Agency decides not to use available and applicable voluntary consensus standards.

During the rulemaking, the Agency searched for voluntary consensus standards that might be applicable. The search has identified no applicable voluntary standards. Accordingly, the NTTAA requirement to use applicable voluntary consensus standards does not apply to these amendments.

I. The Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective June 19, 2000.

List of Subjects in 40 CFR Part 63

Environmental protection, Administrative practice and procedure, Air pollution control, Hazardous substances, Intergovernmental relations, Reporting and recordkeeping requirements.

Dated: April 20, 2000.
Carol M. Browner,
Administrator.

For the reasons set out in the preamble, part 63 of title 40, chapter I of the Code of Federal Regulations is amended as follows:

PART 63—NATIONAL EMISSION STANDARDS FOR HAZARDOUS AIR POLLUTANTS FOR SOURCE CATEGORIES

1. The authority citation for part 63 continues to read as follows:

Authority: 42 U.S.C. 7401, et seq.

Subpart U—National Emission Standards for Hazardous Air Pollutant Emissions: Group I Polymers and Resins

2. Section 63.480 is amended by:

a. Revising paragraph (a);

b. Revising paragraph (b);

c. Revising paragraph (c);

d. Revising paragraph (d);

e. Revising paragraph (e);

f. Revising paragraph (f);

g. Revising paragraph (g) introductory text;

h. Revising paragraphs (g)(1) through (g)(4);

i. Revising paragraphs (g)(6), through (g)(8);

j. Revising paragraph (h) introductory text;

k. Revising paragraphs (h)(1) through (h)(4);

l. Revising paragraphs (h)(6) and (h)(7);

m. Revising paragraph (i) introductory text;

n. Revising paragraph (i)(1) introductory text;

o. Revising paragraphs (i)(1)(i) and (i)(1)(ii);

p. Revising paragraph (i)(2)(i) introductory text;

q. Revising paragraph (i)(2)(i)(A);

r. Revising paragraphs (i)(2)(ii) and (i)(2)(iii);

s. Revising paragraphs (i)(3) through (i)(5);

t. Revising paragraph (j); and

u. Adding paragraph (i)(6).

The revisions and additions read as follows:

§ 63.480 Applicability and designation of affected sources.

(a) Definition of affected source. The provisions of this subpart apply to each affected source. Affected sources are described in paragraphs (a)(1) through (a)(4) of this section.

(1) An affected source is either an existing affected source or a new affected source. Existing affected source is defined in paragraph (a)(2) of this section, and new affected source is defined in paragraph (a)(3) of this section.

(2) An existing affected source is defined as each group of one or more elastomer product process units (EPPU) and associated equipment, as listed in paragraph (a)(4) of this section, that is not part of a new affected source, as defined in paragraph (a)(3) of this section, that is manufacturing the same primary product and that is located at a plant site that is a major source.

(3) A new affected source is defined by the criteria in paragraph (a)(3)(i), (a)(3)(ii), or (a)(3)(iii) of this section. The situation described in paragraph (a)(3)(i) of this section is distinct from those situations described in paragraphs (a)(3)(ii) and (a)(3)(iii) of this section and from any situation described in paragraph (i) of this section.

(i) At a site without HAP emission points before June 12, 1995 (i.e., a “greenfield” site), each group of one or more EPPU and associated equipment, as listed in paragraph (a)(4) of this section, that is manufacturing the same primary product and that is part of a major source on which construction commenced after June 12, 1995;

(ii) A group of one or more EPPU meeting the criteria in paragraph (i)(1)(i) of this section; or

(iii) A reconstructed affected source meeting the criteria in paragraph (i)(2)(i) of this section.

(4) Emission points and equipment. The affected source also includes the emission points and equipment specified in paragraphs (a)(4)(i) through (a)(4)(iv) of this section that are associated with each applicable group of one or more EPPU constituting an affected source.

(i) Each waste management unit.

(ii) Maintenance wastewater.

(iii) Each heat exchange system.

(iv) Equipment required by, or utilized as a method of compliance with, this subpart which may include control devices and recovery devices.

(5) EPPUs and associated equipment, as listed in paragraph (a)(4) of this section, that are located at plant sites that are not major sources are neither affected sources nor part of an affected source.

(b) EPPUs without organic HAP. The owner or operator of an EPPU that is part of an affected source, as defined in paragraph (a) of this section, but that does not use or manufacture any organic HAP shall comply with the requirements of either paragraph (b)(1) or (b)(2) of this section. Such an EPPU is not subject to any other provision of this subpart and is not required to comply with the provisions of subpart A of this part.

(1) Retain information, data, and analyses used to document the basis for the determination that the EPPU does not use or manufacture any organic HAP. Types of information that could document this determination include, but are not limited to, records of chemicals purchased for the process, analyses of process stream composition, engineering calculations, or process knowledge.

(2) When requested by the Administrator, demonstrate that the EPPU does not use or manufacture any organic HAP.

(c) Emission points not subject to the provisions of this subpart. The affected source includes the emission points listed in paragraphs (c)(1) through (c)(9) of this section, but these emission points are not subject to the requirements of this subpart or to the provisions of subpart A of this part.

(1) Equipment that does not contain organic HAP and is located at an EPPU that is part of an affected source;

(2) Stormwater from segregated sewers;

(3) Water from fire-fighting and deluge systems in segregated sewers;

(4) Spills;

(5) Water from safety showers;

(6) Water from testing of deluge systems;

(7) Water from testing of firefighting systems;

(8) Vessels and equipment storing and/or handling material that contains no organic HAP or organic HAP as impurities only; and

(9) Equipment that is intended to operate in organic HAP service for less than 300 hours during the calendar year.

(d) Processes exempted from the affected source. Research and development facilities are exempted from the affected source.

(e) Applicability determination of elastomer equipment included in a process unit producing a non-elastomer product. If an elastomer product that is subject to this subpart is produced within a process unit that is subject to subpart JJJ of this part, and at least 50 percent of the elastomer is used in the production of the product manufactured by the subpart JJJ process unit, the unit operations involved in the production of the elastomer are considered part of the process unit that is subject to subpart JJJ, and not this subpart.

(f) Primary product determination and applicability. An owner or operator of a process unit that produces or plans to produce an elastomer product shall determine if the process unit is subject to this subpart in accordance with this paragraph. The owner or operator shall initially determine whether a process unit is designated as an EPPU and subject to the provisions of this subpart in accordance with either paragraph (f)(1) or (f)(2) of this section. The owner or operator of a flexible operation unit that was not initially designated as an EPPU, but in which an elastomer product is produced, shall conduct an annual re-determination of the applicability of this subpart in accordance with paragraph (f)(3) of this section. Owners or operators that anticipate the production of an elastomer product in a process unit that was not initially designated as an EPPU, and in which no elastomer products are currently produced, shall determine if the process unit is subject to this subpart in accordance with paragraph (f)(4) of this section. Paragraphs (f)(3) and (f)(5) through (f)(7) of this section discuss compliance only for flexible operation units. Other paragraphs apply to all process units, including flexible operation units, unless otherwise noted. Paragraph (f)(8) of this section contains reporting requirements associated with the applicability determinations. Paragraphs (f)(9) and (f)(10) describe criteria for removing the EPPU designation from a process unit.

(1) Initial determination. The owner or operator shall initially determine if a process unit is subject to the provisions of this subpart based on the primary product of the process unit in accordance with paragraphs (f)(1)(i) through (iii) of this section. If the process unit never uses or manufactures any organic HAP, regardless of the outcome of the primary product determination, the only requirements of this subpart that might apply to the process unit are contained in paragraph (b) of this section. If a flexible operation unit does not use or manufacture any organic HAP during the manufacture of one or more products, paragraph (f)(5)(i) of this section applies to that flexible operation unit.

(i) If a process unit only manufactures one product, then that product shall represent the primary product of the process unit.

(ii) If a process unit produces more than one intended product at the same time, the primary product shall be determined in accordance with paragraph (f)(1)(ii)(A) or (B) of this section.

(A) The product for which the process unit has the greatest annual design capacity on a mass basis shall represent the primary product of the process unit, or

(B) If a process unit has the same maximum annual design capacity on a mass basis for two or more products, and if one of those products is an elastomer product, then the elastomer product shall represent the primary product of the process unit.

(iii) If a process unit is designed and operated as a flexible operation unit, the primary product shall be determined as specified in paragraphs (f)(1)(iii)(A) or (B) of this section based on the anticipated operations for the 5 years following September 5, 1996 at existing process units, or for the first year after the process unit begins production of any product for new process units. If operations cannot be anticipated sufficiently to allow the determination of the primary product for the specified period, applicability shall be determined in accordance with paragraph (f)(2) of this section.

(A) If the flexible operation unit will manufacture one product for the greatest operating time over the specified five year period for existing process units, or the specified one year period for new process units, then that product shall represent the primary product of the flexible operation unit.

(B) If the flexible operation unit will manufacture multiple products equally based on operating time, then the product with the greatest expected production on a mass basis over the specified five year period for existing process units, or the specified one year period for new process units shall represent the primary product of the flexible operation unit.

(iv) If, according to paragraph (f)(1)(i), (ii), or (iii) of this section, the primary product of a process unit is an elastomer product, then that process unit shall be designated as an EPPU. That EPPU and associated equipment, as listed in paragraph (a)(4) of this section, is either an affected source, or part of an affected source comprised of other EPPU and associated equipment, as listed in paragraph (a)(4) of this section, subject to this subpart with the same primary product at the same plant site that is a major source. If the primary product of a process unit is determined to be a product that is not an elastomer product, then that process unit is not an EPPU.

(2) If the primary product cannot be determined for a flexible operation unit in accordance with paragraph (f)(1)(iii) of this section, applicability shall be determined in accordance with this paragraph.

(i) If the owner or operator cannot determine the primary product in accordance with paragraph (f)(1)(iii) of this section, but can determine that an elastomer product is not the primary product, then that flexible operation unit is not an EPPU.

(ii) If the owner or operator cannot determine the primary product in accordance with paragraph (f)(1)(iii) of this section, and cannot determine that an elastomer product is not the primary product as specified in paragraph (f)(2)(i) of this section, applicability shall be determined in accordance with paragraph (f)(2)(ii)(A) or (f)(2)(ii)(B) of this section.

(A) If the flexible operation unit is an existing process unit, the flexible operation unit shall be designated as an EPPU if an elastomer product was produced for 5 percent or greater of the total operating time of the flexible operation unit since March 9, 1999. That EPPU and associated equipment, as listed in paragraph (a)(4) of this section, is either an affected source, or part of an affected source comprised of other EPPU and associated equipment, as listed in paragraph (a)(4) of this section, subject to this subpart with the same primary product at the same plant site that is a major source. For a flexible operation unit that is designated as an EPPU in accordance with this paragraph, the elastomer product produced for the greatest amount of time since March 9, 1999 shall be designated as the primary product of the EPPU.

(B) If the flexible operation unit is a new process unit, the flexible operation unit shall be designated as an EPPU if the owner or operator anticipates that an elastomer product will be manufactured in the flexible operation unit at any time in the first year after the date the unit begins production of any product. That EPPU and associated equipment, as listed in paragraph (a)(4) of this section, is either an affected source, or part of an affected source comprised of other EPPU and associated equipment, as listed in paragraph (a)(4) of this section, subject to this subpart with the same primary product at the same plant site that is a major source. For a process unit that is designated as an EPPU in accordance with this paragraph, the elastomer product that will be produced shall be designated as the primary product of the EPPU. If more than one elastomer product will be produced, the owner or operator may select which elastomer product is designated as the primary product.

(3) Annual applicability determination for non-EPPUs that have produced an elastomer product. Once per year beginning September 5, 2001, the owner or operator of each flexible operation unit that is not designated as an EPPU, but that has produced an elastomer product at any time in the preceding five-year period or since the date that the unit began production of any product, whichever is shorter, shall perform the evaluation described in paragraphs (f)(3)(i) through (f)(3)(iii) of this section. However, an owner or operator that does not intend to produce any elastomer product in the future, in accordance with paragraph (f)(9) of this section, is not required to perform the evaluation described in paragraphs (f)(3)(i) through (f)(3)(iii) of this section.

(i) For each product produced in the flexible operation unit, the owner or operator shall calculate the percentage of total operating time over which the product was produced during the preceding five-year period.

(ii) The owner or operator shall identify the primary product as the product with the highest percentage of total operating time for the preceding five-year period.

(iii) If the primary product identified in paragraph (f)(3)(ii) is an elastomer product, the flexible operation unit shall be designated as an EPPU. The owner or operator shall notify the Administrator no later than 45 days after determining that the flexible operation unit is an EPPU, and shall comply with the requirements of this subpart in accordance with paragraph (i)(1) of this section for the flexible operation unit.

(4) Applicability determination for non-EPPUs that have not produced an elastomer product. The owner or operator that anticipates the production of an elastomer product in a process unit that is not designated as an EPPU, and in which no elastomer products have been produced in the previous 5 year period or since the date that the process unit began production of any product, whichever is shorter, shall determine if the process unit is subject to this subpart in accordance with paragraphs (f)(4)(i) and (ii) of this section. Also, owners or operators who have notified the Administrator that a process unit is not an EPPU in accordance with paragraph (f)(9) of this section, that now anticipate the production of an elastomer product in the process unit, shall determine if the process unit is subject to this subpart in accordance with paragraphs (f)(4)(i) and (ii) of this section.

(i) The owner or operator shall use the procedures in paragraph (f)(1) or (f)(2) of this section to determine if the process unit is designated as an EPPU, with the following exception: for existing process units that are determining the primary product in accordance with paragraph (f)(1)(iii) of this section, production shall be projected for the five years following the date that the owner or operator anticipates initiating the production of an elastomer product.

(ii) If the unit is designated as an EPPU in accordance with paragraph (f)(4)(i) of this section, the owner or operator shall comply in accordance with paragraph (i)(1) of this section.

(5) Compliance for flexible operation units. Owners or operators of EPPUs that are flexible operation units shall comply with the standards specified for the primary product, with the exceptions provided in paragraphs (f)(5)(i) and (f)(5)(ii) of this section.

(i) Whenever a flexible operation unit manufactures a product in which no organic HAP is used or manufactured, the owner or operator is only required to comply with either paragraph (b)(1) or (b)(2) of this section to demonstrate compliance for activities associated with the manufacture of that product. This subpart does not require compliance with the provisions of subpart A of this part for activities associated with the manufacture of a product that meets the criteria of paragraph (b) of this section.

(ii) Whenever a flexible operation unit manufactures a product that makes it subject to subpart GGG of this part, the owner or operator is not required to comply with the provisions of this subpart during the production of that product.

(6) Owners or operators of EPPUs that are flexible operation units have the option of determining the group status of each emission point associated with the flexible operation unit, in accordance with either paragraph (f)(6)(i) or (f)(6)(ii) of this section, with the exception of batch front-end process vents. For batch front-end process vents, the owner or operator shall determine the group status in accordance with § 63.488.

(i) The owner or operator may determine the group status of each emission point based on emission point characteristics when the primary product is being manufactured.

(ii) The owner or operator may determine the group status of each emission point separately for each product produced by the flexible operation unit. For each product, the group status shall be determined using the emission point characteristics when that product is being manufactured and using the Group 1 criteria specified for the primary product. (Note: Under this scenario, it is possible that the group status, and therefore the requirement to achieve emission reductions, for an emission point may change depending on the product being manufactured.)

(7) Owners or operators determining the group status of emission points in flexible operation units based solely on the primary product in accordance with paragraph (f)(6)(i) of this section shall establish parameter monitoring levels, as required, in accordance with either paragraph (f)(7)(i) or (f)(7)(ii) of this section. Owners or operators determining the group status of emission points in flexible operation units based on each product in accordance with paragraph (f)(6)(ii) of this section shall establish parameter monitoring levels, as required, in accordance with paragraph (f)(7)(i) of this section.

(i) Establish separate parameter monitoring levels in accordance with § 63.505(a) for each individual product.

(ii) Establish a single parameter monitoring level (for each parameter required to be monitored at each device subject to monitoring requirements) in accordance with § 63.505(a) that would apply for all products.

(8) Reporting requirements. When it is determined that a process unit is an EPPU and subject to the requirements of this subpart, the Notification of Compliance Status required by § 63.506(e)(5) shall include the information specified in paragraphs (f)(8)(i) and (f)(8)(ii) of this section, as applicable. If it is determined that the process unit is not subject to this subpart, the owner or operator shall either retain all information, data, and analysis used to document the basis for the determination that the primary product is not an elastomer product, or, when requested by the Administrator, demonstrate that the process unit is not subject to this subpart.

(i) If the EPPU manufactures only one elastomer product, identification of that elastomer product.

(ii) If the EPPU is designed and operated as a flexible operation unit, the information specified in paragraphs (f)(8)(ii)(A) through (f)(8)(ii)(D) of this section, as appropriate, shall be submitted.

(A) If a primary product could be determined, identification of the primary product.

(B) Identification of which compliance option, either paragraph (f)(6)(i) or (f)(6)(ii) of this section, has been selected by the owner or operator.

(C) If the option to establish separate parameter monitoring levels for each product in paragraph (f)(7)(i) of this section is selected, the identification of each product and the corresponding parameter monitoring level.

(D) If the option to establish a single parameter monitor level in paragraph (f)(7)(ii) of this section is selected, the parameter monitoring level for each parameter.

(9) EPPUs terminating production of all elastomer products. If an EPPU terminates the production of all elastomer products and does not anticipate the production of any elastomer products in the future, the process unit is no longer an EPPU and is not subject to this subpart after notification is made to the Administrator. This notification shall be accompanied by a rationale for why it is anticipated that no elastomer products will be produced in the process unit in the future.

(10) Redetermination of applicability to EPPUs that are flexible operation units. Whenever changes in production occur that could reasonably be expected to change the primary product of an EPPU that is operating as a flexible operation unit from an elastomer product to a product that would make the process unit subject to another subpart of this part, the owner or operator shall re-evaluate the status of the process unit as an EPPU in accordance with paragraphs (f)(10)(i) through (iii) of this section.

(i) For each product produced in the flexible operation unit, the owner or operator shall calculate the percentage of total operating time in which the product was produced for the preceding five-year period, or since the date that the process unit began production of any product, whichever is shorter.

(ii) The owner or operator shall identify the primary product as the product with the highest percentage of total operating time for the period.

(iii) If the conditions in (f)(10)(iii)(A) through (C) of this section are met, the flexible operation unit shall no longer be designated as an EPPU after the compliance date of the other subpart and shall no longer be subject to the provisions of this subpart after the date that the process unit is required to be in compliance with the provisions of the other subpart of this part to which it is subject. If the conditions in paragraphs (f)(10)(iii)(A) through (C) of this section are not met, the flexible operation unit shall continue to be considered an EPPU and subject to the requirements of this subpart.

(A) The product identified in (f)(10)(ii) of this section is not an elastomer product; and

(B) The production of the product identified in (f)(10)(ii) of this section is subject to another subpart of this part; and

(C) The owner or operator submits a notification to the Administrator of the pending change in applicability.

(g) Storage vessel ownership determination. The owner or operator shall follow the procedures specified in paragraphs (g)(1) through (g)(7) of this section to determine to which process unit a storage vessel shall be assigned. Paragraph (g)(8) of this section specifies when an owner or operator is required to redetermine to which process unit a storage vessel is assigned.

(1) If a storage vessel is already subject to another subpart of 40 CFR part 63 on September 5, 1996, that storage vessel shall be assigned to the process unit subject to the other subpart.

(2) If a storage vessel is dedicated to a single process unit, the storage vessel shall be assigned to that process unit.

(3) If a storage vessel is shared among process units, then the storage vessel shall be assigned to that process unit located on the same plant site as the storage vessel that has the greatest input into or output from the storage vessel (i.e., the process unit that has the predominant use of the storage vessel.)

(4) If predominant use cannot be determined for a storage vessel that is shared among process units and if only one of those process units is an EPPU subject to this subpart, the storage vessel shall be assigned to that EPPU.

* * * * *

(6) If the predominant use of a storage vessel varies from year to year, then predominant use shall be determined based on the utilization that occurred during the year preceding September 5, 1996 or based on the expected utilization for the 5 years following September 5, 1996, whichever is more representative of the expected operations for that storage vessel for existing affected sources, and based on the expected utilization for the first 5 years after initial start-up for new affected sources. The determination of predominant use shall be reported in the Notification of Compliance Status, as required by § 63.506(e)(5)(vii).

(7) Where a storage vessel is located at a major source that includes one or more process units which place material into, or receive materials from the storage vessel, but the storage vessel is located in a tank farm (including a marine tank farm), the applicability of this subpart shall be determined according to the provisions in paragraphs (g)(7)(i) through (g)(7)(iv) of this section.

(i) The storage vessel may only be assigned to a process unit that utilizes the storage vessel and does not have an intervening storage vessel for that product (or raw material, as appropriate). With respect to any process unit, an intervening storage vessel means a storage vessel connected by hard-piping both to the process unit and to the storage vessel in the tank farm so that product or raw material entering or leaving the process unit flows into (or from) the intervening storage vessel and does not flow directly into (or from) the storage vessel in the tank farm.

(ii) If there is no process unit at the major source that meets the criteria of paragraph (g)(7)(i) of this section with respect to a storage vessel, this subpart does not apply to the storage vessel.

(iii) If there is only one process unit at the major source that meets the criteria of paragraph (g)(7)(i) of this section with respect to a storage vessel, the storage vessel shall be assigned to that process unit. Applicability of this subpart to the storage vessel shall then be determined according to the provisions of paragraph (a) of this section.

(iv) If there are two or more process units at the major source that meet the criteria of paragraph (g)(7)(i) of this section with respect to a storage vessel, the storage vessel shall be assigned to one of those process units according to the provisions of paragraphs (g)(3) through (g)(6) of this section. The predominant use shall be determined among only those process units that meet the criteria of paragraph (g)(7)(i) of this section.

(8) If the storage vessel begins receiving material from (or sending material to) a process unit that was not included in the initial determination, or ceases to receive material from (or send material to) a process unit that was included in the initial determination, the owner or operator shall reevaluate the applicability of this subpart to that storage vessel.

(h) Recovery operations equipment ownership determination. The owner or operator shall follow the procedures specified in paragraphs (h)(1) through (h)(6) of this section to determine to which process unit recovery operations equipment shall be assigned. Paragraph (h)(7) of this section specifies when an owner or operator is required to redetermine to which process unit the recovery operations equipment is assigned.

(1) If recovery operations equipment is already subject to another subpart of 40 CFR part 63 on September 5, 1996, that recovery operations equipment shall be assigned to the process unit subject to the other subpart.

(2) If recovery operations equipment is dedicated to a single process unit, the recovery operations equipment shall be assigned to that process unit.

(3) If recovery operations equipment is shared among process units, then the recovery operations equipment shall be assigned to that process unit located on the same plant site as the recovery operations equipment that has the greatest input into or output from the recovery operations equipment (i.e., that process unit has the predominant use of the recovery operations equipment).

(4) If predominant use cannot be determined for recovery operations equipment that is shared among process units and if one of those process units is an EPPU subject to this subpart, the recovery operations equipment shall be assigned to the EPPU subject to this subpart.

* * * * *

(6) If the predominant use of recovery operations equipment varies from year to year, then the predominant use shall be determined based on the utilization that occurred during the year preceding September 5, 1996 for existing affected sources or based on the expected utilization for the 5 years following September 5, 1996 for existing affected sources, whichever is the more representative of the expected operations for the recovery operations equipment, and based on the expected utilization for the first 5 years after initial start-up for new affected sources. The determination of predominant use shall be reported in the Notification of Compliance Status, as required by § 63.506(e)(5)(viii).

(7) If a piece of recovery operations equipment begins receiving material from a process unit that was not included in the initial determination, or ceases to receive material from a process unit that was included in the initial determination, the owner or operator shall reevaluate the applicability of this subpart to that recovery operations equipment.

(i) Changes or additions to plant sites. The provisions of paragraphs (i)(1) through (i)(4) of this section apply to owners or operators that change or add to their plant site or affected source. Paragraph (i)(5) provides examples of what are and are not considered process changes for purposes of paragraph (i) of this section. Paragraph (i)(6) of this section discusses reporting requirements.

(1) Adding an EPPU to a plant site. The provisions of paragraphs (i)(1)(i) and (i)(1)(ii) of this section apply to owners or operators that add one or more EPPUs to a plant site.

(i) If a group of one or more EPPUs that produce the same primary product is added to a plant site, the added group of one or more EPPUs and associated equipment, as listed in paragraph (a)(4) of this section, shall be a new affected source and shall comply with the requirements for a new affected source in this subpart upon initial start-up or by June 19, 2000, whichever is later, if the added group of one or more EPPUs meets the criteria in either paragraph (i)(1)(i)(A) or (i)(1)(i)(B) of this section, and if the criteria in either paragraph (i)(1)(i)(C) or (i)(1)(i)(D) of this section are met.

(A) The construction of the group of one or more EPPUs commenced after June 12, 1995.

(B) The construction or reconstruction, for process units that have become EPPUs, commenced after June 12, 1995.

(C) The group of one or more EPPUs and associated equipment, as listed in paragraph (a)(4) of this section, has the potential to emit 10 tons per year or more of any HAP or 25 tons per year or more of any combination of HAP, and the primary product of the group of one or more EPPUs is currently produced at the plant site as the primary product of an affected source; or

(D) The primary product of the group of one or more EPPUs is not currently produced at the plant site as the primary product of an affected source, and the plant site meets, or after the addition of the group of one or more EPPUs and associated equipment, as listed in paragraph (a)(4) of this section, will meet the definition of a major source.

(ii) If a group of one or more EPPUs that produce the same primary product is added to a plant site, and the group of one or more EPPUs does not meet the criteria specified in paragraph (i)(1)(i) of this section, and the plant site meets, or after the addition will meet, the definition of a major source, the group of one or more EPPUs and associated equipment, as listed in paragraph (a)(4) of this section, shall comply with the requirements for an existing affected source in this subpart upon initial start-up; by June 19, 2001; or by 6 months after notifying the Administrator that a process unit has been designated as an EPPU (in accordance with paragraph (f)(3)(iii) of this section), whichever is later.

(2) * * *

(i) If any components are replaced at an existing affected source such that the criteria specified in paragraphs (i)(2)(i)(A) through (i)(2)(i)(B) of this section are met, the entire affected source shall be a new affected source and shall comply with the requirements for a new affected source upon initial start-up or by June 19, 2000, whichever is later.

(A) The replacement of components meets the definition of reconstruction in § 63.482(b); and

* * * * *

(ii) If any components are replaced at an existing affected source such that the criteria specified in paragraphs (i)(2)(i)(A) and (i)(2)(i)(B) of this section are not met and that replacement of components creates one or more emission points (i.e., either newly created Group 1 emission points or emission points that change from Group 2 to Group 1) or causes any other emission point to be added (i.e., Group 2 emission points, back-end process operations subject to §§ 63.493 and 63.500, and heat exchange systems and equipment leak components subject § 63.502), the resulting emission point(s) shall be subject to the applicable requirements for an existing affected source. The resulting emission point(s) shall be in compliance upon initial start-up or by the appropriate compliance date specified in § 63.481 (i.e., July 31, 1997 for most equipment leak components subject to § 63.502, and June 19, 2001 for emission points other than equipment leaks), whichever is later.

(iii) If an addition or process change (not including a process change that solely replaces components) is made that creates one or more Group 1 emission points (i.e., either newly created Group 1 emission points or emission points that change group status from Group 2 to Group 1) or causes any other emission point to be added (i.e., Group 2 emission points, back-end process operations subject to §§ 63.493 through 63.500, and heat exchange systems and equipment leak components subject to § 63.502), the resulting emission point(s) shall be subject to the applicable requirements for an existing affected source. The resulting emission point(s) shall be in compliance by 120 days after the date of initial start-up or by the appropriate compliance date specified in § 63.481 (i.e., July 31, 1997 for most equipment leak components subject to § 63.502, and June 19, 2001 for emission points other than equipment leaks), whichever is later.

(3) Existing affected source requirements for surge control vessels and bottoms receivers that become subject to subpart H requirements. If a process change or the addition of an emission point causes a surge control vessel or bottoms receiver to become subject to § 63.170 under this paragraph (i), the owner or operator shall be in compliance upon initial start-up or by June 19, 2001, whichever is later.

(4) Existing affected source requirements for compressors that become subject to subpart H requirements. If a process change or the addition of an emission point causes a compressor to become subject to § 63.164 under this paragraph (i), the owner or operator shall be in compliance upon initial start-up or by the compliance date for that compressor, as specified in § 63.481(d), whichever is later.

(5) Determining what are and are not process changes. For purposes of paragraph (i) of this section, examples of process changes include, but are not limited to, changes in feedstock type or process catalyst type, or whenever the replacement, removal, or addition of recovery equipment, or equipment changes that increase production capacity. For purposes of paragraph (i) of this section, process changes do not include: process upsets, unintentional temporary process changes, and changes that do not alter the equipment configuration and operating conditions.

(6) Reporting requirements for owners or operators that change or add to their plant site or affected source. Owners or operators that change or add to their plant site or affected source, as discussed in paragraphs (i)(1) and (i)(2) of this section, shall submit a report as specified in § 63.506(e)(7)(v).

(j) Applicability of this subpart during periods of start-up, shutdown, malfunction, or non-operation. Paragraphs (j)(1) through (j)(4) of this section shall be followed during periods of start-up, shutdown, malfunction, or non-operation of the affected source or any part thereof.

(1) The emission limitations set forth in this subpart and the emission limitations referred to in this subpart shall apply at all times except during periods of non-operation of the affected source (or specific portion thereof) resulting in cessation of the emissions to which this subpart applies. The emission limitations of this subpart and the emission limitations referred to in this subpart shall not apply during periods of start-up, shutdown, or malfunction, except as provided in paragraphs (j)(3) and (j)(4) of this section. During periods of start-up, shutdown, or malfunction, the owner or operator shall follow the applicable provisions of the start-up, shutdown, and malfunction plan required by § 63.506(b)(1). However, if a start-up, shutdown, malfunction, or period of non-operation of one portion of an affected source does not affect the ability of a particular emission point to comply with the emission limitations to which it is subject, then that emission point shall still be required to comply with the applicable emission limitations of this subpart during the start-up, shutdown, malfunction, or period of non-operation. For example, if there is an overpressure in the reactor area, a storage vessel that is part of the affected source would still be required to be controlled in accordance with the emission limitations in § 63.484. Similarly, the degassing of a storage vessel would not affect the ability of a batch front-end process vent to meet the emission limitations of §§ 63.486 through 63.492.

(2) The emission limitations set forth in subpart H of this part, as referred to in § 63.502, shall apply at all times except during periods of non-operation of the affected source (or specific portion thereof) in which the lines are drained and depressurized resulting in cessation of the emissions to which § 63.502 applies, or during periods of start-up, shutdown, malfunction, or process unit shutdown (as defined in § 63.161).

(3) The owner or operator shall not shut down items of equipment that are required or utilized for compliance with this subpart during periods of start-up, shutdown, or malfunction during times when emissions (or, where applicable, wastewater streams or residuals) are being routed to such items of equipment if the shutdown would contravene requirements of this subpart applicable to such items of equipment. This paragraph does not apply if the item of equipment is malfunctioning. This paragraph also does not apply if the owner or operator shuts down the compliance equipment (other than monitoring systems) to avoid damage due to a contemporaneous start-up, shutdown, or malfunction of the affected source or portion thereof. If the owner or operator has reason to believe that monitoring equipment would be damaged due to a contemporaneous start-up, shutdown, or malfunction of the affected source or portion thereof, the owner or operator shall provide documentation supporting such a claim in the Precompliance Report or in a supplement to the Precompliance Report, as provided for in § 63.506(e)(3). Once approved by the Administrator in accordance with § 63.506(e)(3)(viii), the provision for ceasing to collect, during a start-up, shutdown, or malfunction, monitoring data that would otherwise be required by the provisions of this subpart must be incorporated into the start-up, shutdown, malfunction plan for that affected source, as stated in § 63.506(b)(1).

(4) During start-ups, shutdowns, and malfunctions when the emission limitations of this subpart do not apply pursuant to paragraphs (j)(1) through (j)(3) of this section, the owner or operator shall implement, to the extent reasonably available, measures to prevent or minimize excess emissions to the extent practical. For purposes of this paragraph, the term “excess emissions” means emissions greater than those allowed by the emissions limitation which would apply during operational periods other than start-up, shutdown, and malfunction. The measures to be taken shall be identified in the applicable start-up, shutdown, and malfunction plan, and may include, but are not limited to, air pollution control technologies, recovery technologies, work practices, pollution prevention, monitoring, and/or changes in the manner of operation of the affected source. Back-up control devices are not required, but may be used if available.

3. Section 63.481 is amended by:

a. Revising the section title;

b. Revising paragraph (a);

c. Revising paragraph (b);

d. Revising paragraph (c);

e. Revising paragraphs (d) introductory text; (d)(1) introductory text and (d)(2) introductory text;

f. Revising paragraphs (d)(2)(i), (d)(2)(ii), and (d)(2)(iv);

i. Revising paragraph (d)(3);

j. Revising paragraph (d)(4) introductory text;

k. Revising paragraph (d)(5);

l. Revising paragraph (d)(6);

m. Revising paragraph (e);

n. Revising paragraph (h)(2);

o. Revising paragraph (i);

p. Revising paragraph (j); and

q. Adding paragraphs (k), (l), and (m).

The revisions and additions read as follows:

§ 63.481 Compliance dates and relationship of this subpart to existing applicable rules.

(a) Affected sources are required to achieve compliance on or before the dates specified in paragraphs (b) through (d) of this section. Paragraph (e) of this section provides information on requesting compliance extensions. Paragraphs (f) through (l) of this section discuss the relationship of this subpart to subpart A and to other applicable rules. Where an override of another authority of the Act is indicated in this subpart, only compliance with the provisions of this subpart is required. Paragraph (m) of this section specifies the meaning of time periods.

(b) New affected sources that commence construction or reconstruction after June 12, 1995 shall be in compliance with this subpart upon initial start-up or by June 19, 2000, whichever is later.

(c) Existing affected sources shall be in compliance with this subpart (except for § 63.502 for which compliance is covered by paragraph (d) of this section) no later than June 19, 2001, as provided in § 63.6(c), unless an extension has been granted as specified in paragraph (e) of this section.

(d) Except as provided for in paragraphs (d)(1) through (d)(6) of this section, existing affected sources shall be in compliance with § 63.502 no later than July 31, 1997, unless an extension has been granted pursuant to paragraph (e) of this section.

(1) Compliance with the compressor provisions of § 63.164 shall occur no later than September 5, 1997 for any compressor meeting one or more of the criteria in paragraphs (d)(1)(i) through (d)(1)(iv) of this section, if the work can be accomplished without a process unit shutdown, as defined in § 63.161.

* * * * *

(2) Compliance with the compressor provisions of § 63.164 shall occur no later than March 5, 1998, for any compressor meeting all the criteria in paragraphs (d)(2)(i) through (d)(2)(iv) of this section.

(i) The compressor meets one or more of the criteria specified in paragraphs (d)(1)(i) through (d)(1)(iv) of this section;

(ii) The work can be accomplished without a process unit shutdown as defined in § 63.161;

* * * * *

(iv) The owner or operator submits the request for a compliance extension to the appropriate U.S. Environmental Protection Agency (EPA) Regional Office at the address listed in § 63.13 no later than 45 days before the compliance date. The request for a compliance extension shall contain the information specified in § 63.6(i)(6)(i)(A), (B), and (D). Unless the EPA Regional Office objects to the request for a compliance extension within 30 days after receipt of the request, the request shall be deemed approved.

(3) If compliance with the compressor provisions of § 63.164 cannot reasonably be achieved without a process unit shutdown, the owner or operator shall achieve compliance no later than September 5, 1998. The owner or operator who elects to use this provision shall submit a request for an extension of compliance in accordance with the requirements of paragraph (d)(2)(iv) of this section.

(4) Compliance with the compressor provisions of § 63.164 shall occur no later than September 5, 1999 for any compressor meeting one or more of the criteria in paragraphs (d)(4)(i) through (d)(4)(iii) of this section. The owner or operator who elects to use these provisions shall submit a request for an extension of compliance in accordance with the requirements of paragraph (d)(2)(iv) of this section.

* * * * *

(5) Compliance with the surge control vessel and bottoms receiver provisions of § 63.170 shall occur no later than June 19, 2001.

(6) Compliance with the heat exchange system provisions of § 63.104 shall occur no later than June 19, 2001.

(e) Pursuant to section 112(i)(3)(B) of the Act, an owner or operator may request an extension allowing the existing affected source up to 1 additional year to comply with section 112(d) standards. For purposes of this subpart, a request for an extension shall be submitted to the permitting authority as part of the operating permit application, or to the Administrator as a separate submittal or as part of the Precompliance Report. Requests for extensions shall be submitted no later than 120 days prior to the compliance dates specified in paragraphs (b) through (d) of this section, or as specified elsewhere in this subpart, except as provided in paragraph (e)(3) of this section. The dates specified in § 63.6(i) for submittal of requests for extensions shall not apply to this subpart.

(1) A request for an extension of compliance shall include the data described in § 63.6(i)(6)(i)(A), (B), and (D).

(2) The requirements in §§ 63.6(i)(8) through 63.6(i)(14) shall govern the review and approval of requests for extensions of compliance with this subpart.

(3) An owner or operator may submit a compliance extension request after the date specified in paragraph (e) of this section, provided that the need for the compliance extension arose after that date, and the need arose due to circumstances beyond reasonable control of the owner or operator. This request shall include, in addition to the information specified in paragraph (e)(1) of this section, a statement of the reasons additional time is needed and the date when the owner or operator first learned of the circumstances necessitating a request for a compliance extension under this paragraph (e)(3).

* * * * *

(h) * * *

(2) Sources subject to 40 CFR part 63, subpart I that have elected to comply through a quality improvement program, as specified in § 63.175 or § 63.176 or both, may elect to continue these programs without interruption as a means of complying with this subpart. In other words, becoming subject to this subpart does not restart or reset the “compliance clock” as it relates to reduced burden earned through a quality improvement program.

(i) After the compliance dates specified in this section, a storage vessel that is assigned to an affected source subject to this subpart and that is also subject to the provisions of 40 CFR part 60, subpart Kb is required to comply only with the provisions of this subpart. After the compliance dates specified in this section, that storage vessel shall no longer be subject to 40 CFR part 60, subpart Kb.

(j) After the compliance dates specified in this section, an affected source subject to this subpart that is also subject to the provisions of 40 CFR part 60, subpart VV, is required to comply only with the provisions of this subpart. After the compliance dates specified in this section, the source shall no longer be subject to 40 CFR part 60, subpart VV.

(k) Applicability of other regulations for monitoring, recordkeeping or reporting with respect to combustion devices, recovery devices, or recapture devices. After the compliance dates specified in this subpart, if any combustion device, recovery device or recapture device subject to this subpart is also subject to monitoring, recordkeeping, and reporting requirements in 40 CFR part 264 subpart AA or CC, or is subject to monitoring and recordkeeping requirements in 40 CFR part 265 subpart AA or CC and the owner or operator complies with the periodic reporting requirements under 40 CFR part 264 subpart AA or CC that would apply to the device if the facility had final-permitted status, the owner or operator may elect to comply either with the monitoring, recordkeeping and reporting requirements of this subpart, or with the monitoring, recordkeeping and reporting requirements in 40 CFR parts 264 and/or 265, as described in this paragraph, which shall constitute compliance with the monitoring, recordkeeping and reporting requirements of this subpart. The owner or operator shall identify which option has been selected in the Notification of Compliance Status required by § 63.506(e)(5).

(l) Applicability of other requirements for heat exchange systems or waste management units. Paragraphs (l)(1) and (l)(2) of this section address instances in which certain requirements from other regulations also apply for the same heat exchange system(s) or waste management unit(s) that are subject to this subpart.

(1) After the applicable compliance date specified in this subpart, if a heat exchange system subject to this subpart is also subject to a standard identified in paragraphs (l)(1)(i) or (ii) of this section, compliance with the applicable provisions of the standard identified in paragraphs (l)(1)(i) or (ii) of this section shall constitute compliance with the applicable provisions of this subpart with respect to that heat exchange system.

(i) Subpart F of this part.

(ii) A subpart of this part which requires compliance with § 63.104 (e.g., subpart JJJ of this part).

(2) After the applicable compliance date specified in this subpart, if any waste management unit subject to this subpart is also subject to a standard identified in paragraph (l)(2)(i) or (ii) of this section, compliance with the applicable provisions of the standard identified in paragraph (l)(2)(i) or (ii) of this section shall constitute compliance with the applicable provisions of this subpart with respect to that waste management unit.

(i) Subpart G of this part.

(ii) A subpart of this part which requires compliance with §§ 63.132 through 63.147 (e.g., subpart JJJ of this part).

(m) All terms in this subpart that define a period of time for completion of required tasks (e.g., monthly, quarterly, annual), unless specified otherwise in the section or paragraph that imposes the requirement, refer to the standard calendar periods.

(1) Notwithstanding time periods specified in this subpart for completion of required tasks, such time periods may be changed by mutual agreement between the owner or operator and the Administrator, as specified in subpart A of this part (e.g., a period could begin on the compliance date or another date, rather than on the first day of the standard calendar period). For each time period that is changed by agreement, the revised period shall remain in effect until it is changed. A new request is not necessary for each recurring period.

(2) Where the period specified for compliance is a standard calendar period, if the initial compliance date occurs after the beginning of the period, compliance shall be required according to the schedule specified in paragraphs (m)(2)(i) or (m)(2)(ii) of this section, as appropriate.

(i) Compliance shall be required before the end of the standard calendar period within which the compliance deadline occurs, if there remain at least 2 weeks for tasks that shall be performed monthly, at least 1 month for tasks that shall be performed each quarter, or at least 3 months for tasks that shall be performed annually; or

(ii) In all other cases, compliance shall be required before the end of the first full standard calendar period after the period within which the initial compliance deadline occurs.

(3) In all instances where a provision of this subpart requires completion of a task during each of multiple successive periods, an owner or operator may perform the required task at any time during the specified period, provided that the task is conducted at a reasonable interval after completion of the task during the previous period.

4. Section 63.482 is amended by:

a. Revising paragraph (a);

b. Amending paragraph (b) by revising the definitions for “Aggregate batch vent stream,” “Batch front-end process vent,” “Batch process,” “Batch unit operation,” “Compounding unit,” “Continuous front-end process vent,” “Continuous process,” “Continuous unit operation,” “Control device,” “Elastomer product,” “Elastomer product process unit (EPPU),” “Elastomer type,” “Emission point,” “Emulsion process,” “Epichlorohydrin elastomer,” “Ethylene-propylene rubber,” “Front-end,” “Grade,” “Group 1 batch front-end process vent,” “Group 1 continuous front-end process vent,” “Group 2 continuous front-end process vent,” “Group 1 wastewater stream,” “Halogenated continuous front-end process vent,” “Nitrile butadiene rubber,” “Organic hazardous air pollutant(s) (organic HAP),” “Process unit,” “Process vent,” “Product,” “Recovery operations equipment,” “Resin,” “Steady-state conditions,” “Storage vessel,” “Supplemental combustion air,” “Suspension process,” and “Total organic compounds (TOC)”;

c. Amending paragraph (b) by removing the definitions of “Average flow rate,” “Batch cycle limitation,” “Mass process,” “Material recovery section,” “Month,” “Polybutadiene rubber/styrene butadiene rubber by solution,” “Polymerization reaction section,” “Raw materials preparation section,” “Solid state polymerization unit,” “Stripping Technology,” and “Year,”; and

d. Amending paragraph (b) by adding definitions for the terms “Annual average batch vent concentration,” “Annual average batch vent flow rate,” “Annual average concentration,” “Annual average flow rate,” “Average batch vent concentration,” “Average batch vent flow rate”, “Batch mass input limitation,” “Batch mode,” “Block polymer,” “Combined vent stream,” “Construction,” “Continuous mode,” “Continuous record,” “Continuous recorder,” “Equipment,” “Existing affected source,” “Existing process unit,” “Flexible operation unit,” “Glass transition temperature,” “Highest-HAP recipe,” “Initial start-up,” “Maintenance wastewater,” “Maximum true vapor pressure,” “Multicomponent system,” “New process unit,” “On-site or on site,” “Operating day,” “Polybutadiene rubber by solution,” “Recipe,” “Reconstruction,” “Recovery device,” “Residual,” “Shutdown,” “Start-up,” “Stripper,” “Stripping,” “Styrene butadiene rubber by solution,” “Total resource effectiveness index value or TRE index value,” “Vent stream,” “Waste management unit,” “Wastewater,” and “Wastewater stream.”

The revisions and additions read as follows:

§ 63.482 Definitions.

(a) The following terms used in this subpart shall have the meaning given them in § 63.2, § 63.101, § 63.111, § 63.161, or the Act, as specified after each term:

Act (§ 63.2)

Administrator (§ 63.2)

Automated monitoring and recording system (§ 63.111)

Boiler (§ 63.111)

Bottoms receiver (§ 63.161)

By compound (§ 63.111)

By-product (§ 63.101)

Car-seal (§ 63.111)

Closed-vent system (§ 63.111)

Combustion device (§ 63.111)

Commenced (§ 63.2)

Compliance date (§ 63.2)

Connector (§ 63.161)

Continuous monitoring system (§ 63.2)

Distillation unit (§ 63.111)

Duct work (§ 63.161)

Emission limitation (Section 302(k) of the Act)

Emission standard (§ 63.2)

Emissions averaging (§ 63.2)

EPA (§ 63.2)

Equipment leak (§ 63.101)

External floating roof (§ 63.111)

Fill or filling (§ 63.111)

Fixed capital cost (§ 63.2)

Flame zone (§ 63.111)

Floating roof (§ 63.111)

Flow indicator (§ 63.111)

Fuel gas system (§ 63.101)

Halogens and hydrogen halides (§ 63.111)

Hard-piping (§ 63.111)

Hazardous air pollutant (§ 63.2)

Heat exchange system (§ 63.101)

Impurity (§ 63.101)

Incinerator (§ 63.111)

In organic hazardous air pollutant service or in organic HAP service (§ 63.161)

Instrumentation system (§ 63.161)

Internal floating roof (§ 63.111)

Lesser quantity (§ 63.2)

Major source (§ 63.2)

Malfunction (§ 63.2)

Oil-water separator or organic-water separator (§ 63.111)

Open-ended valve or line (§ 63.161)

Operating permit (§ 63.101)

Organic monitoring device (§ 63.111)

Owner or operator (§ 63.2)

Performance evaluation (§ 63.2)

Performance test (§ 63.2)

Permitting authority (§ 63.2)

Plant site (§ 63.101)

Potential to emit (§ 63.2)

Pressure release (§ 63.161)

Primary fuel (§ 63.111)

Process heater (§ 63.111)

Process unit shutdown (§ 63.161)

Process wastewater (§ 63.101)

Process wastewater stream (§ 63.111)

Reactor (§ 63.111)

Recapture device (§ 63.101)

Repaired (§ 63.161)

Research and development facility (§ 63.101)

Routed to a process or route to a process (§ 63.161)

Run (§ 63.2)

Secondary fuel (§ 63.111)

Sensor (§ 63.161)

Specific gravity monitoring device (§ 63.111)

Start-up, shutdown, and malfunction plan (§ 63.101)

State (§ 63.2)

Stationary Source (§ 63.2)

Surge control vessel (§ 63.161)

Temperature monitoring device (§ 63.111)

Test method (§ 63.2)

Treatment process (§ 63.111)

Unit operation (§ 63.101)

Visible emission (§ 63.2)

(b) * * *

Aggregate batch vent stream means a gaseous emission stream containing only the exhausts from two or more batch front-end process vents that are ducted, hard-piped, or otherwise connected together for a continuous flow.

Annual average batch vent concentration is determined using Equation 17, as described in § 63.488(h)(2) for halogenated compounds.

Annual average batch vent flow rate is determined by the procedures in § 63.488(e)(3).

Annual average concentration, as used in the wastewater provisions, means the flow-weighted annual average concentration, as determined according to the procedures specified in § 63.144(b), with the exceptions noted in § 63.501, for the purposes of this subpart.

Annual average flow rate, as used in the wastewater provisions, means the annual average flow rate, as determined according to the procedures specified in § 63.144(c), with the exceptions noted in § 63.501, for the purposes of this subpart.

Average batch vent concentration is determined by the procedures in § 63.488(b)(5)(iii) for HAP concentrations and is determined by the procedures in § 63.488(h)(1)(iii) for organic compounds containing halogens and hydrogen halides.

Average batch vent flow rate is determined by the procedures in § 63.488(e)(1) and (e)(2).

* * * * *

Batch front-end process vent means a process vent with annual organic HAP emissions greater than 225 kilograms per year from a batch unit operation within an affected source and located in the front-end of a process unit. Annual organic HAP emissions are determined as specified in § 63.488(b) at the location specified in § 63.488(a)(2).

Batch mass input limitation means an enforceable restriction on the total mass of HAP or material that can be input to a batch unit operation in one year.

Batch mode means the discontinuous bulk movement of material through a unit operation. Mass, temperature, concentration, and other properties may vary with time. For a unit operation operated in a batch mode (i.e., batch unit operation), the addition of material and withdrawal of material do not typically occur simultaneously.

Batch process means, for the purposes of this subpart, a process where the reactor(s) is operated in a batch mode.

Batch unit operation means a unit operation operated in a batch mode.

Block polymer means a polymer where the polymerization is controlled, usually by performing discrete polymerization steps, such that the final polymer is arranged in a distinct pattern of repeating units of the same monomer.

* * * * *

Combined vent stream, as used in reference to batch front-end process vents, continuous front-end process vents, and aggregate batch vent streams, means the emissions from a combination of two or more of the aforementioned types of process vents. The primary occurrence of a combined vent stream is as combined emissions from a continuous front-end process vent and a batch front-end process vent.

* * * * *

Compounding unit means a unit operation which blends, melts, and resolidifies solid polymers for the purpose of incorporating additives, colorants, or stabilizers into the final elastomer product. A unit operation whose primary purpose is to remove residual monomers from polymers is not a compounding unit.

Construction means the on-site fabrication, erection, or installation of an affected source. Construction also means the on-site fabrication, erection, or installation of a process unit or combination of process units which subsequently becomes an affected source or part of an affected source, due to a change in primary product.

Continuous front-end process vent means a process vent located in the front-end of a process unit and containing greater than 0.005 weight percent total organic HAP from a continuous unit operation within an affected source. The total organic HAP weight percent is determined after the last recovery device, as described in § 63.115(a), and is determined as specified in § 63.115(c).

Continuous mode means the continuous movement of material through a unit operation. Mass, temperature, concentration, and other properties typically approach steady-state conditions. For a unit operation operated in a continuous mode (i.e., continuous unit operation), the simultaneous addition of raw material and withdrawal of product is typical.

Continuous process means, for the purposes of this subpart, a process where the reactor(s) is operated in a continuous mode.

Continuous record means documentation, either in hard copy or computer readable form, of data values measured at least once every 15 minutes and recorded at the frequency specified in § 63.506(d) or (h).

Continuous recorder means a data recording device that either records an instantaneous data value at least once every 15 minutes or records 1--hour or more frequent block average values.

Continuous unit operation means a unit operation operated in a continuous mode.

Control device is defined in § 63.111, except that the term “continuous front-end process vent” shall apply instead of the term “process vent,” for the purpose of this subpart.

* * * * *

Elastomer product means one of the following types of products, as they are defined in this section:

(1) Butyl Rubber;

(2) Halobutyl Rubber;

(3) Epichlorohydrin Elastomer;

(4) Ethylene Propylene Rubber;

(5) Hypalon™;

(6) Neoprene;

(7) Nitrile Butadiene Rubber;

(8) Nitrile Butadiene Latex;

(9) Polybutadiene Rubber/Styrene Butadiene Rubber by Solution;

(10) Polysulfide Rubber;

(11) Styrene Butadiene Rubber by Emulsion; and

(12) Styrene Butadiene Latex.

Elastomer product process unit (EPPU) means a collection of equipment assembled and connected by hard-piping or duct work, used to process raw materials and to manufacture an elastomer product as its primary product. This collection of equipment includes unit operations; recovery operations equipment; process vents; storage vessels, as determined in § 63.480(g); equipment that is identified in § 63.149; and the equipment that is subject to the equipment leak provisions as specified in § 63.502. Utilities, lines and equipment not containing process fluids, and other non-process lines, such as heating and cooling systems which do not combine their materials with those in the processes they serve, are not part of an elastomer product process unit. An elastomer product process unit consists of more than one unit operation.

Elastomer type means one of the elastomers listed under “elastomer product” in this section. Each elastomer identified in that definition represents a different elastomer type.

Emission point means an individual continuous front-end process vent, batch front-end process vent, back-end process vent, storage vessel, waste management unit, heat exchange system, or equipment leak, or equipment subject to § 63.149.

Emulsion process means a process where the monomer(s) is dispersed in droplets throughout a water phase, with the aid of an emulsifying agent such as soap or a synthetic emulsifier. The polymerization occurs either within the emulsion droplet or in the aqueous phase.

Epichlorohydrin elastomer means an elastomer formed from the polymerization or copolymerization of epichlorohydrin (EPI). The main epichlorohydrin elastomers are polyepichlorohydrin, epi-ethylene oxide (EO) copolymer, epi-allyl glycidyl ether (AGE) copolymer, and epi-EO-AGE terpolymer. Epoxies produced by the copolymerization of EPI and bisphenol A are not epichlorohydrin elastomers.

Equipment means, for the purposes of the provisions in § 63.502(a) through (m) and the requirements in subpart H that are referred to in § 63.502(a) through (m), each pump, compressor, agitator, pressure relief device, sampling connection system, open-ended valve or line, valve, connector, surge control vessel, bottoms receiver, and instrumentation system in organic hazardous air pollutant service; and any control devices or systems required by subpart H of this part.

Ethylene-propylene rubber means an ethylene-propylene copolymer or an ethylene-propylene terpolymer. Ethylene-propylene copolymers (EPM) result from the polymerization of ethylene and propylene and contain a saturated chain of the polymethylene type. Ethylene-propylene terpolymers (EPDM) are produced in a similar manner as EPM, except that a third monomer is added to the reaction sequence. Typical third monomers include ethylidene norbornene, 1,4-hexadiene, or dicyclopentadiene. Ethylidene norbornene is the most commonly used. The production process includes, but is not limited to, polymerization, recycle, recovery, and packaging operations. The polymerization reaction may occur in either a solution process or a suspension process.

Existing affected source is defined in § 63.480(a)(3).

Existing process unit means any process unit that is not a new process unit.

* * * * *

Flexible operation unit means a process unit that manufactures different chemical products, polymers, or resins periodically by alternating raw materials or operating conditions. These units are also referred to as campaign plants or blocked operations.

Front-end refers to the unit operations in an EPPU prior to, and including, the stripping operations. For all gas-phased reaction processes, all unit operations are considered to be front-end.

* * * * *

Glass transition temperature means the temperature at which an elastomer polymer becomes rigid and brittle.

Grade means a group of recipes of an elastomer type having similar characteristics such as molecular weight, monomer composition, significant mooney values, and the presence or absence of extender oil and/or carbon black. More than one recipe may be used to produce the same grade.

Group 1 batch front-end process vent means a batch front-end process vent releasing annual organic HAP emissions greater than or equal to 11,800 kg/yr and with a cutoff flow rate, calculated in accordance with § 63.488(f), greater than or equal to the annual average batch vent flow rate. Annual organic HAP emissions and annual average batch vent flow rate are determined at the exit of the batch unit operation, as described in § 63.488(a)(2). Annual organic HAP emissions are determined as specified in § 63.488(b), and annual average batch vent flow rate is determined as specified in § 63.488(e).

* * * * *

Group 1 continuous front-end process vent means a continuous front-end process vent for which the flow rate is greater than or equal to 0.005 standard cubic meter per minute, the total organic HAP concentration is greater than or equal to 50 parts per million by volume, and the total resource effectiveness index value, calculated according to § 63.115, is less than or equal to 1.0.

Group 2 continuous front-end process vent means a continuous front-end process vent for which the flow rate is less than 0.005 standard cubic meter per minute, the total organic HAP concentration is less than 50 parts per million by volume, or the total resource effectiveness index value, calculated according to § 63.115, is greater than 1.0.

* * * * *

Group 1 wastewater stream means a wastewater stream consisting of process wastewater from an existing or new affected source that meets the criteria for Group 1 status in § 63.132(c), with the exceptions listed in § 63.501(a)(10) for the purposes of this subpart (i.e., for organic HAP listed on Table 5 of this subpart only).

* * * * *

Halogenated continuous front-end process vent means a continuous front-end process vent determined to have a mass emission rate of halogen atoms contained in organic compounds of 0.45 kg/hr or greater determined by the procedures presented in § 63.115(d)(2)(v).

* * * * *

Highest-HAP recipe for a product means the recipe of the product with the highest total mass of HAP charged to the reactor during the production of a single batch of product.

* * * * *

Initial start-up means the first time a new or reconstructed affected source begins production of an elastomer product, or, for equipment added or changed as described in § 63.480(i), the first time the equipment is put into operation to produce an elastomer product. Initial start-up does not include operation solely for testing equipment. Initial start-up does not include subsequent start-ups of an affected source or portion thereof following malfunctions or shutdowns or following changes in product for flexible operation units or following recharging of equipment in batch operation. Further, for purposes of § 63.502, initial start-up does not include subsequent start-ups of affected sources or portions thereof following malfunctions or process unit shutdowns.

* * * * *

Maintenance wastewater is defined in § 63.101, except that the term “elastomer product process unit” shall apply whenever the term “chemical manufacturing process unit” is used. Further, the generation of wastewater from the routine rinsing or washing of equipment in batch operation between batches is not maintenance wastewater, but is considered to be process wastewater, for the purposes of this subpart.

Maximum true vapor pressure is defined in § 63.111, except that the terms “transfer” and “transferred” shall not apply for the purposes of this subpart.

Multicomponent system means, as used in conjunction with batch front-end process vents, a stream whose liquid and/or vapor contains more than one compound.

* * * * *

New process unit means a process unit for which the construction or reconstruction commenced after June 12, 1995.

* * * * *

Nitrile butadiene rubber means a polymer consisting primarily of unsaturated nitriles and dienes, usually acrylonitrile and 1,3-butadiene, not including nitrile butadiene latex.

On-site or on site means, with respect to records required to be maintained by this subpart or required by another subpart referenced by this subpart, that records are stored at a location within a major source which encompasses the affected source. On-site includes, but is not limited to, storage at the affected source or EPPU to which the records pertain, or storage in central files elsewhere at the major source.

Operating day means the period defined by the owner or operator in the Notification of Compliance Status required by § 63.506(e)(5). The operating day is the period for which daily average monitoring values and batch cycle daily average monitoring values are determined.

Organic hazardous air pollutant(s) (organic HAP) means one or more of the chemicals listed in Table 5 of this subpart or any other chemical which:

(1) Is knowingly produced or introduced into the manufacturing process other than as an impurity; and

(2) Is listed in Table 2 of subpart F of this part.

Polybutadiene rubber by solution means a polymer of 1,3-butadiene produced using a solution process.

* * * * *

Process unit means a collection of equipment assembled and connected by hard-piping or duct work, used to process raw materials and to manufacture a product.

Process vent means a gaseous emission stream from a unit operation that is discharged to the atmosphere either directly or after passing through one or more control, recovery, or recapture devices. Unit operations that may have process vents are condensers, distillation units, reactors, or other unit operations within the EPPU. Process vents exclude pressure releases, gaseous streams routed to a fuel gas system(s), and leaks from equipment regulated under § 63.502. A gaseous emission stream is no longer considered to be a process vent after the stream has been controlled and monitored in accordance with the applicable provisions of this subpart.

Product means a polymer produced using the same monomers and varying in additives (e.g., initiators, terminators, etc.); catalysts; or in the relative proportions of monomers, that is manufactured by a process unit. With respect to polymers, more than one recipe may be used to produce the same product, and there can be more than one grade of a product. As an example, styrene butadiene latex and halobutyl rubber each represent a different product. Product also means a chemical that is not a polymer, that is manufactured by a process unit. By-products, isolated intermediates, impurities, wastes, and trace contaminants are not considered products.

Recipe means a specific composition, from among the range of possible compositions that may occur within a product, as defined in this section. A recipe is determined by the proportions of monomers and, if present, other reactants and additives that are used to make the recipe. For example, styrene butadiene latex without additives; styrene butadiene latex with an additive; and styrene butadiene latex with different proportions of styrene to butadiene are all different recipes of the same product, styrene butadiene latex.

Reconstruction means the addition of new components or the replacement of existing components at an affected source or at a previously unaffected stationary source that becomes an affected source as a result of the change, to such an extent that:

(1) The fixed capital cost of the new components exceeds 50 percent of the fixed capital cost that would be required to construct a comparable new affected source; and

(2) It is technologically and economically feasible for the reconstructed source to meet the provisions of this subpart.

Recovery device means:

(1) An individual unit of equipment capable of and normally used for the purpose of recovering chemicals for:

(i) Use;

(ii) Reuse;

(iii) Fuel value (i.e., net heating value); or

(iv) For sale for use, reuse, or fuel value (i.e., net heating value).

(2) Examples of equipment that may be recovery devices include absorbers, carbon adsorbers, condensers, oil-water separators or organic-water separators, or organic removal devices such as decanters, strippers, or thin film evaporation units. For the purposes of the monitoring, recordkeeping, or reporting requirements of this subpart, recapture devices are considered recovery devices.

Recovery operations equipment means the equipment used to separate the components of process streams. Recovery operations equipment includes distillation units, condensers, etc. Equipment used for wastewater treatment and recovery or recapture devices used as control devices shall not be considered recovery operations equipment.

Residual is defined in § 63.111, except that when the definition in § 63.111 uses the term “Table 9 compounds,” the term “organic HAP listed in Table 5 of subpart U of this part” shall apply, for the purposes of this subpart.

Resin, for the purposes of this subpart, means a polymer with the following characteristics:

(1) The polymer is a block polymer;

(2) The manufactured polymer does not require vulcanization to make useful products;

(3) The polymer production process is operated to achieve at least 99 percent monomer conversion; and

(4) The polymer process unit does not recycle unreacted monomer back to the process.

Shutdown means for purposes including, but not limited to, periodic maintenance, replacement of equipment, or repair, the cessation of operation of an affected source, an EPPU within an affected source, a waste management unit or unit operation within an affected source, or equipment required or used to comply with this subpart, or the emptying or degassing of a storage vessel. For purposes of the wastewater provisions of § 63.501, shutdown does not include the routine rinsing or washing of equipment in batch operation between batches. For purposes of the batch front-end process vent provisions in §§ 63.486 through 63.492, the cessation of equipment in batch operation is not a shutdown, unless the equipment undergoes maintenance, is replaced, or is repaired.

* * * * *

Start-up means the setting into operation of an affected source, an EPPU within the affected source, a waste management unit or unit operation within an affected source, or equipment required or used to comply with this subpart, or a storage vessel after emptying and degassing. For both continuous and batch front-end processes, start-up includes initial start-up and operation solely for testing equipment. For both continuous and batch front-end processes, start-up does not include the recharging of equipment in batch operation. For continuous front-end processes, start-up includes transitional conditions due to changes in product for flexible operation units. For batch front-end processes, start-up does not include transitional conditions due to changes in product for flexible operation units.

Steady-state conditions means that all variables (temperatures, pressures, volumes, flow rates, etc.) in a process do not vary significantly with time; minor fluctuations about constant mean values may occur.

Storage vessel means a tank or other vessel that is used to store liquids that contain one or more organic HAP. Storage vessels do not include:

(1) Vessels permanently attached to motor vehicles such as trucks, railcars, barges, or ships;

(2) Pressure vessels designed to operate in excess of 204.9 kilopascals and without emissions to the atmosphere;

(3) Vessels with capacities smaller than 38 cubic meters;

(4) Vessels and equipment storing and/or handling material that contains no organic HAP, or organic HAP as impurities only;

(5) Surge control vessels and bottoms receivers; and

(6) Wastewater storage tanks.

Stripper means a unit operation where stripping occurs.

Stripping means the removal of organic compounds from a raw elastomer product. In the production of an elastomer, stripping is a discrete step that occurs after the reactors and before the dryers (other than those dryers with a primary purpose of devolitalization) and other finishing operations. Examples of types of stripping include steam stripping, direct volatilization, chemical stripping, and other methods of devolatilization. For the purposes of this subpart, devolatilization that occurs in dryers (other than those dryers with a primary purpose of devolitalization), extruders, and other finishing operations is not stripping.

* * * * *

Styrene butadiene rubber by solution means a polymer that consists primarily of styrene and butadiene monomer units and is produced using a solution process.

Supplemental combustion air means the air that is added to a vent stream after the vent stream leaves the unit operation. Air that is part of the vent stream as a result of the nature of the unit operation is not considered supplemental combustion air. Air required to operate combustion device burner(s) is not considered supplemental combustion air. Air required to ensure the proper operation of catalytic oxidizers, to include the intermittent addition of air upstream of the catalyst bed to maintain a minimum threshold flow rate through the catalyst bed or to avoid excessive temperatures in the catalyst bed, is not considered to be supplemental combustion air.

Suspension process means a polymerization process where the monomer(s) is in a state of suspension, with the help of suspending agents in a medium other than water (typically an organic solvent). The resulting polymers are not soluble in the reactor medium.

Total organic compounds (TOC) means those compounds, excluding methane and ethane, measured according to the procedures of Method 18 or Method 25A, 40 CFR part 60, appendix A.

Total resource effectiveness index value or TRE index value means a measure of the supplemental total resource requirement per unit reduction of organic HAP associated with a continuous front-end process vent stream, based on vent stream flow rate, emission rate of organic HAP, net heating value, and corrosion properties (whether or not the continuous front-end process vent stream contains halogenated compounds), as quantified by the equations given under § 63.115, with the exceptions noted in § 63.485.

Vent stream, as used in reference to batch front-end process vents, continuous front-end process vents, and aggregate batch vent streams, means the emissions from one or more process vents.

Waste management unit is defined in § 63.111, except that where the definition in § 63.111 uses the term “chemical manufacturing process unit,” the term “EPPU” shall apply for the purposes of this subpart.

Wastewater means water that:

(1) Contains either:

(i) An annual average concentration of organic HAP listed in Table 5 of this subpart of at least 5 parts per million by weight and has an annual average flow rate of 0.02 liter per minute or greater; or

(ii) An annual average concentration of organic HAP listed on Table 5 of this subpart of at least 10,000 parts per million by weight at any flow rate; and

(2) Is discarded from an EPPU that is part of an affected source. Wastewater is process wastewater or maintenance wastewater.

Wastewater stream means a stream that contains wastewater as defined in this section.

5. Section 63.483 is amended by:

a. Revising paragraph (a) introductory text;

b. Revising paragraph (b);

c. Revising paragraph (c); and

d. Adding paragraph (d).

The revisions and addition read as follows:

§ 63.483 Emission standards.

(a) Except as allowed under paragraphs (b) through (d) of this section, the owner or operator of an existing or new affected source shall comply with the provisions in:

* * * * *

(b) When emissions of different kinds (i.e., emissions from continuous front-end process vents, batch front-end process vents, aggregate batch vent streams, storage vessels, process wastewater, and/or in-process equipment subject to § 63.149) are combined, and at least one of the emission streams would be classified as Group 1 in the absence of combination with other emission streams, the owner or operator of an affected source shall comply with the requirements of either paragraph (b)(1) or (b)(2) of this section, as appropriate. For purposes of this paragraph (b), owners or operators of affected sources with combined emission streams containing one or more batch front-end process vents and containing one or more continuous front-end process vents may comply with either paragraph (b)(1) or (b)(2) of this section, as appropriate. For purposes of this paragraph (b), owners or operators of affected sources with combined emission streams containing one or more batch front-end process vents but not containing one or more continuous process vents shall comply with paragraph (b)(3) of this section.

(1) Comply with the applicable requirements of this subpart for each kind of emission in the stream as specified in paragraphs (a)(1) through (a)(6) of this section.

(2) Comply with the first set of requirements, identified in paragraphs (b)(2)(i) through (b)(2)(v) of this section, which applies to any individual emission stream that is included in the combined stream, where either that emission stream would be classified as Group 1 in the absence of combination with other emission streams, or the owner or operator chooses to consider that emission stream to be Group 1 for purposes of this paragraph. Compliance with the first applicable set of requirements identified in paragraphs (b)(2)(i) through (b)(2)(v) of this section constitutes compliance with all other requirements in paragraphs (b)(2)(i) through (b)(2)(v) of this section applicable to other types of emissions in the combined stream.

(i) The requirements of this subpart for Group 1 continuous front-end process vents, including applicable monitoring, recordkeeping, and reporting;

(ii) The requirements of § 63.119(e), as specified in § 63.484, for control of emissions from Group 1 storage vessels, including applicable monitoring, recordkeeping, and reporting;

(iii) The requirements of § 63.139, as specified in § 63.501, for control devices used to control emissions from waste management units, including applicable monitoring, recordkeeping, and reporting;

(iv) The requirements of § 63.139, as specified in § 63.501, for closed vent systems for control of emissions from in-process equipment subject to § 63.149, as specified in § 63.501, including applicable monitoring, recordkeeping, and reporting; or

(v) The requirements of this subpart for aggregate batch vent streams, including applicable monitoring, recordkeeping, and reporting.

(3) The owner or operator of an affected source with combined emission streams containing one or more batch front-end process vents, but not containing one or more continuous front-end process vents, shall comply with paragraphs (b)(3)(i) and (b)(3)(ii) of this section.

(i) The owner or operator of the affected source shall comply with § 63.486 for the batch front-end process vent stream(s).

(ii) The owner or operator of the affected source shall comply with either paragraph (b)(1) or (b)(2) of this section, as appropriate, for the remaining emission streams.

(c) Instead of complying with §§ 63.484, 63.485, 63.493, and 63.501, the owner or operator of an existing affected source may elect to control any or all of the storage vessels, continuous front-end process vents, batch front-end process vents, aggregate batch vent streams, back-end process emissions, and wastewater streams and associated waste management units within the affected source, to different levels using an emissions averaging compliance approach that uses the procedures specified in § 63.503. The restrictions concerning which emission points may be included in an emissions average, including how many emission points may be included, are specified in § 63.503(a)(1). An owner or operator electing to use emissions averaging shall still comply with the provisions of §§ 63.484, 63.485, 63. 486, 63.493, and 63.501 for affected source emission points not included in the emissions average.

(d) A State may decide not to allow the use of the emissions averaging compliance approach specified in paragraph (c) of this section.

6. Section 63.484 is amended by:

a. Revising paragraph (a);

b. Revising paragraph (b)(2);

c. Revising paragraph (c);

d. Revising paragraph (d);

e. Revising paragraph (e);

f. Revising paragraph (f);

g. Revising paragraph (g);

h. Revising paragraph (h);

i. Revising paragraph (i) introductory text;

j. Revising paragraph (i)(1);

k. Revising paragraph (j);

l. Revising paragraph (k);

m. Revising paragraph (l);

n. Revising paragraph (m);

o. Revising paragraph (n);

p. Revising paragraph (o);

q. Revising paragraph (p);

r. Revising paragraph (q);

s. Adding paragraph (r); and

t. Adding paragraph (s).

The revisions and additions read as follows:

§ 63.484 Storage vessel provisions.

(a) This section applies to each storage vessel that is assigned to an affected source, as determined by § 63.480(g). Except for those storage vessels exempted by paragraph (b) of this section, the owner or operator of affected sources shall comply with the requirements of §§ 63.119 through 63.123 and 63.148, with the differences noted in paragraphs (c) through (s) of this section, for the purposes of this subpart.

(b) * * *

(2) Storage vessels containing latex products other than styrene-butadiene latex, located downstream of the stripping operations;

* * * * *

(c) When the term “storage vessel” is used in §§ 63.119 through 63.123, the definition of this term in § 63.482 shall apply for the purposes of this subpart.

(d) When the term “Group 1 storage vessel” is used in §§ 63.119 through 63.123, the definition of this term in § 63.482 shall apply for the purposes of this subpart.

(e) When the term “Group 2 storage vessel” is used in §§ 63.119 through 63.123, the definition of this term in § 63.482 shall apply for the purposes of this subpart.

(f) When the emissions averaging provisions of § 63.150 are referred to in § 63.119 and § 63.123, the emissions averaging provisions contained in § 63.503 shall apply for the purposes of this subpart.

(g) When December 31, 1992 is referred to in § 63.119, June 12, 1995 shall apply instead, for the purposes of this subpart.

(h) When April 22, 1994 is referred to in § 63.119, June 19, 2000 shall apply instead, for the purposes of this subpart.

(i) The owner or operator of an affected source shall comply with this paragraph instead of § 63.120(d)(1)(ii) for the purposes of this subpart. If the control device used to comply with § 63.119(e) is also used to comply with any of the requirements found in §§ 63.485 through 63.501, the performance test required in or accepted by the applicable requirements in §§ 63.485 through 63.501 is acceptable for demonstrating compliance with § 63.119(e), for the purposes of this subpart. The owner or operator will not be required to prepare a design evaluation for the control device as described in § 63.120(d)(1)(i), if the performance test meets the criteria specified in paragraphs (i)(1) and (i)(2) of this section.

(1) The performance test demonstrates that the control device achieves greater than or equal to the required control efficiency specified in § 63.119(e)(1) or § 63.119(e)(2), as applicable; and

* * * * *

(j) When the term “range” is used in §§ 63.120(d)(3)(i), 63.120(d)(5), and 63.122(g)(2), the term “level” shall apply instead, for the purposes of this subpart.

(k) For purposes of this subpart, the monitoring plan required by § 63.120(d)(2) shall specify for which control devices the owner or operator has selected to follow the procedures for continuous monitoring specified in § 63.505. For those control devices for which the owner or operator has selected to not follow the procedures for continuous monitoring specified in § 63.505, the monitoring plan shall include a description of the parameter or parameters to be monitored to ensure that the control device is being properly operated and maintained, an explanation of the criteria used for selection of that parameter (or parameters), and the frequency with which monitoring will be performed (e.g., when the liquid level in the storage vessel is being raised), as specified in § 63.120(d)(2)(i).

(l) For purposes of this subpart, the monitoring plan required by § 63.122(b) shall be included in the Notification of Compliance Status required by § 63.506(e)(5).

(m) When the Notification of Compliance Status requirements contained in § 63.152(b) are referred to in §§ 63.120, 63.122, and 63.123, the Notification of Compliance Status requirements contained in § 63.506(e)(5) shall apply for the purposes of this subpart.

(n) When the Periodic Report requirements contained in § 63.152(c) are referred to in §§ 63.120 and 63.122, the Periodic Report requirements contained in § 63.506(e)(6) shall apply for the purposes of this subpart.

(o) When other reports as required in § 63.152(d) are referred to in § 63.122, the reporting requirements contained in § 63.506(e)(7) shall apply for the purposes of this subpart.

(p) When the Initial Notification requirements contained in § 63.151(b) are referred to in §§ 63.119 through 63.123, for the purposes of this subpart the owner or operator of an affected source need not comply.

(q) When the determination of equivalence criteria in § 63.102(b) are referred to in § 63.121(a), the provisions in § 63.6(g) shall apply for the purposes of this subpart.

(r) When § 63.119(a) requires compliance according to the schedule provisions in § 63.100, owners and operators of affected sources shall instead comply with the requirements in §§ 63.119(a)(1) through 63.119(a)(4) by the compliance date for storage vessels, which is specified in § 63.481.

(s) In § 63.120(e)(1), instead of the reference to § 63.11(b), the requirements of § 63.504(c) shall apply.

7. Section 63.485 is revised to read as follows:

§ 63.485 Continuous front-end process vent provisions.

(a) For each continuous front-end process vent located at an affected source, the owner or operator shall comply with the requirements of §§ 63.113 through 63.118, except as provided for in paragraphs (b) through (v) of this section. The owner or operator of continuous front-end process vents that are combined with one or more batch front-end process vents shall comply with paragraph (o) or (p) of this section.

(b) When the term “process vent” is used in §§ 63.113 through 63.118, the term “continuous front-end process vent,” and the definition of this term in § 63.482 shall apply for the purposes of this subpart.

(c) When the term “halogenated process vent” is used in §§ 63.113 through 63.118, the term “halogenated continuous front-end process vent,” and the definition of this term in § 63.482 shall apply for the purposes of this subpart.

(d) When the term “Group 1 process vent” is used in §§ 63.113 through 63.118, the term “Group 1 continuous front-end process vent,” and the definition of this term in § 63.482 shall apply for the purposes of this subpart.

(e) When the term “Group 2 process vent” is used in §§ 63.113 through 63.118, the term “Group 2 continuous front-end process vent,” and the definition of this term in § 63.482 shall apply for the purposes of this subpart.

(f) When December 31, 1992 (i.e., the proposal date for subpart G of this part) is referred to in § 63.113, June 12, 1995 shall instead apply, for the purposes of this subpart.

(g) When §§ 63.151(f), alternative monitoring parameters, and 63.152(e), submission of an operating permit, are referred to in §§ 63.114(c) and 63.117(e), 63.506(f), alternative monitoring parameters, and § 63.506(e)(8), submission of an operating permit, respectively, shall apply for the purposes of this subpart.

(h) When the Notification of Compliance Status requirements contained in § 63.152(b) are referred to in §§ 63.114, 63.117, and 63.118, the Notification of Compliance Status requirements contained in § 63.506(e)(5) shall apply for the purposes of this subpart.

(i) When the Periodic Report requirements contained in § 63.152(c) are referred to in §§ 63.117 and 63.118, the Periodic Report requirements contained in § 63.506(e)(6) shall apply for the purposes of this subpart.

(j) When the definition of excursion in § 63.152(c)(2)(ii)(A) is referred to in § 63.118(f)(2), the definition of excursion in § 63.505(g) and (h) shall apply for the purposes of this subpart.

(k) When § 63.114(e) specifies that an owner or operator shall submit the information required in § 63.152(b) in order to establish the parameter monitoring range, the owner or operator of an affected source shall comply with the provisions of § 63.505 for establishing the parameter monitoring level and shall comply with § 63.506(e)(5) for the purposes of reporting information related to the establishment of the parameter monitoring level, for the purposes of this subpart. Further, the term “level” shall apply whenever the term “range” is used in §§ 63.114, 63.117, and 63.118.

(l) When reports of process changes are required under § 63.118(g), (h), (i), or (j), paragraphs (l)(1) through (l)(4) of this section shall apply for the purposes of this subpart. In addition, for the purposes of this subpart paragraph (l)(5) of this section applies, and § 63.118(k) does not apply to owners or operators of affected sources.

(1) For the purposes of this subpart, whenever a process change, as defined in § 63.115(e), is made that causes a Group 2 continuous front-end process vent to become a Group 1 continuous front-end process vent, the owner or operator shall submit a report within 180 days after the process change is made or with the next Periodic Report, whichever is later. A description of the process change shall be submitted with the report of the process change, and the owner or operator of the affected source shall comply with the Group 1 provisions in §§ 63.113 through 63.118 in accordance with § 63.480(i)(2)(ii) or (i)(2)(iii), as applicable.

(2) Whenever a process change, as defined in § 63.115(e), is made that causes a Group 2 continuous front-end process vent with a TRE greater than 4.0 to become a Group 2 continuous front-end process vent with a TRE less than 4.0, the owner or operator shall submit a report within 180 days after the process change is made or with the next Periodic Report, whichever is later. A description of the process change shall be submitted with the report of the process change, and the owner or operator shall comply with the provisions in § 63.113(d) by the dates specified in § 63.481.

(3) Whenever a process change, as defined in § 63.115(e), is made that causes a Group 2 continuous front-end process vent with a flow rate less than 0.005 standard cubic meter per minute (scmm) to become a Group 2 continuous front-end process vent with a flow rate of 0.005 scmm or greater and a TRE index value less than or equal to 4.0, the owner or operator shall submit a report within 180 days after the process change is made or with the next Periodic Report, whichever is later. A description of the process change shall be submitted with the report of the process change, and the owner or operator shall comply with the provisions in § 63.113(d) by the dates specified in § 63.481.

(4) Whenever a process change, as defined in § 63.115(e), is made that causes a Group 2 continuous front-end process vent with an organic HAP concentration less than 50 parts per million by volume (ppmv) to become a Group 2 continuous front-end process vent with an organic HAP concentration of 50 ppmv or greater and a TRE index value less than or equal to 4.0, the owner or operator shall submit a report within 180 days after the process change is made or with the next Periodic Report, whichever is later. A description of the process change shall be submitted with the report of the process change, and the owner or operator shall comply with the provisions in § 63.113(d) by the dates specified in § 63.481.

(5) The owner or operator is not required to submit a report of a process change if one of the conditions listed in paragraphs (l)(5)(i), (l)(5)(ii), (l)(5)(iii), or (l)(5)(iv) of this section is met.

(i) The change does not meet the description of a process change in § 63.115(e);

(ii) The vent stream flow rate is recalculated according to § 63.115(e) and the recalculated value is less than 0.005 standard cubic meter per minute;

(iii) The organic HAP concentration of the vent stream is recalculated according to § 63.115(e) and the recalculated value is less than 50 parts per million by volume; or

(iv) The TRE index value is recalculated according to § 63.115(e) and the recalculated value is greater than 4.0.

(m) When § 63.118 (periodic reporting and recordkeeping requirements) refers to § 63.152(f), the recordkeeping requirements in § 63.506(d) shall apply for the purposes of this subpart.

(n) When §§ 63.115 and 63.116 refer to Table 2 of subpart F of this part, the owner or operator is only required to consider organic HAP listed on Table 5 of this subpart, for the purposes of this subpart.

(o) If a batch front-end process vent or aggregate batch vent stream is combined with a continuous front-end process vent, the owner or operator of the affected source containing the combined vent stream shall comply with paragraph (o)(1); with paragraph (o)(2) and with paragraph (o)(3) or (o)(4); or with paragraph (o)(5) of this section, as appropriate.

(1) If a batch front-end process vent or aggregate batch vent stream is combined with a Group 1 continuous front-end process vent prior to the combined vent stream being routed to a control device, the owner or operator of the affected source containing the combined vent stream shall comply with the requirements in paragraph (o)(1)(i) or (o)(1)(ii) of this section.

(i) All requirements for a Group 1 process vent stream in §§ 63.113 through 63.118, except as otherwise provided in this section. As specified in § 63.504(a)(1), performance tests shall be conducted at maximum representative operating conditions. For the purpose of conducting a performance test on a combined vent stream, maximum representative operating conditions shall be when batch emission episodes are occurring that result in the highest organic HAP emission rate (for the combined vent stream) that is achievable during one of the periods listed in § 63.504(a)(1)(i) or § 63.504(a)(1)(ii), without causing any of the situations described in paragraphs (o)(1)(i)(A) through (o)(1)(i)(C) of this section to occur.

(A) Causing damage to equipment;

(B) Necessitating that the owner or operator make product that does not meet an existing specification for sale to a customer; or

(C) Necessitating that the owner or operator make product in excess of demand.

(ii) Comply with the provisions in § 63.483(b)(1), as allowed under § 63.483(b).

(2) If a batch front-end process vent or aggregate batch vent stream is combined with a continuous front-end process vent prior to the combined vent stream being routed to a recovery device, the TRE index value for the combined vent stream shall be calculated at the exit of the last recovery device. The TRE shall be calculated during periods when one or more batch emission episodes are occurring that result in the highest organic HAP emission rate (in the combined vent stream that is being routed to the recovery device) that is achievable during the 6-month period that begins 3 months before and ends 3 months after the TRE calculation, without causing any of the situations described in paragraphs (o)(2)(i) through (o)(2)(iii) of this section to occur.

(i) Causing damage to equipment;

(ii) Necessitating that the owner or operator make product that does not meet an existing specification for sale to a customer; or

(iii) Necessitating that the owner or operator make product in excess of demand.

(3) If the combined vent stream described in paragraph (o)(2) of this section meets the requirements in paragraphs (o)(3)(i), (o)(3)(ii), and (o)(3)(iii) of this section, the combined vent stream shall be subject to the requirements for Group 1 process vents in §§ 63.113 through 63.118, except as otherwise provided in this section, as applicable. Performance tests for the combined vent stream shall be conducted at maximum representative operating conditions, as described in paragraph (o)(1) of this section.

(i) The TRE index value of the combined stream is less than or equal to 1.0;

(ii) The flow rate of the combined vent stream is greater than or equal to 0.005 standard cubic meter per minute; and

(iii) The total organic HAP concentration is greater than or equal to 50 parts per million by volume for the combined vent stream.

(4) If the combined vent stream described in paragraph (o)(2) of this section meets the requirements in paragraph (o)(4)(i), (ii), or (iii) of this section, the combined vent stream shall be subject to the requirements for Group 2 process vents in §§ 63.113 through 63.118, except as otherwise provided in this section, as applicable.

(i) The TRE index value of the combined vent stream is greater than 1.0;

(ii) The flow rate of the combined vent stream is less than 0.005 standard cubic meter per minute; or

(iii) The total organic HAP concentration is less than 50 parts per million by volume for the combined vent stream.

(5) If a batch front-end process vent or aggregate batch vent stream is combined with a Group 2 continuous front-end process vent, the owner or operator shall comply with the requirements in either paragraph (o)(5)(i) or (o)(5)(ii) of this section.

(i) The owner or operator shall comply with the requirements in §§ 63.113 through 63.118 for Group 1 process vents; or

(ii) The owner or operator shall comply with § 63.487(e)(2) for batch front-end process vents and aggregate batch vent streams.

(p) If any gas stream that originates outside of an affected source that is subject to this subpart is normally conducted through the same final recovery device as any continuous front-end process vent stream subject to this subpart, the combined vent stream shall comply with all requirements in §§ 63.113 through 63.118, except as otherwise provided in this section, as applicable.

(1) Instead of measuring the vent stream flow rate at the sampling site specified in § 63.115(b)(1), the sampling site for vent stream flow rate shall be prior to the final recovery device and prior to the point at which the gas stream that is not controlled under this subpart is introduced into the combined vent stream.

(2) Instead of measuring total organic HAP or TOC concentrations at the sampling site specified in § 63.115(c)(1), the sampling site for total organic HAP or TOC concentration shall be prior to the final recovery device and prior to the point at which the gas stream that is not controlled under this subpart is introduced into the combined vent stream.

(3) The efficiency of the final recovery device (determined according to paragraph (p)(4) of this section) shall be applied to the total organic HAP or TOC concentration measured at the sampling site described in paragraph (p)(2) of this section to determine the exit concentration. This exit concentration of total organic HAP or TOC shall then be used to perform the calculations outlined in § 63.115(d)(2)(iii) and § 63.115(d)(2)(iv), for the combined vent stream exiting the final recovery device.

(4) The efficiency of the final recovery device is determined by measuring the total organic HAP or TOC concentration using Method 18 or 25A, 40 CFR part 60, appendix A, at the inlet to the final recovery device after the introduction of any gas stream that is not controlled under this subpart, and at the outlet of the final recovery device.

(q) Group 1 halogenated continuous front-end process vents described in either paragraph (q)(1) or (q)(2) of this section are exempt from the requirements to control hydrogen halides and halogens from the outlet of combustion devices contained in § 63.113(a)(1)(ii) and § 63.113(c).

(1) Group 1 halogenated continuous front-end process vents at existing affected sources producing butyl rubber, halobutyl rubber, or ethylene propylene rubber using a solution process, if the conditions in paragraphs (q)(1)(i) and (ii) of this section are met. Group 1 halogenated continuous front-end process vents at new affected sources producing butyl rubber, halobutyl rubber, or ethylene propylene rubber using a solution process are not exempt from § 63.113(a)(1)(ii) and § 63.113(c).

(i) If the halogenated continuous front-end process vent stream was controlled by a combustion device prior to June 12, 1995; and

(ii) If the requirements of § 63.113(a)(2); § 63.113(a)(3); § 63.113(b) and the associated testing requirements in § 63.116; or § 63.11(b) and § 63.504(c) are met.

(2) Group 1 halogenated continuous front-end process vents at new and existing affected sources producing an elastomer using a gas-phased reaction process, provided that the requirements of § 63.113(a)(2); § 63.113(a)(3); § 63.113(b) and the associated testing requirements in § 63.116; or § 63.11(b) and § 63.504(c) are met.

(r) The compliance date for continuous front-end process vents subject to the provisions of this section is specified in § 63.481.

(s) Internal combustion engines. In addition to the three options for the control of a Group 1 continuous front-end process vent listed in § 63.113(a)(1) through (3), an owner or operator will be permitted to route emissions of organic HAP to an internal combustion engine, provided the conditions listed in paragraphs (s)(1) through (s)(5) of this section are met.

(1) The vent stream routed to the internal combustion engine shall not be a halogenated continuous front-end process vent stream.

(2) The organic HAP is introduced with the primary fuel.

(3) The internal combustion engine is operating at all times that organic HAP emissions are being routed to it. The owner or operator shall demonstrate that the internal combustion engine is operating by continuously monitoring the on/off status of the internal combustion engine.

(4) The owner or operator shall maintain hourly records verifying that the internal combustion engine was operating at all times that emissions were routed to it.

(5) The owner or operator shall include in the Periodic Report a report of all times that the internal combustion engine was not operating while emissions were being routed to it.

(6) If an internal combustion engine meeting the requirements of paragraphs (s)(1) through (5) of this section is used to comply with the provisions of § 63.113(a), the internal combustion engine is exempt from the source testing requirements of § 63.116.

(t) When the provisions of § 63.116(c)(3) and (c)(4) specify that Method 18, 40 CFR part 60, appendix A shall be used, Method 18 or Method 25A, 40 CFR part 60, appendix A may be used for the purposes of this subpart. The use of Method 25A, 40 CFR part 60, appendix A shall conform with the requirements in paragraphs (t)(1) and (t)(2) of this section.

(1) The organic HAP used as the calibration gas for Method 25A, 40 CFR part 60, appendix A shall be the single organic HAP representing the largest percent by volume of the emissions.

(2) The use of Method 25A, 40 CFR part 60, appendix A is acceptable if the response from the high-level calibration gas is at least 20 times the standard deviation of the response from the zero calibration gas when the instrument is zeroed on the most sensitive scale.

(u) In § 63.116(a), instead of the reference to § 63.11(b), the requirements in § 63.504(c) shall apply.

(v) When a combustion device is used to comply with the 20 parts per million by volume outlet concentration standard specified in § 63.113(a)(2), the correction to 3 percent oxygen is only required when supplemental combustion air is used to combust the emissions, for the purposes of this subpart. In addition, the correction to 3 percent oxygen specified in § 63.116(c)(3) and (c)(3)(iii) is only required when supplemental combustion air is used to combust the emissions, for the purposes of this subpart. Finally, when a combustion device is used to comply with the 20 parts per million by volume outlet concentration standard specified in § 63.113(a)(2), an owner or operator shall record and report the outlet concentration required in § 63.117(a)(4)(ii) and (a)(4)(iv) corrected to 3 percent oxygen when supplemental combustion air is used to combust the emissions, for the purposes of this subpart. When supplemental combustion air is not used to combust the emissions, an owner or operator may record and report the outlet concentration required in § 63.117(a)(4)(ii) and (a)(4)(iv) on an uncorrected basis or corrected to 3 percent oxygen, for the purposes of this subpart.

8. Section 63.486 is revised to read as follows:

§ 63.486 Batch front-end process vent provisions.

(a) Batch front-end process vents. Except as specified in paragraph (b) of this section, owners and operators of new and existing affected sources with batch front-end process vents shall comply with the requirements in §§ 63.487 through 63.492. The batch front-end process vent group status shall be determined in accordance with § 63.488. Owners or operators of affected sources with batch front-end process vents classified as Group 1 shall comply with the reference control technology requirements for Group 1 batch front-end process vents in § 63.487, the monitoring requirements in § 63.489, the performance test methods and procedures to determine compliance in § 63.490, the recordkeeping requirements in § 63.491, and the reporting requirements in § 63.492. Owners and operators of all Group 2 batch front-end process vents shall comply with the applicable reference control technology requirements in § 63.487, the applicable recordkeeping requirements in § 63.491, and the applicable reporting requirements in § 63.492.

(b) Aggregate batch vent streams. Aggregate batch vent streams, as defined in § 63.482, are subject to the control requirements specified in § 63.487(b), as well as the monitoring, testing, recordkeeping, and reporting requirements specified in §§ 63.489 through 63.492 for aggregate batch vent streams.

9. Section 63.487 is amended by:

a. Revising paragraph (a) introductory text;

b. Revising paragraph (a)(1)(i);

c. Revising paragraph (b) introductory text;

d. Revising paragraph (b)(1)(i);

e. Revising paragraph (b)(2);

f. Revising paragraphs (c)(1) and (c)(2);

g. Revising paragraph (e);

h. Revising paragraph (f);

i. Revising paragraph (g); and

j. Adding paragraph (h).

The revisions and additions read as follows:

§ 63.487 Batch front-end process vents—reference control technology.

(a) Batch front-end process vents. The owner or operator of an affected source with a Group 1 batch front-end process vent, as determined using the procedures in § 63.488, shall comply with the requirements of either paragraph (a)(1) or (a)(2) of this section. Compliance may be based on either organic HAP or TOC.

(1) * * *

(i) The owner or operator of the affected source hall comply with the requirements of § 63.504(c) for the flare.

* * * * *

(b) Aggregate batch vent streams. The owner or operator of an aggregate batch vent stream that contains one or more Group 1 batch front-end process vents shall comply with the requirements of either paragraph (b)(1) or (b)(2) of this section. Compliance may be based on either organic HAP or TOC.

(1) * * *

(i) The owner or operator of the affected source shall comply with the requirements of § 63.504(c) for the flare.

* * * * *

(2) For each aggregate batch vent stream, reduce organic HAP emissions by 90 weight percent or to a concentration of 20 parts per million by volume, whichever is less stringent, on a continuous basis using a control device. For combustion devices, the emission reduction or concentration shall be calculated on a dry basis, corrected to 3 percent oxygen.

(c) * * *

(1) If a combustion device is used to comply with paragraph (a)(2) or (b)(2) of this section for a halogenated batch front-end process vent or halogenated aggregate batch vent stream, the emissions exiting the combustion device shall be ducted to a halogen reduction device that reduces overall emissions of hydrogen halides and halogens by at least 99 percent before discharge to the atmosphere.

(2) A halogen reduction device may be used to reduce the halogen atom mass emission rate to less than 3,750 kg/yr for batch front-end process vents or aggregate batch vent streams and thus make the batch front-end process vent or aggregate batch vent stream nonhalogenated. The nonhalogenated batch front-end process vent or aggregate batch vent stream shall then comply with the requirements of either paragraph (a) or (b) of this section, as appropriate.

* * * * *

(e) Combination of batch front-end process vents or aggregate batch vent streams with continuous front-end process vents. If a batch front-end process vent or aggregate batch vent stream is combined with a continuous front-end process vent, the owner or operator shall determine whether the combined vent stream is subject to the provisions of §§ 63.486 through 63.492 according to paragraphs (e)(1) and (e)(2) of this section.

(1) A batch front-end process vent or aggregate batch vent stream combined with a continuous front-end process vent stream is not subject to the provisions of §§ 63.486 through 63.492, if the requirements in paragraph (e)(1)(i) and in either paragraph (e)(1)(ii) or (e)(1)(iii) are met.

(i) The only emissions to the atmosphere from the batch front-end process vent or aggregate batch vent stream prior to being combined with the continuous front-end process vent are from equipment subject to § 63.502.

(ii) The batch front-end vent stream or aggregate batch vent stream is combined with a Group 1 continuous front-end process vent stream prior to the combined vent stream being routed to a control device. In this paragraph (e)(1)(ii), the definition of control device as it relates to continuous front-end process vents shall be used. Furthermore, the combined vent stream discussed in this paragraph (e)(1)(ii) shall be subject to § 63.485(o)(1).

(iii) The batch front-end process vent or aggregate batch vent stream is combined with a continuous front-end process vent stream prior to being routed to a recovery device. In this paragraph (e)(1)(iii), the definition of recovery device as it relates to continuous front-end process vents shall be used. Furthermore, the combined vent stream discussed in this paragraph (e)(1)(iii) shall be subject to § 63.485(o)(2).

(2) If the batch front-end process vent or aggregate batch vent stream is combined with a Group 2 continuous front-end process vent, the group status of the batch front-end process vent shall be determined prior to its combination with the Group 2 continuous front-end process vent, in accordance with § 63.488, and the combined vent stream shall be subject to the requirements for aggregate batch vent streams in §§ 63.486 through 63.492.

(f) Group 2 batch front-end process vents with annual emissions greater than or equal to the level specified in § 63.488(d). The owner or operator of a Group 2 batch front-end process vent with annual emissions greater than or equal to the level specified in § 63.488(d) shall comply with the provisions of paragraph (f)(1), (f)(2), or (h) of this section.

(1) The owner or operator shall comply with the requirements in paragraphs (f)(1)(i) through (f)(1)(iv) of this section.

(i) The owner or operator shall establish a batch mass input limitation that ensures that the Group 2 batch front-end process vent does not become a Group 1 batch front-end process vent.

(ii) Over the course of the affected source's “year,” as reported in the Notification of Compliance Status in accordance with § 63.506(e)(5)(iv), the owner or operator shall not charge a mass of HAP or material to the batch unit operation that is greater than the level established as the batch mass input limitation.

(iii) The owner or operator of an affected source shall comply with the recordkeeping requirements in § 63.491(d)(2), and the reporting requirements in § 63.492(a)(3), (b) and (c).

(iv) The owner or operator of an affected source shall comply with § 63.488(i) when process changes are made.

(2) Comply with the requirements of this subpart for Group 1 batch front-end process vents.

(g) Group 2 batch front-end process vents with annual emissions less than the level specified in § 63.488(d). The owner or operator of a Group 2 batch front-end process vent with annual organic HAP emissions less than the level specified in § 63.488(d), shall comply with paragraph (g)(1), (g)(2), (g)(3), or (g)(4) of this section.

(1) The owner or operator of the affected source shall comply with the requirements in paragraphs (g)(1)(i) through (g)(1)(iv) of this section.

(i) The owner or operator shall establish a batch mass input limitation that ensures emissions do not exceed the appropriate level specified in § 63.488(d).

(ii) Over the course of the affected source's “year,” as reported in the Notification of Compliance Status in accordance with § 63.506(e)(5)(iv), the owner or operator shall not charge a mass of HAP or material to the batch unit operation that is greater than the level established as the batch mass input limitation.

(iii) The owner or operator of the affected source shall comply with the recordkeeping requirements in § 63.491(d)(1), and the reporting requirements in § 63.492(a)(2), (b), and (c).

(iv) The owner or operator of the affected source shall comply with § 63.488(i) when process changes are made.

(2) Comply with the requirements of paragraph (f)(1) of this section;

(3) Comply with the requirements of paragraph (f)(2) of this section; or

(4) Comply with the requirements of paragraph (h) of this section.

(h) Owners or operators of Group 2 batch front-end process vents are not required to establish a batch mass input limitation if the batch front-end process vent is Group 2 at the conditions specified in paragraphs (h)(1) and (h)(2) of this section and if the owner or operator complies with the recordkeeping provisions in §§ 63.491(a)(1) through (3), 63.491(a)(9), and 63.491(a)(4) through (6) as applicable, and the reporting requirements in § 63.492(a)(5) and (6) and (b).

(1) Emissions for the single highest-HAP recipe (considering all products that are produced in the batch unit operation) are used in the group determination; and

(2) The group determination assumes that the batch unit operation is operating at the maximum design capacity of the EPPU for 12 months.

10. Section 63.488 is amended by:

a. Revising paragraph (a)(1);

b. Revising paragraph (b) introductory text;

c. Revising paragraphs (b)(1) through (b)(3);

d. Revising paragraph (b)(4)(i) introductory text;

e. Revising paragraphs (b)(4)(i)(A) through (b)(4)(i)(D);

f. Revising paragraph (b)(4)(ii)(B)(1);

g. Revising paragraph (b)(4)(iii);

h. Revising paragraph (b)(5) introductory text;

i. Revising paragraphs (b)(5)(i) and (b)(5)(ii);

j. Revising paragraph (b)(5)(iii) introductory text;

k. Revising paragraphs (b)(5)(iii)(A) and (b)(5)(iii)(B);

l. Revising paragraph (b)(5)(iv);

m. Revising paragraph (b)(5)(v) introductory text;

n. Revising paragraph (b)(5)(v)(A);

o. Revising paragraph (b)(6);

p. Revising paragraph (d);

q. Revising paragraph (e) introductory text;

r. Revising paragraph (e)(1) introductory text;

s. Revising paragraph (e)(1)(i);

t. Revising paragraph (e)(1)(iii);

u. Revising paragraphs (e)(2) and (e)(3);

v. Revising paragraph (g);

w. Revising paragraph (h)(1) introductory text;

x. Revising paragraphs (h)(1)(iii) and (h)(1)(iv);

y. Revising paragraph (h)(2);

z. Revising paragraph (i) introductory text;

aa. Revising paragraphs (i)(1) through (i)(3); and

bb. Adding paragraph (b)(9).

The revisions and additions read as follows:

§ 63.488 Methods and procedures for batch front-end process vent group determination.

(a) * * *

(1) The procedures specified in paragraphs (b) through (g) shall be followed to determine the group status of each batch front-end process vent. This determination shall be made in accordance with either paragraph (a)(1)(i) or (a)(1)(ii) of this section.

(i) An owner or operator may choose to determine the group status of a batch front-end process vent based on the expected mix of products. For each product, emission characteristics of the single highest-HAP recipe, as defined in paragraph (a)(1)(iii) of this section, for that product, shall be used in the procedures in paragraphs (b) through (i) of this section.

(ii) An owner or operator may choose to determine the group status of a batch front-end process vent based on annualized production of the single highest-HAP recipe, as defined in paragraph (a)(1)(iii) of this section, considering all products produced or processed in the batch unit operation. The annualized production of the highest-HAP recipe shall be based exclusively on the production of the single highest-HAP recipe of all products produced or processed in the batch unit operation for a 12 month period. The production level used may be the actual production rate. It is not necessary to assume a maximum production rate (i.e., 8,760 hours per year at maximum design production).

(iii) The single highest-HAP recipe for a product means the recipe of the product with the highest total mass of HAP charged to the reactor during the production of a single batch of product.

* * * * *

(b) Determination of annual emissions. The owner or operator shall calculate annual uncontrolled TOC or organic HAP emissions for each batch front-end process vent using the methods described in paragraphs (b)(1) through (b)(8) of this section. To estimate emissions from a batch emissions episode, owners or operators may use either the emissions estimation equations in paragraphs (b)(1) through (b)(4) of this section, or direct measurement as specified in paragraph (b)(5) of this section. Engineering assessment may also be used to estimate emissions from a batch emission episode, but only under the conditions described in paragraph (b)(6) of this section. In using the emissions estimation equations in paragraphs (b)(1) through (b)(4) of this section, individual component vapor pressure and molecular weight may be obtained from standard references. Methods to determine individual HAP partial pressures in multicomponent systems are described in paragraph (b)(9) of this section. Other variables in the emissions estimation equations may be obtained through direct measurement, as defined in paragraph (b)(5) of this section, through engineering assessment, as defined in paragraph (b)(6)(ii) of this section, by process knowledge, or by any other appropriate means. Assumptions used in determining these variables must be documented. Once emissions for the batch emission episode have been determined using either the emissions estimation equations, direct measurement, or engineering assessment, emissions from a batch cycle shall be calculated in accordance with paragraph (b)(7) of this section, and annual emissions from the batch front-end process vent shall be calculated in accordance with paragraph (b)(8) of this section.

(1) TOC or organic HAP emissions from the purging of an empty vessel shall be calculated using Equation 1. This equation does not take into account evaporation of any residual liquid in the vessel.

Where:

Eepisode = Emissions, kg/episode.

Vves = Volume of vessel, m³.

P = TOC or total organic HAP partial pressure, kPa.

MWWAVG = Weighted average molecular weight of TOC or organic HAP in vapor, determined in accordance with paragraph (b)(4)(i)(D) of this section, kg/kmol.

R = Ideal gas constant, 8.314 m³·kPa/kmol·°K.

T = Temperature of vessel vapor space, °K.

m = Number of volumes of purge gas used.

(2) TOC or organic HAP emissions from the purging of a filled vessel shall be calculated using Equation 2.

Where:

Eepisode = Emissions, kg/episode.

y = Saturated mole fraction of all TOC or organic HAP in vapor phase.

Vdr = Volumetric gas displacement rate, m³/min.

P = Pressure in vessel vapor space, kPa.

MWWAVG = Weighted average molecular weight of TOC or organic HAP in vapor, determined in accordance with paragraph (b)(4)(i)(D) of this section, kg/kmol.

R = Ideal gas constant, 8.314 m³·kPa/kmol·°K.

T = Temperature of vessel vapor space, °K.

Pi = Vapor pressure of TOC or individual organic HAP i, kPa.

xi = Mole fraction of TOC or organic HAP i in the liquid.

n = Number of organic HAP in stream. Note: Summation is not applicable if TOC emissions are being estimated.

Tm = Minutes/episode.

(3) Emissions from vapor displacement due to transfer of material into or out of a vessel shall be calculated using Equation 3.

Where:

Eepisode = Emissions, kg/episode.

y = Saturated mole fraction of all TOC or organic HAP in vapor phase.

V = Volume of gas displaced from the vessel, m³.

P = Pressure of vessel vapor space, kPa.

MWWAVG = Weighted average molecular weight of TOC or organic HAP in vapor, determined in accordance with paragraph (b)(4)(i)(D) of this section, kg/kmol.

R = Ideal gas constant, 8.314 m³·kPa/kmol·°K.

T = Temperature of vessel vapor space, °K.

(4) * * *

(i) If the final temperature to which the vessel contents is heated is lower than 50 K below the boiling point of the HAP in the vessel, then emissions shall be calculated using the equations in paragraphs (b)(4)(i)(A) through (b)(4)(i)(D) of this section.

(A) Emissions caused by heating of a vessel shall be calculated using Equation 4. The assumptions made for this calculation are atmospheric pressure of 760 mm Hg and the displaced gas is always saturated with VOC vapor in equilibrium with the liquid mixture.

Where:

Eepisode = Emissions, kg/episode.

(Pi)T1, (Pi)T2 = Partial pressure (kPa) TOC or each organic HAP in the vessel headspace at initial (T1) and final (T2) temperature.

n = Number of organic HAP in stream. Note: Summation is not applicable if TOC emissions are being estimated.

Δη = Number of kilogram-moles (kg-moles) of gas displaced, determined in accordance with paragraph (b)(4)(i)(B) of this section.

101.325 = Constant, kPa.

(MWWAVG,T1), (MWWAVG,T2) = Weighted average molecular weight of TOC or total organic HAP in the displaced gas stream, determined in accordance with paragraph (b)(4)(i)(D) of this section.

(B) The moles of gas displaced, Δη, is calculated using equation 5.

Where:

Δη = Number of kg-moles of gas displaced.

Vfs = Volume of free space in the vessel, m³.

R = Ideal gas constant, 8.314 m ³•kPa/kmol•K.

Pa1 = Initial noncondensible gas partial pressure in the vessel, kPa.

Pa2 = Final noncondensible gas partial pressure, kPa.

T1 = Initial temperature of vessel, K.

T2 = Final temperature of vessel, K.

(C) The initial and final pressure of the noncondensible gas in the vessel shall be calculated using equation 6.

Where:

Pa = Initial or final partial pressure of noncondensible gas in the vessel headspace, kPa.

101.325 = Constant, kPa.

(Pi)T = Partial pressure of TOC or each organic HAP i in the vessel headspace, kPa, at the initial or final temperature (T1 or T2).

n = Number of organic HAP in stream. Note: Summation is not applicable if TOC emissions are being estimated.

(D) The weighted average molecular weight of TOC or organic HAP in the displaced gas, MWWAVG, shall be calculated using equation 7:

Where:

c = TOC or organic HAP component

n = Number of TOC or organic HAP components in stream.

(ii) * * *

(B) * * *

(1) If the final temperature of the heatup is at or lower than 5 K below the boiling point, the final temperature for the last increment shall be the final temperature for the heatup, even if the last increment is less than 5 K.

* * * * *

(iii) If the vessel is operating with a condenser, and the vessel contents are heated to the boiling point, the primary condenser is considered part of the process, as described in § 63.488(a)(2). Emissions shall be calculated as the sum of Equation 4, which calculates emissions due to heating the vessel contents to the temperature of the gas exiting the condenser, and Equation 3, which calculates emissions due to the displacement of the remaining saturated noncondensible gas in the vessel. The final temperature in Equation 4 shall be set equal to the exit gas temperature of the condenser. Equation 3 shall be used as written below in Equation 3a, using free space volume, and T2 is set equal to the condenser exit gas temperature.

Where:

Eepisode = Emissions, kg/episode.

yi = Saturated mole fraction of all TOC or organic HAP in the vapor phase.

Vfs = Volume of the free space in the vessel, m³.

PT = Pressure of the vessel vapor space, kPa.

MWWAVG = Weighted average molecular weight of TOC or organic HAP in vapor, determined in accordance with paragraph (b)(4)(i)(D) of this section.

R = Ideal gas constant, 8.314 m³•kPa/kmol•K.

T = Temperature of condenser exit stream K.

(5) The owner or operator may estimate annual emissions for a batch emission episode by direct measurement. If direct measurement is used, the owner or operator shall either perform a test for the duration of a representative batch emission episode or perform a test during only those periods of the batch emission episode for which the emission rate for the entire episode can be determined or for which the emissions are greater than the average emission rate of the batch emission episode. The owner or operator choosing either of these options shall develop an emission profile for the entire batch emission episode, based on either process knowledge or test data collected, to demonstrate that test periods are representative. Examples of information that could constitute process knowledge include calculations based on material balances and process stoichiometry. Previous test results may be used provided the results are still relevant to the current batch front-end process vent conditions. Performance tests shall follow the procedures specified in paragraphs (b)(5)(i) through (b)(5)(iii) of this section. The procedures in either paragraph (b)(5)(iv) or (b)(5)(v) of this section shall be used to calculate the emissions per batch emission episode.

(i) Method 1 or 1A, 40 CFR part 60, appendix A, as appropriate, shall be used for selection of the sampling sites if the flow measuring device is a pitot tube. No traverse is necessary when Method 2A or 2D, 40 CFR part 60, appendix A is used to determine gas stream volumetric flow rate.

(ii) Annual average batch vent flow rate shall be determined as specified in paragraph (e) of this section.

(iii) Method 18 or Method 25A, of 40 CFR part 60, appendix A, shall be used to determine the concentration of TOC or organic HAP, as appropriate. The use of Method 25A, 40 CFR part 60, appendix A shall conform with the requirements in paragraphs (b)(5)(iii)(A) and (b)(5)(iii)(B) of this section.

(A) The organic HAP used as the calibration gas for Method 25A, 40 CFR part 60, appendix A shall be the single organic HAP representing the largest percent by volume of the emissions.

(B) The use of Method 25A, 40 CFR part 60, appendix A is acceptable if the response from the high-level calibration gas is at least 20 times the standard deviation of the response from the zero calibration gas when the instrument is zeroed on the most sensitive scale.

(iv) If an integrated sample is taken over the entire batch emission episode to determine average batch vent concentration of TOC or total organic HAP, emissions shall be calculated using Equation 8.

Where:

Episode = Emissions, kg/episode

K = Constant, 2.494 × 10⁻⁶ (ppmv) ⁻¹(gm-mole/scm) (kg/gm) (min/hr), where standard temperature is 20°C.

Cj = Average batch vent concentration of TOC or sample organic HAP component j of the gas stream for the batch emission episode, dry basis, ppmv.

Mj = Molecular weight of TOC or sample organic HAP component j of the gas stream, dry basis, gm/gm-mole.

AFR = Average batch vent flow rate of gas stream, dry basis, scmm.

Th = Hours/episode

n = Number of organic HAP in stream. Note: Summation not applicable if TOC emissions are being estimated using a TOC concentration measured using Method 25A, 40 CFR part 60, appendix A.

(v) If grab samples are taken to determine the average batch vent concentration of TOC or total organic HAP, emissions shall be calculated according to paragraphs (b)(5)(v)(A) and (b)(5)(v)(B) of this section.

(A) For each measurement point, the emission rate shall be calculated using Equation 9.

Where:

Epoint = Emission rate for individual measurement point, kg/hr.

K = Constant, 2.494 × 10⁻⁶ (ppmv)⁻¹ (gm-mole/scm) (kg/gm) (min/hr), where standard temperature is 20°C.

Cj = Concentration of TOC or sample organic HAP component j of the gas stream, dry basis, ppmv.

Mj = Molecular weight of TOC or sample organic HAP component j of the gas stream, gm/gm-mole.

FR = Flow rate of gas stream for the measurement point, dry basis, scmm.

n = Number of organic HAP in stream. Note: Summation not applicable if TOC emissions are being estimated using a TOC concentration measured using Method 25A, 40 CFR part 60, appendix A.

* * * * *

(6) Engineering assessment may be used to estimate emissions from a batch emission episode, if the criteria in paragraph (b)(6)(i) are met. Data or other information used to demonstrate that the criteria in paragraph (b)(6)(i) of this section have been met shall be reported as specified in paragraph (b)(6)(iii) of this section. Paragraph (b)(6)(ii) of this section defines engineering assessment, for the purposes of estimating emissions from a batch emissions episode. All data, assumptions, and procedures used in an engineering assessment shall be documented.

(i) If the criteria specified in paragraph (b)(6)(i)(A), (B), or (C) are met for a specific batch emission episode, the owner or operator may use engineering assessment, as described in paragraph (b)(6)(ii) of this section, to estimate emissions from that batch emission episode, and the owner or operator is not required to use the emissions estimation equations described in paragraphs (b)(1) through (b)(4) of this section to estimate emissions from that batch emission episode.

(A) Previous test data, where the measurement of organic HAP or TOC emissions was an outcome of the test, show a greater than 20 percent discrepancy between the test value and the value estimated using the applicable equations in paragraphs (b)(1) through (b)(4) of this section. Paragraphs (b)(6)(i)(A)(1) and (2) of this section describe test data that will be acceptable under this paragraph (b)(6)(i)(A).

(1) Test data for the batch emission episode obtained during production of the product for which the demonstration is being made.

(2) Test data obtained for a batch emission episode from another process train, where the test data were obtained during production of the product for which the demonstration is being made. Test data from another process train may be used only if the owner or operator can demonstrate that the data are representative of the batch emission episode for which the demonstration is being made, taking into account the nature, size, operating conditions, production rate, and sequence of process steps (e.g., reaction, distillation, etc.) of the equipment in the other process train.

(B) Previous test data obtained during the production of the product for which the demonstration is being made, for the batch emission episode with the highest organic HAP emissions on a mass basis, show a greater than 20 percent discrepancy between the test value and the value estimated using the applicable equations in paragraphs (b)(1) through (b)(4) of this section. If the criteria in this paragraph (b)(6)(i)(B) are met, then engineering assessment may be used for all batch emission episodes associated with that batch cycle for that batch unit operation.

(C) The owner or operator has requested approval to use engineering assessment to estimate emissions from a batch emissions episode. The request to use engineering assessment to estimate emissions from a batch emissions episode shall contain sufficient information and data to demonstrate to the Administrator that engineering assessment is an accurate means of estimating emissions for that particular batch emissions episode. The request to use engineering assessment to estimate emissions for a batch emissions episode shall be submitted in the Precompliance Report required under § 63.506(e)(3).

(ii) Engineering assessment includes, but is not limited to, the following:

(A) Previous test results, provided the test was representative of current operating practices.

(B) Bench-scale or pilot-scale test data obtained under conditions representative of current process operating conditions.

(C) Flow rate, TOC emission rate, or organic HAP emission rate specified or implied within a permit limit applicable to the batch front-end process vent.

(D) Design analysis based on accepted chemical engineering principles, measurable process parameters, or physical or chemical laws or properties. Examples of analytical methods include, but are not limited to:

(1) Use of material balances;

(2) Estimation of flow rate based on physical equipment design, such as pump or blower capacities;

(3) Estimation of TOC or organic HAP concentrations based on saturation conditions; and

(4) Estimation of TOC or organic HAP concentrations based on grab samples of the liquid or vapor.

(iii) Data or other information used to demonstrate that the criteria in paragraph (b)(6)(i) of this section have been met shall be reported as specified in paragraphs (b)(6)(iii)(A) and (b)(6)(iii)(B) of this section.

(A) Data or other information used to demonstrate that the criteria in paragraph (b)(6)(i)(A) or (b)(6)(i)(B) of this section have been met shall be reported in the Notification of Compliance Status, as required in § 63.492(a)(6).

(B) The request for approval to use engineering assessment to estimate emissions from a batch emissions episode as allowed under paragraph (b)(6)(i)(C) of this section, and sufficient data or other information for demonstrating to the Administrator that engineering assessment is an accurate means of estimating emissions for that particular batch emissions episode shall be submitted with the Precompliance Report, as required in § 63.506(e)(3).

* * * * *

(9) Individual HAP partial pressures in multicomponent systems shall be determined using the appropriate method specified in paragraphs (b)(9)(i) through (b)(9)(iii) of this section.

(i) If the components are miscible, use Raoult's law to calculate the partial pressures;

(ii) If the solution is a dilute aqueous mixture, use Henry's law constants to calculate partial pressures;

(iii) If Raoult's law or Henry's law are not appropriate or available, the owner or operator may use any of the options in paragraphs (b)(9)(iii)(A), (B), or (C) of this section.

(A) Experimentally obtained activity coefficients, Henry's law constants, or solubility data;

(B) Models, such as group-contribution models, to predict activity coefficients; or

(C) Assume the components of the system behave independently and use the summation of all vapor pressures from the HAP as the total HAP partial pressure.

* * * * *

(d) Minimum emission level exemption. A batch front-end process vent with annual emissions of TOC or organic HAP less than 11,800 kg/yr is considered a Group 2 batch front-end process vent and the owner or operator of that batch front-end process vent shall comply with the requirements in § 63.487(f) or (g). Annual emissions of TOC or organic HAP are determined at the exit of the batch unit operation, as described in paragraph (a)(2) of this section, and are determined as specified in paragraph (b) of this section. The owner or operator of that batch front-end process vent is not required to comply with the provisions in paragraphs (e) through (g) of this section.

(e) Determination of average batch vent flow rate and annual average batch vent flow rate. The owner or operator shall determine the average batch vent flow rate for each batch emission episode in accordance with one of the procedures provided in paragraphs (e)(1) through (e)(2) of this section. The annual average batch vent flow rate for a batch front-end process vent shall be calculated as specified in paragraph (e)(3) of this section.

(1) Determination of the average batch vent flow rate for a batch emission episode by direct measurement shall be made using the procedures specified in paragraphs (e)(1)(i) through (e)(1)(iii) of this section.

(i) The vent stream volumetric flow rate (FRi) for a batch emission episode, in scmm at 20°C, shall be determined using Method 2, 2A, 2C, or 2D of 40 CFR part 60, appendix A, as appropriate.

* * * * *

(iii) The average batch vent flow rate for a batch emission episode shall be calculated using Equation 13.

Where:

AFRepisode = Average batch vent flow rate for the batch emission episode, scmm.

FRi = Flow rate for individual measurement i, scmm.

n = Number of flow rate measurements taken during the batch emission episode.

(2) The average batch vent flow rate for a batch emission episode may be determined by engineering assessment, as defined in paragraph (b)(6)(i) of this section. All data, assumptions, and procedures used shall be documented.

(3) The annual average batch vent flow rate for a batch front-end process vent shall be calculated using Equation 14.

Where:

AFR = Annual average batch vent flow rate for the batch front-end process vent, scmm.

DURi = Duration of type i batch emission episodes annually, hr/yr.

AFRepisode,i = Average batch vent flow rate for type i batch emission episode, scmm.

n = Number of types of batch emission episodes venting from the batch front-end process vent.

* * * * *

(g) Group 1/Group 2 status determination. The owner or operator shall compare the cutoff flow rate, calculated in accordance with paragraph (f) of this section, with the annual average batch vent flow rate, determined in accordance with paragraph (e)(3) of this section. The group determination status for each batch front-end process vent shall be made using the criteria specified in paragraphs (g)(1) and (g)(2) of this section.

(1) If the cutoff flow rate is greater than or equal to the annual average batch vent flow rate of the stream, the batch front-end process vent is classified as a Group 1 batch front-end process vent.

(2) If the cutoff flow rate is less than the annual average batch vent flow rate of the stream, the batch front-end process vent is classified as a Group 2 batch front-end process vent.

(h) * * *

(1) The concentration of each organic compound containing halogen atoms (ppmv, by compound) for each batch emission episode shall be determined after the last recovery device (if any recovery devices are present), based on any one of the following procedures:

* * * * *

(iii) Average concentration of organic compounds containing halogens and hydrogen halides as measured by Method 26 or 26A of 40 CFR part 60, appendix A.

(iv) Any other method or data that has been validated according to the applicable procedures in Method 301, 40 CFR part 63, appendix A.

(2) The annual mass emissions of halogen atoms for a batch front-end process vent shall be calculated using Equation 16.

Where:

Ehalogen = Mass of halogen atoms, dry basis, kg/yr.

K = Constant, 0.022 (ppmv)⁻⁻¹ (kg-mole per scm) (min/yr), where standard temperature is 20°C.

AFR = Annual average batch vent flow rate of the batch front-end process vent, determined according to paragraph (e) of this section, scmm.

Mj,i = Molecular weight of halogen atom i in compound j, kg/kg-mole.

Lj,i = Number of atoms of halogen i in compound j.

n = Number of halogenated compounds j in the batch front-end process vent.

m = Number of different halogens i in each compound j of the batch front-end process vent.

Cavgj = Annual average batch vent concentration of halogenated compound j in the batch front-end process vent, as determined by using Equation 17, dry basis, ppmv. where:

Where:

DURi = Duration of type i batch emission episodes annually, hr/yr.

Ci = Average batch vent concentration of halogenated compound j in type i batch emission episode, ppmv.

n = Number of types of batch emission episodes venting from the batch front-end process vent.

* * * * *

(i) Process changes affecting Group 2 batch front-end process vents. Whenever process changes, as described in paragraph (i)(1) of this section, are made that affect one or more Group 2 batch front-end process vents and that could reasonably be expected to change one or more Group 2 batch front-end process vents to Group 1 batch front-end process vents or that could reasonably be expected to reduce the batch mass input limitation for one or more Group 2 batch front-end process vents, the owner or operator of the affected source shall comply with paragraphs (i)(2) and (i)(3) of this section.

(1) Examples of process changes include the changes listed in paragraphs (i)(1)(i), (i)(1)(ii), and (i)(1)(iii) of this section.

(i) For all batch front-end process vents, examples of process changes include, but are not limited to, changes in feedstock type or catalyst type; or whenever there is replacement, removal, or modification of recovery equipment considered part of the batch unit operation as specified in paragraph (a)(2) of this section; or increases in production capacity or production rate. For purposes of this paragraph, process changes do not include: Process upsets; unintentional, temporary process changes; and changes that are within the margin of variation on which the original group determination was based.

(ii) For Group 2 batch front-end process vents where the group determination and batch mass input limitation are based on the expected mix of products, the situations described in paragraphs (i)(1)(ii)(A) and (B) of this section shall be considered to be process changes.

(A) The production of combinations of products not considered in establishing the batch mass input limitation.

(B) The production of a recipe of a product with a total mass of HAP charged to the reactor during the production of a single batch of product that is higher than the total mass of HAP for the recipe used as the single highest-HAP recipe for that product in the batch mass input limitation determination.

(iii) For Group 2 batch front-end process vents where the group determination and batch mass input limitation are based on the single highest-HAP recipe (considering all products produced or processed in the batch unit operation), the production of a recipe having a total mass of HAP charged to the reactor (during the production of a single batch of product) that is higher than the total mass of HAP for the highest-HAP recipe used in the batch mass input limitation determination shall be considered to be a process change.

(2) For each batch front-end process vent affected by a process change, the owner or operator shall redetermine the group status by repeating the procedures specified in paragraphs (b) through (g) of this section, as applicable. Alternatively, engineering assessment, as described in paragraph (b)(6)(i) of this section, may be used to determine the effects of the process change.

(3) Based on the results of paragraph (i)(2) of this section, owners or operators of affected sources shall comply with either paragraph (i)(3)(i), (ii), or (iii) of this section.

(i) If the group redetermination described in paragraph (i)(2) of this section indicates that a Group 2 batch front-end process vent has become a Group 1 batch front-end process vent as a result of the process change, the owner or operator of the affected source shall submit a report as specified in § 63.492(b) and shall comply with the Group 1 provisions in §§ 63.487 through 63.492 in accordance with § 63.480(i)(2)(ii) or (i)(2)(iii), as applicable.

(ii) If the redetermination described in paragraph (i)(2) of this section indicates that a Group 2 batch front-end process vent with annual emissions less than the applicable level specified in paragraph (d) of this section, and that is in compliance with § 63.487(g), now has annual emissions greater than or equal to the applicable level specified by paragraph (d) of this section but remains a Group 2 batch front-end process vent, the owner or operator of the affected source shall comply with the provisions in paragraphs (i)(3)(ii)(A) through (C) of this section.

(A) Redetermine the batch mass input limitation;

(B) Submit a report as specified in § 63.492(c); and

(C) Comply with § 63.487(f), beginning with the year following the submittal of the report submitted according to paragraph (i)(3)(ii)(B) of this section.

(iii) If the group redetermination described in paragraph (i)(2) of this section indicates no change in group status or no change in the relation of annual emissions to the levels specified in paragraph (d) of this section, the owner or operator of the affected source shall comply with paragraphs (i)(3)(iii)(A) and (i)(3)(iii)(B) of this section.

(A) The owner or operator shall redetermine the batch mass input limitation; and

(B) The owner or operator shall submit the new batch mass input limitation in accordance with § 63.492(c).

11. Section 63.489 is amended by:

a. Revising the section title;

b. Revising paragraph (a) introductory text;

c. Revising paragraph (a)(2);

d. Revising paragraph (b) introductory text;

e. Revising paragraph (b)(4) introductory text;

f. Revising paragraph (b)(4)(ii);

g. Revising paragraph (b)(7);

h. Revising paragraph (c) introductory text;

i. Revising paragraph (d) introductory text;

j. Revising paragraph (d)(2);

k. Revising paragraph (e)(1) introductory text;

l. Revising paragraph (e)(1)(ii);

m. Revising paragraph (e)(3); and

n. Removing paragraph (d)(3).

The revisions read as follows:

§ 63.489 Batch front-end process vents—monitoring equipment.

(a) General requirements. Each owner or operator of a batch front-end process vent or aggregate batch vent stream that uses a control device to comply with the requirements in § 63.487(a)(2) or § 63.487(b)(2) shall install the monitoring equipment specified in paragraph (b) of this section. All monitoring equipment shall be installed, calibrated, maintained, and operated according to the manufacturer's specifications or other written procedures that provide adequate assurance that the equipment would reasonably be expected to monitor accurately.

* * * * *

(2) Except as otherwise provided in this subpart, the owner or operator shall operate control devices such that the daily average of monitored parameters, established as specified in paragraph (e) of this section, remains above the minimum level or below the maximum level, as appropriate.

(b) Batch front-end process vent and aggregate batch vent stream monitoring equipment. The monitoring equipment specified in paragraphs (b)(1) through (b)(8) of this section shall be installed as specified in paragraph (a) of this section. The parameters to be monitored are specified in Table 6 of this subpart.

* * * * *

(4) Where a scrubber is used with an incinerator, boiler, or process heater in concert with the combustion of halogenated batch front-end process vents or halogenated aggregate batch vent streams, the following monitoring equipment is required for the scrubber:

* * * * *

(ii) A flow measurement device equipped with a continuous recorder shall be located at the scrubber influent for liquid flow. Gas stream flow shall be determined using one of the procedures specified in paragraphs (b)(4)(ii)(A) through (b)(4)(ii)(C) of this section.

(A) The owner or operator may determine gas stream flow using the design blower capacity, with appropriate adjustments for pressure drop.

(B) If the scrubber is subject to regulations in 40 CFR parts 264 through 266 that have required a determination of the liquid to gas (L/G) ratio prior to the applicable compliance date for this subpart, the owner or operator may determine gas stream flow by the method that had been utilized to comply with those regulations. A determination that was conducted prior to the compliance date for this subpart may be utilized to comply with this subpart if it is still representative.

(C) The owner or operator may prepare and implement a gas stream flow determination plan that documents an appropriate method which will be used to determine the gas stream flow. The plan shall require determination of gas stream flow by a method which will at least provide a value for either a representative or the highest gas stream flow anticipated in the scrubber during representative operating conditions other than start-ups, shutdowns, or malfunctions. The plan shall include a description of the methodology to be followed and an explanation of how the selected methodology will reliably determine the gas stream flow, and a description of the records that will be maintained to document the determination of gas stream flow. The owner or operator shall maintain the plan as specified in § 63.506(a).

* * * * *

(7) Where a carbon adsorber is used, an integrating regeneration steam flow, nitrogen flow, or pressure monitoring device having an accuracy of ±10 percent of the flow rate, level, or pressure, or better, capable of recording the total regeneration steam flow or nitrogen flow, or pressure (gauge or absolute) for each regeneration cycle; and a carbon bed temperature monitoring device, capable of recording the carbon bed temperature after each regeneration and within 15 minutes of completing any cooling cycle are required.

* * * * *

(c) Alternative monitoring parameters. An owner or operator of a batch front-end process vent or aggregate batch vent stream may request approval to monitor parameters other than those required by paragraph (b) of this section. The request shall be submitted according to the procedures specified in § 63.492(e) and § 63.506(f). Approval shall be requested if the owner or operator:

* * * * *

(d) Monitoring of bypass lines. The owner or operator of a batch front-end process vent or aggregate batch vent stream using a vent system that contains bypass lines that could divert emissions away from a control device used to comply with § 63.487(a) or § 63.487(b) shall comply with either paragraph (d)(1) or (d)(2) of this section. Equipment such as low leg drains, high point bleeds, analyzer vents, open-ended valves or lines, and pressure relief valves needed for safety purposes are not subject to this paragraph (d).

* * * * *

(2) Secure the bypass line damper or valve in the non-diverting position with a car-seal or a lock-and-key type configuration. A visual inspection of the seal or closure mechanism shall be performed at least once every month to ensure that the damper or valve is maintained in the non-diverting position and emissions are not diverted through the bypass line. Records shall be generated as specified in § 63.491(e)(4).

(e) * * *

(1) For each parameter monitored under paragraph (b) or (c) of this section, the owner or operator shall establish a level, defined as either a maximum or minimum operating parameter as denoted in Table 7 of this subpart, that indicates proper operation of the control device. The level shall be established in accordance with the procedures specified in § 63.505. The level may be based upon a prior performance test conducted for determining compliance with a regulation promulgated by the EPA, and the owner or operator is not required to conduct a performance test under § 63.490, provided that the prior performance test meets the conditions of § 63.490(b)(3).

* * * * *

(ii) For aggregate batch vent streams using a control device to comply with § 63.487(b)(2), the established level shall reflect the emission reduction requirement of 90 percent specified in § 63.487(b)(2).

* * * * *

(3) The operating day shall be defined as part of establishing the parameter monitoring level and shall be submitted with the information in paragraph (e)(2) of this section. The definition of operating day shall specify the time(s) at which an operating day begins and ends. The operating day shall not exceed 24 hours.

12. Section 63.490 is amended by:

a. Revising paragraph (a);

b. Revising paragraph (b) introductory text;

c. Revising paragraph (b)(3);

d. Revising paragraph (b)(5);

e. Revising paragraph (c) introductory text;

f. Revising paragraph (c)(1)(i)(A);

g. Revising paragraph (c)(1)(i)(B) introductory text;

h. Revising paragraphs (c)(1)(i)(C) and (c)(1)(i)(D);

i. Revising paragraph (c)(1)(ii);

j. Revising paragraph (c)(1)(iii) introductory text;

k. Revising paragraph (c)(1)(iii)(A);

l. Revising paragraph (c)(1)(v);

m. Revising paragraph (c)(2) introductory text;

n. Revising paragraph (d)(1);

o. Revising paragraph (d)(2)(ii);

p. Revising paragraphs (d)(3) through (d)(5);

q. Revising paragraph (e);

r. Revising paragraph (f); and

s. Removing paragraph (b)(6).

The revisions read as follows:

§ 63.490 Batch front-end process vents—performance test methods and procedures to determine compliance.

(a) Use of a flare. When a flare is used to comply with § 63.487(a)(1) or § 63.487(b)(1), the owner or operator of an affected source shall comply with § 63.504(c).

(b) Exceptions to performance tests. An owner or operator is not required to conduct a performance test when a control device specified in paragraphs (b)(1) through (b)(5) of this section is used to comply with § 63.487(a)(2).

* * * * *

(3) A control device for which a performance test was conducted for determining compliance with a regulation promulgated by the EPA and the test was conducted using the same Methods specified in this section and either no deliberate process changes have been made since the test, or the owner or operator can demonstrate that the results of the performance test, with or without adjustments, reliably demonstrate compliance despite process changes.

* * * * *

(5) A hazardous waste incinerator for which the owner or operator has been issued a final permit under 40 CFR part 270 and complies with the requirements of 40 CFR part 264, subpart O, or has certified compliance with the interim status requirements of 40 CFR part 265, subpart O.

(c) Batch front-end process vent testing and procedures for compliance with § 63.487(a)(2). Except as provided in paragraph (a) or (b) of this section, an owner or operator using a control device to comply with § 63.487(a)(2) shall conduct a performance test using the procedures specified in paragraph (c)(1) of this section in order to determine the control efficiency of the control device. An owner or operator shall determine the percent reduction for the batch cycle using the control efficiency of the control device as specified in paragraphs (c)(2)(i) through (c)(2)(iii) of this section and the procedures specified in paragraph (c)(2) of this section. Compliance may be based on either total organic HAP or TOC. For purposes of this paragraph (c), the term “batch emission episode” shall have the meaning “period of the batch emission episode selected for control,” which may be the entire batch emission episode or may only be a portion of the batch emission episode.

(1) * * *

(i) * * *

(A) Alternatively, an owner or operator may choose to test only those periods of the batch emission episode during which the emission rate for the entire episode can be determined or during which the emissions are greater than the average emission rate of the batch emission episode. The owner or operator choosing either of these options shall develop an emission profile for the entire batch emission episode, based on either process knowledge or test data collected, to demonstrate that test periods are representative. Examples of information that could constitute process knowledge include calculations based on material balances and process stoichiometry. Previous test results may be used, provided the results are still relevant to the current batch front-end process vent conditions.

(B) Method 1 or 1A, 40 CFR part 60, appendix A, as appropriate, shall be used for selection of the sampling sites if the flow measuring device is a pitot tube, except that references to particulate matter in Method 1A do not apply for the purposes of this subpart. No traverse is necessary when Method 2A or 2D, 40 CFR part 60, appendix A is used to determine gas stream volumetric flow rate. Inlet sampling sites shall be located as specified in paragraphs (c)(1)(i)(B)(1) and (c)(1)(i)(B)(2) of this section. Outlet sampling sites shall be located at the outlet of the final control device prior to release to the atmosphere.

* * * * *

(C) Gas stream volumetric flow rate and/or average batch vent flow rate shall be determined as specified in § 63.488(e).

(D) Method 18 or Method 25A of 40 CFR part 60, appendix A, shall be used to determine the concentration of organic HAP or TOC, as appropriate. Alternatively, any other method or data that has been validated according to the applicable procedures in Method 301, 40 CFR part 63, appendix A, may be used. The use of Method 25A, 40 CFR part 60, appendix A shall conform with the requirements in paragraphs (c)(1)(i)(D)(1) and (c)(1)(i)(D)(2) of this section.

(1) The organic HAP used as the calibration gas for Method 25A, 40 CFR part 60, appendix A shall be the single organic HAP representing the largest percent by volume of the emissions.

(2) The use of Method 25A, 40 CFR part 60, appendix A is acceptable if the response from the high-level calibration gas is at least 20 times the standard deviation of the response from the zero calibration gas when the instrument is zeroed on the most sensitive scale.

(ii) If an integrated sample is taken over the entire batch emission episode to determine the average batch vent concentration of TOC or total organic HAP, emissions per batch emission episode shall be calculated using Equations 18 and 19.

Where:

Eepisode = Inlet or outlet emissions, kg/episode.

K = Constant, 2.494 × 10⁻⁶ (ppmv)⁻¹ (gm-mole/scm) (kg/gm) (min/hr), where standard temperature is 20°C.

Cj = Average inlet or outlet concentration of TOC or sample organic HAP component j of the gas stream for the batch emission episode, dry basis, ppmv.

Mj = Molecular weight of TOC or sample organic HAP component j of the gas stream, gm/gm-mole.

AFR = Average inlet or outlet flow rate of gas stream for the batch emission episode, dry basis, scmm.

Th = Hours/episode.

n = Number of organic HAP in stream. Note: Summation is not applicable if TOC emissions are being estimated using a TOC concentration measured using Method 25A, 40 CFR part 60, appendix A.

(iii) If grab samples are taken to determine the average batch vent concentration of TOC or total organic HAP, emissions shall be calculated according to paragraphs (c)(1)(iii)(A) and (c)(1)(iii)(B) of this section.

(A) For each measurement point, the emission rates shall be calculated using Equations 20 and 21.

Where:

Epoint = Inlet or outlet emission rate for the measurement point, kg/hr.

K = Constant, 2.494 × 10⁻⁶ (ppmv)⁻¹ (gm-mole/scm) (kg/gm) (min/hr), where standard temperature is 20° C.

Cj = Inlet or outlet concentration of TOC or sample organic HAP component j of the gas stream, dry basis, ppmv.

Mj = Molecular weight of TOC or sample organic HAP component j of the gas stream, gm/gm-mole.

FR = Inlet or outlet flow rate of gas stream for the measurement point, dry basis, scmm.

n = Number of organic HAP in stream. Note: Summation is not applicable if TOC emissions are being estimated using a TOC concentration measured using Method 25A, 40 CFR part 60, appendix A.

* * * * *

(v) If the batch front-end process vent entering a boiler or process heater with a design capacity less than 44 megawatts is introduced with the combustion air or as a secondary fuel, the weight-percent reduction of total organic HAP or TOC across the device shall be determined by comparing the TOC or total organic HAP in all combusted batch front-end process vents and primary and secondary fuels with the TOC or total organic HAP, respectively, exiting the combustion device.

(2) The percent reduction for the batch cycle shall be determined using Equation 25 and the control device efficiencies specified in paragraphs (c)(2)(i) through (c)(2)(iii) of this section. All information used to calculate the batch cycle percent reduction, including a definition of the batch cycle identifying all batch emission episodes, shall be recorded as specified in § 63.491(b)(2). This information shall include identification of those batch emission episodes, or portions thereof, selected for control.

Where:

Eunc = Mass rate of TOC or total organic HAP for uncontrolled batch emission episode i, kg/hr.

Einletcon = Mass rate of TOC or total organic HAP for controlled batch emission episode i at the inlet to the control device, kg/hr.

R = Control efficiency of control device as specified in paragraphs (c)(2)(i) through (c)(2)(iii) of this section.

n = Number of uncontrolled batch emission episodes, controlled batch emission episodes, and control devices. The value of n is not necessarily the same for these three items.

* * * * *

(d) * * *

(1) Sampling sites shall be located at the inlet and outlet of the scrubber or other halogen reduction device used to reduce halogen emissions in complying with § 63.487(c)(1) or at the outlet of the halogen reduction device used to reduce halogen emissions in complying with § 63.487(c)(2).

(2) * * *

(ii) Gas stream volumetric flow rate and/or average batch vent flow rate shall be determined as specified in § 63.488(e).

(3) To determine compliance with the percent reduction specified in § 63.487(c)(1), the mass emissions for any hydrogen halides and halogens present at the inlet of the scrubber or other halogen reduction device shall be summed together. The mass emissions of any hydrogen halides or halogens present at the outlet of the scrubber or other halogen reduction device shall be summed together. Percent reduction shall be determined by subtracting the outlet mass emissions from the inlet mass emissions and then dividing the result by the inlet mass emissions and multiplying by 100.

(4) To determine compliance with the emission limit specified in § 63.487(c)(2), the annual mass emissions for any hydrogen halides and halogens present at the outlet of the halogen reduction device and prior to any combustion device shall be summed together and compared to the emission limit specified in § 63.487(c)(2).

(5) The owner or operator may use any other method to demonstrate compliance if the method or data has been validated according to the applicable procedures of Method 301, 40 CFR part 63, appendix A.

(e) Aggregate batch vent stream testing for compliance with § 63.487(b)(2). Except as specified in paragraphs (e)(1) through (e)(3) of this section, owners or operators of aggregate batch vent streams complying with § 63.487(b)(2) shall conduct a performance test using the performance testing procedures for continuous front-end process vents in § 63.116(c).

(1) For the purposes of this subpart, when the provisions of § 63.116(c) specify that Method 18, 40 CFR part 60, appendix A shall be used, Method 18 or Method 25A, 40 CFR part 60, appendix A may be used. The use of Method 25A, 40 CFR part 60, appendix A shall conform with the requirements in paragraphs (e)(1)(i) and (e)(1)(ii) of this section.

(i) The organic HAP used as the calibration gas for Method 25A, 40 CFR part 60, appendix A shall be the single organic HAP representing the largest percent by volume of the emissions.

(ii) The use of Method 25A, 40 CFR part 60, appendix A is acceptable if the response from the high-level calibration gas is at least 20 times the standard deviation of the response from the zero calibration gas when the instrument is zeroed on the most sensitive scale.

(2) When § 63.116(c)(4) refers to complying with an emission reduction of 98 percent, for the purposes of this subpart, the 90 percent reduction requirement specified in § 63.487(b)(2) shall apply.

* * * * *

(f) Batch mass input limitation. The batch mass input limitation required by § 63.487(g)(1) shall be determined by the owner or operator such that annual emissions for the batch front-end process vent remain less than the level specified in § 63.488(d). The batch mass input limitation required by § 63.487(f)(1) shall be determined by the owner or operator such that annual emissions remain at a level that ensures that the batch front-end process vent remains a Group 2 batch front-end process vent, given the actual annual flow rate for that batch front-end process vent determined according to § 63.488(e)(3). The batch mass input limitation shall be determined using the same basis, as described in § 63.488(a)(1), used to make the group determination (i.e., expected mix of products or highest-HAP recipe). The establishment of the batch mass input limitation is not dependent upon any past production or activity level.

(1) If the expected mix of products serves as the basis for the batch mass input limitation, the batch mass input limitation shall be determined based on any foreseeable combination of products that the owner or operator expects to manufacture.

(2) If the single highest-HAP recipe serves as the basis for the batch mass input limitation, the batch mass input limitation shall be determined based solely on the production of the single highest-HAP recipe, considering all products produced or processed in the batch unit operation.

13. Section 63.491 is amended by:

a. Revising paragraph (a) introductory text;

b. Revising paragraphs (a)(1) and (a)(2);

c. Revising paragraph (a)(3)(i);

d. Revising paragraph (a)(4);

e. Revising paragraphs (a)(7) through (a)(9);

f. Revising paragraph (b) introductory text;

g. Revising paragraphs (b)(1) and (b)(2);

h. Revising paragraphs (b)(3)(ii) and (b)(3)(iii);

i. Revising paragraph (b)(4)(iv);

j. Revising paragraphs (d)(1) and (d)(2);

k. Revising paragraph (e) introductory text;

l. Revising paragraphs (e)(1)(i) and (e)(1)(ii);

m. Revising paragraph (e)(2) introductory text;

n. Revising paragraphs (e)(2)(i) and (e)(2)(ii);

o. Revising paragraph (e)(3);

p. Revising paragraph (e)(4) introductory text;

q. Revising paragraph (e)(4)(i);

r. Revising paragraph (f);

s. Adding paragraph (g); and

t. Removing and reserving paragraph (e)(4)(ii).

The revisions and additions read as follows:

§ 63.491 Batch front-end process vents—recordkeeping requirements.

(a) Group determination records for batch front-end process vents. Except as provided in paragraphs (a)(7) and (a)(8) of this section, each owner or operator of an affected source shall maintain the records specified in paragraphs (a)(1) through (a)(6) of this section for each batch front-end process vent subject to the group determination procedures of § 63.488. Except for paragraph (a)(1) of this section, the records required to be maintained by this paragraph are limited to the information developed and used to make the group determination under §§ 63.488(b) through 63.488(g), as appropriate. If an owner or operator did not need to develop certain information (e.g., annual average batch vent flow rate) to determine the group status, this paragraph does not require that additional information be developed. Paragraph (a)(9) of this section specifies the recordkeeping requirements for Group 2 batch front-end process vents that are exempt from the batch mass input limitation provisions, as allowed under § 63.487(h).

(1) An identification of each unique product that has emissions from one or more batch emission episodes venting from the batch front-end process vent, along with an identification of the single highest-HAP recipe for each product and the mass of HAP fed to the reactor for that recipe.

(2) A description of, and an emission estimate for, each batch emission episode, and the total emissions associated with one batch cycle, as described in either paragraph (a)(2)(i) or (a)(2)(ii) of this section, as appropriate.

(i) If the group determination is based on the expected mix of products, records shall include the emission estimates for the single highest-HAP recipe of each unique product identified in paragraph (a)(1) of this section that was considered in making the group determination under § 63.488.

(ii) If the group determination is based on the single highest-HAP recipe (considering all products produced or processed in the batch unit operation), records shall include the emission estimates for the single highest-HAP recipe.

(3) * * *

(i) For Group 2 batch front-end process vents, emissions shall be determined at the batch mass input limitation.

* * * * *

(4) The annual average batch vent flow rate for the batch front-end process vent as determined in accordance with § 63.488(e).

* * * * *

(7) If a batch front-end process vent is subject to § 63.487(a) or § 63.487(b), none of the records in paragraphs (a)(1) through (a)(6) of this section are required.

(8) If the total annual emissions from the batch front-end process vent during the group determination are less than the appropriate level specified in § 63.488(d), only the records in paragraphs (a)(1) through (a)(3) of this section are required.

(9) For each Group 2 batch front-end process vent that is exempt from the batch mass input limitation provisions because it meets the criteria of § 63.487(h), the records specified in paragraphs (a)(9)(i) and (ii) shall be maintained.

(i) Documentation of the maximum design capacity of the EPPU; and

(ii) The mass of HAP or material that can be charged annually to the batch unit operation at the maximum design capacity.

(b) Compliance demonstration records. Each owner or operator of a batch front-end process vent or aggregate batch vent stream complying with § 63.487(a) or (b), shall keep the following records, as applicable, readily accessible:

(1) The annual mass emissions of halogen atoms in the batch front-end process vent or aggregate batch vent stream determined according to the procedures specified in § 63.488(h).

(2) If the owner or operator of a batch front-end process vent has chosen to comply with § 63.487(a)(2), records documenting the batch cycle percent reduction as specified in § 63.490(c)(2).

(3) * * *

(ii) All visible emission readings, heat content determinations, flow rate measurements, and exit velocity determinations made during the compliance determination required by § 63.504(c); and

(iii) Periods when all pilot flames were absent.

(4) * * *

(iv) For a scrubber or other halogen reduction device following a combustion device to control halogenated batch front-end process vents or halogenated aggregate batch vent streams, the percent reduction of total hydrogen halides and halogens, as determined under § 63.490(d)(3) or the emission limit determined under § 63.490(d)(4).

* * * * *

(d) * * *

(1) The owner or operator of a Group 2 batch front-end process vent required to comply with § 63.487(g) shall keep the following records readily accessible:

(i) Records designating the established batch mass input limitation required by § 63.487(g)(1) and specified in § 63.490(f).

(ii) Records specifying the mass of HAP or material charged to the batch unit operation.

(2) The owner or operator of a Group 2 batch front-end process vent complying with § 63.487(f) shall keep the following records readily accessible:

(i) Records designating the established batch mass input limitation required by § 63.487(f)(1) and specified in § 63.490(f).

(ii) Records specifying the mass of HAP or material charged to the batch unit operation.

(e) Controlled batch front-end process vent continuous compliance records. Each owner or operator of a batch front-end process vent that has chosen to use a control device to comply with § 63.487(a) shall keep the following records readily accessible:

(1) * * *

(i) For flares, the records specified in Table 6 of this subpart shall be maintained in place of continuous records.

(ii) For carbon adsorbers, the records specified in Table 6 of this subpart shall be maintained in place of batch cycle daily averages.

(2) Records of the batch cycle daily average value of each continuously monitored parameter, except as provided in paragraphs (e)(2)(iii) of this section, as calculated using the procedures specified in paragraphs (e)(2)(i) and (e)(2)(ii) of this section.

(i) The batch cycle daily average shall be calculated as the average of all parameter values measured for an operating day during those batch emission episodes, or portions thereof, in the batch cycle that the owner or operator has selected to control.

(ii) Monitoring data recorded during periods of monitoring system breakdowns, repairs, calibration checks, and zero (low-level) and high-level adjustments shall not be included in computing the batch cycle daily averages. In addition, monitoring data recorded during periods of non-operation of the EPPU (or specific portion thereof) resulting in cessation of organic HAP emissions, or periods of start-up, shutdown, or malfunction shall not be included in computing the batch cycle daily averages.

* * * * *

(3) Hourly records of whether the flow indicator for bypass lines specified under § 63.489(d)(1) was operating and whether a diversion was detected at any time during the hour. Also, records of the times of all periods when the vent is diverted from the control device, or the flow indicator specified in § 63.489(d)(1) is not operating.

(4) Where a seal or closure mechanism is used to comply with § 63.489(d)(2), hourly records of whether a diversion was detected at any time are not required.

(i) For compliance with § 63.489(d)(2), the owner or operator shall record whether the monthly visual inspection of the seals or closure mechanism has been done, and shall record the occurrence of all periods when the seal mechanism is broken, the bypass line damper or valve position has changed, or the key for a lock-and-key type configuration has been checked out, and records of any car-seal that has been broken.

(ii) [Reserved.]

* * * * *

(f) Aggregate batch vent stream continuous compliance records. In addition to the records specified in paragraphs (b) and (c) of this section, each owner or operator of an aggregate batch vent stream using a control device to comply with § 63.487(b)(1) or (b)(2) shall keep the following records readily accessible:.

(1) Continuous records of the equipment operating parameters specified to be monitored under § 63.489(b) and listed in Table 6 of this subpart, as applicable, or specified by the Administrator in accordance with § 63.492(e), as allowed under § 63.489(c), with the exceptions listed in paragraphs (f)(1)(i) and (f)(1)(ii) of this section.

(i) For flares, the records specified in Table 6 of this subpart shall be maintained in place of continuous records.

(ii) For carbon adsorbers, the records specified in Table 6 of this subpart shall be maintained in place of daily averages.

(2) Records of the daily average value of each continuously monitored parameter for each operating day determined according to the procedures specified in § 63.506(d).

(3) For demonstrating compliance with the monitoring of bypass lines as specified in § 63.489(d), records as specified in paragraph (e)(3) or (e)(4) of this section, as appropriate.

(g) Documentation supporting the establishment of the batch mass input limitation shall include the information specified in paragraphs (g)(1) through (g)(5) of this section, as appropriate.

(1) Identification of whether the purpose of the batch mass input limitation is to comply with § 63.487(f)(1) or (g)(1).

(2) Identification of whether the batch mass input limitation is based on the single highest-HAP recipe (considering all products) or on the expected mix of products for the batch front-end process vent as allowed under § 63.488(a)(1).

(3) Definition of the operating year, for the purposes of determining compliance with the batch mass input limitation.

(4) If the batch mass input limitation is based on the expected mix of products, the owner or operator shall provide documentation that describes as many scenarios for differing mixes of products (i.e., how many of each type of product) as the owner or operator desires the flexibility to accomplish. Alternatively, the owner or operator shall provide a description of the relationship among the mix of products that will allow a determination of compliance with the batch mass input limitation under any number of scenarios.

(5) The mass of HAP or material allowed to be charged to the batch unit operation per year under the batch mass input limitation.

14. Section 63.492 is amended by:

a. Revising paragraph (a) introductory text;

b. Revising paragraph (b);

c. Revising paragraph (c) introductory text;

d. Revising paragraph (c)(2);

e. Revising paragraph (d);

f.

Revising paragraph (e);

g. Revising paragraph (f);

h. Adding paragraphs (a)(5) and (a)(6); and

i. Removing paragraph (c)(3).

The revisions and additions read as follows:

§ 63.492 Batch front-end process vents—reporting requirements.

(a) The owner or operator of a batch front-end process vent or aggregate batch vent stream at an affected source shall submit the information specified in paragraphs (a)(1) through (a)(6) of this section, as appropriate, as part of the Notification of Compliance Status specified in § 63.506(e)(5).

* * * * *

(5) For each Group 2 batch front-end process vent that is exempt from the batch mass input limitation provisions because it meets the criteria of § 63.487(h), the information specified in § 63.491(a)(1) through (3), and the information specified in § 63.491(a)(4) through (6) as applicable, calculated at the conditions specified in § 63.487(h).

(6) When engineering assessment has been used to estimate emissions from a batch emissions episode and the criteria specified in § 63.488(b)(6)(i)(A) or (B) have been met, the owner or operator shall submit the information demonstrating that the criteria specified in § 63.488(b)(6)(i)(A) or (B) have been met as part of the Notification of Compliance Status required by § 63.506(e)(5).

(b) Whenever a process change, as defined in § 63.488(i)(1), is made that causes a Group 2 batch front-end process vent to become a Group 1 batch front-end process vent, the owner or operator shall notify the Administrator and submit a description of the process change within 180 days after the process change is made or with the next Periodic Report, whichever is later. The owner or operator of an affected source shall comply with the Group 1 batch front-end process vent provisions in §§ 63.486 through 63.492 in accordance with § 63.480(i)(2)(ii).

(c) Whenever a process change, as defined in § 63.488(i)(1), is made that causes a Group 2 batch front-end process vent with annual emissions less than the level specified in § 63.488(d) for which the owner or operator is required to comply with § 63.487(g) to have annual emissions greater than or equal to the level specified in § 63.488(d) but remains a Group 2 batch front-end process vent, or if a process change is made that requires the owner or operator to redetermine the batch mass input limitation as specified in § 63.488(i)(3), the owner or operator shall submit a report within 180 days after the process change is made or with the next Periodic Report, whichever is later. The following information shall be submitted:

* * * * *

(2) The batch mass input limitation determined in accordance with § 63.487(f)(1).

(d) The owner or operator is not required to submit a report of a process change if one of the conditions specified in paragraphs (d)(1) or (d)(2) of this section is met.

(1) The change does not meet the description of a process change in § 63.488(i).

(2) The redetermined group status remains Group 2 for an individual batch front-end process vent with annual emissions greater than or equal to the level specified in § 63.488(d) and the batch mass input limitation does not decrease, or a Group 2 batch front-end process vent with annual emissions less than the level specified in § 63.488(d) complying with § 63.487(g) continues to have emissions less than the level specified in § 63.488(d) and the batch mass input limitation does not decrease.

(e) If an owner or operator uses a control device other than those specified in § 63.489(b) and listed in Table 6 of this subpart or requests approval to monitor a parameter other than those specified in § 63.489(b) and listed in Table 6 of this subpart, the owner or operator shall submit a description of planned reporting and recordkeeping procedures, as specified in § 63.506(f), as part of the Precompliance Report as required under § 63.506(e)(3). The Administrator will specify appropriate reporting and recordkeeping requirements as part of the review of the Precompliance Report.

(f) Owners or operators of affected sources complying with § 63.489(d), shall comply with paragraph (f)(1) or (f)(2) of this section, as appropriate.

(1) Submit reports of the times of all periods recorded under § 63.491(e)(3) when the batch front-end process vent is diverted away from the control device through a bypass line, with the next Periodic Report.

(2) Submit reports of all occurrences recorded under § 63.491(e)(4) in which the seal mechanism is broken, the bypass line damper or valve position has changed, or the key to unlock the bypass line damper or valve was checked out, with the next Periodic Report.

15. Section 63.493 is revised to read as follows:

§ 63.493 Back-end process provisions.

Owners and operators of new and existing affected sources shall comply with the requirements in §§ 63.494 through 63.500. Owners and operators of affected sources whose only elastomer products are latex products, liquid rubber products, or products produced in a gas-phased reaction process are not subject to the provisions of §§ 63.494 through 63.500. If latex or liquid rubber products are produced in an affected source that also produces another elastomer product, the provisions of §§ 63.484 through 63.500 do not apply to the back-end operations dedicated to the production of one or more latex products or to the back-end operations during the production of a latex product. Section 63.494 contains residual organic HAP limitations. Compliance with these residual organic HAP limitations may be achieved by using either stripping technology, or by using control or recovery devices. If compliance with these limitations is achieved using stripping technology, the procedures to determine compliance are specified in § 63.495. If compliance with these limitations is achieved using control or recovery devices, the procedures to determine compliance are specified in § 63.496, and associated monitoring requirements are specified in § 63.497. Recordkeeping requirements are contained in § 63.498, and reporting requirements in § 63.499. Section 63.500 contains a limitation on carbon disulfide emissions from affected sources that produce styrene butadiene rubber using an emulsion process. Table 8 to this subpart contains a summary of compliance alternative requirements for these sections.

16. Section 63.494 is amended by:

a. Revising paragraph (a) introductory text;

b. Revising paragraphs (a)(1)(i), (a)(2)(i) and (a)(3)(i);

c. Revising paragraph (a)(4); and

d. Adding paragraph (d).

The revisions and additions read as follows:

§ 63.494 Back-end process provisions—residual organic HAP limitations.

(a) The monthly weighted average residual organic HAP content of all grades of elastomer processed, measured after the stripping operation [or the reactor(s), if the plant has no stripper(s)] as specified in § 63.495(d), shall not exceed the limits provided in paragraphs (a)(1) through (a)(4) of this section, as applicable. Owners or operators of affected sources shall comply with the requirements of this paragraph using either stripping technology or control or recovery devices.

(1) * * *

(i) A monthly weighted average of 0.40 kg styrene per megagram (Mg) latex for existing affected sources; and

* * * * *

(2) * * *

(i) A monthly weighted average of 10 kg total organic HAP per Mg crumb rubber (dry weight) for existing affected sources; and

* * * * *

(3) * * *

(i) A monthly weighted average of 8 kg total organic HAP per Mg crumb rubber (dry weight) for existing affected sources; and

* * * * *

(4) There are no back-end process operation residual organic HAP limitations for neoprene, Hypalon™, nitrile-butadiene rubber, butyl rubber, halobutyl rubber, epichlorohydrin elastomer, and polysulfide rubber. There are also no back-end process operation residual organic HAP limitations for latex products, liquid rubber products, products produced in a gas-phased reaction process, styrene butadiene rubber produced by any process other than a solution or emulsion process, polybutadiene rubber produced by any process other than a solution process, or ethylene-propylene rubber produced by any process other than a solution process.

* * * * *

(d) If the owner or operator complies with the residual organic HAP limitations in paragraph (a) of this section using a flare, the owner or operator of an affected source shall comply with the requirements in § 63.504(c).

17. Section 63.495 is amended by:

a. Revising paragraphs (b)(2)(i) and (b)(2)(ii);

b. Revising paragraph (b)(5); and

c. Revising paragraph (f).

The revisions read as follows:

§ 63.495 Back-end process provisions—procedures to determine compliance using stripping technology.

* * * * *

(b) * * *

(2) * * *

(i) If a stripper operated in batch mode is used, at least one representative sample is to be taken from every batch of elastomer produced, at the location specified in paragraph (d) of this section, and identified by elastomer type and by the date and time the batch is completed.

(ii) If a stripper operated in continuous mode is used, at least one representative sample is to be taken each operating day. The sample is to be taken at the location specified in paragraph (d) of this section, and identified by elastomer type and by the date and time the sample was taken.

* * * * *

(5) The monthly weighted average shall be determined using the equation in paragraph (f) of this section. All samples taken and analyzed during the month shall be used in the determination of the monthly weighted average, except samples taken during periods of start-up, shutdown, or malfunction.

* * * * *

(f) The monthly weighted average residual organic HAP content shall be calculated using Equation 26.

Where:

HAPCONTavg,mo = Monthly weighted average organic HAP content for all rubber processed at the affected source, kg organic HAP per Mg latex or dry crumb rubber.

n = Number of samples in the month.

Ci = Residual organic HAP content of sample i, determined in accordance with paragraph (b)(3) or (c)(3) of this section, kg organic HAP per Mg latex or dry crumb rubber.

Pi = Weight of latex or dry crumb rubber represented by sample i.

Pmo = Weight of latex or dry crumb rubber (Mg) processed in the month.

18. Section 63.496 is amended by:

a. Revising paragraph (b) introductory text;

b. Revising paragraph (b)(5)(i);

c. Revising paragraph (b)(5)(iii);

d. Revising paragraph (b)(6)(iv);

e. Revising paragraph (b)(7) introductory text;

f. Revising paragraph (b)(7)(i);

g. Revising paragraph (b)(7)(iv);

h. Revising paragraph (b)(8) introductory text;

i. Revising paragraph (c)(1); and

j. Adding paragraph (b)(7)(vi).

The revisions and additions read as follows:

§ 63.496 Back-end process provisions—procedures to determine compliance using control or recovery devices.

* * * * *

(b) Compliance shall be demonstrated using the provisions in paragraphs (b)(1) through (b)(8) of this section, as applicable.

* * * * *

(5) * * *

(i) Method 1 or 1A of 40 CFR part 60, appendix A, as appropriate, shall be used for selection of the sampling sites. Sampling sites for inlet emissions shall be located as specified in paragraphs (b)(5)(i)(A) or (b)(5)(i)(B) of this section. Sampling sites for outlet emissions shall be located at the outlet of the control or recovery device.

(A) The inlet sampling site shall be located at the exit of the back-end process unit operation before any opportunity for emission to the atmosphere [with the exception of equipment in compliance with the requirements in §§ 63.502(a) through 63.502(m)], and before any control or recovery device.

(B) If back-end process vent streams are combined prior to being routed to control or recovery devices, the inlet sampling site may be for the combined stream, as long as there is no opportunity for emission to the atmosphere [with the exception of equipment in compliance with the requirements in §§ 63.502(a) through 63.502(m)] from any of the streams prior to being combined.

* * * * *

(iii) To determine the inlet and outlet total organic HAP concentrations, the owner or operator shall use Method 18 or Method 25A of 40 CFR part 60, appendix A. Alternatively, any other method or data that has been validated according to the applicable procedures in Method 301, 40 CFR part 63, appendix A may be used. The minimum sampling time for each run shall be in accordance with paragraph (b)(1) of this section, during which either an integrated sample or grab samples shall be taken. If grab sampling is used, then the samples shall be taken at approximately equal intervals during the run, with the time between samples no greater than 15 minutes.

* * * * *

(6) * * *

(iv) The outlet total organic HAP emissions associated with the back-end process unit operation shall be calculated using Equation 30, as shown in paragraph (b)(8) of this section.

(7) An owner or operator is not required to conduct a source test to determine the outlet organic HAP emissions if any control device specified in paragraphs (b)(7)(i) through (b)(7)(vi) of this section is used. For these devices, the inlet emissions associated with the back-end process unit operation shall be determined in accordance with paragraph (b)(5) of this section, and the outlet emissions shall be calculated using the equation in paragraph (b)(8) of this section.

(i) A flare. The owner or operator shall demonstrate compliance as provided in § 63.504(c).

* * * * *

(iv) A control device for which a performance test was conducted for determining compliance with a regulation promulgated by the EPA and the test was conducted using the same Methods specified in this section and either no deliberate process changes have been made since the test, or the owner or operator can demonstrate that the results of the performance test, with or without adjustments, reliably demonstrate compliance despite process changes.

* * * * *

(vi) A hazardous waste incinerator for which the owner or operator has been issued a final permit under 40 CFR Part 270 and complies with the requirements of 40 CFR part 264, subpart O, or has certified compliance with the interim status requirements of 40 CFR part 265, subpart O.

(8) If one of the control devices listed in paragraph (b)(6) or (b)(7) of this section is used, the outlet emissions shall be calculated using Equation 30.

where:

Eo = Mass rate of total organic HAP at the outlet of the control or recovery device, dry basis, kg/hr.

Ei = Mass rate of total organic HAP at the inlet of the control or recovery device, dry basis, kg/hr, determined using the procedures in paragraph (b)(5)(iv) of this section.

R = Control efficiency of control device, as specified in paragraph (b)(8)(i), (ii), or (iii) of this section.

* * * * *

(c) * * *

(1) For each test run, the residual organic HAP content, adjusted for the control or recovery device emission reduction, shall be calculated using Equation 31.

Where:

HAPCONTrun = Residual organic HAP content, kg organic HAP per kg elastomer (latex or dry crumb rubber).

C = Total uncontrolled organic HAP content, determined in accordance with paragraph (b)(3) of this section, kg organic HAP per kg latex or dry crumb rubber.

P = Weight of latex or dry crumb rubber processed during test run.

Ei,run = Mass rate of total organic HAP at the inlet of the control or recovery device, dry basis, kg per test run.

Eo,run = Mass rate of total organic HAP at the outlet of the control or recovery device, dry basis, kg per test run.

* * * * *

19. Section 63.497 is amended by:

a. Revising paragraph (a) introductory text;

b. Revising paragraph (a)(6);

c. Revising paragraph (c);

d. Revising paragraph (d) introductory text; and

e. Removing paragraph (d)(3).

The revisions read as follows:

§ 63.497 Back-end process provisions—monitoring provisions for control and recovery devices.

(a) An owner or operator complying with the residual organic HAP limitations in § 63.494(a) using control or recovery devices, or a combination of stripping and control or recovery devices, shall install the monitoring equipment specified in paragraphs (a)(1) through (a)(6) of this section, as appropriate.

* * * * *

(6) For a carbon adsorber, an integrating regeneration steam flow, nitrogen flow, or pressure monitoring device having an accuracy of at least ±10 percent of the flow rate, level, or pressure, capable of recording the total regeneration steam flow or nitrogen flow, or pressure (gauge or absolute) for each regeneration cycle; and a carbon bed temperature monitoring device, capable of recording the carbon bed temperature after each regeneration and within 15 minutes of completing any cooling cycle are required.

* * * * *

(c) The owner or operator shall establish a level, defined as either a maximum or minimum operating parameter, that indicates proper operation of the control or recovery device for each parameter monitored under paragraphs (a)(1) through (a)(6) of this section. This level is determined in accordance with § 63.505. The established level, along with supporting documentation, shall be submitted in the Notification of Compliance Status or the operating permit application, as required in § 63.506(e)(5) or (e)(8), respectively. The owner or operator shall operate control and recovery devices so that the daily average value is above or below the established level, as required, to ensure continued compliance with the standard, except as otherwise stated in this subpart.

(d) The owner or operator of an affected source with a controlled back-end process vent using a vent system that contains bypass lines that could divert a vent stream away from the control or recovery device used to comply with § 63.494(a) shall comply with paragraph (d)(1) or (d)(2) of this section. Equipment such as low leg drains, high point bleeds, analyzer vents, open-ended valves or lines, and pressure relief valves needed for safety purposes are not subject to this paragraph.

* * * * *

20. Section 63.498 is amended by:

a. Revising paragraph (a);

b. Revising paragraph (d) introductory text;

c. Revising paragraphs (d)(1) through (d)(4);

d. Revising paragraph (d)(5) introductory text;

e. Revising paragraph (d)(5)(i);

f. Revising paragraph (d)(5)(ii)(B);

g. Revising paragraph (d)(5)(iv) introductory text;

h. Revising paragraph (d)(5)(iv)(A); and

i. Removing and reserving paragraph (d)(5)(iv)(B).

The revisions read as follows:

§ 63.498 Back-end process provisions—recordkeeping.

(a) Each owner or operator shall maintain the records specified in paragraphs (b) through (d) of this section, as appropriate.

* * * * *

(d) Each owner or operator of a back-end process operation using control or recovery devices to comply with an organic HAP emission limitation in § 63.494(a) shall maintain the records specified in paragraphs (d)(1) through (d)(5) of this section. The recordkeeping requirements contained in paragraphs (d)(1) through (d)(4) pertain to the results of the testing required by § 63.496(b), for each of the three required test runs.

(1) The uncontrolled residual organic HAP content in the latex or dry crumb rubber, as required to be determined by § 63.496(b)(3), including the test results of the analysis;

(2) The total quantity of material (weight of latex or dry crumb rubber) processed during the test run, recorded in accordance with § 63.496(b)(4);

(3) The organic HAP emissions at the inlet and outlet of the control or recovery device, determined in accordance with § 63.496(b)(5) through (b)(8), including all test results and calculations.

(4) The residual organic HAP content, adjusted for the control or recovery device emission reduction, determined in accordance with § 63.496(c)(1).

(5) Each owner or operator using a control or recovery device shall keep the following records readily accessible:

(i) Continuous records of the equipment operating parameters specified to be monitored under § 63.497(a) or specified by the Administrator in accordance with § 63.497(b). For flares, the records specified in Table 3 of 40 CFR part 63, subpart G shall be maintained in place of continuous records.

(ii) * * *

(B) Monitoring data recorded during periods of monitoring system breakdowns, repairs, calibration checks, and zero (low-level) and high-level adjustments shall not be included in computing the hourly or daily averages. In addition, monitoring data recorded during periods of non-operation of the EPPU (or specific portion thereof) resulting in cessation of organic HAP emissions or during periods of start-up, shutdown, or malfunction shall not be included in computing the hourly or daily averages. Records shall be kept of the times and durations of all such periods and any other periods of process or control device operation when monitors are not operating.

* * * * *

(iv) Where a seal mechanism is used to comply with § 63.497(d)(2), hourly records of flow are not required.

(A) For compliance with § 63.497(d)(2), the owner or operator shall record whether the monthly visual inspection of the seals or closure mechanisms has been done, and shall record instances when the seal mechanism is broken, the bypass line damper or valve position has changed, or the key for a lock-and-key type configuration has been checked out, and records of any car-seal that has broken.

(B) [Reserved]

21. Section 63.499 is amended by:

a. Revising paragraph (a);

b. Revising paragraph (b)(2);

c. Revising paragraph (c) introductory text;

d. Revising paragraph (c)(3); and

e. Revising paragraph (d) introductory text.

The revisions read as follows:

§ 63.499 Back-end process provisions—reporting.

(a) The owner or operator of an affected source with back-end process operations shall submit the information required in paragraphs (a)(1) through (a)(3) of this section, for each back-end process operation at the affected source, as part of the Notification of Compliance Status specified in § 63.506(e)(5).

(1) The type of elastomer product processed in the back-end operation.

(2) The type of process (solution process, emulsion process, etc.)

(3) If the back-end process operation is subject to an emission limitation in § 63.494(a), whether compliance will be achieved by stripping technology, or by control or recovery devices.

(b) * * *

(2) For organic HAP content/stripper monitoring parameter re-determinations, and the addition of new grades, the information specified in § 63.498(c)(1) shall be submitted in the next periodic report specified in § 63.506(e)(6).

(c) Each owner or operator of an affected source with a back-end process operation control or recovery device that shall comply with an emission limitation in § 63.494(a) shall submit the information specified in paragraphs (c)(1) through (c)(3) of this section as part of the Notification of Compliance Status specified in § 63.506(e)(5).

* * * * *

(3) The information specified in paragraphs (c)(3)(i) when using a flare, and the information specified in paragraph (c)(3)(ii) of this section when using a boiler or process heater.

(i) The flare design (i.e., steam-assisted, air-assisted, or non-assisted); all visible emission readings, heat content determinations, flow rate measurements, and exit velocity determinations made during the compliance determination; and all periods during the compliance determination when the pilot flame is absent.

(ii) A description of the location at which the vent stream is introduced into the boiler or process heater.

(d) Whenever a process change, as defined in § 63.496(d), is made that causes the redetermination of the compliance status for the back-end process operations, the owner or operator shall submit a report within 180 days after the process change as specified in § 63.506(e)(7)(iii). The report shall include:

* * * * *

22. Section 63.500 is amended by:

a. Revising paragraph (a)(3);

b. Revising paragraph (c)(1) introductory text;

c. Revising paragraph (c)(1)(iii) introductory text;

d. Revising paragraph (c)(2) introductory text; and

e. Revising paragraph (d)(2).

The revisions read as follows:

§ 63.500 Back-end process provisions—carbon disulfide limitations for styrene butadiene rubber by emulsion processes.

(a) * * *

(3) The owner or operator shall operate the process in accordance with a validated standard operating procedure at all times when styrene butadiene rubber is being produced using a sulfur containing shortstop agent. If a standard operating procedure is changed, it shall be re-validated.

* * * * *

(c) * * *

(1) The owner or operator may choose to conduct a performance test, using the procedures in paragraphs (c)(1)(i) through (c)(1)(iii) of this section to demonstrate compliance with the carbon disulfide concentration limitation in paragraph (a) of this section. One test shall be conducted for each standard operating procedure.

* * * * *

(iii) To determine compliance with the carbon disulfide concentration limit in paragraph (a) of this section, the owner or operator shall use Method 18 or Method 25A of 40 CFR part 60, appendix A to measure carbon disulfide. Alternatively, any other method or data that has been validated according to the applicable procedures in Method 301, 40 CFR part 63, appendix A, may be used. The following procedures shall be used to calculate carbon disulfide concentration:

* * * * *

(2) The owner or operator may use engineering assessment to demonstrate compliance with the carbon disulfide concentration limitation in paragraph (a) of this section. Engineering assessment includes, but is not limited to, the following:

* * * * *

(d) * * *

(2) A description of the standard operating procedure used during the testing. This description shall include, at a minimum, an identification of the sulfur containing shortstop agent added to the styrene butadiene rubber prior to the dryers, an identification of the point and time in the process where the sulfur containing shortstop agent is added, and an identification of the amount of sulfur containing shortstop agent added per unit of latex.

* * * * *

23. Section 63.501 is amended by:

a. Revising paragraph (a);

b. Revising paragraph (b);

c. Revising paragraph (c)(1); and

d. Removing paragraph (d).

The revisions read as follows:

§ 63.501 Wastewater provisions.

(a) Except as specified in paragraph (c) of this section, the owner or operator of each affected source shall comply with the requirements of §§ 63.132 through 63.147 for each process wastewater stream originating at an affected source, with the requirements of § 63.148 for leak inspection provisions, and with the requirements of § 63.149 for equipment that is subject to § 63.149, with the differences noted in paragraphs (a)(1) through (a)(23) of this section. Further, the owner or operator of each affected source shall comply with the requirements of § 63.105(a) for maintenance wastewater, as specified in paragraph (b) of this section.

(1) When the determination of equivalence criteria in § 63.102(b) is referred to in §§ 63.132, 63.133, and 63.137, the provisions in § 63.6(g) shall apply for the purposes of this subpart.

(2) When the storage vessel requirements contained in §§ 63.119 through 63.123 are referred to in §§ 63.132 through 63.149, §§ 63.119 through 63.123 are applicable, with the exception of the differences referred to in § 63.484, for the purposes of this subpart.

(3) Owners and operators of affected sources are not required to comply with the requirements in § 63.132(b)(1) and § 63.132(d). Owners and operators of new affected sources, as defined in this subpart, shall comply with the requirements for existing sources in §§ 63.132 through 63.149, with the exceptions noted in paragraphs (a)(4), (a)(10), and (a)(23) of this section.

(4) When § 63.146(a) requires the submission of a request for approval to monitor alternative parameters according to the procedures specified in § 63.151(f) or (g), owners or operators requesting to monitor alternative parameters shall follow the procedures specified in § 63.506(f), for the purposes of this subpart.

(5) When § 63.147(d) requires owners or operators to keep records of the daily average value of each continuously monitored parameter for each operating day as specified in § 63.152(f), owners and operators shall instead keep records of the daily average value of each continuously monitored parameter as specified in § 63.506(d), for the purposes of this subpart.

(6) When §§ 63.132 through 63.149 refer to an “existing source,” the term “existing affected source,” as defined in § 63.480(a)(3) shall apply, for the purposes of this subpart.

(7) When §§ 63.132 through 63.149 refer to a “new source,” the term “new affected source,” as defined in § 63.480(a)(4) shall apply, for the purposes of this subpart.

(8) Whenever §§ 63.132 through 63.149 refer to a “chemical manufacturing process unit,” the term “elastomer product process unit,” (or EPPU) as defined in § 63.482, shall apply for the purposes of this subpart. In addition, when § 63.149 refers to “a chemical manufacturing process unit that meets the criteria of § 63.100(b) of subpart F of this part,” the term “an EPPU as defined in § 63.482(b)” shall apply for the purposes of this subpart.

(9) When § 63.132(a) and (b) refer to the “applicable dates specified in § 63.100 of subpart F of this part,” the compliance dates specified in § 63.481 shall apply, for the purposes of this subpart.

(10) The provisions of paragraphs (a)(10)(i), (a)(10)(ii), and (a)(10)(iii) of this section clarify the organic HAP that an owner or operator shall consider when complying with the requirements of §§ 63.132 through 63.149.

(i) Owners and operators are exempt from all requirements in §§ 63.132 through 63.149 that pertain solely and exclusively to organic HAP listed on table 8 of 40 CFR part 63, subpart G.

(ii) When §§ 63.132 through 63.149 refer to table 9 compounds, the owner or operator is only required to consider compounds that meet the definition of organic HAP in § 63.482 and that are listed in table 9 of 40 CFR part 63,subpart G, for the purposes of this subpart.

(iii) When §§ 63.132 through 63.149 refer to compounds in table 36 of 40 CFR part 63, subpart G, or compounds in List 1 and/or List 2, as listed in table 36 of 40 CFR part 63, subpart G, the owner or operator is only required to consider compounds that meet the definition of organic HAP in § 63.482 and that are listed in table 36 of 40 CFR part 63, subpart G, for the purposes of this subpart.

(11) Whenever §§ 63.132 through 63.147 refer to a Group 1 wastewater stream or a Group 2 wastewater stream, the definitions of these terms contained in § 63.482 shall apply, for the purposes of this subpart.

(12) When § 63.149(d) refers to “§ 63.100(f) of subpart F” the phrase “§ 63.480(c)” shall apply for the purposes of this subpart. In addition, where § 63.149(d) states “and the item of equipment is not otherwise exempt from controls by the provisions of subparts A, F, G, or H of this part”, the phrase “and the item of equipment is not otherwise exempt from controls by the provisions of subparts A, F, G, H, or U of this part,” shall apply for the purposes of this subpart.

(13) When § 63.149(e)(1) and (e)(2) refer to “a chemical manufacturing process unit subject to the new source requirements of 40 CFR 63.100(l)(1) or 40 CFR 63.100 (l)(2),” the phrase “an EPPU that is part of a new affected source or that is a new affected source,” shall apply for the purposes of this subpart.

(14) When the Notification of Compliance Status requirements contained in § 63.152(b) are referred to in §§ 63.138 and 63.146, the Notification of Compliance Status requirements contained in § 63.506(e)(5) shall apply for the purposes of this subpart. In addition, when §§ 63.138 and 63.146 require that information be reported according to § 63.152(b) in the Notification of Compliance Status, owners or operators of affected sources shall report the specified information in the Notification of Compliance Status required by § 63.506(e)(5), for the purposes of this subpart.

(15) When the Periodic Report requirements contained in § 63.152(c) are referred to in § 63.146, the Periodic Report requirements contained in § 63.506(e)(6) shall apply for the purposes of this subpart. In addition, when § 63.146 requires that information be reported in the Periodic Reports required in § 63.152(c), owners or operators of affected sources shall report the specified information in the Periodic Reports required in § 63.506(e)(6), for the purposes of this subpart.

(16) When the term “range” is used in §§ 63.132 through 63.149, the term “level” shall apply instead, for the purposes of this subpart. This level shall be determined using the procedures specified in § 63.505.

(17) When § 63.143(f) specifies that owners or operators shall establish the range that indicates proper operation of the treatment process or control device, the owner or operator shall instead comply with the requirements of § 63.505(c) or (d) for establishing parameter level maximums/minimums, for the purposes of this subpart.

(18) When § 63.146(b)(7) and § 63.146(b)(8) require that “the information on parameter ranges specified in § 63.152(b)(2)” be reported in the Notification of Compliance Status, owners and operators of affected sources are instead required to report the information on parameter levels in the Notification of Compliance Status as specified in § 63.506(e)(5)(ii), for the purposes of this subpart.

(19) For the purposes of this subpart, the owner or operator of an affected source is not required to include process wastewater streams that contain styrene when conducting performance tests for the purposes of calculating the required mass removal (RMR) or the actual mass removal (AMR) under the provisions described in § 63.145(f) or § 63.145(g). For purposes of this paragraph, a process wastewater stream is considered to contain styrene if the wastewater stream meets the requirements in paragraph (a)(19)(i), (ii), or (iii) of this section:

(i) The wastewater stream originates at equipment that produces styrene butadiene rubber by solution;

(ii) The wastewater stream originates at equipment that produces styrene butadiene rubber by emulsion; or

(iii) The wastewater stream originates at equipment that produces styrene butadiene latex.

(20) When the provisions of § 63.139(c)(1)(ii), § 63.145(d)(4), or § 63.145(i)(2) specify that Method 18, 40 CFR part 60, appendix A shall be used, Method 18 or Method 25A, 40 CFR part 60, appendix A may be used for the purposes of this subpart. The use of Method 25A, 40 CFR part 60, appendix A shall conform with the requirements in paragraphs (a)(20)(i) and (a)(20)(ii) of this section.

(i) The organic HAP used as the calibration gas for Method 25A, 40 CFR part 60, appendix A shall be the single organic HAP representing the largest percent by volume of the emissions.

(ii) The use of Method 25A, 40 CFR part 60, appendix A is acceptable if the response from the high-level calibration gas is at least 20 times the standard deviation of the response from the zero calibration gas when the instrument is zeroed on the most sensitive scale.

(21) In § 63.145(j), instead of the reference to § 63.11(b), and instead of § 63.145(j)(1) and § 63.145(j)(2), the requirements in § 63.504(c) shall apply.

(22) The owner or operator of a facility which receives a Group 1 wastewater stream, or a residual removed from a Group 1 wastewater stream, for treatment pursuant to § 63.132(g) is subject to the requirements of § 63.132(g) with the differences identified in this section, and is not subject to subpart DD of this part, with respect to the received material.

(23) When § 63.132(g) refers to “§§ 63.133 through 63.137” or “§§ 63.133 through 63.147”, the provisions in this § 63.501 shall apply, for the purposes of this subpart.

(b) Except for those streams exempted by paragraph (c) of this section, the owner or operator of each affected source shall comply with the requirements for maintenance wastewater in § 63.105, except that when § 63.105(a) refers to “organic HAPs listed in table 9 of subpart G of this part,” the owner or operator is only required to consider compounds that meet the definition of organic HAP in § 63.482 and that are listed in table 9 of 40 CFR part 63, subpart G, for the purposes of this subpart.

(c) * * *

(1) Back-end wastewater streams originating from equipment whose only elastomer products are latex products.

24. Section 63.502 is amended by:

a. Revising the section title;

b. Revising paragraph (a);

c. Revising paragraph (b) introductory text;

d. Revising paragraphs (b)(1) through (b)(3);

e. Revising paragraphs (b)(5) through (b)(7);

f. Revising paragraph (c);

g. Revising paragraph (d);

h. Revising paragraph (e);

i. Revising paragraph (f);

j. Revising paragraph (g);

k. Revising paragraph (h);

l. Revising paragraph (i);

m. Revising paragraph (j);

n. Adding paragraph (k);

o. Adding paragraph (l);

p. Adding paragraph (m); and

q. Adding paragraph (n).

The revisions and additions read as follows:

§ 63.502 Equipment leak and heat exchange system provisions.

(a) Equipment leak provisions. The owner or operator of each affected source, shall comply with the requirements of subpart H of this part, with the exceptions noted in paragraphs (b) through (m) of this section.

(b) Surge control vessels and bottoms receivers described in paragraphs (b)(1) through (b)(7) of this section are exempt from the requirements contained in § 63.170.

(1) Surge control vessels and bottoms receivers that receive only styrene-butadiene latex;

(2) Surge control vessels and bottoms receivers that receive latex products other than styrene-butadiene latex, located downstream of the stripping operations;

(3) Surge control vessels and bottoms receivers that receive only high conversion latex products;

* * * * *

(5) Surge control vessels and bottoms receivers that receive only styrene;

(6) Surge control vessels and bottoms receivers that receive only acrylamide; and

(7) Surge control vessels and bottoms receivers that receive only epichlorohydrin.

(c) The compliance date for the equipment leak provisions in this section is provided in § 63.481(d). Whenever subpart H of this part refers to the compliance dates specified in any paragraph contained in § 63.100, the compliance dates listed in § 63.481(d) shall instead apply, for the purposes of this subpart. When § 63.182(c)(4) refers to “sources subject to subpart F,” the phrase “sources subject to this subpart” shall apply, for the purposes of this subpart. In addition, extensions of compliance dates are addressed by § 63.481(e) instead of by § 63.182(a)(6), for the purposes of this subpart.

(d) For an affected source producing polybutadiene rubber or styrene butadiene rubber by solution, the conditions in paragraphs (d)(1), (d)(2), and (d)(3) of this section are applicable.

(1) Indications of liquids dripping, as defined in subpart H of this part, from bleed ports in pumps and agitator seals in light liquid service, shall not be considered a leak. For the purposes of this subpart, a “bleed port” is a technologically-required feature of the pump or seal whereby polymer fluid used to provide lubrication and/or cooling of the pump or agitator shaft exits the pump, thereby resulting in a visible dripping of fluid.

(2) For reciprocating pumps in heavy liquid service, owners and operators are not required to comply with the requirements in § 63.169 and associated recordkeeping and reporting requirements.

(3) Reciprocating pumps in light liquid service are exempt from § 63.163 and associated recordkeeping and reporting requirements, if recasting the distance piece or reciprocating pump replacement would be necessary to comply with that section.

(e) Owners and operators of an affected source subject to this subpart are not required to submit the Initial Notification required by § 63.182(a)(1) and § 63.182(b).

(f) As specified in § 63.506(e)(5), the Notification of Compliance Status required by § 63.182(a)(2) and § 63.182(c) shall be submitted within 150 days (rather than 90 days) of the applicable compliance date specified in § 63.481(d) for the equipment leak provisions.

(g) The information specified by § 63.182(a)(3) and § 63.182(d) (i.e., Periodic Reports) shall be submitted as part of the Periodic Reports required by § 63.506(e)(6).

(h) If specific items of equipment, comprising part of a process unit subject to this subpart, are managed by different administrative organizations (e.g., different companies, affiliates, departments, divisions, etc.), those items of equipment may be aggregated with any EPPU within the affected source for all purposes under subpart H of this part, providing there is no delay in achieving the applicable compliance date.

(i) When § 63.166(b)(4)(i) refers to Table 9 of subpart G of this part, the owner or operator is only required to consider organic HAP listed on Table 9 of subpart G of this subpart that are also listed on Table 5 of this subpart.

(j) When the provisions of subpart H of this part specify that Method 18, 40 CFR part 60, appendix A shall be used, either Method 18 or Method 25A, 40 CFR part 60, appendix A may be used for the purposes of this subpart. The use of Method 25A, 40 CFR part 60, appendix A shall conform with the requirements in paragraphs (j)(1) and (j)(2) of this section.

(1) The organic HAP used as the calibration gas for Method 25A, 40 CFR part 60, appendix A shall be the single organic HAP representing the largest percent by volume of emissions.

(2) The use of Method 25A, 40 CFR part 63, appendix A is acceptable if the response from the high-level calibration gas is at least 20 times the standard deviation of the response from the zero calibration gas when the instrument is zeroed on the most sensitive scale.

(k) An owner or operator using a flare to comply with the requirements of this section shall conduct a compliance demonstration as specified in § 63.504(c).

(l) When the term “equipment” is used in subpart H of this part, the definition of this term in § 63.482(b) shall apply for the purposes of this subpart.

(m) The phrase “the provisions of subparts F, I, or U of this part” shall apply instead of the phrase “the provisions of subpart F or I of this part” throughout §§ 63.163 and 63.168, for the purposes of this subpart. In addition, the phrase “subparts F, I, and U” shall apply instead of the phrase “subparts F and I” in § 63.174(c)(2)(iii), for the purposes of this subpart.

(n) Heat exchange system provisions. The owner or operator of each affected source shall comply with the requirements of § 63.104 for heat exchange systems, with the exceptions noted in paragraphs (n)(1) through (n)(5) of this section.

(1) When the term “chemical manufacturing process unit” is used in § 63.104, the term “elastomer product process unit” (or EPPU) shall apply for the purposes of this subpart, with the exception noted in paragraph (n)(2) of this section.

(2) When the phrase “a chemical manufacturing process unit meeting the conditions of § 63.100(b)(1) through (b)(3) of this subpart, except for chemical manufacturing process units meeting the condition specified in § 63.100(c) of this subpart” is used in § 63.104(a), the term “an EPPU, except for EPPUs meeting the condition specified in § 63.480(b)” shall apply for the purposes of this subpart.

(3) When § 63.104 refers to Table 4 of subpart F of this part or Table 9 of subpart G of this part, the owner or operator is only required to consider organic HAP listed on Table 5 of this subpart.

(4) When § 63.104(c)(3) specifies the monitoring plan retention requirements, and when § 63.104(f)(1) refers to the record retention requirements in § 63.103(c)(1), the requirements in § 63.506(a) and § 63.506(h) shall apply, for the purposes of this subpart.

(5) When § 63.104(f)(2) requires information to be reported in the Periodic Reports required by § 63.152(c), the owner or operator shall instead report the information specified in § 63.104(f)(2) in the Periodic Reports required by § 63.506(e)(6), for the purposes of this subpart.

(6) The compliance date for heat exchange systems subject to the provisions of this section is specified in § 63.481(d)(6).

25. Section 63.503 is amended by:

a. Revising paragraph (e)(3)(ii);

b. Revising paragraph (g)(2)(iii)(B)(2);

c. Revising paragraph (h)(1) introductory text;

d. Revising paragraph (h)(7)(ii) introductory text;

e. Revising paragraph (i)(1) introductory text; and

f. Revising paragraph (m)(3)(iii).

The revisions read as follows:

§ 63.503 Emissions averaging provisions.

* * * * *

(e) * * *

(3) * * *

(ii) The initial demonstration in the Emissions Averaging Plan or operating permit application that credit-generating emission points will be capable of generating sufficient credits to offset the debits from the debit-generating emission points shall be made under representative operating conditions. After the compliance date, actual operating data shall be used for all debit and credit calculations.

* * * * *

(g) * * *

(2) * * *

(iii) * * *

(B) * * *

(2) For determining debits from Group 1 continuous front-end process vents, product recovery devices shall not be considered control devices and shall not be assigned a percent reduction in calculating ECFEPViACTUAL. The sampling site for measurement of uncontrolled emissions shall be after the final uncontrolled recovery device. However, as provided in § 63.113(a)(3), a Group 1 continuous front-end process vent may add sufficient product recovery to raise the TRE index value above 1.0, thereby becoming a Group 2 continuous front-end process vent. Such a continuous front-end process vent is not a Group 1 continuous front-end process vent and should, therefore, not be included in determining debits under this paragraph.

* * * * *

(h) * * *

(1) Source-wide credits shall be calculated using Equation 41. Credits and all terms of the equation are in units of Mg/month, and the baseline date is November 15, 1990:

Where:

D = Discount factor = 0.9 for all credit generating emission points, except those controlled by a pollution prevention measure; discount factor = 1.0 for each credit generating emission point controlled by a pollution prevention measure (i.e., no discount provided).

ECFEPV1iACTUAL = Emissions for each Group 1 continuous front-end process vent i that is controlled to a level more stringent than the reference control technology. ECFEPV1iACTUAL is calculated according to paragraph (h)(2)(ii) of this section.

(0.02)ECFEPV1iu = Emissions from each Group 1 continuous front-end process vent i if the reference control technology had been applied to the uncontrolled emissions. ECFEPV1iu is calculated according to paragraph (h)(2)(i) of this section.

ECFEPV2iACTUAL = Emissions from each Group 2 continuous front-end process vent i that is controlled. ECFEPV2iACTUAL is calculated according to paragraph (h)(2)(iii) of this section.

ECFEPV2iBASE = Emissions from each Group 2 continuous front-end process vent i at the baseline date. ECFEPV2iBASE is calculated in paragraph (h)(2)(iv) of this section.

ES1iACTUAL = Emissions from each Group 1 storage vessel i that is controlled to a level more stringent than the reference control technology or standard. ES1iACTUAL is calculated according to paragraph (h)(3) of this section.

(0.05) ES1iu = Emissions from each Group 1 storage vessel i if the reference control technology had been applied to the uncontrolled emissions. ES1iu is calculated according to paragraph (h)(3) of this section.

ES2iACTUAL = Emissions from each Group 2 storage vessel i that is controlled. ES2iACTUAL is calculated according to paragraph (h)(3) of this section.

ES2iBASE = Emissions from each Group 2 storage vessel i at the baseline date. ES2iBASE is calculated in paragraph (h)(3) of this section.

EBEPACTUAL = Actual emissions from back-end process operations, Mg/month. EBEPACTUAL is calculated in paragraph (h)(4)(i) of this section.

EBEPc = Emissions from back-end process operations if the residual organic HAP limits in § 63.494(a) were met, Mg/month. EBEPc is calculated in paragraph (h)(4)(ii) of this section.

EWW1iACTUAL = Emissions from each Group 1 wastewater stream i that is controlled to a level more stringent than the reference control technology. EWW1iACTUAL is calculated according to paragraph (h)(5) of this section.

EWW1ic = Emissions from each Group 1 wastewater stream i if the reference control technology had been applied to the uncontrolled emissions. EWW1ic is calculated according to paragraph (h)(5) of this section.

EWW2iACTUAL = Emissions from each Group 2 wastewater stream i that is controlled. EWW2iACTUAL is calculated according to paragraph (h)(5) of this section.

EWW2iBASE = Emissions from each Group 2 wastewater stream i at the baseline date. EWW2iBASE is calculated according to paragraph (h)(5) of this section.

(0.1) EBFEPV1iu = Emissions from each Group 1 batch front-end process vent i if the applicable standard had been applied to the uncontrolled emissions. EBFEPV1iu is calculated according to paragraph (h)(6)(i) of this section.

EBFEPV1iACTUAL = Emissions from each Group 1 batch front-end process vent i that is controlled to a level more stringent than the applicable standard. EBFEPV1iACTUAL is calculated according to paragraph (h)(6)(ii) of this section.

(0.1)EABV1iu = Emissions from each Group 1 aggregate batch vent stream i if the applicable standard had been applied to the uncontrolled emissions. EABV1iu is calculated according to paragraph (h)(7)(i) of this section.

EABV1iACTUAL = Emissions from each Group 1 aggregate batch vent stream i that is controlled to a level more stringent than the applicable standard. EABV1iACTUAL is calculated according to paragraph (h)(7)(ii) of this section.

EBFEPV2iBASE = Emissions from each Group 2 batch front-end process vent i at the baseline date. EBFEPV2iBASE is calculated according to paragraph (h)(6)(iv) of this section.

EBFEPV2iACTUAL = Emissions from each Group 2 batch front-end process vent i that is controlled. EBFEPV2iACTUAL is calculated according to paragraph (h)(6)(iii) of this section.

EABV2iBASE = Emissions from each Group 2 aggregate batch vent stream i at the baseline date. EABV2iBASE is calculated according to paragraph (h)(7)(iv) of this section.

EABV2iACTUAL = Emissions from each Group 2 aggregate batch vent stream i that is controlled. EABV2iACTUAL is calculated according to paragraph (h)(7)(iii) of this section.

n = Number of Group 1 emission points included in the emissions average. The value of n is not necessarily the same for continuous front-end process vents, batch front-end process vents, aggregate batch vent streams, storage vessels, wastewater streams, or the collection of process sections within the affected source.

m = Number of Group 2 emission points included in the emissions average. The value of m is not necessarily the same for continuous front-end process vents, batch front-end process vents, aggregate batch vent streams, storage vessels, wastewater streams, or the collection of process sections within the affected source.

* * * * *

(7) * * *

(ii) Actual emissions from Group 1 aggregate batch vent streams controlled to a level more stringent than the standard (EABV1iACTUAL) shall be calculated using Equation 49.

* * * * *

(i) * * *

(1) In those cases where the owner or operator is seeking permission to take credit for use of a control technology that is different in use or design from the reference control technology, and the different control technology will be used in more than three applications at a single plant-site, the owner or operator shall submit the information specified in paragraphs (i)(1)(i) through (i)(1)(iv) of this section, as specified in § 63.506(e)(7)(ii), to the Director of the EPA Office of Air Quality Planning and Standards, in writing.

* * * * *

(m) * * *

(3) * * *

(iii) For closed vent systems with control devices, conduct an initial design evaluation and submit an operating plan according to the procedures specified in § 63.120(d) and § 63.122(b), and as required by § 63.484.

* * * * *

26. Section 63.504 is revised (including the section title) to read as follows:

§ 63.504 Additional requirements for performance testing.

(a) Performance testing shall be conducted in accordance with § 63.7(a)(1), (a)(3), (d), (e)(1), (e)(2), (e)(4), (g), and (h), with the exceptions specified in paragraphs (a)(1) through (a)(5) of this section and the additions specified in paragraph (b) of this section. Sections 63.484 through 63.501 also contain specific testing requirements.

(1) Performance tests shall be conducted according to the provisions of § 63.7(e)(1) and (e)(2), except that performance tests shall be conducted at maximum representative operating conditions achievable during one of the time periods described in paragraph (a)(1)(i) of this section, without causing any of the situations described in paragraph (a)(1)(ii) of this section to occur.

(i) The 6-month period that ends 2 months before the Notification of Compliance Status is due, according to § 63.506(e)(5); or the 6-month period that begins 3 months before the performance test and ends 3 months after the performance test.

(ii) Causing damage to equipment; necessitating that the owner or operator make product that does not meet an existing specification for sale to a customer; or necessitating that the owner or operator make product in excess of demand.

(2) References in § 63.7(g) to the Notification of Compliance Status requirements in § 63.9(h) shall refer to the requirements in § 63.506(e)(5).

(3) Because the site-specific test plans in § 63.7(c)(3) are not required, § 63.7(h)(4)(ii) is not applicable.

(4) The owner or operator shall notify the Administrator of the intent to conduct a performance test at least 30 days before the performance test is scheduled, to allow the Administrator the opportunity to have an observer present during the test. If after 30 days notice for an initially scheduled performance test, there is a delay (due to operational problems, etc.) in conducting the scheduled performance test, the owner or operator of an affected facility shall notify the Administrator as soon as possible of any delay in the original test date, either by providing at least 7 days prior notice of the rescheduled date of the performance test, or by arranging a rescheduled date with the Administrator by mutual agreement.

(5) Performance tests shall be performed no later than 150 days after the compliance dates specified in this subpart (i.e., in time for the results to be included in the Notification of Compliance Status), rather than according to the time periods in § 63.7(a)(2).

(b) Data shall be reduced in accordance with the EPA approved methods specified in the applicable subpart or, if other test methods are used, the data and methods shall be validated according to the protocol in Method 301, 40 CFR part 63, appendix A.

(c) Notwithstanding any other provision of this subpart, if an owner or operator of an affected source uses a flare to comply with any of the requirements of this subpart, the owner or operator shall comply with paragraphs (c)(1) through (c)(3) of this section. The owner or operator is not required to conduct a performance test to determine percent emission reduction or outlet organic HAP or TOC concentration. If a compliance demonstration has been conducted previously for a flare, using the techniques specified in paragraphs (c)(1) through (c)(3) of this section, that compliance demonstration may be used to satisfy the requirements of this paragraph if either no deliberate process changes have been made since the compliance demonstration, or the results of the compliance demonstration reliably demonstrate compliance despite process changes.

(1) Conduct a visible emission test using the techniques specified in § 63.11(b)(4);

(2) Determine the net heating value of the gas being combusted, using the techniques specified in § 63.11(b)(6); and

(3) Determine the exit velocity using the techniques specified in either § 63.11(b)(7)(i) (and § 63.11(b)(7)(iii), where applicable) or § 63.11(b)(8), as appropriate.

27. Section 63.505 is amended by:

a. Revising paragraph (a);

b. Revising paragraph (b) introductory text;

c. Revising paragraph (b)(2);

d. Revising paragraph (b)(3) introductory text;

e. Revising paragraphs (b)(3)(i)(A) through (b)(3)(i)(D);

f. Revising paragraph (b)(3)(ii);

g. Revising paragraph (c);

h. Revising paragraph (d);

i. Revising paragraph (e) introductory text;

j. Revising paragraph (e)(3);

k. Revising paragraph (g)(1) introductory text;

l. Revising paragraphs (g)(1)(ii) and (g)(1)(iii);

m. Revising paragraph (g)(2) introductory text;

n. Revising paragraph (g)(2)(ii);

o. Revising paragraph (h)(1) introductory text;

p. Revising paragraph (h)(2) introductory text;

q. Removing and reserving paragraph (b)(1);

r. Removing and reserving paragraph (f);

s. Removing paragraph (b)(3)(i)(E);

t. Adding paragraph (g)(1)(v); and

u. Adding paragraph (g)(3).

The revisions and additions read as follows:

§ 63.505 Parameter monitoring levels and excursions.

(a) Establishment of parameter monitoring levels. The owner or operator of a control or recovery device that has one or more parameter monitoring level requirements specified under this subpart shall establish a maximum or minimum level for each measured parameter. If a performance test is required by this subpart for a control device, the owner or operator shall use the procedures in either paragraph (b) or (c) of this section to establish the parameter monitoring level(s). If a performance test is not required by this subpart for a control device, the owner or operator may use the procedures in paragraph (b), (c), or (d) of this section to establish the parameter monitoring levels. When using the procedures specified in paragraph (c) or (d) of this section, the owner or operator shall submit the information specified in § 63.506(e)(3)(vii) for review and approval, as part of the Precompliance Report.

(1) The owner or operator shall operate control and recovery devices such that the daily average of monitored parameters remains above the minimum established level or below the maximum established level, except as otherwise stated in this subpart.

(2) As specified in § 63.506(e)(5), all established levels, along with their supporting documentation and the definition of an operating day, shall be submitted as part of the Notification of Compliance Status.

(3) Nothing in this section shall be construed to allow a monitoring parameter excursion caused by an activity that violates other applicable provisions of subpart A, F, G, or H of this part.

(b) Establishment of parameter monitoring levels based exclusively on performance tests. In cases where a performance test is required by this subpart, or the owner or operator of the affected source elects to do a performance test in accordance with the provisions of this subpart, and an owner or operator elects to establish a parameter monitoring level for a control, recovery, or recapture device based exclusively on parameter values measured during the performance test, the owner or operator of the affected source shall comply with the procedures in paragraphs (b)(1) through (b)(4) of this section, as applicable.

(1) [Reserved]

(2) Back-end process operations using a control or recovery device to comply with §§ 63.493 through 63.500 and continuous front-end process vents. During initial compliance testing, the appropriate parameter shall be continuously monitored during the required 1-hour runs. The monitoring level(s) shall then be established as the average of the maximum (or minimum) point values from the three test runs. The average of the maximum values shall be used when establishing a maximum level, and the average of the minimum values shall be used when establishing a minimum level.

(3) Batch front-end process vents. The monitoring level(s) shall be established using the procedures specified in either paragraph (b)(3)(i) or (b)(3)(ii) of this section. The procedures specified in this paragraph (b)(3) may only be used if the batch emission episodes, or portions thereof, selected to be controlled were tested, and monitoring data were collected, during the entire period in which emissions were vented to the control device, as specified in § 63.490(c)(1)(i). If the owner or operator chose to test only a portion of the batch emission episode, or portion thereof, selected to be controlled, the procedures in paragraph (c) of this section shall be used.

(i) * * *

(A) The average monitored parameter value shall be calculated for each batch emission episode, or portion thereof, in the batch cycle selected to be controlled. The average shall be based on all values measured during the required performance test.

(B) If the level to be established is a maximum operating parameter, the level shall be defined as the minimum of the average parameter values of the batch emission episodes, or portions thereof, in the batch cycle selected to be controlled (i.e., identify the emission episode, or portion thereof, which requires the lowest parameter value in order to assure compliance. The average parameter value that is necessary to assure compliance for that emission episode, or portion thereof, shall be the level for all emission episodes, or portions thereof, in the batch cycle, that are selected to be controlled).

(C) If the level to be established is a minimum operating parameter, the level shall be defined as the maximum of the average parameter values of the batch emission episodes, or portions thereof, in the batch cycle selected to be controlled (i.e., identify the emission episode, or portion thereof, which requires the highest parameter value in order to assure compliance. The average parameter value that is necessary to assure compliance for that emission episode, or portion thereof, shall be the level for all emission episodes, or portions thereof, in the batch cycle, that are selected to be controlled).

(D) Alternatively, an average monitored parameter value shall be calculated for the entire batch cycle based on all values measured during each batch emission episode, or portion thereof, selected to be controlled.

(ii) Instead of establishing a single level for the batch cycle, as described in paragraph (b)(3)(i) of this section, an owner or operator may establish separate levels for each batch emission episode, or portion thereof, selected to be controlled. Each level shall be determined as specified in paragraph (b)(3)(i)(A) of this section.

* * * * *

(c) Establishment of parameter monitoring levels based on performance tests, supplemented by engineering assessments and/or manufacturer's recommendations. In cases where a performance test is required by this subpart, or the owner or operator elects to do a performance test in accordance with the provisions of this subpart, and the owner or operator elects to establish a parameter monitoring level for a control, recovery, or recapture device under this paragraph (c), the owner or operator shall supplement the parameter values measured during the performance test with engineering assessments and/or manufacturer's recommendations. Performance testing is not required to be conducted over the entire range of expected parameter values.

(d) Establishment of parameter monitoring based on engineering assessments and/or manufacturer's recommendations. In cases where a performance test is not required by this subpart and an owner or operator elects to establish a parameter monitoring level for a control, recovery, or recapture device under this paragraph (d), the determination of the parameter monitoring level shall be based exclusively on engineering assessments and/or manufacturer's recommendations.

(e) Demonstration of compliance with back-end process provisions using stripper parameter monitoring. If the owner or operator is demonstrating compliance with § 63.495 using stripper parameter monitoring, stripper parameter levels shall be established for each grade in accordance with paragraphs (e)(1) and (e)(2) of this section. A single set of stripper parameter levels may be representative of multiple grades.

* * * * *

(3) After the initial determinations, an owner or operator may add a grade, with corresponding stripper parameter levels, using the procedures in paragraphs (e)(1) and (e)(2) of this section. The results of this determination shall be submitted in the next periodic report.

* * * * *

(f) [Reserved]

(g) * * *

(1) With respect to storage vessels (where the applicable monitoring plan specifies continuous monitoring), continuous front-end process vents, aggregate batch vent streams, back-end process operations complying through the use of control or recovery devices, and process wastewater streams, an excursion means any of the three cases listed in paragraphs (g)(1)(i) through (g)(1)(iii) of this section. For a control or recovery device where multiple parameters are monitored, if one or more of the parameters meets the excursion criteria in paragraphs (g)(1)(i) through (g)(1)(iii) of this section, this is considered a single excursion for the control or recovery device. For each excursion, the owner or operator shall be deemed out of compliance with the provisions of this subpart, except as provided in paragraph (i) of this section.

* * * * *

(ii) When the period of control or recovery device operation, with the exception noted in paragraph (g)(1)(v) of this section, is 4 hours or greater in an operating day and monitoring data are insufficient, as defined in paragraph (g)(1)(iv) of this section, to constitute a valid hour of data for at least 75 percent of the operating hours.

(iii) When the period of control or recovery device operation, with the exception noted in paragraph (g)(1)(v) of this section, is less than 4 hours in an operating day and more than two of the hours during the period of operation do not constitute a valid hour of data due to insufficient monitoring data, as defined in paragraph (g)(1)(iv) of this section.

* * * * *

(v) The periods listed in paragraphs (g)(1)(v)(A) through (g)(1)(v)(E) of this section are not considered to be part of the period of control or recovery device operation, for the purposes of paragraphs (g)(1)(ii) and (g)(1)(iii) of this section.

(A) Monitoring system breakdowns, repairs, calibration checks, and zero (low-level) and high-level adjustments;

(B) Start-ups;

(C) Shutdowns;

(D) Malfunctions; or

(E) Periods of non-operation of the affected source (or portion thereof), resulting in cessation of the emissions to which the monitoring applies.

(2) With respect to batch front-end process vents, an excursion means one of the two cases listed in paragraphs (g)(2)(i) and (g)(2)(ii) of this section. For a control device where multiple parameters are monitored, if one or more of the parameters meets the excursion criteria in either paragraph (g)(2)(i) or (g)(2)(ii) of this section, this is considered a single excursion for the control device. For each excursion, the owner or operator shall be deemed out of compliance with the provisions of this subpart, except as provided in paragraph (i) of this section.

* * * * *

(ii) When monitoring data are insufficient for an operating day. Monitoring data shall be considered insufficient when measured values are not available for at least 75 percent of the 15-minute periods when batch emission episodes selected to be controlled are being vented to the control device during the operating day, using the procedures specified in paragraphs (g)(2)(ii)(A) through (g)(2)(ii)(D) of this section.

(A) Determine the total amount of time during the operating day when batch emission episodes selected to be controlled are being vented to the control device.

(B) Subtract the time during the periods listed in paragraphs (g)(2)(ii)(B)(1) through (g)(2)(ii)(B)(4) of this section from the total amount of time determined in paragraph (g)(2)(ii)(A) of this section, to obtain the operating time used to determine if monitoring data are insufficient.

(1) Monitoring system breakdowns, repairs, calibration checks, and zero (low-level) and high-level adjustments;

(2) Start-ups;

(3) Shutdowns; or

(4) Malfunctions.

(C) Determine the total number of 15-minute periods in the operating time used to determine if monitoring data are insufficient, as was determined in accordance with paragraph (g)(2)(ii)(B) of this section.

(D) If measured values are not available for at least 75 percent of the total number of 15-minute periods determined in paragraph (g)(2)(ii)(C) of this section, the monitoring data are insufficient for the operating day.

(3) For storage vessels where the applicable monitoring plan does not specify continuous monitoring, an excursion is defined in paragraph (g)(3)(i) or (ii) of this section, as applicable. For a control or recovery device where multiple parameters are monitored, if one or more of the parameters meets the excursion criteria, this is considered a single excursion for the control or recovery device. For each excursion, the owner or operator shall be deemed out of compliance with the provisions of this subpart, except as provided in paragraph (i) of this section.

(i) If the monitoring plan specifies monitoring a parameter and recording its value at specific intervals (such as every 15 minutes or every hour), either of the cases listed in paragraph (g)(3)(i)(A) or (g)(3)(i)(B) of this section is considered a single excursion for the control device.

(A) When the average value of one or more parameters, averaged over the duration of the filling period for the storage vessel, is above the maximum level or below the minimum level established for the given parameters.

(B) When monitoring data are insufficient. Monitoring data shall be considered insufficient when measured values are not available for at least 75 percent of the specific intervals at which parameters are to be monitored and recorded, according to the storage vessel's monitoring plan, during the filling period for the storage vessel.

(ii) If the monitoring plan does not specify monitoring a parameter and recording its value at specific intervals (for example, if the relevant operating requirement is to exchange a disposable carbon canister before expiration of its rated service life), the monitoring plan shall define an excursion in terms of the relevant operating requirement.

(h) * * *

(1) With respect to back-end process operations complying through the use of stripping technology, and demonstrating compliance by sampling, an excursion means one of the two cases listed in paragraphs (h)(1)(i) and (h)(1)(ii) of this section. For each excursion, the owner or operator shall be deemed out of compliance with the provisions of this subpart, except as provided in paragraph (i) of this section.

* * * * *

(2) With respect to back-end process operations complying through the use of stripping technology, and demonstrating compliance by stripper parameter monitoring, an excursion means one of the three cases listed in paragraphs (h)(2)(i), (h)(2)(ii), and (h)(2)(iii) of this section. For each excursion, the owner or operator shall be deemed out of compliance with the provisions of this subpart, except as provided in paragraph (i) of this section.

* * * * *

28. Section 63.506 is amended by:

a. Revising paragraph (a);

b. Revising paragraphs (b)(1) and (b)(2);

c. Revising paragraph (d) introductory text;

d. Revising paragraphs (d)(2) and (d)(3);

e. Revising paragraphs (d)(6) through (d)(9);

f. Revising paragraph (e) introductory text;

g. Revising paragraphs (e)(1) through (e)(3);

h. Revising paragraph (e)(4) introductory text;

i. Revising paragraph (e)(4)(i);

j. Revising paragraph (e)(4)(ii) introductory text;

k. Revising paragraph (e)(4)(ii)(B);

l. Revising paragraph (e)(4)(ii)(D);

m. Revising paragraphs (e)(4)(ii)(F)(1) and (e)(4)(ii)(F)(2);

n. Revising paragraphs (e)(4)(ii)(F)(4) and (e)(4)(ii)(F)(5);

o. Revising paragraph (e)(4)(ii)(G)(1);

p. Revising paragraph (e)(4)(ii)(H)(2);

q. Revising paragraph (e)(4)(ii)(H)(3)(i);

r. Revising paragraph (e)(4)(ii)(H)(4)(i);

s. Revising paragraphs (e)(4)(ii)(I) through (e)(4)(ii)(K);

t. Revising paragraph (e)(4)(ii)(L)(2);

u. Revising paragraph (e)(4)(iii);

v. Revising paragraph (e)(4)(iv) introductory text;

w. Revising paragraph (e)(4)(iv)(A) introductory text;

x. Revising paragraph (e)(4)(iv)(B) introductory text;

y. Revising paragraph (e)(4)(iv)(C);

z. Revising paragraph (e)(5) introductory text;

aa. Revising paragraph (e)(5)(i) introductory text;

bb. Revising paragraph (e)(5)(i)(A);

cc. Revising paragraph (e)(5)(ii) introductory text;

dd. Revising paragraph (e)(5)(iii);

ee. Revising paragraph (e)(5)(v);

ff. Revising paragraphs (e)(5)(vii) through (e)(5)(ix);

gg. Revising paragraph (e)(6) introductory text;

hh. Revising paragraphs (e)(6)(i) and (e)(6)(ii);

ii. Revising paragraph (e)(6)(iii)(A);

jj. Revising paragraph (e)(6)(iii)(B);

kk. Revising paragraph (e)(6)(iii)(D) introductory text;

ll. Revising paragraphs (e)(6)(iii)(D)(2) through (e)(6)(iii)(D)(4);

mm. Revising paragraph (e)(6)(iv);

nn. Revising paragraph (e)(6)(v)(B);

oo. Revising paragraph (e)(6)(vi) through (e)(6)(xi);

pp. Revising paragraph (e)(7) introductory text;

qq. Revising paragraphs (e)(7)(i) through (e)(7)(iii);

rr. Revising paragraph (e)(8);

ss. Revising paragraph (f) introductory text;

tt. Revising paragraph (f)(3) introductory text;

uu. Revising paragraph (g) introductory text;

vv. Revising paragraph (g)(1);

ww. Revising paragraph (g)(2)(ii)(D);

xx. Revising paragraph (g)(3) introductory text;

yy. Revising paragraph (g)(3)(i)(A);

zz. Revising paragraph (g)(4);

aaa. Revising paragraph (h) introductory text;

bbb. Revising paragraph (h)(1) introductory text;

ccc. Revising paragraph (h)(1)(ii)(B);

ddd. Revising paragraph (h)(1)(iv);

eee. Revising paragraph (h)(1)(vi) introductory text;

fff. Revising paragraphs (h)(1)(vi)(B) and (h)(1)(vi)(C);

ggg. Revising paragraph (h)(2)(i);

hhh. Revising paragraph (h)(2)(iii);

iii. Revising paragraph (h)(2)(iv)(A);

jjj. Removing paragraph (b)(1)(i)(D);

kkk. Removing paragraph (d)(10);

lll. Removing and reserving paragraph (c);

mmm. Removing and reserving paragraphs (d)(4) and (d)(5);

nnn. Removing and reserving paragraph (e)(5)(iv);

ooo. Removing and reserving paragraph (e)(6)(iii) (C);

ppp. Adding paragraph (e)(4)(ii)(N);

qqq. Adding paragraphs (e)(5)(x) through (e)(5)(xii);

rrr. Adding paragraph (e)(6)(iii)(D)(5);

sss. Adding paragraph (e)(6)(xii);

ttt. Adding paragraph (e)(7)(iv);

uuu. Adding paragraph (e)(7)(v); and

vvv. Adding paragraph (h)(1)(vi)(D).

The revisions and additions read as follows:

§ 63.506 General recordkeeping and reporting provisions.

(a) Data retention. Unless otherwise specified in this subpart, the owner or operator of an affected source shall keep copies of all applicable records and reports required by this subpart for at least 5 years, as specified in paragraph (a)(1) of this section, with the exception listed in paragraph (a)(2) of this section.

(1) All applicable records shall be maintained in such a manner that they can be readily accessed. The most recent 6 months of records shall be retained on site or shall be accessible from a central location by computer or other means that provide access within 2 hours after a request. The remaining 4 and one-half years of records may be retained offsite. Records may be maintained in hard copy or computer-readable form including, but not limited to, on microfilm, computer, floppy disk, magnetic tape, or microfiche.

(2) If an owner or operator submits copies of reports to the appropriate EPA Regional Office, the owner or operator is not required to maintain copies of reports. If the EPA Regional Office has waived the requirement of § 63.10(a)(4)(ii) for submittal of copies of reports, the owner or operator is not required to maintain copies of those reports.

(b) * * *

(1) Start-up, shutdown, and malfunction plan. The owner or operator of an affected source shall develop and implement a written start-up, shutdown, and malfunction plan as specified in § 63.6(e)(3). This plan shall describe, in detail, procedures for operating and maintaining the affected source during periods of start-up, shutdown, and malfunction and a program for corrective action for malfunctioning process and air pollution control equipment used to comply with this subpart. Inclusion of Group 2 emission points is not required, unless these points are included in an emissions average. For equipment leaks (subject to § 63.502), the start-up, shutdown, and malfunction plan requirement is limited to control devices and is optional for other equipment. For equipment leaks, the start-up, shutdown, and malfunction plan may include written procedures that identify conditions that justify a delay of repair. A provision for ceasing to collect, during a start-up, shutdown, or malfunction, monitoring data that would otherwise be required by the provisions of this subpart may be included in the start-up, shutdown, and malfunction plan only if the owner or operator has demonstrated to the Administrator, through the Precompliance Report or a supplement to the Precompliance Report, that the monitoring system would be damaged or destroyed if it were not shut down during the start-up, shutdown, or malfunction. The affected source shall keep the start-up, shutdown, and malfunction plan on-site. Records associated with the plan shall be kept as specified in paragraphs (b)(1)(i)(A) through (b)(1)(i)(C) of this section. Reports related to the plan shall be submitted as specified in paragraph (b)(1)(ii) of this section.

(i) Records of start-up, shutdown, and malfunction. The owner or operator shall keep the records specified in paragraphs (b)(1)(i)(A) through (b)(1)(i)(C) of this section.

(A) Records of the occurrence and duration of each start-up, shutdown, and malfunction of operation of process equipment or control devices or recovery devices or continuous monitoring systems used to comply with this subpart during which excess emissions (as defined in § 63.480(j)(4)) occur.

(B) For each start-up, shutdown, or malfunction during which excess emissions (as defined in § 63.480(j)(4)) occur, records reflecting whether the procedures specified in the affected source's start-up, shutdown, and malfunction plan were followed, and documentation of actions taken that are not consistent with the plan. For example, if a start-up, shutdown, and malfunction plan includes procedures for routing a control device to a backup control device, records shall be kept of whether the plan was followed. These records may take the form of a “checklist,” or other form of recordkeeping that confirms conformance with the start-up, shutdown, and malfunction plan for the event.

(C) Records specified in paragraphs (b)(1)(i)(A) through (b)(1)(i)(B) of this section are not required if they pertain solely to Group 2 emission points that are not included in an emissions average.

(ii) Reports of start-up, shutdown, and malfunction. For the purposes of this subpart, the semiannual start-up, shutdown, and malfunction reports shall be submitted on the same schedule as the Periodic Reports required under paragraph (e)(6) of this section instead of the schedule specified in § 63.10(d)(5)(i). The reports shall include the information specified in § 63.10(d)(5)(i).

(2) Application for approval of construction or reconstruction. For new affected sources, each owner or operator shall comply with the provisions in § 63.5 regarding construction and reconstruction, excluding the provisions specified in § 63.5(d)(1)(ii)(H), (d)(1)(iii), (d)(2), and (d)(3)(ii).

(c) [Reserved]

(d) Recordkeeping and documentation. Owners or operators required to keep continuous records shall keep records as specified in paragraphs (d)(1) through (d)(7) of this section, unless an alternative recordkeeping system has been requested and approved as specified in paragraph (g) of this section, and except as provided in paragraph (h) of this section. If a monitoring plan for storage vessels pursuant to § 63.484(k) requires continuous records, the monitoring plan shall specify which provisions, if any, of paragraphs (d)(1) through (d)(7) of this section apply. As described in § 63.484(k), certain storage vessels are not required to keep continuous records as specified in this paragraph. Owners and operators of such storage vessels shall keep records as specified in the monitoring plan required by § 63.484(k). Paragraphs (d)(8) and (d)(9) of this section specify documentation requirements.

* * * * *

(2) The owner or operator shall record either each measured data value or block average values for 1 hour or shorter periods calculated from all measured data values during each period. If values are measured more frequently than once per minute, a single value for each minute may be used to calculate the hourly (or shorter period) block average instead of all measured values. Owners or operators of batch front-end process vents shall record each measured data value.

(3) Daily average (or batch cycle daily average) values of each continuously monitored parameter shall be calculated for each operating day as specified in paragraphs (d)(3)(i) through (d)(3)(ii) of this section, except as specified in paragraphs (d)(6) and (d)(7) of this section.

(i) The daily average value or batch cycle daily average shall be calculated as the average of all parameter values recorded during the operating day, except as specified in paragraph (d)(7) of this section. For batch front-end process vents, as specified in § 63.491(e)(2)(i), only parameter values measured during those batch emission episodes, or portions thereof, in the batch cycle that the owner or operator has chosen to control shall be used to calculate the average. The calculated average shall cover a 24-hour period if operation is continuous, or the number of hours of operation per operating day if operation is not continuous.

(ii) The operating day shall be the period that the owner or operator specifies in the operating permit or the Notification of Compliance Status for purposes of determining daily average values or batch cycle daily average values of monitored parameters.

(4) [Reserved]

(5) [Reserved]

(6) Records required when all recorded values are within the established limits. If all recorded values for a monitored parameter during an operating day are above the minimum level or below the maximum level established in the Notification of Compliance Status or operating permit, the owner or operator may record that all values were above the minimum level or below the maximum level rather than calculating and recording a daily average (or batch cycle daily average) for that operating day.

(7) Monitoring data recorded during periods identified in paragraphs (d)(7)(i) through (d)(7)(v) of this section shall not be included in any average computed under this subpart. Records shall be kept of the times and durations of all such periods and any other periods during process or control device or recovery device operation when monitors are not operating.

(i) Monitoring system breakdowns, repairs, calibration checks, and zero (low-level) and high-level adjustments;

(ii) Start-ups;

(iii) Shutdowns;

(iv) Malfunctions; or

(v) Periods of non-operation of the affected source (or portion thereof), resulting in cessation of the emissions to which the monitoring applies.

(8) For continuous monitoring systems used to comply with this subpart, records documenting the completion of calibration checks, and records documenting the maintenance of continuous monitoring systems that are specified in the manufacturer's instructions or that are specified in other written procedures that provide adequate assurance that the equipment would reasonably be expected to monitor accurately.

(9) The owner or operator of an affected source granted a waiver under § 63.10(f) shall maintain the information, if any, specified by the Administrator as a condition of the waiver of recordkeeping or reporting requirements.

(e) Reporting and notification. In addition to the reports and notifications required by subpart A, as specified in Table 1 of this subpart, the owner or operator of an affected source shall prepare and submit the reports listed in paragraphs (e)(3) through (e)(8) of this section, as applicable. All reports required by this subpart, and the schedule for their submittal, are listed in Table 9 of this subpart.

(1) Owners and operators shall not be in violation of the reporting requirements of this subpart for failing to submit information required to be included in a specified report if the owner or operator meets the requirements in paragraphs (e)(1)(i) through (e)(1)(iii) of this section. Examples of circumstances where this paragraph may apply include information related to newly-added equipment or emission points, changes in the process, changes in equipment required or utilized for compliance with the requirements of this subpart, or changes in methods or equipment for monitoring, recordkeeping, or reporting.

(i) The information was not known in time for inclusion in the report specified by this subpart;

(ii) The owner or operator has been diligent in obtaining the information; and

(iii) The owner or operator submits a report according to the provisions of paragraphs (e)(1)(iii)(A) through (e)(1)(iii)(C) of this section.

(A) If this subpart expressly provides for supplements to the report in which the information is required, the owner or operator shall submit the information as a supplement to that report. The information shall be submitted no later than 60 days after it is obtained, unless otherwise specified in this subpart.

(B) If this subpart does not expressly provide for supplements, but the owner or operator must submit a request for revision of an operating permit pursuant to part 70 or part 71, due to circumstances to which the information pertains, the owner or operator shall submit the information with the request for revision to the operating permit.

(C) In any case not addressed by paragraph (e)(1)(iii)(A) or (e)(1)(iii)(B) of this section, the owner or operator shall submit the information with the first Periodic Report, as required by this subpart, which has a submission deadline at least 60 days after the information is obtained.

(2) All reports required under this subpart shall be sent to the Administrator at the appropriate address listed in § 63.13. If acceptable to both the Administrator and the owner or operator of a source, reports may be submitted on electronic media.

(3) Precompliance Report. Owners or operators of affected sources requesting an extension for compliance; requesting approval to use alternative monitoring parameters, alternative continuous monitoring and recordkeeping, or alternative controls; requesting approval to use engineering assessment to estimate emissions from a batch emissions episode, as described in § 63.488(b)(6)(i); wishing to establish parameter monitoring levels according to the procedures contained in § 63.505(c) or (d); or requesting approval to incorporate a provision for ceasing to collect monitoring data, during a start-up, shutdown, or malfunction, into the start-up, shutdown, and malfunction plan, when that monitoring equipment would be damaged if it did not cease to collect monitoring data, as permitted under § 63.480(j)(3), shall submit a Precompliance Report according to the schedule described in paragraph (e)(3)(i) of this section. The Precompliance Report shall contain the information specified in paragraphs (e)(3)(ii) through (e)(3)(viii) of this section, as appropriate.

(i) Submittal dates. The Precompliance Report shall be submitted to the Administrator no later than December 19, 2000. If a Precompliance Report was submitted prior to June 19, 2000 and no changes need to be made to that Precompliance Report, the owner or operator shall re-submit the earlier report or submit notification that the previously submitted report is still valid. Unless the Administrator objects to a request submitted in the Precompliance Report within 45 days after its receipt, the request shall be deemed approved. For new affected sources, the Precompliance Report shall be submitted to the Administrator with the application for approval of construction or reconstruction required in paragraph (b)(2) of this section. Supplements to the Precompliance Report may be submitted as specified in paragraph (e)(3)(ix) of this section.

(ii) A request for an extension for compliance, as specified in § 63.481(e), may be submitted in the Precompliance Report. The request for a compliance extension shall include the data outlined in § 63.6(i)(6)(i)(A), (B), and (D), as required in § 63.481(e)(1).

(iii) The alternative monitoring parameter information required in paragraph (f) of this section shall be submitted in the Precompliance Report if, for any emission point, the owner or operator of an affected source seeks to comply through the use of a control technique other than those for which monitoring parameters are specified in this subpart or in subpart G of this part, or seeks to comply by monitoring a different parameter than those specified in this subpart or in subpart G of this part.

(iv) If the affected source seeks to comply using alternative continuous monitoring and recordkeeping as specified in paragraph (g) of this section, the owner or operator shall submit a request for approval in the Precompliance Report.

(v) The owner or operator shall report the intent to use alternative controls to comply with the provisions of this subpart in the Precompliance Report. The Administrator may deem alternative controls to be equivalent to the controls required by the standard, under the procedures outlined in § 63.6(g).

(vi) If a request for approval to use engineering assessment to estimate emissions from a batch emissions episode, as described in § 63.488(b)(6)(i)(C) is being made, the information required by § 63.488(b)(6)(iii)(B) shall be submitted in the Precompliance Report.

(vii) If an owner or operator establishes parameter monitoring levels according to the procedures contained in § 63.505(c) or (d), the following information shall be submitted in the Precompliance Report:

(A) Identification of which procedures (i.e., § 63.505(c) or (d)) are to be used; and

(B) A description of how the parameter monitoring level is to be established. If the procedures in § 63.505(c) are to be used, a description of how performance test data will be used shall be included.

(viii) If the owner or operator is requesting approval to incorporate a provision for ceasing to collect monitoring data, during a start-up, shutdown, or malfunction, into the start-up, shutdown, and malfunction plan, when that monitoring equipment would be damaged if it did not cease to collect monitoring data, the information specified in paragraphs (e)(3)(viii)(A) and (B) shall be supplied in the Precompliance Report or in a supplement to the Precompliance Report. The Administrator shall evaluate the supporting documentation and shall approve the request only if, in the Administrator's judgment, the specific monitoring equipment would be damaged by the contemporaneous start-up, shutdown, or malfunction.

(A) Documentation supporting a claim that the monitoring equipment would be damaged by the contemporaneous start-up, shutdown, or malfunction; and

(B) A request to incorporate such a provision for ceasing to collect monitoring data during a start-up, shutdown, or malfunction, into the start-up, shutdown, and malfunction plan.

(ix) Supplements to the Precompliance Report may be submitted as specified in paragraph (e)(3)(ix)(A), or (e)(3)(ix)(B) of this section. Unless the Administrator objects to a request submitted in a supplement to the Precompliance Report within 45 days after its receipt, the request shall be deemed approved.

(A) Supplements to the Precompliance Report may be submitted to clarify or modify information previously submitted.

(B) Supplements to the Precompliance Report may be submitted to request approval to use alternative monitoring parameters, as specified in paragraph (e)(3)(iii) of this section; to use alternative continuous monitoring and recordkeeping, as specified in paragraph (e)(3)(iv) of this section; to use alternative controls, as specified in paragraph (e)(3)(v) of this section; to use engineering assessment to estimate emissions from a batch emissions episode, as specified in paragraph (e)(3)(vi) of this section; to establish parameter monitoring levels according to the procedures contained in § 63.505(c) or (d), as specified in paragraph (e)(3)(vii) of this section; or to include a provision for ceasing to collect monitoring data during a start-up, shutdown, or malfunction, in the start-up, shutdown, and malfunction plan, when that monitoring equipment would be damaged if it did not cease to collect monitoring data, as specified in paragraph (e)(3)(viii) of this section.

(4) Emissions Averaging Plan. For all existing affected sources using emissions averaging, an Emissions Averaging Plan shall be submitted for approval according to the schedule and procedures described in paragraph (e)(4)(i) of this section. The Emissions Averaging Plan shall contain the information specified in paragraph (e)(4)(ii) of this section, unless the information required in paragraph (e)(4)(ii) of this section is submitted with an operating permit application. An owner or operator of an affected source who submits an operating permit application instead of an Emissions Averaging Plan shall submit the information specified in paragraph (e)(8) of this section. In addition, a supplement to the Emissions Averaging Plan, as required under paragraph (e)(4)(iii) of this section, is to be submitted whenever additional alternative controls or operating scenarios may be used to comply with this subpart. Updates to the Emissions Averaging Plan shall be submitted in accordance with paragraph (e)(4)(iv) of this section.

(i) Submittal and approval. The Emissions Averaging Plan shall be submitted no later than September 19, 2000, and is subject to Administrator approval. If an Emissions Averaging Plan was submitted prior to June 19, 2000 and no changes need to be made to that Emissions Averaging Plan, the owner or operator shall re-submit the earlier plan or submit notification that the previously submitted plan is still valid. The Administrator shall determine within 120 days whether the Emissions Averaging Plan submitted presents sufficient information. The Administrator shall either approve the Emissions Averaging Plan, request changes, or request that the owner or operator submit additional information. Once the Administrator receives sufficient information, the Administrator shall approve, disapprove, or request changes to the plan within 120 days.

(ii) Information required. The Emissions Averaging Plan shall contain the information listed in paragraphs (e)(4)(ii)(A) through (e)(4)(ii)(N) of this section for all emission points included in an emissions average.

* * * * *

(B) The required information shall include the projected emission debits and credits for each emission point and the sum for the emission points involved in the average calculated according to § 63.503. The projected credits shall be greater than or equal to the projected debits, as required under § 63.503(e)(3).

* * * * *

(D) The required information shall include the specific identification of each emission point affected by a pollution prevention measure. To be considered a pollution prevention measure, the criteria in § 63.503(j)(1) shall be met. If the same pollution prevention measure reduces or eliminates emissions from multiple emission points in the average, the owner or operator shall identify each of these emission points.

* * * * *

(F) * * *

(1) The required documentation shall include the values of the parameters used to determine whether the emission point is Group 1 or Group 2. Where a TRE index value is used for continuous front-end process vent group determination, the estimated or measured values of the parameters used in the TRE equation in § 63.115(d) and the resulting TRE index value shall be submitted.

(2) The required documentation shall include the estimated values of all parameters needed for input to the emission debit and credit calculations in § 63.503(g) and (h). These parameter values shall be specified in the affected source's Emissions Averaging Plan (or operating permit) as enforceable operating conditions. Changes to these parameters shall be reported in an update to the Emissions Averaging Plan, as required by paragraph (e)(4)(iv)(B)(2) of this section.

* * * * *

(4) The required documentation shall include the anticipated nominal efficiency if a control technology achieving a greater percent emission reduction than the efficiency of the reference control technology is or will be applied to the emission point. The procedures in § 63.503(i) shall be followed to apply for a nominal efficiency, and the report specified in paragraph (e)(7)(ii) of this section shall be submitted with the Emissions Averaging Plan as specified in paragraph (e)(7)(ii)(A) of this section.

(5) The required documentation shall include the monitoring plan specified in § 63.122(b), to include the information specified in § 63.120(d)(2)(i) and in either § 63.120(d)(2)(ii) or (d)(2)(iii) for each storage vessel controlled with a closed-vent system using a control device other than a flare.

(G) * * *

(1) Each continuous front-end process vent subject to § 63.485 controlled by a pollution prevention measure or control technique for which monitoring parameters or inspection procedures are not specified in § 63.114; and

* * * * *

(H) * * *

(2) The required documentation shall include the estimated values of all parameters needed for input to the wastewater emission credit and debit calculations in § 63.503(g)(5) and (h)(5). These parameter values shall be specified in the affected source's Emissions Averaging Plan (or operating permit) as enforceable operating conditions. Changes to these parameters shall be reported as required by paragraph (e)(4)(iv)(B)(2) of this section.

(3) * * *

(i) A control technology that achieves an emission reduction less than or equal to the emission reduction that would otherwise have been achieved by a steam stripper designed to the specifications found in § 63.138(g) is or will be applied to the wastewater stream, or

* * * * *

(4) * * *

(i) A control technology that achieves an emission reduction greater than the emission reduction that would have been achieved by a steam stripper designed to the specifications found in § 63.138(g), is or will be applied to the wastewater stream; or

* * * * *

(I) For each pollution prevention measure, treatment process, or control device used to reduce air emissions of organic HAP from wastewater and for which no monitoring parameters or inspection procedures are specified in § 63.143, the information specified in paragraph (f) of this section (Alternative Monitoring Parameters) shall be included in the Emissions Averaging Plan.

(J) The required information shall include documentation of the data required by estimated values of all parameters needed for input to the emission debit and credit calculations in § 63.503(g) and (h) for each process back-end operation included in an emissions average. These values shall be specified in the affected source's Emissions Averaging Plan (or operating permit) as enforceable operating conditions. Changes to these parameters shall be reported as required by paragraph (e)(4)(iv)(B)(2) of this section.

(K) The required information shall include documentation of the information required by § 63.503(k). The documentation shall demonstrate that the emissions from the emission points proposed to be included in the average will not result in greater hazard or, at the option of the Administrator, greater risk to human health or the environment than if the emission points were not included in an emissions average.

(L) * * *

(2) The required information shall include the estimated values of all parameters needed for input to the emission debit and credit calculations in § 63.503(g) and (h). These parameter values shall be specified in the affected source's Emissions Averaging Plan (or operating permit) as enforceable operating conditions. Changes to these parameters shall be reported as required by paragraph (e)(4)(iv) of this section.

* * * * *

(N) The required information shall include documentation of the data required by § 63.503(k). The documentation shall demonstrate that the emissions from the emission points proposed to be included in the emissions average will not result in greater hazard or, at the option of the Administrator, greater risk to human health or the environment than if the emission points were not included in an emissions average.

(iii) Supplement to Emissions Averaging Plan. The owner or operator required to prepare an Emissions Averaging Plan under paragraph (e)(4) of this section shall also prepare a supplement to the Emissions Averaging Plan for any additional alternative controls or operating scenarios that may be used to achieve compliance.

(iv) Updates to Emissions Averaging Plan. The owner or operator of an affected source required to submit an Emissions Averaging Plan under paragraph (e)(4) of this section shall also submit written updates of the Emissions Averaging Plan to the Administrator for approval under the circumstances described in paragraphs (e)(4)(iv)(A) through (e)(4)(iv)(C) of this section unless the relevant information has been included and submitted in an operating permit application or amendment.

(A) The owner or operator who plans to make a change listed in either paragraph (e)(4)(iv)(A)(1) or (e)(4)(iv)(A)(2) of this section shall submit an Emissions Averaging Plan update at least 120 days prior to making the change.

* * * * *

(B) The owner or operator who has made a change as defined in paragraph (e)(4)(iv)(B)(1) or (e)(4)(iv)(B)(2) of this section shall submit an Emissions Averaging Plan update within 90 days after the information regarding the change is known to the affected source. The update may be submitted in the next quarterly periodic report if the change is made after the date the Notification of Compliance Status is due.

* * * * *

(C) The Administrator shall approve or request changes to the Emissions Averaging Plan update within 120 days of receipt of sufficient information regarding the change for emission points included in emissions averages.

(5) Notification of Compliance Status. For existing and new affected sources, a Notification of Compliance Status shall be submitted. For equipment leaks subject to § 63.502, the owner or operator shall submit the information required in § 63.182(c) in the Notification of Compliance Status within 150 days after the first applicable compliance date for equipment leaks in the affected source, and an update shall be provided in the first Periodic Report that is due at least 150 days after each subsequent applicable compliance date for equipment leaks in the affected source. For all other emission points, including heat exchange systems, the Notification of Compliance Status shall contain the information listed in paragraphs (e)(5)(i) through (e)(5)(xii) of this section, as applicable, and shall be submitted no later than 150 days after the compliance dates specified in this subpart.

(i) The results of any emission point group determinations, process section applicability determinations, performance tests, inspections, continuous monitoring system performance evaluations, any other information used to demonstrate compliance, values of monitored parameters established during performance tests, and any other information required to be included in the Notification of Compliance Status under § 63.481(k), § 63.122, and § 63.484 for storage vessels, § 63.117 for continuous front-end process vents, § 63.492 for batch front-end process vents, § 63.499 for back-end process operations, § 63.146 for process wastewater, and § 63.503 for emission points included in an emissions average. In addition, the owner or operator of an affected source shall comply with paragraphs (e)(5)(i)(A) and (e)(5)(i)(B) of this section.

(A) For performance tests, group determinations, and process section applicability determinations that are based on measurements, the Notification of Compliance Status shall include one complete test report, as described in paragraph (e)(5)(i)(B) of this section, for each test method used for a particular kind of emission point. For additional tests performed for the same kind of emission point using the same method, the results and any other information, from the test report, that is requested on a case-by-case basis by the Administrator shall be submitted, but a complete test report is not required.

* * * * *

(ii) For each monitored parameter for which a maximum or minimum level is required to be established under § 63.114(e) and § 63.485(k) for continuous front-end process vents, § 63.489 for batch front-end process vents and aggregate batch vent streams, § 63.497 for back-end process operations, § 63.143(f) for process wastewater, § 63.503(m) for emission points in emissions averages, paragraph (e)(8) of this section, or paragraph (f) of this section, the information specified in paragraphs (e)(5)(ii)(A) through (e)(5)(ii)(E) of this section shall be submitted in the Notification of Compliance Status, unless this information has been established and provided in the operating permit application. Further, as described in § 63.484(k), for those storage vessels for which the monitoring plan required by § 63.484(k) specifies compliance with the provisions of § 63.505, the owner or operator shall provide the information specified in paragraphs (e)(5)(ii)(A) through (e)(5)(ii)(D) of this section for each monitoring parameter, unless this information has been established and provided in the operating permit application. For those storage vessels for which the monitoring plan required by § 63.484(k) does not require compliance with the provisions of § 63.505, the owner or operator shall provide the information specified in § 63.120(d)(3) as part of the Notification of Compliance Status, unless this information has been established and provided in the operating permit application.

* * * * *

(iii) For emission points included in an emissions average, the Notification of Compliance Status shall contain the values of all parameters needed for input to the emission credit and debit equations in § 63.503(g) and (h), calculated or measured according to the procedures in § 63.503(g) and (h), and the resulting calculation of credits and debits for the first quarter of the year. The first quarter begins on the compliance date specified.

(iv) [Reserved.]

(v) The determination of applicability for flexible operation units as specified in § 63.480(f).

* * * * *

(vii) The results for each predominant use determination made under § 63.480(g), for storage vessels assigned to an affected source subject to this subpart.

(viii) The results for each predominant use determination made under § 63.480(h) for recovery operations equipment assigned to an affected source subject to this subpart.

(ix) For owners and operators of Group 2 batch front-end process vents establishing a batch mass input limitation, as specified in § 63.490(f), the affected source's operating year for purposes of determining compliance with the batch mass input limitation.

(x) If any emission point is subject to this subpart and to other standards as specified in § 63.481(k), and if the provisions of § 63.481(k) allow the owner or operator to choose which testing, monitoring, reporting, and recordkeeping provisions will be followed, then the Notification of Compliance Status shall indicate which rule's requirements will be followed for testing, monitoring, reporting, and recordkeeping.

(xi) An owner or operator who transfers a Group 1 wastewater stream or residual removed from a Group 1 wastewater stream for treatment pursuant to § 63.132(g) shall include in the Notification of Compliance Status the name and location of the transferee and a description of the Group 1 wastewater stream or residual sent to the treatment facility.

(xii) An owner or operator complying with paragraph (h)(1) of this section shall notify the Administrator of the election to comply with paragraph (h)(1) of this section as part of the Notification of Compliance Status, or as part of the appropriate Periodic Report, as specified in paragraph (e)(6)(ix) of this section.

(6) Periodic Reports. For existing and new affected sources, the owner or operator shall submit Periodic Reports as specified in paragraphs (e)(6)(i) through (e)(6)(xii) of this section. In addition, for equipment leaks subject to § 63.502, the owner or operator shall submit the information specified in § 63.182(d) under the conditions listed in § 63.182(d), and for heat exchange systems subject to § 63.502(n), the owner or operator shall submit the information specified in § 63.104(f)(2) as part of the Periodic Report required by this paragraph (e)(6). Section § 63.505 shall govern the use of monitoring data to determine compliance for Group 1 emission points and for Group 1 and Group 2 emission points included in emissions averages with the following exception: As discussed in § 63.484(k), for storage vessels to which the provisions of § 63.505 do not apply, as specified in the monitoring plan required by § 63.120(d)(2), the owner or operator is required to comply with the requirements set out in the monitoring plan, and monitoring records may be used to determine compliance.

(i) Except as specified in paragraphs (e)(6)(xi) and (e)(6)(xii) of this section, a report containing the information in paragraph (e)(6)(ii) of this section or paragraphs (e)(6)(iii) through (e)(6)(x) of this section, as appropriate, shall be submitted semiannually no later than 60 days after the end of each 6-month period. The first report shall be submitted no later than 240 days after the date the Notification of Compliance Status is due and shall cover the 6-month period beginning on the date the Notification of Compliance Status is due.

(ii) If none of the compliance exceptions in paragraphs (e)(6)(iii) through (e)(6)(ix) of this section occurred during the 6-month period, the Periodic Report required by paragraph (e)(6)(i) of this section shall be a statement that there were no compliance exceptions as described in this paragraph for the 6-month period covered by that report and that none of the activities specified in paragraphs (e)(6)(iii) through (e)(6)(ix) of this section occurred during the 6-month period covered by that report.

(iii) * * *

(A) All information specified in § 63.122(a)(4) for storage vessels, §§ 63.117(a)(3) and 63.118(f) and 63.485(s)(5) for continuous front-end process vents, § 63.492 for batch front-end process vents and aggregate batch vent streams, § 63.499 for back-end process operations, § 63.104(b)(4) for heat exchange systems, and §§ 63.146(c) through 63.146(f) for process wastewater.

(B) The daily average values or batch cycle daily average values of monitored parameters for all excursions, as defined in § 63.505(g) and § 63.505(h). For excursions caused by lack of monitoring data, the start-time and duration of periods when monitoring data were not collected shall be specified.

(C) [Reserved]

(D) The information in paragraphs (e)(6)(iii)(D)(1) through (e)(6)(iii)(D)(5) of this section, as applicable:

* * * * *

(2) Notification if a process change is made such that the group status of any emission point changes from Group 2 to Group 1. The owner or operator is not required to submit a notification of a process change if that process change caused the group status of an emission point to change from Group 1 to Group 2. However, until the owner or operator notifies the Administrator that the group status of an emission point has changed from Group 1 to Group 2, the owner or operator is required to continue to comply with the Group 1 requirements for that emission point. This notification may be submitted at any time.

(3) Notification if one or more emission points (other than equipment leaks) or one or more EPPU is added to an affected source. The owner or operator shall submit the information contained in paragraphs (e)(6)(iii)(D)(3)(i) through (e)(6)(iii)(D)(3)(ii) of this section.

(i) A description of the addition to the affected source; and

(ii) Notification of the group status of the additional emission point or all emission points in the EPPU.

(4) Notification if a standard operating procedure, as defined in § 63.500(a)(2), is changed and the change has the potential for increasing the concentration of carbon disulfide in the crumb dryer exhaust. This notification shall also include test results of the carbon disulfide concentration resulting from the new standard operating procedure.

(5) For process wastewater streams sent for treatment pursuant to § 63.132(g), reports of changes in the identity of the treatment facility or transferee.

* * * * *

(iv) For each batch front-end process vent with a batch mass input limitation, every second Periodic Report shall include the mass of HAP or material input to the batch unit operation during the 12-month period covered by the preceding and current Periodic Reports, and a statement of whether the batch front-end process vent was in or out of compliance with the batch mass input limitation.

(v) * * *

(B) For additional tests performed for the same kind of emission point using the same method, results and any other information, pertaining to the performance test, that is requested on a case-by-case basis by the Administrator shall be submitted, but a complete test report is not required.

(vi) Notification of a change in the primary product of an EPPU, in accordance with the provisions in § 63.480(f). This includes a change in primary product from one elastomer product to either another elastomer product or to a non-elastomer product.

(vii) The results for each change made to a predominant use determination made under § 63.480(g) for a storage vessel that is assigned to an affected source subject to this subpart after the change.

(viii) The results for each change made to a predominant use determination made under § 63.480(h) for recovery operations equipment assigned to an affected source subject to this subpart after the change.

(ix) An owner or operator complying with paragraph (h)(1) of this section shall notify the Administrator of the election to comply with paragraph (h)(1) of this section as part of the Periodic Report or as part of the Notification of Compliance Status as specified in paragraph (e)(5)(xi) of this section.

(x) An owner or operator electing not to retain daily average or batch cycle daily average values under paragraph (h)(2) of this section shall notify the Administrator as specified in paragraph (h)(2)(i) of this section.

(xi) The owner or operator of an affected source shall submit quarterly reports for all emission points included in an emissions average as specified in paragraphs (e)(6)(xi)(A) through (e)(6)(xi)(C) of this section.

(A) The quarterly reports shall be submitted no later than 60 days after the end of each quarter. The first report shall be submitted with the Notification of Compliance Status no later than 150 days after the compliance date.

(B) The quarterly reports shall include the information specified in paragraphs (e)(6)(xi)(B)(1) through (e)(6)(xi)(B)(7) of this section for all emission points included in an emissions average.

(1) The credits and debits calculated each month during the quarter;

(2) A demonstration that debits calculated for the quarter are not more than 1.30 times the credits calculated for the quarter, as required under § 63.503(e)(4);

(3) The values of any inputs to the debit and credit equations in § 63.503(g) and (h) that change from month to month during the quarter or that have changed since the previous quarter;

(4) Results of any performance tests conducted during the reporting period including one complete report for each test method used for a particular kind of emission point as described in paragraph (e)(6)(v) of this section;

(5) Reports of daily average values or batch cycle daily averages of monitored parameters for excursions as defined in § 63.505(g) or (h);

(6) For excursions caused by lack of monitoring data, the duration of periods when monitoring data were not collected shall be specified; and

(7) Any other information the affected source is required to report under the operating permit or Emissions Averaging Plan for the affected source.

(C) Every fourth quarterly report shall include the following:

(1) A demonstration that annual credits are greater than or equal to annual debits as required by § 63.503(e)(3); and

(2) A certification of compliance with all the emissions averaging provisions in § 63.503.

(xii) The owner or operator of an affected source shall submit quarterly reports for particular emission points and process sections not included in an emissions average as specified in paragraphs (e)(6)(xii)(A) through (e)(6)(xii)(D) of this section.

(A) The owner or operator of an affected source shall submit quarterly reports for a period of 1 year for an emission point or process section that is not included in an emissions average if:

(1) A control or recovery device for a particular emission point or process section has more excursions, as defined in § 63.505(g) or § 63.505(h), than the number of excused excursions allowed under § 63.505(i) for a semiannual reporting period; or

(2) The Administrator requests that the owner or operator submit quarterly reports for the emission point or process section.

(B) The quarterly reports shall include all information specified in paragraphs (e)(6)(iii) through (e)(6)(ix) of this section, as applicable to the emission point or process section for which quarterly reporting is required under paragraph (e)(6)(xii)(A) of this section. Information applicable to other emission points within the affected source shall be submitted in the semiannual reports required under paragraph (e)(6)(i) of this section.

(C) Quarterly reports shall be submitted no later than 60 days after the end of each quarter.

(D) After quarterly reports have been submitted for an emission point for 1 year without more excursions occurring (during that year) than the number of excused excursions allowed under § 63.505(i), the owner or operator may return to semiannual reporting for the emission point or process section.

(7) Other reports. Other reports shall be submitted as specified in paragraphs (e)(7)(i) through (e)(7)(v) of this section.

(i) For storage vessels, the notifications of inspections required by § 63.484 shall be submitted, as specified in § 63.122(h)(1) and (h)(2).

(ii) For owners or operators of affected sources required to request approval for a nominal control efficiency for use in calculating credits for an emissions average, the information specified in § 63.503(i) shall be submitted, as specified in paragraph (e)(7)(ii)(A) or (e)(7)(ii)(B) of this section, as appropriate.

(A) If use of a nominal control efficiency is part of the initial Emissions Averaging Plan described in paragraph (e)(4)(ii) of this section, the information in paragraph (e)(7)(iii) of this section shall be submitted with the Emissions Averaging Plan.

(B) If an owner or operator elects to use a nominal control efficiency after submittal of the initial Emissions Averaging Plan as described in paragraph (e)(4)(ii) of this section, the information required by paragraph (e)(7)(ii) of this section shall be submitted at the discretion of the owner or operator.

(iii) For back-end process operations using a control or recovery device to comply with §§ 63.493 through 63.500, the compliance redetermination report required by § 63.499(d) shall be submitted within 180 days after the process change.

(iv) When the conditions of §§ 63.480(f)(3)(iii), (f)(9), or 63.480(f)(10)(iii) are met, reports of changes to the primary product for an EPPU or process unit, as required by §§ 63.480(f)(3)(iii), 63.480(f)(9), or 63.480(f)(10)(iii)(C), respectively, shall be submitted.

(v) Owners or operators of EPPU or emission points (other than equipment leak components subject to § 63.502) that are subject to § 63.480(i)(1) or (i)(2) shall submit a report as specified in paragraphs (e)(7)(v)(A) and (B) of this section.

(A) Reports shall include:

(1) A description of the process change or addition, as appropriate;

(2) The planned start-up date and the appropriate compliance date, according to § 63.480(i)(1) or (2);

(3) Identification of the group status of emission points (except equipment leak components subject to the requirements in § 63.502) specified in paragraphs (e)(7)(v)(A)(3)(i) through (iii) of this section, as applicable.

(i) All the emission points in the added EPPU, as described in § 63.480(i)(1).

(ii) All the emission points in an affected source designated as a new affected source under § 63.480(i)(2)(i).

(iii) All the added or created emission points as described in § 63.480(i)(2)(ii) or (i)(2)(iii).

(4) If the owner or operator wishes to request approval to use alternative monitoring parameters, alternative continuous monitoring or recordkeeping, alternative controls, engineering assessment to estimate emissions from a batch emissions episode, or wishes to establish parameter monitoring levels according to the procedures contained in § 63.505(c) or (d), a Precompliance Report shall be submitted in accordance with paragraph (e)(7)(v)(B) of this section.

(B) Reports shall be submitted as specified in paragraphs (e)(7)(v)(B)(1) through (e)(7)(v)(B)(3) of this section, as appropriate.

(1) Owners or operators of an added EPPU subject to § 63.480(i)(1) shall submit a report no later than 180 days prior to the compliance date for the EPPU.

(2) Owners or operators of an affected source designated as a new affected source under § 63.480(i)(2)(i) shall submit a report no later than 180 days prior to the compliance date for the affected source.

(3) Owners and operators of any emission point (other than equipment leak components subject to § 63.502) subject to § 63.480(i)(2)(ii) or (i)(2)(iii) shall submit a report no later than 180 days prior to the compliance date for those emission points.

(8) Operating permit application. An owner or operator who submits an operating permit application instead of an Emissions Averaging Plan or a Precompliance Report shall include the following information with the operating permit application:

* * * * *

(f) Alternative monitoring parameters. The owner or operator of an affected source who has been directed by any section of this subpart, or any section of another subpart referenced by this subpart, that expressly references this paragraph (f) or § 63.151(f) to set unique monitoring parameters, or who requests approval to monitor a different parameter than those listed in § 63.484 for storage vessels, § 63.114 for continuous front-end process vents, § 63.489 for batch front-end process vents and aggregate batch vent streams, § 63.497 for back-end process operations, or § 63.143 for process wastewater shall submit the information specified in paragraphs (f)(1) through (f)(3) of this section in the Precompliance Report, as required by paragraph (e)(3) of this section. The owner or operator shall retain for a period of 5 years each record required by paragraphs (f)(1) through (f)(3) of this section.

(3) The required information shall include a description of the proposed monitoring, recordkeeping, and reporting system, to include the frequency and content of monitoring, recordkeeping, and reporting. Further, the rationale for the proposed monitoring, recordkeeping, and reporting system shall be included if either condition in paragraph (f)(3)(i) or (f)(3)(ii) of this section is met:

* * * * *

(g) Alternative continuous monitoring and recordkeeping. An owner or operator choosing not to implement the continuous parameter operating and recordkeeping provisions listed in § 63.485 for continuous front-end process vents, § 63.486 for batch front-end process vents and aggregate batch vent streams, § 63.493 for back-end process operations, and § 63.501 for process wastewater, may instead request approval to use alternative continuous monitoring and recordkeeping provisions according to the procedures specified in paragraphs (g)(1) through (g)(4) of this section. Requests shall be submitted in the Precompliance Report as specified in paragraph (e)(3)(iv) of this section, if not already included in the operating permit application, and shall contain the information specified in paragraphs (g)(2)(ii) and (g)(3)(ii) of this section, as applicable.

(1) The provisions in § 63.8(f)(5)(i) shall govern the review and approval of requests.

(2) * * *

(ii) * * *

(D) Demonstration to the Administrator's satisfaction that the proposed monitoring frequency is sufficient to represent control or recovery device operating conditions, considering typical variability of the specific process and control or recovery device operating parameter being monitored.

(3) An owner or operator may request approval to use an automated data compression recording system that does not record monitored operating parameter values at a set frequency, but that records all values that meet set criteria for variation from previously recorded values, in accordance with paragraphs (g)(3)(i) and (g)(3)(ii) of this section.

(i) * * *

(A) Measure the operating parameter value at least once during every 15 minute period;

* * * * *

(4) An owner or operator may request approval to use other alternative monitoring systems according to the procedures specified in § 63.8(f)(4).

(h) Reduced recordkeeping program. For any parameter with respect to any item of equipment, the owner or operator may implement the recordkeeping requirements in paragraph (h)(1) or (h)(2) of this section as alternatives to the continuous operating parameter monitoring and recordkeeping provisions that would otherwise apply under this subpart. The owner or operator shall retain for a period of 5 years each record required by paragraph (h)(1) or (h)(2) of this section, except as otherwise provided in paragraph (h)(1)(vi)(D) of this section.

(1) The owner or operator may retain only the daily average or the batch cycle daily average value, and is not required to retain more frequent monitored operating parameter values, for a monitored parameter with respect to an item of equipment, if the requirements of paragraphs (h)(1)(i) through (h)(1)(vi) of this section are met. An owner or operator electing to comply with the requirements of paragraph (h)(1) of this section shall notify the Administrator in the Notification of Compliance Status as specified in paragraph (e)(5)(xii) of this section, or, if the Notification of Compliance Status has already been submitted, in the Periodic Report immediately preceding implementation of the requirements of paragraph (h)(1) of this section, as specified in paragraph (e)(6)(ix) of this section.

* * * * *

(ii) * * *

(B) The running average is based on at least six one-hour average values; and

* * * * *

(iv) The monitoring system will alert the owner or operator by an alarm or other means, if the running average parameter value calculated under paragraph (h)(1)(ii) of this section reaches a set point that is appropriately related to the established limit for the parameter that is being monitored.

* * * * *

(vi) The owner or operator shall retain the records identified in paragraphs (h)(1)(vi)(A) through (h)(1)(vi)(D) of this section.

* * * * *

(B) A description of the applicable monitoring system(s), and how compliance will be achieved with each requirement of paragraphs (h)(1)(i) through (h)(1)(v) of this section. The description shall identify the location and format (e.g., on-line storage, log entries) for each required record. If the description changes, the owner or operator shall retain both the current and the most recent superseded description. The description, and the most recent superseded description, shall be retained as provided in paragraph (a) of this section, except as provided in paragraph (h)(1)(vi)(D) of this section.

(C) A description, and the date, of any change to the monitoring system that would reasonably be expected to impair its ability to comply with the requirements of paragraph (h)(1) of this section.

(D) Owners and operators subject to paragraph (h)(1)(vi)(B) of this section shall retain the current description of the monitoring system as long as the description is current. The current description shall, at all times, be retained on-site or be accessible from a central location by computer or other means that provides access within 2 hours after a request. The owner or operator shall retain all superseded descriptions for at least 5 years after the date of their creation. Superseded descriptions shall be retained on-site (or accessible from a central location by computer or other means that provides access within 2 hours after a request) for at least 6 months after their creation. Thereafter, superseded descriptions may be stored off-site.

(2) * * *

(i) If the owner or operator elects not to retain the daily average or batch cycle daily average values, the owner or operator shall notify the Administrator in the next Periodic Report as specified in paragraph (e)(6)(x) of this section. The notification shall identify the parameter and unit of equipment.

* * * * *

(iii) The owner or operator shall retain the records specified in paragraphs (h)(1)(i) through(h)(1)(iii) of this section, for the duration specified in paragraph (h) of this section. For any calendar week, if compliance with paragraphs (h)(1)(i) through (h)(1)(iii) of this section does not result in retention of a record of at least one occurrence or measured parameter value, the owner or operator shall record and retain at least one parameter value during a period of operation other than a start-up, shutdown, or malfunction.

(iv) * * *

(A) The daily average or batch cycle daily average value during any start-up, shutdown, or malfunction shall not be considered an excursion for purposes of paragraph (h)(2) of this section, if the owner or operator follows the applicable provisions of the start-up, shutdown, and malfunction plan required by § 63.6(e)(3).

* * * * *

28a. Revise Tables 1, 2, 5, 6, 7, and 8, and add Table 9 to Subpart U of part 63, to read as follows:

Table 1 to Subpart U of Part 63.—Applicability of General Provisions to Subpart U Affected Sources
Reference | Applies to subpart U | Explanation
63.1(a)(1) | Yes | § 63.482 specifies definitions in addition to or that supersede definitions in § 63.2.
63.1(a)(2) | Yes |
63.1(a)(3) | Yes | § 63.481(f) through (k) and § 63.160(b) identify those standards which may apply in addition to the requirements of subparts U and H of this part, and specify how compliance shall be achieved.
63.1(a)(4) | Yes | Subpart U (this table) specifies the applicability of each paragraph in subpart A to subpart U.
63.1(a)(5) | No | [Reserved.]
63.1(a)(6)-63.1(a)(8) | Yes |
63.1(a)(9) | No | [Reserved.]
63.1(a)(10) | Yes |
63.1(a)(11) | Yes |
63.1(a)(12)-63.1(a)(14) | Yes |
63.1(b)(1) | No | § 63.480(a) contains specific applicability criteria.
63.1(b)(2) | Yes |
63.1(b)(3) | No | § 63.480(b) provides documentation requirements for EPPUs not considered affected sources.
63.1(c)(1) | Yes | Subpart U (this table) specifies the applicability of each paragraph in subpart A to subpart U.
63.1(c)(2) | No | Area sources are not subject to subpart U.
63.1(c)(3) | No | [Reserved.]
63.1(c)(4) | Yes |
63.1(c)(5) | Yes | Except that affected sources are not required to submit notifications that are not required by subpart U.
63.1(d) | No | [Reserved.]
63.1(e) | Yes |
63.2 | Yes | § 63.482 specifies those subpart A definitions that apply to subpart U.
63.3 | Yes |
63.4(a)(1)-63.4(a)(3) | Yes |
63.4(a)(4) | No | [Reserved.]
63.4(a)(5) | Yes |
63.4(b) | Yes |
63.4(c) | Yes |
63.5(a)(1) | Yes | Except the terms “source” and “stationary source” should be interpreted as having the same meaning as “affected source”.
63.5(a)(2) | Yes |
63.5(b)(1) | Yes | Except § 63.480(i) defines when construction or reconstruction is subject to new source standards.
63.5(b)(2) | No | [Reserved.]
63.5(b)(3) | Yes
63.5(b)(4) | Yes | Except that the Initial Notification and § 63.9(b) requirements do not apply.
63.5(b)(5) | Yes
63.5(b)(6) | Yes | Except that § 63.480(i) defines when construction or reconstruction is subject to the new source standards.
63.5(c) | No | [Reserved.]
63.5(d)(1)(i) | Yes | Except that the references to the Initial Notification and § 63.9(b)(5) do not apply.
63.5(d)(1)(ii) | Yes | Except that § 63.5(d)(1)(ii)(H) does not apply.
63.5(d)(1)(iii) | No | § 63.506(e)(5) and § 63.502(f) specify Notification of Compliance Status requirements.
63.5(d)(2) | No
63.5(d)(3) | Yes | Except § 63.5(d)(3)(ii) does not apply, and equipment leaks subject to § 63.502 are exempt.
63.5(d)(4) | Yes
63.5(e) | Yes
63.5(f)(1) | Yes
63.5(f)(2) | Yes | Except that where § 63.9(b)(2) is referred to, the owner or operator need not comply.
63.6(a) | Yes
63.6(b)(1) | No | The dates specified in § 63.481(b) apply, instead.
63.6(b)(2) | No
63.6(b)(3) | No
63.6(b)(4) | No
63.6(b)(5) | No
63.6(b)(6) | No | [Reserved.]
63.6(b)(7) | No
63.6(c)(1) | Yes | § 63.481 specifies the compliance date.
63.6(c)(2) | No
63.6(c)(3) | No | [Reserved.]
63.6(c)(4) | No | [Reserved.]
63.6(c)(5) | Yes
63.6(d) | No | [Reserved.]
63.6(e) | Yes | Except as otherwise specified for individual paragraphs. Does not apply to Group 2 emission points, unless they are included in an emissions average.ᵃ
63.6(e)(1)(i) | No | This is addressed by § 63.480(j)(4).
63.6(e)(1)(ii) | Yes
63.6(e)(1)(iii) | Yes
63.6(e)(2) | Yes
63.6(e)(3)(i) | Yes | For equipment leaks (subject to § 63.502), the start-up, shutdown, and malfunction plan requirement of § 63.6(e)(3)(i) is limited to control devices and is optional for other equipment. The start-up, shutdown, and malfunction plan may include written procedures that identify conditions that justify a delay of repair.
63.6(e)(3)(i)(A) | No | This is addressed by § 63.480(j)(4).
63.6(e)(3)(i)(B) | Yes
63.6(e)(3)(i)(C) | Yes
63.6(e)(3)(ii) | Yes
63.6(e)(3)(iii) | No | Recordkeeping and reporting are specified in § 63.506(b)(1).
63.6(e)(3)(iv) | No | Recordkeeping and reporting are specified in § 63.506(b)(1).
63.6(e)(3)(v) | Yes
63.6(e)(3)(vi) | Yes
63.6(e)(3)(vii) | Yes
63.6(e)(3)(vii)(A) | Yes
63.6(e)(3)(vii)(B) | Yes | Except the plan shall provide for operation in compliance with § 63.480(j)(4).
63.6(e)(3)(vii)(C) | Yes
63.6(e)(3)(viii) | Yes
63.6(f)(1) | Yes
63.6(f)(2) | Yes | Except 63.7(c), as referred to in § 63.6(f)(2)(iii)(D) does not apply, and except that § 63.6(f)(2)(ii) does not apply to equipment leaks subject to § 63.502.
63.6(f)(3) | Yes
63.6(g) | Yes
63.6(h) | No | Subpart U does not require opacity and visible emission standards.
63.6(i)(1) | Yes
63.6(i)(2) | Yes
63.6(i)(3) | Yes
63.6(i)(4)(i)(A) | Yes
63.6(i)(4)(i)(B) | No | Dates are specified in § 63.481(e) and § 63.506(e)(3)(i).
63.6(i)(4)(ii) | No
63.6(i)(5)-(14) | Yes
63.6(i)(15) | No | [Reserved.]
63.6(i)(16) | Yes
63.6(j) | Yes
63.7(a)(1) | Yes
63.7(a)(2) | No | § 63.506(e)(5) specifies the submittal dates of performance test results for all emission points except equipment leaks; for equipment leaks, compliance demonstration results are reported in the Periodic Reports.
63.7(a)(3) | Yes
63.7(b) | No | § 63.504(a)(4) specifies notification requirements.
63.7(c) | No | Except if the owner or operator chooses to submit an alternative nonopacity emission standard for approval under § 63.6(g).
63.7(d) | Yes
63.7(e)(1) | Yes | Except that all performance tests shall be conducted at maximum representative operating conditions achievable at the time without disruption of operations or damage to equipment.
63.7(e)(2) | Yes
63.7(e)(3) | No | Subpart U specifies requirements.
63.7(e)(4) | Yes
63.7(f) | Yes | Except that § 63.144(b)(5)(iii)(A) & (B) shall apply for process wastewater. Also, since a site specific test plan is not required, the notification deadline in § 63.7(f)(2)(i) shall be 60 days prior to the performance test, and in § 63.7(f)(3) approval or disapproval of the alternative test method shall not be tied to the site specific test plan.
63.7(g) | Yes | Except that the requirements in § 63.506(e)(5) shall apply instead of references to the Notification of Compliance Status report in 63.9(h). In addition, equipment leaks subject to § 63.502 are not required to conduct performance tests.
63.7(h) | Yes | Except § 63.7(h)(4)(ii) is not applicable, since the site-specific test plans in § 63.7(c)(2) are not required.
63.8(a)(1) | Yes
63.8(a)(2) | No
63.8(a)(3) | No | [Reserved.]
63.8(a)(4) | Yes
63.8(b)(1) | Yes
63.8(b)(2) | No | Subpart U specifies locations to conduct monitoring.
63.8(b)(3) | Yes
63.8(c)(1) | Yes
63.8(c)(1)(i) | Yes
63.8(c)(1)(ii) | No | For all emission points except equipment leaks, comply with § 63.506(b)(1)(i)(B); for equipment leaks, comply with § 63.181(g)(2)(iii).
63.8(c)(1)(iii) | Yes
63.8(c)(2) | Yes
63.8(c)(3) | Yes
63.8(c)(4) | No | § 63.505 specifies monitoring frequency; not applicable to equipment leaks, because § 63.502 does not require continuous monitoring systems.
63.8(c)(5)-63.8(c)(8) | No
63.8(d) | No
63.8(e) | No
63.8(f)(1)-63.8(f)(3) | Yes
63.8(f)(4)(i) | No | Timeframe for submitting request is specified in § 63.506(f) or (g); not applicable to equipment leaks, because § 63.502 (through reference to subpart H) specifies acceptable alternative methods.
63.8(f)(4)(ii) | No | Contents of request are specified in § 63.506(f) or (g).
63.8(f)(4)(iii) | No
63.8(f)(5)(i) | Yes
63.8(f)(5)(ii) | No
63.8(f)(5)(iii) | Yes
63.8(f)(6) | No | Subpart U does not require CEM's.
63.8(g) | No | Data reduction procedures specified in § 63.506(d) and (h); not applicable to equipment leaks.
63.9(a) | Yes
63.9(b) | No | Subpart U does not require an initial notification.
63.9(c) | Yes
63.9(d) | Yes
63.9(e) | No | § 63.504(a)(4) specifies notification deadline.
63.9(f) | No | Subpart U does not require opacity and visible emission standards.
63.9(g) | No
63.9(h) | No | § 63.506(e)(5) specifies Notification of Compliance Status requirements.
63.9(i) | Yes
63.9(j) | No
63.10(a) | Yes
63.10(b)(1) | No | § 63.506(a) specifies record retention requirements.
63.10(b)(2) | No | Subpart U specifies recordkeeping requirements.
63.10(b)(3) | No | § 63.480(b) requires documentation of sources that are not affected sources.
63.10(c) | No | § 63.506 specifies recordkeeping requirements.
63.10(d)(1) | Yes
63.10(d)(2) | No | § 63.506(e)(5) specifies performance test reporting requirements; not applicable to equipment leaks.
63.10(d)(3) | No | Subpart U does not require opacity and visible emission standards.
63.10(d)(4) | Yes
63.10(d)(5)(i) | Yes | Except that reports required by § 63.10(d)(5)(i) shall be submitted at the same time as Periodic Reports specified in § 63.506(e)(6). The start-up, shutdown, and malfunction plan, and any records or reports of start-up, shutdown, and malfunction do not apply to Group 2 emission points unless they are included in an emissions average.
63.10(d)(5)(ii) | No
63.10(e) | No | § 63.506 specifies reporting requirements.
63.10(f) | Yes
63.11 | Yes | Except that instead of § 63.11(b), § 63.504(c) shall apply.
63.12 | Yes | Except that the authority of § 63.503(i) and the authority of § 63.177 (for equipment leaks) will not be delegated to States.
63.13-63.15 | Yes
ᵃ The plan and any records or reports of start-up, shutdown, and malfunction do not apply to Group 2 emission points unless they are included in an emissions average.

Table 2 to Subpart U of Part 63—Applicability of Subparts F, G, & H of This Part to Subpart U Affected Sources
Reference | Applies to subpart U | Explanation | Applicable section of subpart U
Subpart F
63.100 | No
63.101 | Yes | Several definitions from 63.101 are referenced in 63.482 | 63.482
63.102-63.103 | No
63.104-63.105 | Yes |  | 63.501 and 63.502
63.106-63.109 | No
Subpart G
63.110 | No
63.111 | Yes | Several definitions from 63.111 are referenced in 63.482 | 63.482
63.112 | No
63.113-63.118 | Yes | With the differences noted in 63.485(b) through 63.485(k) | 63.485
63.119-63.123 | Yes | With the differences noted in 63.484(c) through 63.484(s) | 63.484
63.124-63.125 | No | [Reserved.]
63.126-63.130 | No
63.131-63.147 | Yes | With the differences noted in 63.501(a)(1) through 63.501(a)(19) | 63.501
63.148-63.149 | Yes | With the differences noted in 63.484(c) through 63.484(s) and 63.501(a)(1) through 63.501(a)(23) | 63.484 and 63.501
63.150(a) through 63.150(f) | No
63.150(g)(1) and 63.150(g)(2) | No
63.150(g)(3) | Yes |  | 63.503(g)(3)
63.150(g)(4) | No
63.150(g)(5) | Yes |  | 63.503(g)(5)
63.150(h)(1) and 63.150(h)(2) | No
63.150(h)(3) | Yes |  | 63.503(h)(3)
63.150(h)(4) | No
63.150(h)(5) | Yes |  | 63.503(h)(5)
63.150(i) through 63.150(o) | No
63.151-63.152 | No
Subpart H
63.160-63.183 | Yes | Subpart U affected sources shall comply with all requirements of subpart H of this part, with the differences noted in § 63.502 | 63.502

* * * * *

Table 5 to Subpart U of Part 63—Known Organic HAP Emitted From the Production of Elastomer Products
Organic HAP/chemical name (CAS No.) | Elastomer product/subcategory: BR | Elastomer product/subcategory: EPI | Elastomer product/subcategory: EPR | Elastomer product/subcategory: HBR | Elastomer product/subcategory: HYP | Elastomer product/subcategory: NEO | Elastomer product/subcategory: NBL | Elastomer product/subcategory: NBR | Elastomer product/subcategory: PBR/SBRS | Elastomer product/subcategory: PSR | Elastomer product/subcategory: SBL | Elastomer product/subcategory: SBRE
Acrylonitrile (107131) |  |  |  |  |  |  | ✔ | ✔ |  |  |  |
1,3 Butadiene (106990) |  |  |  |  |  |  | ✔ | ✔ | ✔ |  | ✔ | ✔
Carbon Disulfide (75150) |  |  |  |  |  |  |  |  |  |  |  | ✔
Carbon Tetrachloride (56235) |  |  |  |  | ✔ |  |  |  |  |  |  |
Chlorobenzene (108907) |  |  |  |  | ✔ |  |  |  |  |  |  |
Chloroform (67663) |  |  |  |  | ✔ |  |  |  |  |  |  |
Chloroprene (126998) |  |  |  |  |  | ✔ |  |  |  |  |  |
Epichlorohydrin (106898) |  | ✔ |  |  |  |  |  |  |  |  |  |
Ethylbenzene (100414) | ✔ |  |  |  |  |  |  |  |  |  | ✔ |
Ethylene Dichloride (107062) |  |  |  |  |  |  |  |  |  | ✔ |  |
Ethylene Oxide (75218) |  | ✔ |  |  |  |  |  |  |  | ✔ |  |
Formaldehyde (50000) |  |  |  |  |  |  |  |  |  | ✔ |  |
Hexane (110543) | ✔ |  | ✔ |  |  |  |  |  | ✔ |  |  |
Methanol (67561) | ✔ |  |  |  |  |  |  |  | ✔ |  |  |
Methyl Chloride (74873) | ✔ |  |  |  | ✔ |  |  |  |  |  |  |
Propylene Oxide (75569) |  | ✔ |  |  |  |  |  |  |  |  |  |
Styrene (100425) |  |  |  |  |  |  |  |  | ✔ |  | ✔ | ✔
Toluene (108883) |  | ✔ | ✔ |  |  | ✔ |  |  | ✔ |  |  |
Xylenes (1330207) | ✔ |  |  |  |  |  |  |  |  |  |  |
Xylene (m-) (108383) | ✔ |  |  |  |  |  |  |  |  |  | ✔ |
Xylene (o-) (95476) | ✔ |  |  |  |  |  |  |  |  |  | ✔ |
Xylene (p-) (106423) | ✔ |  |  |  |  |  |  |  |  |  | ✔ |
CAS No. = Chemical Abstract Service Number
BR = Butyl Rubber
EPI = Epichlorohydrin Rubber
EPR = Ethylene Propylene Rubber
HBR = Halobutyl Rubber
HYP = Hypalon™
NEO = Neoprene
NBL = Nitrile Butadiene Latex
NBR = Nitrile Butadiene Rubber
PBR/SBRS = Polybutadiene and Styrene Butadiene Rubber by Solution
PSR = Polysulfide Rubber
SBL = Styrene Butadiene Latex
SBRE = Styrene Butadiene Rubber by Emulsion

Table 6 to Subpart U of Part 63—Group 1 Batch Front-End Process Vents and Aggregate Batch Vent Streams—Monitoring, Recordkeeping, and Reporting Requirements
Control/recovery device | Parameter to be monitored | Recordkeeping and reporting requirements for monitored parameters
Thermal Incinerator | Firebox temperature ᵃ | 1. Continuous records as specified in § 63.491(e)(1) ᵇ.
|  | 2. Record and report the average firebox temperature measured during the performance test NCS ᶜ.
|  | 3. Record the batch cycle daily average firebox temperature as specified in § 63.491(e)(2).
|  | 4. Report all batch cycle daily average temperatures that are below the minimum operating value established in the NCS or operating permit and all instances when monitoring data are not collected—PR d e.
Catalytic Incinerator | Temperature upstream and downstream of the catalyst bed | 1. Continuous records as specified in § 63.491(e)(1)ᵇ.
|  | 2. Record and report the average upstream and downstream temperatures and the average temperature difference across the catalyst bed measured during the performance test NCS ᶜ.
|  | 3. Record the batch cycle daily average upstream temperature and temperature difference across catalyst bed as specified in § 63.491(e)(2).
|  | 4. Report all batch cycle daily average upstream temperatures that are below the minimum upstream value established in the NCS or operating permit PR d e.
|  | 5. Report all batch cycle daily average temperature differences across the catalyst bed that are below the minimum difference established in the NCS or operating permit—PR d e.
|  | 6. Report all instances when monitoring data are not collected.
Boiler or Process Heater with a design heat input capacity less than 44 megawatts and where the batch front-end process vents or aggregate batch vent streams are not introduced with or used as the primary fuel | Firebox temperature ᵃ | 1. Continuous records as specified in § 63.491(e)(1).ᵇ
|  | 2. Record and report the average firebox temperature measured during the performance test—NCS.ᶜ
|  | 3. Record the batch cycle daily average firebox temperature as specified in § 63.491(e)(2).ᵈ
|  | 4. Report all batch cycle daily average temperatures that are below the minimum operating value established in the NCS or operating permit and all instances when monitoring data are not collected—PR.d e
Flare | Presence of a flame at the pilot light | 1. Hourly records of whether the monitor was continuously operating during batch emission episodes selected for control and whether a flame was continuously present at the pilot light during each hour.
|  | 2. Record and report the presence of a flame at the pilot light over the full period of the compliance determination—NCS.ᶜ
|  | 3. Record the times and durations of all periods during batch emission episodes when all flames at the pilot light of a flare are absent or the monitor is not operating.
|  | 4. Report the times and durations of all periods during batch emission episodes selected for control when all flames at the pilot light of a flare are absent—PR.ᵈ
Scrubber for halogenated batch front-end process vents or aggregate batch vent streams (Note: Controlled by a combustion device other than a flare) | pH of scrubber effluent, and | 1. Continuous records as specified in § 63.491(e)(1).ᵇ
|  | 2. Record and report the average pH of the scrubber effluent measured during the performance test—NCS.ᶜ
|  | 3. Record the batch cycle daily average pH of the scrubber effluent as specified in § 63.491(e)(2).
|  | 4. Report all batch cycle daily average pH values of the scrubber effluent that are below the minimum operating value established in the NCS or operating permit and all instances when insufficient monitoring data are collected—PR.d e
Scrubber for halogenated batch front-end process vents or aggregate batch vent streams (Note: Controlled by a combustion device other than a flare) (Continued) | Scrubber liquid and gas flow rates [§ 63.489 (b)(4)(ii)] | 1. Records as specified in § 63.491(e)(1).ᵇ 2. Record and report the scrubber liquid/gas ratio averaged over the full period of the performance test—NCS.ᶜ
|  | 3. Record the batch cycle daily average scrubber liquid/gas ratio as specified in § 63.491(e)(2).
|  | 4. Report all batch cycle daily average scrubber liquid/gas ratios that are below the minimum value established in the NCS or operating permit and all instances when insufficient monitoring data are collected—PR.d e
Absorber ᶠ | Exit temperature of the absorbing liquid, and | 1. Continuous records as specified in § 63.491(e)(1).ᵇ
|  | 2. Record and report the average exit temperature of the absorbing liquid measured during the performance test—NCS.ᶜ
|  | 3. Record the batch cycle daily average exit temperature of the absorbing liquid as specified in § 63.491(e)(2) for each batch cycle.
|  | 4. Report all the batch cycle daily average exit temperatures of the absorbing liquid that are below the minimum absorbing liquid exit temperature established in the NCS or operating permit and all instances when monitoring data are not collected—PR.d e
|  | Exit specific gravity of the absorbing liquid 1. Continuous records as specified in § 63.491(e)(1).ᵇ
|  | 2. Record and report the average exit specific gravity measured during the performance test—NCS.
|  | 3. Record the batch cycle daily average exit specific gravity as specified in § 63.491(e)(2).
|  | 4. Report all batch cycle daily average exit specific gravity values that are below the minimum operating value established in the NCS or operating permit and all instances when monitoring data are not collected—PR.d e
Condenser ᶠ | Exit (product side) temperature | 1. Continuous records as specified in § 63.491(e)(1).ᵇ
|  | 2. Record and report the average exit temperature measured during the performance test—NCS.
|  | 3. Record the batch cycle daily average exit temperature as specified in § 63.491(e)(2).
|  | 4. Report all batch cycle daily average exit temperatures that are above the maximum operating value established in the NCS or operating permit and all instances when monitoring data are not collected—PR.d, e
Carbon Adsorber ᶠ | Total regeneration steam flow or nitrogen flow, or pressure (gauge or absolute) during carbon bed regeneration cycle(s), and | 1. Record of total regeneration steam flow or nitrogen flow, or pressure for each carbon bed regeneration cycle.
|  | 2. Record and report the total regeneration steam flow or nitrogen flow, or pressure during each carbon bed regeneration cycle during the performance test—NCS.ᶜ
|  | 3. Report all carbon bed regeneration cycles when the total regeneration steam flow or nitrogen flow, or pressure is above the maximum value established in the NCS or operating permit—PR.d, e
| Temperature of the carbon bed after regeneration and within 15 minutes of completing any cooling cycle(s) | 1. Record the temperature of the carbon bed after each regeneration and within 15 minutes of completing any cooling cycle(s).
|  | 2. Record and report the temperature of the carbon bed after each regeneration and within 15 minutes of completing any cooling cycle(s) measured during the performance test—NCS.ᶜ
|  | 3. Report all carbon bed regeneration cycles when the temperature of the carbon bed after regeneration, or within 15 minutes of completing any cooling cycle(s), is above the maximum value established in the NCS or operating permit—PR.d, e
All Control Devices | Diversion to the atmosphere from the control device or | 1. Hourly records of whether the flow indicator was operating during batch emission episodes selected for control and whether a diversion was detected at any time during the hour, as specified in § 63.491(e)(3).
|  | 2. Record and report the times of all periods during batch emission episodes selected for control when emissions are diverted through a bypass line, or the flow indicator is not operating—PRᵈ
| Monthly inspections of sealed valves | 1. Records that monthly inspections were performed as specified in § 63.491(e)(4)(i).
|  | 2. Record and report all monthly inspections that show that valves are in the diverting position or that a seal has been broken—PRᵈ
Absorber, Condenser, and Carbon Adsorber (as an alternative to the above) | Concentration level or reading indicated by an organic monitoring device at the outlet of the recovery device | 1. Continuous records as specified in § 63.491(e)(1).ᵇ
|  | 2. Record and report the average batch vent concentration level or reading measured during the performance test—NCS.
|  | 3. Record the batch cycle daily average concentration level or reading as specified in § 63.491(e)(2).
|  | 4. Report all batch cycle daily average concentration levels or readings that are above the maximum values established in the NCS or operating permit and all instances when monitoring data are not collected—PR.d, e
ᵃ Monitor may be installed in the firebox or in the duct work immediately downstream of the firebox before any substantial heat exchange is encountered.
ᵇ “Continuous records” is defined in § 63.111.
ᶜ “NCS = Notification of Compliance Status described in § 63.506(e)(5).
ᵈ PR = Periodic Reports described in § 63.506(e)(6) of this subpart.
ᵉ The periodic reports shall include the duration of periods when monitoring data are not collected as specified in § 63.506(e)(6)(iii)(C) of this subpart.
ᶠ Alternatively, these devices may comply with the organic monitoring device provisions listed at the end of this table.

Table 7 to Subpart U of Part 63—Operating Parameters for Which Monitoring Levels Are Required To Be Established for Continuous and Batch Front-End Process Vents and Aggregate Batch Vent Streams
Control/recovery device | Parameters to be monitored | Established operating parameter(s)
Thermal incinerator | Firebox temperature | Minimum temperature.
Catalytic incinerator | Temperature upstream and downstream of the catalyst bed | Minimum upstream temperature; and minimum temperature difference across the catalyst bed.
Boiler or process heater | Firebox temperature | Minimum temperature.
Scrubber for halogenated vents | pH of scrubber effluent; and scrubber liquid and gas flow rates [§ 63.489(b)(4)(ii)] | Minimum pH; and minimum liquid/gas ratio.
Absorber | Exit temperature of the absorbing liquid; and exit specific gravity of the absorbing liquid | Maximum temperature; and maximum specific gravity.
Condenser | Exit temperature | Maximum temperature.
Carbon adsorber | Total regeneration steam flow or nitrogen flow, or pressure (gauge or absolute)ᵃ during carbon bed regeneration cycle; and temperature of the carbon bed after regeneration (and within 15 minutes of completing any cooling cycle(s)) | Maximum flow or pressure; and maximum temperature.
Other devices (or as an alternate to the above) ᵇ | HAP concentration level or reading at outlet of device | Maximum HAP concentration or reading.
ᵃ 25 to 50 mm (absolute) is a common pressure level obtained by pressure swing absorbers.
ᵇ Concentration is measured instead of an operating parameter.

Table 8 to Subpart U of Part 63—Summary of Compliance Alternative Requirements for the Back-End Process Provisions
Compliance alternative | Parameter to be monitored | Requirements
Compliance Using Stripping Technology, Demonstrated through Periodic Sampling [§ 63.495(b)] | Residual organic HAP content in each sample of crumb or latex | (1) If a stripper operated in batch mode is used, at least one representative sample is to be taken from every batch. (2) If a stripper operated in continuous mode is used, at least one representative sample is to be taken each operating day.
| Quantity of Material (weight of latex or dry crumb rubber) represented by each sample | (1) Acceptable methods of determining this quantity are production records, measurement of stream characteristics, and engineering calculations.
Compliance Using Stripping Technology, Demonstrated through Stripper Parameter Monitoring [§ 63.495(c)] | At a minimum, temperature, pressure, steaming rates (for steam strippers), and some parameter that is indicative of residence time | (1) Establish stripper operating parameter levels for each grade in accordance with § 63.505(e). (2) Continuously monitor stripper operating parameters. (3) If hourly average parameters are outside of the established operating parameter levels, a crumb or latex sample shall be taken in accordance with § 63.495(c)(3)(ii).
Determining Compliance Using Control or Recovery Devices [§ 63.496] | Parameters to be monitored are described in Table 3 of subpart G of this part | Comply with requirements listed in Table 3 of subpart G of this part, except for the requirements for halogenated vent stream scrubbers.

Table 9 to Subpart U of Part 63— Routine Reports Required by This Subpart
Reference | Description of report | Due date
§ 63.506(b) and Subpart A | Refer to § 63.506(b), Table 1 of this subpart, and to subpart A | Refer to subpart A.
§ 63.506(e)(3) | Precompliance Report ᵃ | Existing affected sources: 12 months prior to compliance date.
| New affected sources: with the application for approval of construction or reconstruction.
§ 63.506(e)(4) | Emissions Averaging Plan | 18 months prior to the compliance date.
§ 63.506(e)(4)(iv) | Updates to Emissions Averaging Plan | 120 days prior to making the change necessitating the update.
§ 63.506(e)(5) | Notification of Compliance Status ᵇ | Within 150 days after the compliance date.
§ 63.506(e)(6) | Periodic Reports | Semiannually, no later than 60 days after the end of each 6-month period. See § 63.506(e)(6)(i) for the due date for this report.
§ 63.506(e)(6)(xi) | Quarterly reports for Emissions Averaging | No later than 60 days after the end of each quarter. First report is due with the Notification of Compliance Status.
§ 63.506(e)(6)(xii) | Quarterly reports upon request of the Administrator | No later than 60 days after the end of each quarter.
§ 63.506(e)(7)(i) | Storage Vessels Notification of Inspection | At least 30 days prior to the refilling of each storage vessel or the inspection of each storage vessel.
§ 63.506(e)(7)(ii) | Requests for Approval of a Nominal Control Efficiency for Use in Emissions Averaging | Initial submittal is due with the Emissions Averaging Plan; later submittals are made at the discretion of the owner or operator as specified in § 63.506(e)(7)(ii)(B).
§ 63.506(e)(7)(iii) | Notification of Change in the Primary Product | For notification under § 63.480(f)(3)(ii) —notification submittal date at the discretion of the owner or operator.ᶜ For notification under § 63.480(f)(4)(ii) —within 6 months of making the determination.
ᵃ There may be two versions of this report due at different times; one for equipment subject to § 63.502 and one for other emission points subject to this subpart.
ᵇ There will be two versions of this report due at different times; one for equipment subject to § 63.502 and one for other emission points subject to this subpart.
ᶜ Note that the EPPU remains subject to this subpart until the notification under § 63.480(f)(3)(i) is made.

Subpart JJJ—National Emission Standards for Hazardous Air Pollutant Emissions: Group IV Polymers and Resins

29. Section 63.1310 is amended by:

a. Revising paragraph (a);

b. Revising paragraph (b);

c. Revising paragraph (c);

d. Revising paragraph (e);

e. Revising paragraph (f);

f. Revising paragraph (g) introductory text;

g. Revising paragraphs (g)(1) through (g)(4);

h. Revising paragraphs (g)(6) through (g)(8);

i. Revising paragraph (h);

j. Revising paragraph (i) introductory text;

k. Revising paragraph (i)(1) introductory text;

l. Revising paragraphs (i)(1)(i) and (i)(1)(ii);

m. Revising paragraph (i)(2)(i) introductory text;

n. Revising paragraph (i)(2)(i)(A);

o. Revising paragraphs (i)(2)(ii) and (i)(2)(iii);

p. Revising paragraphs (i)(3) through (i)(5);

q. Revising paragraph (j);

r. Adding paragraph (i)(2)(iv); and

s. Adding paragraph (i)(6).

The revisions and additions read as follows:

§ 63.1310 Applicability and designation of affected sources.

(a) Definition of affected source. The provisions of this subpart apply to each affected source. Affected sources are described in paragraphs (a)(1) through (a)(4) of this section.

(1) An affected source is either an existing affected source or a new affected source. Existing affected source is defined in paragraph (a)(2) of this section, and new affected source is defined in paragraph (a)(3) of this section.

(2) An existing affected source is defined as each group of one or more thermoplastic product process units (TPPU) and associated equipment, as listed in paragraph (a)(4) of this section that is not part of a new affected source, as defined in paragraph (a)(3) of this section, that is manufacturing the same primary product, and that is located at a plant site that is a major source.

(3) A new affected source is defined by the criteria in paragraph (a)(3)(i), (a)(3)(ii), or (a)( 3)(iii) of this section. The situation described in paragraph (a)(3)(i) of this section is distinct from those situations described in paragraphs (a)(3)(ii) and (a)(3)(iii) of this section and from any situation described in paragraph (i) of this section.

(i) At a site without HAP emission points before March 29, 1995 (i.e., a “greenfield” site), each group of one or more TPPU and associated equipment, as listed in paragraph (a)(4) of this section, that is manufacturing the same primary product and that is part of a major source on which construction commenced after March 29, 1995;

(ii) A group of one or more TPPU meeting the criteria in paragraph (i)(1)(i) of this section; or

(iii) A reconstructed affected source meeting the criteria in paragraph (i)(2)(i) of this section.

(4) Emission points and equipment. The affected source also includes the emission points and equipment specified in paragraphs (a)(4)(i) through (a)(4)(vi) of this section that are associated with each applicable group of one or more TPPU constituting an affected source.

(i) Each waste management unit.

(ii) Maintenance wastewater.

(iii) Each heat exchange system.

(iv) Each process contact cooling tower used in the manufacture of PET that is associated with a new affected source.

(v) Each process contact cooling tower used in the manufacture of PET using a continuous terephthalic acid high viscosity multiple end finisher process that is associated with an existing affected source.

(vi) Equipment required by, or utilized as a method of compliance with, this subpart which may include control devices and recovery devices.

(5) TPPUs and associated equipment, as listed in paragraph (a)(4) of this section, that are located at plant sites that are not major sources are neither affected sources nor part of an affected source.

(b) TPPUs without organic HAP. The owner or operator of a TPPU that is part of an affected source, as defined in paragraph (a) of this section, but that does not use or manufacture any organic HAP shall comply with the requirements of either paragraph (b)(1) or (b)(2) of this section. Such a TPPU is not subject to any other provisions of this subpart and is not required to comply with the provisions of subpart A of this part.

(1) Retain information, data, and analyses used to document the basis for the determination that the TPPU does not use or manufacture any organic HAP. Types of information that could document this determination include, but are not limited to, records of chemicals purchased for the process, analyses of process stream composition, engineering calculations, or process knowledge.

(2) When requested by the Administrator, demonstrate that the TPPU does not use or manufacture any organic HAP.

(c) Emission points not subject to the provisions of this subpart. The affected source includes the emission points listed in paragraphs (c)(1) through (c)(9) of this section, but these emission points are not subject to the requirements of this subpart or to the provisions of subpart A of this part.

(1) Equipment that does not contain organic HAP and is located within a TPPU that is part of an affected source;

(2) Stormwater from segregated sewers;

(3) Water from fire-fighting and deluge systems in segregated sewers;

(4) Spills;

(5) Water from safety showers;

(6) Water from testing of deluge systems;

(7) Water from testing of firefighting systems;

(8) Vessels and equipment storing and/or handling material that contain no organic HAP and/or organic HAP as impurities only; and

(9) Equipment that is intended to operate in organic HAP service for less than 300 hours during the calendar year.

* * * * *

(e) Applicability determination of nonthermoplastic equipment included within the boundaries of a TPPU. If a polymer that is not a thermoplastic product is produced within the equipment (i.e., collocated) making up a TPPU and at least 50 percent of that polymer is used in the production of a thermoplastic product manufactured by the same TPPU, then the unit operations involved in the production of that polymer are considered part of the TPPU and are subject to this subpart, with the following exception. Any emission points from such unit operations that are subject to another subpart of this part with an effective date prior to September 5, 1996 shall remain subject to that other subpart of this part and are not subject to this subpart.

(f) Primary product determination and applicability. An owner or operator of a process unit that produces or plans to produce a thermoplastic product shall determine if the process unit is subject to this subpart in accordance with this paragraph. The owner or operator shall initially determine whether a process unit is designated as a TPPU and subject to the provisions of this subpart in accordance with either paragraph (f)(1) or (f)(2) of this section. The owner or operator of a flexible operation unit that was not initially designated as a TPPU, but in which a thermoplastic product is produced, shall conduct an annual re-determination of the applicability of this subpart in accordance with paragraph (f)(3) of this section. Owners or operators that anticipate the production of a thermoplastic product in a process unit that was not initially designated as a TPPU, and in which no thermoplastic products are currently produced, shall determine if the process unit is subject to this subpart in accordance with paragraph (f)(4) of this section. Paragraphs (f)(3) and (f)(5) through (f)(7) of this section discuss compliance only for flexible operation units. Other paragraphs apply to all process units, including flexible operation units, unless otherwise noted. Paragraph (f)(8) of this section contains reporting requirements associated with the applicability determinations. Paragraphs (f)(9) and (f)(10) of this section describe criteria for removing the TPPU designation from a process unit.

(1) Initial determination. The owner or operator shall initially determine if a process unit is subject to the provisions of this subpart based on the primary product of the process unit in accordance with paragraphs (f)(1)(i) through (iii) of this section. If the process unit never uses or manufactures any organic HAP, regardless of the outcome of the primary product determination, the only requirements of this subpart that might apply to the process unit are contained in paragraph (b) of this section. If a flexible operation unit does not use or manufacture any organic HAP during the manufacture of one or more products, paragraph (f)(5)(i) of this section applies to that flexible operation unit.

(i) If a process unit only manufactures one product, then that product shall represent the primary product of the process unit.

(ii) If a process unit produces more than one intended product at the same time, the primary product shall be determined in accordance with paragraph (f)(1)(ii)(A) or (B) of this section.

(A) The product for which the process unit has the greatest annual design capacity on a mass basis shall represent the primary product of the process unit, or

(B) If a process unit has the same maximum annual design capacity on a mass basis for two or more products, and if one of those products is a thermoplastic product, then the thermoplastic product shall represent the primary product of the process unit.

(iii) If a process unit is designed and operated as a flexible operation unit, the primary product shall be determined as specified in paragraphs (f)(1)(iii)(A) or (B) of this section based on the anticipated operations for the 5 years following September 12, 1996 at existing process units, or for the first year after the process unit begins production of any product for new process units. If operations cannot be anticipated sufficiently to allow the determination of the primary product for the specified period, applicability shall be determined (in accordance with paragraph (f)(2) of this section.

(A) If the flexible operation unit will manufacture one product for the greatest operating time over the specified 5 year period for existing process units, or the specified 1 year period for new process units, then that product shall represent the primary product of the flexible operation unit.

(B) If the flexible operation unit will manufacture multiple products equally based on operating time, then the product with the greatest expected production on a mass basis over the specified 5 year period for existing process units, or the specified 1 year period for new process units shall represent the primary product of the flexible operation unit.

(iv) If, according to paragraph (f)(1)(i), (ii), or (iii) of this section, the primary product of a process unit is a thermoplastic product, then that process unit shall be designated as a TPPU. That TPPU and associated equipment, as listed in paragraph (a)(4) of this section is either an affected source or part of an affected source comprised of other TPPU and associated equipment, as listed in paragraph (a)(4) of this section, subject to this subpart with the same primary product at the same plant site that is a major source. If the primary product of a process unit is determined to be a product that is not a thermoplastic product, then that process unit is not a TPPU.

(2) If the primary product cannot be determined for a flexible operation unit in accordance with paragraph (f)(1)(iii) of this section, applicability shall be determined in accordance with this paragraph.

(i) If the owner or operator cannot determine the primary product in accordance with paragraph (f)(1)(iii) of this section, but can determine that a thermoplastic product is not the primary product, then that flexible operation unit is not a TPPU.

(ii) If the owner or operator cannot determine the primary product in accordance with paragraph (f)(1)(iii) of this section, and cannot determine that a thermoplastic product is not the primary product as specified in paragraph (f)(2)(i) of this section, applicability shall be determined in accordance with paragraph (f)(2)(ii)(A) or (f)(2)(ii)(B) of this section.

(A) If the flexible operation unit is an existing process unit, the flexible operation unit shall be designated as a TPPU if a thermoplastic product was produced for 5 percent or greater of the total operating time of the flexible operating unit since March 9, 1999. That TPPU and associated equipment, as listed in paragraph (a)(4) of this section, is either an affected source, or part of an affected source comprised of other TPPU and associated equipment, as listed in paragraph (a)(4) of this section, subject to this subpart with the same primary product at the same plant site that is a major source. For a flexible operation unit that is designated as an TPPU in accordance with this paragraph, the thermoplastic product produced for the greatest amount of time since March 9, 1999 shall be designated as the primary product of the TPPU.

(B) If the flexible operation unit is a new process unit, the flexible operation unit shall be designated as a TPPU if the owner or operator anticipates that a thermoplastic product will be manufactured in the flexible operation unit at any time in the first year after the date the unit begins production of any product. That TPPU and associated equipment, as listed in paragraph (a)(4) of this section, is either an affected source, or part of an affected source comprised of other TPPU and associated equipment, as listed in paragraph (a)(4) of this section, subject to this subpart with the same primary product at the same plant site that is a major source. For a process unit that is designated as a TPPU in accordance with this paragraph, the thermoplastic product that will be produced shall be designated as the primary product of the TPPU. If more than one thermoplastic product will be produced, the owner or operator may select which thermoplastic product is designated as the primary product.

(3) Annual applicability determination for non-TPPUs that have produced a thermoplastic product. Once per year beginning September 12, 2001, the owner or operator of each flexible operation unit that is not designated as a TPPU, but that has produced a thermoplastic product at any time in the preceding 5-year period or since the date that the unit began production of any product, whichever is shorter, shall perform the evaluation described in paragraphs (f)(3)(i) through (f)(3)(iii) of this section. However, an owner or operator that does not intend to produce any thermoplastic product in the future, in accordance with paragraph (f)(9) of this section, is not required to perform the evaluation described in paragraphs (f)(3)(i) through (f)(3)(iii) of this section.

(i) For each product produced in the flexible operation unit, the owner or operator shall calculate the percentage of total operating time over which the product was produced during the preceding 5-year period.

(ii) The owner or operator shall identify the primary product as the product with the highest percentage of total operating time for the preceding 5-year period.

(iii) If the primary product identified in paragraph (f)(3)(ii) is a thermoplastic product, the flexible operation unit shall be designated as a TPPU. The owner or operator shall notify the Administrator no later than 45 days after determining that the flexible operation unit is a TPPU, and shall comply with the requirements of this subpart in accordance with paragraph (i)(1) of this section for the flexible operation unit.

(4) Applicability determination for non-TPPUs that have not produced a thermoplastic product. The owner or operator that anticipates the production of a thermoplastic product in a process unit that is not designated as a TPPU, and in which no thermoplastic products have been produced in the previous 5-year period or since the date that the process unit began production of any product, whichever is shorter, shall determine if the process unit is subject to this subpart in accordance with paragraphs (f)(4)(i) and (ii) of this section. Also, owners or operators who have notified the Administrator that a process unit is not a TPPU in accordance with paragraph (f)(9) of this section, that now anticipate the production of a thermoplastic product in the process unit, shall determine if the process unit is subject to this subpart in accordance with paragraphs (f)(4)(i) and (ii) of this section.

(i) The owner or operator shall use the procedures in paragraph (f)(1) or (f)(2) of this section to determine if the process unit is designated as a TPPU, with the following exception: For existing process units that are determining the primary product in accordance with paragraph (f)(1)(iii) of this section, production shall be projected for the five years following the date that the owner or operator anticipates initiating the production of a thermoplastic product.

(ii) If the unit is designated as a TPPU in accordance with paragraph (f)(4)(i) of this section, the owner or operator shall comply in accordance with paragraph (i)(1) of this section.

(5) Compliance for flexible operation units. Owners or operators of TPPUs that are flexible operation units shall comply with the standards specified for the primary product, with the exceptions provided in paragraphs (f)(5)(i) and (f)(5)(ii) of this section.

(i) Whenever a flexible operation unit manufactures a product in which no organic HAP is used or manufactured, the owner or operator is only required to comply with either paragraph (b)(1) or (b)(2) of this section to demonstrate compliance for activities associated with the manufacture of that product. This subpart does not require compliance with the provisions of subpart A of this part for activities associated with the manufacture of a product that meets the criteria of paragraph (b) of this section.

(ii) Whenever a flexible operation unit manufactures a product that makes it subject to subpart GGG of this part, the owner or operator is not required to comply with the provisions of this subpart during the production of that product.

(6) Owners or operators of TPPUs that are flexible operation units have the option of determining the group status of each emission point associated with the flexible operation unit, in accordance with either paragraph (f)(6)(i) or (f)(6)(ii) of this section, with the exception of batch process vents. For batch process vents, the owner or operator shall determine the group status in accordance with § 63.1323.

(i) The owner or operator may determine the group status of each emission point based on emission point characteristics when the primary product is being manufactured. The criteria that shall be used for this group determination are the Group 1 criteria specified for the primary product.

(ii) The owner or operator may determine the group status of each emission point separately for each product produced by the flexible operation unit. For each product, the group status shall be determined using the emission point characteristics when that product is being manufactured and using the Group 1 criteria specified for the primary product. (Note: Under this scenario, it is possible that the group status, and therefore the requirement to achieve emission reductions, for an emission point may change depending on the product being manufactured.)

(7) Owners or operators determining the group status of emission points in flexible operation units based solely on the primary product in accordance with paragraph (f)(6)(i) of this section shall establish parameter monitoring levels, as required, in accordance with either paragraph (f)(7)(i) or (f)(7)(ii) of this section. Owners or operators determining the group status of emission points in flexible operation units based on each product in accordance with paragraph (f)(6)(ii) of this section shall establish parameter monitoring levels, as required, in accordance with paragraph (f)(7)(i) of this section.

(i) Establish separate parameter monitoring levels in accordance with § 63.1334(a) for each individual product.

(ii) Establish a single parameter monitoring level (for each parameter required to be monitored at each device subject to monitoring requirements) in accordance with § 63.1334(a) that would apply for all products.

(8) Reporting requirements. When it is determined that a process unit is a TPPU and subject to the requirements of this subpart, the Notification of Compliance Status required by § 63.1335(e)(5) shall include the information specified in paragraphs (f)(8)(i) and (f)(8)(ii) of this section, as applicable. If it is determined that the process unit is not subject to this subpart, the owner or operator shall either retain all information, data, and analysis used to document the basis for the determination that the primary product is not a thermoplastic product, or, when requested by the Administrator, demonstrate that the process unit is not subject to this subpart.

(i) If the TPPU manufactures only one thermoplastic product, identification of that thermoplastic product.

(ii) If the TPPU is designed and operated as a flexible operation unit, the information specified in paragraphs (f)(8)(ii)(A) through (f)(8)(ii)(D) of this section, as appropriate, shall be submitted.

(A) If a primary product could be determined, identification of the primary product.

(B) Identification of which compliance option, either paragraph (f)(6)(i) or (f)(6)(ii) of this section, has been selected by the owner or operator.

(C) If the option to establish separate parameter monitoring levels for each product in paragraph (f)(7)(i) of this section is selected, the identification of each product and the corresponding parameter monitoring level.

(D) If the option to establish a single parameter monitor level in paragraph (f)(7)(ii) of this section is selected, the parameter monitoring level for each parameter.

(9) TPPUs terminating production of all thermoplastic products. If a TPPU terminates the production of all thermoplastic products and does not anticipate the production of any thermoplastic products in the future, the process unit is no longer a TPPU and is not subject to this subpart after notification is made to the Administrator. This notification shall be accompanied by a rationale for why it is anticipated that no thermoplastic products will be produced in the process unit in the future.

(10) Redetermination of applicability to TPPUs that are flexible operation units. Whenever changes in production occur that could reasonably be expected to change the primary product of a TPPU that is operating as a flexible operation unit from a thermoplastic product to a product that would make the process unit subject to another subpart of this part, the owner or operator shall re-evaluate the status of the process unit as a TPPU in accordance with paragraphs (f)(10)(i) through (iii) of this section.

(i) For each product produced in the flexible operation unit, the owner or operator shall calculate the percentage of total operating time in which the product was produced for the preceding five-year period, or since the date that the process unit began production of any product, whichever is shorter.

(ii) The owner or operator shall identify the primary product as the product with the highest percentage of total operating time for the period.

(iii) If the conditions in (f)(10)(iii)(A) through (C) of this section are met, the flexible operation unit shall no longer be designated as a TPPU and shall no longer be subject to the provisions of this subpart after the date that the process unit is required to be in compliance with the provisions of the other subpart of this part to which it is subject. If the conditions in paragraphs (f)(10)(iii)(A) through (C) of this section are not met, the flexible operation unit shall continue to be considered a TPPU and subject to the requirements of this subpart.

(A) The product identified in (f)(10)(ii) of this section is not a thermoplastic product; and

(B) The production of the product identified in (f)(10)(ii) of this section is subject to another subpart of this part; and

(C) The owner or operator submits a notification to the Administrator of the pending change in applicability.

(g) Storage vessel ownership determination. The owner or operator shall follow the procedures specified in paragraphs (g)(1) through (g)(7) of this section to determine to which process unit a storage vessel shall be assigned. Paragraph (g)(8) of this section specifies when an owner or operator is required to redetermine to which process unit a storage vessel is assigned.

(1) If a storage vessel is already subject to another subpart of 40 CFR part 63 on September 12, 1996, said storage vessel shall be assigned to the process unit subject to the other subpart.

(2) If a storage vessel is dedicated to a single process unit, the storage vessel shall be assigned to that process unit.

(3) If a storage vessel is shared among process units, then the storage vessel shall be assigned to that process unit located on the same plant site as the storage vessel that has the greatest input into or output from the storage vessel (i.e., said process unit has the predominant use of the storage vessel).

(4) If predominant use cannot be determined for a storage vessel that is shared among process units and if only one of those process units is a TPPU subject to this subpart, the storage vessel shall be assigned to said TPPU.

* * * * *

(6) If the predominant use of a storage vessel varies from year to year, then predominant use shall be determined based on the utilization that occurred during the year preceding September 12, 1996 or based on the expected utilization for the 5 years following September 12, 1996 for existing affected sources, whichever is more representative of the expected operations for said storage vessel, and based on the expected utilization for the first 5 years after initial start-up for new affected sources. The determination of predominant use shall be reported in the Notification of Compliance Status, as required by § 63.1335(e)(5)(vi).

(7) Where a storage vessel is located at a major source that includes one or more process units which place material into, or receive materials from the storage vessel, but the storage vessel is located in a tank farm (including a marine tank farm), the applicability of this subpart shall be determined according to the provisions in paragraphs (g)(7)(i) through (g)(7)(iv) of this section.

(i) The storage vessel may only be assigned to a process unit that utilizes the storage vessel and does not have an intervening storage vessel for that product (or raw material, as appropriate). With respect to any process unit, an intervening storage vessel means a storage vessel connected by hard-piping both to the process unit and to the storage vessel in the tank farm so that product or raw material entering or leaving the process unit flows into (or from) the intervening storage vessel and does not flow directly into (or from) the storage vessel in the tank farm.

(ii) If there is no process unit at the major source that meets the criteria of paragraph (g)(7)(i) of this section with respect to a storage vessel, this subpart does not apply to the storage vessel.

(iii) If there is only one process unit at the major source that meets the criteria of paragraph (g)(7)(i) of this section with respect to a storage vessel, the storage vessel shall be assigned to that process unit.

(iv) If there are two or more process units at the major source that meet the criteria of paragraph (g)(7)(i) of this section with respect to a storage vessel, the storage vessel shall be assigned to one of those process units according to the provisions of paragraphs (g)(3) through (g)(6) of this section. The predominant use shall be determined among only those process units that meet the criteria of paragraph (g)(7)(i) of this section.

(8) If the storage vessel begins receiving material from (or sending material to) a process unit that was not included in the initial determination, or ceases to receive material from (or send material to) a process unit, the owner or operator shall re-evaluate the applicability of this subpart to the storage vessel.

(h) Recovery operations equipment ownership determination. The owner or operator shall follow the procedures specified in paragraphs (h)(1) through (h)(6) of this section to determine to which process unit recovery operations equipment shall be assigned. Paragraph (h)(7) of this section specifies when an owner or operator is required to redetermine to which process unit the recovery operations equipment is assigned.

(1) If recovery operations equipment is already subject to another subpart of 40 CFR part 63 on September 12, 1996, said recovery operations equipment shall be assigned to the process unit subject to the other subpart.

(2) If recovery operations equipment is dedicated to a single process unit, the recovery operations equipment shall be assigned to that process unit.

(3) If recovery operations equipment is shared among process units, then the recovery operations equipment shall be assigned to that process unit located on the same plant site as the recovery operations equipment that has the greatest input into or output from the recovery operations equipment (i.e., said process unit has the predominant use of the recovery operations equipment).

(4) If predominant use cannot be determined for recovery operations equipment that is shared among process units and if one of those process units is a TPPU subject to this subpart, the recovery operations equipment shall be assigned to said TPPU.

(5) If predominant use cannot be determined for recovery operations equipment that is shared among process units and if more than one of the process units are TPPUs that have different primary products and that are subject to this subpart, then the owner or operator shall assign the recovery operations equipment to any one of said TPPUs.

(6) If the predominant use of recovery operations equipment varies from year to year, then predominant use shall be determined based on the utilization that occurred during the year preceding September 12, 1996 or based on the expected utilization for the 5 years following September 12, 1996 for existing affected sources, whichever is the more representative of the expected operations for said recovery operations equipment, and based on the first 5 years after initial start-up for new affected sources. The determination of predominant use shall be reported in the Notification of Compliance Status, as required by § 63.1335(e)(5)(vii).

(7) If a piece of recovery operations equipment begins receiving material from a process unit that was not included in the initial determination, or ceases to receive material from a process unit that was included in the initial determination, the owner or operator shall reevaluate the applicability of this subpart to that recovery operations equipment.

(i) Changes or additions to plant sites. The provisions of paragraphs (i)(1) through (i)(4) of this section apply to owners or operators that change or add to their plant site or affected source. Paragraph (i)(5) of this section provides examples of what are and are not considered process changes for purposes of this paragraph (i) of this section. Paragraph (i)(6) of this section discusses reporting requirements.

(1) Adding a TPPU to a plant site. The provisions of paragraphs (i)(1)(i) and (i)(1)(ii) of this section apply to owners or operators that add one or more TPPUs to a plant site.

(i) If a group of one or more TPPUs that produce the same primary product is added to a plant site, the added group of one or more TPPUs and associated equipment, as listed in paragraph (a)(4) of this section, shall be a new affected source and shall comply with the requirements for a new affected source in this subpart upon initial start-up or by June 19, 2000, whichever is later, as provided in § 63.6(b), except that new affected sources whose primary product, as determined using the procedures specified in paragraph (f) of this section, is poly(ethylene terephthalate) (PET) shall be in compliance with § 63.1331 upon initial start-up or February 27, 2001, whichever is later, if the added group of one or more TPPUs meets the criteria in either paragraph (i)(1)(i)(A) or (i)(1)(i)(B) of this section, and the criteria in either paragraph (i)(1)(i)(C) or (i)(1)(i)(D) of this section are met.

(A) The construction of the group of one or more TPPUs commenced after March 29, 1995.

(B) The construction or reconstruction, for process units that have become TPPUs, commenced after March 29, 1995.

(C) The group of one or more TPPUs and associated equipment, as listed in paragraph (a)(4) of this section, has the potential to emit 10 tons per year or more of any HAP or 25 tons per year or more of any combination of HAP, and the primary product of the group of one or more TPPUs is currently produced at the plant site as the primary product of an affected source; or

(D) The primary product of the group of one or more TPPUs is not currently produced at the plant site as the primary product of an affected source and the plant site meets, or after the addition of the group of one or more TPPUs and associated equipment, as listed in paragraph (a)(4) of this section, will meet the definition of a major source.

(ii) If a group of one or more TPPUs that produce the same primary product is added to a plant site, and the group of one or more TPPUs does not meet the criteria specified in paragraph (i)(1)(i) of this section, and the plant site meets, or after the addition will meet, the definition of a major source, the group of one or more TPPUs and associated equipment, as listed in paragraph (a)(4) of this section, shall comply with the requirements for an existing affected source in this subpart upon initial start-up; by June 19, 2001; or by 6 months after notifying the Administrator that a process unit has been designated as a TPPU (in accordance with paragraph (f)(3)(iii) of this section), whichever is later.

(2) * * *

(i) If any components are replaced at an existing affected source such that the criteria specified in paragraphs (i)(2)(i)(A) through (i)(2)(i)(B) of this section are met, the entire affected source shall be a new affected source and shall comply with the requirements for a new affected source upon initial start-up or by June 19, 2000, whichever is later, as provided in § 63.6(b), except that new affected sources whose primary product is poly(ethylene terephthalate) (PET) shall be in compliance with § 63.1331 upon initial start-up or by February 27, 2001, whichever is later.

(A) The replacement of components meets the definition of reconstruction in § 63.1312(b); and

* * * * *

(ii) If any components are replaced at an existing affected source such that the criteria specified in paragraphs (i)(2)(i)(A) through (i)(2)(i)(B) of this section are not met, and that replacement of components creates one or more Group 1 emission points (i.e., either newly created Group 1 emission points or emission points that change group status from Group 2 to Group 1) or causes any other emission point to be added (i.e., Group 2 emission points, equipment leak components subject to § 63.1331, continuous process vents subject to §§ 63.1316 through 63.1320, heat exchange systems subject to § 63.1328, and process contact cooling towers subject to § 63.1329), the resulting emission point(s) shall be subject to the applicable requirements for an existing affected source. The resulting emission points shall be in compliance by 120 days after the date of initial start-up or by the appropriate compliance date specified in § 63.1311 (i.e., February 27, 1998 for most equipment leak components subject to § 63.1331, June 19, 2001 for most emission points other than equipment leaks, and February 27, 2001 for process contact cooling towers at sources that produce PET as the primary product), whichever is later.

(iii) If an addition or process change (not including a process change that solely replaces components) is made to an existing affected source that creates one or more Group 1 emission points (i.e., either newly created Group 1 emission points or emission points that change group status from Group 2 to Group 1) or causes any other emission point to be added (i.e., Group 2 emission points, equipment leak components subject to § 63.1331, continuous process vents subject to §§ 63.1316 through 63.1320, heat exchange systems subject to § 63.1328, and process contact cooling towers subject to § 63.1329), the resulting emission point(s) shall be subject to the applicable requirements for an existing affected source. The resulting emission point(s) shall be in compliance by 120 days after the date of initial start-up or by the appropriate compliance date specified in § 63.1311 (i.e., February 27, 1998 for most equipment leak components subject to § 63.1331, June 19, 2001 for most emission points other than equipment leaks, and February 27, 2001 for process contact cooling towers at sources that produce PET as their primary product), whichever is later.

(iv) If any process change (not including a process change that solely replaces components) is made to an existing affected source that results in baseline emissions (i.e., emissions prior to applying controls for purposes of complying with this subpart) from continuous process vents in the collection of material recovery sections within the affected source at an existing affected source producing PET using a continuous dimethyl terephthalate process changing from less than or equal to 0.12 kg organic HAP per Mg of product to greater than 0.12 kg organic HAP per Mg of product, the continuous process vents shall be subject to the applicable requirements for an existing affected source. The resulting emission point(s) shall be in compliance by 120 days after the date of initial start-up or by June 19, 2001, whichever is later.

(3) Existing affected source requirements for surge control vessels and bottoms receivers that become subject to subpart H requirements. If a process change or addition of an emission point causes a surge control vessel or bottoms receiver to become subject to § 63.170 under this paragraph (i), the owner or operator shall be in compliance upon initial start-up or by June 19, 2001, whichever is later.

(4) Existing affected source requirements for compressors that become subject to the requirements of subpart H of this part. If a process change or the addition of an emission point causes a compressor to become subject to § 63.164 under this paragraph (i), the owner or operator shall be in compliance upon initial start-up or by the compliance date for that compressor as specified in § 63.1311(d)(1) through (d)(4), whichever is later.

(5) Determining what are and are not process changes. For purposes of paragraph (i) of this section, examples of process changes include, but are not limited to, changes in feedstock type, or process catalyst type, or the replacement, removal, or addition of recovery equipment, or equipment changes that increase production capacity. For purposes of paragraph (i) of this section, process changes do not include: Process upsets, unintentional temporary process changes, and changes that do not alter the equipment configuration and operating conditions.

(6) Reporting requirements for owners or operators that change or add to their plant site or affected source. Owners or operators that change or add to their plant site or affected source, as discussed in paragraphs (i)(1) and (i)(2) of this section, shall submit a report as specified in § 63.1335(e)(7)(iv).

(j) Applicability of this subpart during periods of start-up, shutdown, malfunction, or non-operation. Paragraphs (j)(1) through (j)(4) of this section shall be followed during periods of start-up, shutdown, malfunction, or non-operation of the affected source or any part thereof.

(1) The emission limitations set forth in this subpart and the emission limitations referred to in this subpart shall apply at all times except during periods of non-operation of the affected source (or specific portion thereof) resulting in cessation of the emissions to which this subpart applies. The emission limitations of this subpart and the emission limitations referred to in this subpart shall not apply during periods of start-up, shutdown, or malfunction, except as provided in paragraphs (j)(3) and (j)(4) of this section. During periods of start-up, shutdown, or malfunction, the owner or operator shall follow the applicable provisions of the start-up, shutdown, and malfunction plan required by § 63.1335(b)(1). However, if a start-up, shutdown, malfunction, or period of non-operation of one portion of an affected source does not affect the ability of a particular emission point to comply with the emission limitations to which it is subject, then that emission point shall still be required to comply with the applicable emission limitations of this subpart during the start-up, shutdown, malfunction, or period of non-operation. For example, if there is an overpressure in the reactor area, a storage vessel that is part of the affected source would still be required to be controlled in accordance with the emission limitations in § 63.1314.

Similarly, the degassing of a storage vessel would not affect the ability of a batch process vent to meet the emission limitations of §§ 63.1321 through 63.1327.

(2) The emission limitations set forth in subpart H of this part, as referred to in § 63.1331, shall apply at all times except during periods of non-operation of the affected source (or specific portion thereof) in which the lines are drained and depressurized resulting in cessation of the emissions to which § 63.1331 applies, or during periods of start-up, shutdown, malfunction, or process unit shutdown (as defined in § 63.161).

(3) The owner or operator shall not shut down items of equipment that are required or utilized for compliance with this subpart during periods of start-up, shutdown, or malfunction during times when emissions (or, where applicable, wastewater streams or residuals) are being routed to such items of equipment, if the shutdown would contravene requirements of this subpart applicable to such items of equipment. This paragraph (j)(3) does not apply if the item of equipment is malfunctioning. This paragraph also does not apply if the owner or operator shuts down the compliance equipment (other than monitoring systems) to avoid damage due to a contemporaneous start-up, shutdown, or malfunction of the affected source or portion thereof. If the owner or operator has reason to believe that monitoring equipment would be damaged due to a contemporaneous start-up, shutdown, or malfunction of the affected source or portion thereof, the owner or operator shall provide documentation supporting such a claim in the Precompliance Report or in a supplement to the Precompliance Report, as provided in § 63.1335(e)(3). Once approved by the Administrator in accordance with § 63.1335(e)(3)(viii), the provision for ceasing to collect, during a start-up, shutdown, or malfunction, monitoring data that would otherwise be required by the provisions of this subpart must be incorporated into the start-up, shutdown, malfunction plan for that affected source, as stated in § 63.1335(b)(1).

(4) During start-ups, shutdowns, and malfunctions when the emission limitations of this subpart do not apply pursuant to paragraphs (j)(1) through (j)(3) of this section, the owner or operator shall implement, to the extent reasonably available, measures to prevent or minimize excess emissions to the extent practical. For purposes of this paragraph, the term “excess emissions” means emissions greater than those allowed by the emissions limitation which would apply during operational periods other than start-up, shutdown, and malfunction. The measures to be taken shall be identified in the applicable start-up, shutdown, and malfunction plan, and may include, but are not limited to, air pollution control technologies, recovery technologies, work practices, pollution prevention, monitoring, and/or changes in the manner of operation of the affected source. Back-up control devices are not required, but may be used if available.

30. Section 63.1311 is amended by:

a. Revising the section title;

b. Revising paragraph (a);

c. Revising paragraph (b);

d. Revising paragraph (c);

e. Revising paragraph (d) introductory text;

f. Revising paragraph (d)(1) introductory text;

g. Revising paragraphs (d)(2) and (d)(3);

h. Revising paragraphs (d)(5) and (d)(6);

i. Revising paragraph (e) introductory text;

j. Revising paragraph (h);

k. Revising paragraph (i)(1);

l. Revising paragraph (j);

m. Revising paragraph (l);

n. Revising paragraph (m);

o. Adding paragraph (e)(3);

p. Adding paragraph (i)(3);

q. Adding paragraph (n); and

r. Adding paragraph (o).

The revisions and additions read as follows:

§ 63.1311 Compliance dates and relationship of this subpart to existing applicable rules.

(a) Affected sources are required to achieve compliance on or before the dates specified in paragraphs (b) through (d) of this section. Paragraph (e) of this section provides information on requesting compliance extensions. Paragraphs (f) through (n) of this section discuss the relationship of this subpart to subpart A of this part and to other applicable rules. Where an override of another authority of the Act is indicated in this subpart, only compliance with the provisions of this subpart is required. Paragraph (o) of this section specifies the meaning of time periods.

(b) New affected sources that commence construction or reconstruction after March 29, 1995 shall be in compliance with this subpart upon initial start-up or by June 19, 2000, whichever is later, except that new affected sources whose primary product, as determined using the procedures specified in § 63.1310(f), is poly(ethylene terephthalate) (PET) shall be in compliance with § 63.1331 upon initial start-up or February 27, 2001, whichever is later.

(c) Existing affected sources shall be in compliance with this subpart (except for § 63.1331 for which compliance is covered by paragraph (d) of this section) no later than June 19, 2001, as provided in § 63.6(c), unless an extension has been granted as specified in paragraph (e) of this section, except that the compliance date for the provisions contained in § 63.1329 is temporarily extended to February 27, 2001, for existing affected sources whose primary product, as determined using the procedures specified in 63.1310(f), is PET using a continuous terephthalic acid high viscosity multiple end finisher process.

(d) Except as provided for in paragraphs (d)(1) through (d)(6) of this section, existing affected sources shall be in compliance with § 63.1331 no later than June 19, 2001, unless an extension has been granted pursuant to paragraph (e) of this section.

(1) Compliance with the compressor provisions of § 63.164 shall occur no later than February 27, 1998, for any compressor meeting one or more of the criteria in paragraphs (d)(1)(i) through (d)(1)(iv) of this section, if the work can be accomplished without a process unit shutdown:

* * * * *

(2) Compliance with the compressor provisions of § 63.164 shall occur no later than March 12, 1998 for any compressor meeting all the criteria in paragraphs (d)(2)(i) through (d)(2)(iv) of this section:

(i) The compressor meets one or more of the criteria specified in paragraphs (d)(1)(i) through (d)(1)(iv) of this section;

(ii) The work can be accomplished without a process unit shutdown ;

(iii) The additional time is actually necessary due to the unavailability of parts beyond the control of the owner or operator; and

(iv) The owner or operator submits the request for a compliance extension to the appropriate Environmental Protection Agency (EPA) Regional Office at the address listed in § 63.13 no later than June 16, 1997. The request for a compliance extension shall contain the information specified in § 63.6(i)(6)(i)(A), (B), and (D). Unless the EPA Regional Office objects to the request for a compliance extension within 30 days after receipt of the request, the request shall be deemed approved.

(3) If compliance with the compressor provisions of § 63.164 cannot reasonably be achieved without a process unit shutdown, the owner or operator shall achieve compliance no later than September 12, 1998. The owner or operator who elects to use this provision shall submit a request for a compliance extension in accordance with the requirements of paragraph (d)(2)(iv) of this section.

* * * * *

(5) Compliance with the provisions of § 63.170 shall occur no later than June 19, 2001.

(6) Notwithstanding paragraphs (d)(1) through (d)(4) of this section, existing affected sources whose primary product, as determined using the procedures specified in § 63.1310(f), is PET shall be in compliance with § 63.1331 no later than February 27, 2001.

(e) Pursuant to Section 112(i)(3)(B) of the Act, an owner or operator may request an extension allowing the existing affected source up to 1 additional year to comply with Section 112(d) standards. For purposes of this subpart, a request for an extension shall be submitted to the permitting authority as part of the operating permit application or to the Administrator as a separate submittal or as part of the Precompliance Report. Requests for extensions shall be submitted no later than 120 days prior to the compliance dates specified in paragraphs (b) through (d) of this section, or as specified elsewhere in this subpart, except as provided in paragraph (e)(3) of this section. The dates specified in § 63.6(i) for submittal of requests for extensions shall not apply to this subpart.

* * * * *

(3) An owner or operator may submit a compliance extension request after the date specified in paragraph (e) of this section, provided that the need for the compliance extension arose after that date, and the need arose due to circumstances beyond reasonable control of the owner or operator. This request shall include, in addition to the information specified in paragraph (e)(1) of this section, a statement of the reasons additional time is needed and the date when the owner or operator first learned of the circumstances necessitating a request for compliance extension under this paragraph (e)(3).

* * * * *

(h) After the compliance dates specified in this section, a storage vessel that is assigned to an affected source subject to this subpart and that is also subject to the provisions of 40 CFR part 60, subpart Kb, is required to comply only with the provisions of this subpart. After the compliance dates specified in this section, said storage vessel shall no longer be subject to 40 CFR part 60, subpart Kb.

(i)(1) Except as provided in paragraphs (i)(2) and (i)(3) of this section, after the compliance dates specified in this section, affected sources producing PET using a continuous terephthalic acid process, producing PET using a continuous dimethyl terephthalate process, or producing polystyrene resin using a continuous process subject to this subpart that are also subject to the provisions of 40 CFR part 60, subpart DDD, are required to comply only with the provisions of this subpart. After the compliance dates specified in this section, said sources shall no longer be subject to 40 CFR part 60, subpart DDD.

* * * * *

(3) Existing affected sources producing PET using a continuous terephthalic acid process, but not using a continuous terephthalic acid high viscosity multiple end finisher process, that are subject to and complying with 40 CFR 60.562-1(c)(2)(ii)(B) shall continue to comply with said section. Existing affected sources producing PET using a continuous dimethyl terephthalic process that are subject to and complying with 40 CFR 60.562-1(c)(1)(ii)(B) shall continue to comply with said section.

(j) Owners or operators of affected sources subject to this subpart that are also subject to the provisions of subpart Q of this part shall comply with both subparts.

* * * * *

(l) After the compliance dates specified in this section, a distillation operation that is assigned to an affected source subject to this subpart that is also subject to the provisions of 40 CFR part 60, subpart NNN, is required to comply only with the provisions of this subpart. After the compliance dates specified in this section, the distillation operation shall no longer be subject to 40 CFR part 60, subpart NNN.

(m) Applicability of other regulations for monitoring, recordkeeping or reporting with respect to combustion devices, recovery devices, or recapture devices. After the compliance dates specified in this subpart, if any combustion device, recovery device or recapture device subject to this subpart is also subject to monitoring, recordkeeping, and reporting requirements in 40 CFR part 264 subpart AA or CC, or is subject to monitoring and recordkeeping requirements in 40 CFR part 265 subpart AA or CC and the owner or operator complies with the periodic reporting requirements under 40 CFR part 264 subpart AA or CC that would apply to the device if the facility had final-permitted status, the owner or operator may elect to comply either with the monitoring, recordkeeping and reporting requirements of this subpart, or with the monitoring, recordkeeping and reporting requirements in 40 CFR parts 264 and/or 265, as described in this paragraph, which shall constitute compliance with the monitoring, recordkeeping and reporting requirements of this subpart. The owner or operator shall identify which option has been selected in the Notification of Compliance Status required by § 63.1335(e)(5).

(n) Applicability of other requirements for heat exchange systems or waste management units. Paragraphs (n)(1) and (n)(2) of this section address instances in which certain requirements from other regulations also apply for the same heat exchange system(s) or waste management unit(s) that are subject to this subpart.

(1) After the applicable compliance date specified in this subpart, if a heat exchange system subject to this subpart is also subject to a standard identified in paragraphs (n)(1)(i) or (ii) of this section, compliance with the applicable provisions of the standard identified in paragraphs (n)(1)(i) or (ii) of this section shall constitute compliance with the applicable provisions of this subpart with respect to that heat exchange system.

(i) Subpart F of this part.

(ii) A subpart of this part which requires compliance with § 63.104 (e.g., subpart U of this part).

(2) After the applicable compliance date specified in this subpart, if any waste management unit subject to this subpart is also subject to a standard identified in paragraph (n)(2)(i) or (ii) of this section, compliance with the applicable provisions of the standard identified in paragraph (n)(2)(i) or (ii) of this section shall constitute compliance with the applicable provisions of this subpart with respect to that waste management unit.

(i) Subpart G of this part.

(ii) A subpart of this part which requires compliance with §§ 63.132 through 63.147.

(o) All terms in this subpart that define a period of time for completion of required tasks (e.g., weekly, monthly, quarterly, annual), unless specified otherwise in the section or paragraph that imposes the requirement, refer to the standard calendar periods.

(1) Notwithstanding time periods specified in this subpart for completion of required tasks, such time periods may be changed by mutual agreement between the owner or operator and the Administrator, as specified in subpart A of this part (e.g., a period could begin on the compliance date or another date, rather than on the first day of the standard calendar period). For each time period that is changed by agreement, the revised period shall remain in effect until it is changed. A new request is not necessary for each recurring period.

(2) Where the period specified for compliance is a standard calendar period, if the initial compliance date occurs after the beginning of the period, compliance shall be required according to the schedule specified in paragraphs (o)(2)(i) or (o)(2)(ii) of this section, as appropriate.

(i) Compliance shall be required before the end of the standard calendar period within which the compliance deadline occurs, if there remain at least 3 days for tasks that must be performed weekly, at least 2 weeks for tasks that must be performed monthly, at least 1 month for tasks that must be performed each quarter, or at least 3 months for tasks that must be performed annually; or

(ii) In all other cases, compliance shall be required before the end of the first full standard calendar period after the period within which the initial compliance deadline occurs.

(3) In all instances where a provision of this subpart requires completion of a task during each of multiple successive periods, an owner or operator may perform the required task at any time during the specified period, provided that the task is conducted at a reasonable interval after completion of the task during the previous period.

31. Section 63.1312 is amended by:

a. Revising paragraph (a);

b. Amending paragraph (b) by revising the definitions for “Acrylonitrile butadiene styrene latex resin (ABS latex),” “Aggregate batch vent stream,” “Batch cycle,” “Batch process,” “Batch process vent,” “Batch unit operation,” “Continuous process,” “Continuous process vent,” “Continuous unit operation,” “Control device,” “Emission point,” “Emulsion process,” “Group 1 batch process vent,” “Heat exchange system,” “Maintenance wastewater,” “Mass process,” “Material recovery section,” “Organic hazardous air pollutant(s) (organic HAP),” “Polymerization reaction section,” “Process unit,” “Process vent,” “Product,” “Raw materials preparation section,” “Recovery operations equipment,” “Steady-state conditions,” “Storage vessel,” “Supplemental combustion air,” “Suspension process,” and “Thermoplastic product process unit (TPPU),”;

c. Amending paragraph (b) by removing the definitions of “Average flow rate,” “Solid state polymerization unit,” and “Year,”; and

d. Amending paragraph (b) by adding definitions for the terms “Annual average batch vent concentration,” “Annual average batch vent flow rate,” “Annual average concentration,” “Annual average flow rate,” “Average batch vent concentration,” “Average batch vent flow rate,” “Batch mass input limitation,” “Batch mode,” “Combined vent stream,” “Construction,” “Continuous mode,” “Continuous record,” “Continuous recorder,” “Equipment,” “Existing affected source,” “Existing process unit,” “Flexible operation unit,” “Group 1 wastewater stream” “Group 2 wastewater stream,” “Highest- HAP recipe,” “Initial start-up,” “Maximum true vapor pressure,” “Multicomponent system,” “New affected source,” “New process unit,” “On-site or On site,” “Operating day,” “Recipe,” “Reconstruction,” “Recovery device,” “Residual,” “Shutdown,” “Solid state polymerization process,” “Start-up,” “Total resource effectiveness index value or TRE index value,” “Vent stream,” “Waste management unit,” “Wastewater,” and “Wastewater stream.”

The revisions and additions read as follows:

§ 63.1312 Definitions.

(a) The following terms used in this subpart shall have the meaning given them in § 63.2, § 63.101, § 63.111, § 63.161, or the Act, as specified after each term:

Act (§ 63.2)

Administrator (§ 63.2)

Automated monitoring and recording system (§ 63.111)

Boiler (§ 63.111)

Bottoms receiver (§ 63.161)

By compound (§ 63.111)

By-product (§ 63.101)

Car-seal (§ 63.111)

Closed-vent system (§ 63.111)

Combustion device (§ 63.111)

Commenced (§ 63.2)

Compliance date (§ 63.2)

Connector (§ 63.161)

Continuous monitoring system (§ 63.2)

Distillation unit (§ 63.111)

Duct work (§ 63.161)

Emission limitation (Section 302(k) of the Act)

Emission standard (§ 63.2)

Emissions averaging (§ 63.2)

EPA (§ 63.2)

Equipment leak (§ 63.101)

External floating roof (§ 63.111)

Fill or filling (§ 63.111)

First attempt at repair (§ 63.161)

Fixed capital cost (§ 63.2)

Flame zone (§ 63.111)

Floating roof (§ 63.111)

Flow indicator (§ 63.111)

Fuel gas system (§ 63.101)

Halogens and hydrogen halides (§ 63.111)

Hard-piping (§ 63.111)

Hazardous air pollutant (§ 63.2)

Impurity (§ 63.101)

In organic hazardous air pollutant service or in organic HAP service (§ 63.161)

Incinerator (§ 63.111)

Instrumentation system (§ 63.161)

Internal floating roof (§ 63.111)

Lesser quantity (§ 63.2)

Major source (§ 63.2)

Malfunction (§ 63.2)

Oil-water separator or organic-water separator (§ 63.111)

Open-ended valve or line (§ 63.161)

Operating permit (§ 63.101)

Organic monitoring device (§ 63.111)

Owner or operator (§ 63.2)

Performance evaluation (§ 63.2)

Performance test (§ 63.2)

Permitting authority (§ 63.2)

Plant site (§ 63.101)

Potential to emit (§ 63.2)

Pressure release (§ 63.161)

Primary fuel (§ 63.111)

Process heater (§ 63.111)

Process unit shutdown (§ 63.161)

Process wastewater (§ 63.101)

Process wastewater stream (§ 63.111)

Reactor (§ 63.111)

Recapture device (§ 63.101)

Repaired (§ 63.161)

Research and development facility (§ 63.101)

Routed to a process or route to a process (§ 63.161)

Run (§ 63.2)

Secondary fuel (§ 63.111)

Sensor (§ 63.161)

Specific gravity monitoring device (§ 63.111)

Start-up, shutdown, and malfunction plan (§ 63.101)

State (§ 63.2)

Stationary Source (§ 63.2)

Surge control vessel (§ 63.161)

Temperature monitoring device (§ 63.111)

Test method (§ 63.2)

Treatment process (§ 63.111)

Unit operation (§ 63.101)

Visible emission (§ 63.2)

(b) * * *

Acrylonitrile butadiene styrene latex resin (ABS latex) means ABS produced through an emulsion process; however, the product is not coagulated or dried as typically occurs in an emulsion process.

* * * * *

Aggregate batch vent stream means a gaseous emission stream containing only the exhausts from two or more batch process vents that are ducted, hardpiped, or otherwise connected together for a continuous flow .

* * * * *

Annual average batch vent concentration is determined using Equation 1, as described in § 63.1323(h)(2) for halogenated compounds.

Annual average batch vent flow rate is determined by the procedures in § 63.1323(e)(3).

Annual average concentration, as used in the wastewater provisions, means the flow-weighted annual average concentration, as determined according to the procedures specified in § 63.144(b), with the exceptions noted in § 63.1330, for the purposes of this subpart.

Annual average flow rate, as used in the wastewater provisions, means the annual average flow rate, as determined according to the procedures specified in § 63.144(c), with the exceptions noted in § 63.1330, for the purposes of this subpart.

Average batch vent concentration is determined by the procedures in § 63.1323(b)(5)(iii) for HAP concentrations and is determined by the procedures in § 63.1323(h)(1)(iii) for organic compounds containing halogens and hydrogen halides.

Average batch vent flow rate is determined by the procedures in § 63.1323(e)(1) and (e)(2).

* * * * *

Batch cycle means the operational step or steps, from start to finish, that occur as part of a batch unit operation.

* * * * *

Batch mass input limitation means an enforceable restriction on the total mass of HAP or material that can be input to a batch unit operation in one year.

Batch mode means the discontinuous bulk movement of material through a unit operation. Mass, temperature, concentration, and other properties may vary with time. For a unit operation operated in a batch mode (i.e., batch unit operation), the addition of material and withdrawal of material do not typically occur simultaneously.

Batch process means, for the purposes of this subpart, a process where the reactor(s) is operated in a batch mode.

Batch process vent means a process vent with annual organic HAP emissions greater than 225 kilograms per year from a batch unit operation within an affected source. Annual organic HAP emissions are determined as specified in § 63.1323(b) at the location specified in § 63.1323(a)(2).

Batch unit operation means a unit operation operated in a batch mode.

Combined vent stream, as used in reference to batch process vents, continuous process vents, and aggregate batch vent streams, means the emissions from a combination of two or more of the aforementioned types of process vents. The primary occurrence of a combined vent stream is the combined emissions from a continuous process vent and a batch process vent.

* * * * *

Construction means the on-site fabrication, erection, or installation of an affected source. Construction also means the on-site fabrication, erection, or installation of a process unit or combination of process units which subsequently becomes an affected source or part of an affected source, due to a change in primary product.

Continuous mode means the continuous movement of material through a unit operation. Mass, temperature, concentration, and other properties typically approach steady-state conditions. For a unit operation operated in a continuous mode (i.e., continuous unit operation), the simultaneous addition of raw material and withdrawal of product is typical.

Continuous process means, for the purposes of this subpart, a process where the reactor(s) is operated in a continuous mode.

Continuous process vent means a process vent containing greater than 0.005 weight percent total organic HAP from a continuous unit operation within an affected source. The total organic HAP weight percent is determined after the last recovery device, as described in § 63.115(a), and is determined as specified in § 63.115(c).

Continuous record means documentation, either in hard copy or computer readable form, of data values measured at least once every 15 minutes and recorded at the frequency specified in § 63.1335(d) or § 63.1335(h).

Continuous recorder means a data recording device that either records an instantaneous data value at least once every 15 minutes or records 1-hour or more frequent block average values.

Continuous unit operation means a unit operation operated in a continuous mode.

Control device is defined in § 63.111, except that the term “continuous process vents subject to § 63.1315” shall apply instead of the term “process vents,” for the purpose of this subpart.

* * * * *

Emission point means an individual continuous process vent, batch process vent, storage vessel, waste management unit, equipment leak, heat exchange system, or process contact cooling tower, or equipment subject to § 63.149.

Emulsion process means a process where the monomer(s) is dispersed in droplets throughout the water phase with the aid of an emulsifying agent such as soap or a synthetic emulsifier. The polymerization occurs either within the emulsion droplet or in the aqueous phase.

Equipment means, for the purposes of the provisions in § 63.1331 and the requirements in subpart H that are referred to in § 63.1331, each pump, compressor, agitator, pressure relief device, sampling connection system, open-ended valve or line, valve, connector, surge control vessel, bottoms receiver, and instrumentation system in organic hazardous air pollutant service; and any control devices or systems required by subpart H of this part.

Existing affected source is defined in § 63.1310(a)(3).

Existing process unit means any process unit that is not a new process unit.

* * * * *

Flexible operation unit means a process unit that manufactures different chemical products, polymers, or resins periodically by alternating raw materials or operating conditions. These units are also referred to as campaign plants or blocked operations.

Group 1 batch process vent means a batch process vent releasing annual organic HAP emissions greater than the level specified in § 63.1323(d) and with a cutoff flow rate, calculated in accordance with § 63.1323(f), greater than or equal to the annual average batch vent flow rate. Annual organic HAP emissions and annual average batch vent flow rate are determined at the exit of the batch unit operation, as described in § 63.1323(a)(2). Annual organic HAP emissions are determined as specified in § 63.1323(b), and annual average batch vent flow rate is determined as specified in § 63.1323(e).

* * * * *

Group 1 wastewater stream means a wastewater stream consisting of process wastewater from an existing or new affected source that meets the criteria for Group 1 status in § 63.132(c) and/or that meets the criteria for Group 1 status in § 63.132(d), with the exceptions listed in § 63.1330(b)(8) for the purposes of this subpart (i.e., for organic HAP listed on Table 6 of this subpart only).

Group 2 wastewater stream means any process wastewater stream that does not meet the definition of a Group 1 wastewater stream.

* * * * *

Heat exchange system means any cooling tower system or once-through cooling water system (e.g., river or pond water) designed and intended to operate to not allow contact between the cooling medium and process fluid or gases (i.e., a noncontact system). A heat exchange system can include more than one heat exchanger and can include recirculating or once-through cooling systems.

Highest-HAP recipe for a product means the recipe of the product with the highest total mass of HAP charged to the reactor during the production of a single batch of product.

Initial start-up means the first time a new or reconstructed affected source begins production of a thermoplastic product, or, for equipment added or changed as described in § 63.1310(i), the first time the equipment is put into operation to produce a thermoplastic product. Initial start-up does not include operation solely for testing equipment. Initial start-up does not include subsequent start-ups of an affected source or portion thereof following malfunctions or shutdowns or following changes in product for flexible operation units or following recharging of equipment in batch operation. Further, for purposes of § 63.1311 and § 63.1331, initial start-up does not include subsequent start-ups of affected sources or portions thereof following malfunctions or process unit shutdowns.

Maintenance wastewater is defined in § 63.101, except that the term “thermoplastic product process unit” shall apply wherever the term “chemical manufacturing process unit” is used. Further, the generation of wastewater from the routine rinsing or washing of equipment in batch operation between batches is not maintenance wastewater, but is considered to be process wastewater, for the purposes of this subpart.

Mass process means a polymerization process carried out through the use of thermal energy. Mass processes do not utilize emulsifying or suspending agents, but may utilize catalysts or other additives.

Material recovery section means, for PET plants, the equipment that recovers by-product methanol from any process section for use, reuse, or sale, or the equipment that separates materials containing by-product methanol from any process section for off-site purification or treatment with the intent to recover methanol for reuse. For polystyrene plants, material recovery section means the equipment that recovers unreacted styrene from any process section for use, reuse, or sale, or the equipment that separates materials containing unreacted styrene from any process section for off-site purification or treatment with the intent to recover styrene for reuse. Equipment used to store recovered materials (i.e., ethylene glycol, methanol, or styrene) is not included. Equipment designed to recover or separate materials from the polymer product is to be included in this process section, provided that at the time of initial compliance some of the unreacted or by-product material is recovered for return to the TPPU, or sale, or provided that some of the separated material is sent for off-site purification or treatment with the intent to recover the unreacted or by-product material for reuse. Otherwise, such equipment is to be assigned to one of the other process sections, as appropriate. If equipment is used to recover unreacted or by-product material and return it directly to the same piece of process equipment from which it was emitted, then that recovery equipment is considered part of the process section that contains the process equipment. On the other hand, if equipment is used to recover unreacted or by-product material and return it to a different piece of process equipment in the same process section, that recovery equipment is considered part of a material recovery section. Equipment used for the on-site recovery of ethylene glycol from PET plants, however, is not included in the material recovery section; such equipment is to be included in the polymerization reaction section. Equipment used for the on-site recovery of both ethylene glycol and any other materials from PET plants is not included in the material recovery section; this equipment is to be included in the polymerization reaction section. Such equipment includes both contact and non-contact condensers removing ethylene glycol from vapor streams coming out of polymerization vessels.

Maximum true vapor pressure is defined in § 63.111, except that the terms “transfer” or “transferred” shall not apply for purposes of this subpart.

* * * * *

Multicomponent system means, as used in conjunction with batch process vents, a stream whose liquid and/or vapor contains more than one compound.

New process unit means a process unit for which the construction or reconstruction commenced after March 29, 1995.

* * * * *

On-site or On site means, with respect to records required to be maintained by this subpart or required by another subpart referenced by this subpart, that records are stored at a location within a major source which encompasses the affected source. On-site includes, but is not limited to, storage at the affected source or TPPU to which the records pertain, or storage in central files elsewhere at the major source.

Operating day means the period defined by the owner or operator in the Notification of Compliance Status required by § 63.1335(e)(5). The operating day is the period for which daily average monitoring values and batch cycle daily average monitoring values are determined.

Organic hazardous air pollutant(s) (organic HAP) means one or more of the chemicals listed in Table 6 of this subpart or any other chemical which is:

(1) Knowingly produced or introduced into the manufacturing process other than as an impurity; and

(2) Listed in Table 2 of subpart F of this part.

* * * * *

Polymerization reaction section means the equipment designed to cause monomer(s) to react to form polymers, including equipment designed primarily to cause the formation of short polymer chains (e.g., oligomers or low molecular weight polymers), but not including equipment designed to prepare raw materials for polymerization (e.g., esterification vessels). For the purposes of these standards, the polymerization reaction section begins with the equipment used to transfer the materials from the raw materials preparation section and ends with the last vessel in which polymerization occurs. Equipment used for the on-site recovery of ethylene glycol from PET plants is included in this process section, rather than in the material recovery process section.

* * * * *

Process unit means a collection of equipment assembled and connected by hardpiping or duct work, used to process raw materials and to manufacture a product.

Process vent means a gaseous emission stream from a unit operation that is discharged to the atmosphere either directly or after passing through one or more control, recovery, or recapture devices. Unit operations that may have process vents are condensers, distillation units, reactors, or other unit operations within the TPPU. Process vents exclude pressure releases, gaseous streams routed to a fuel gas system(s), and leaks from equipment regulated under § 63.1331. A gaseous emission stream is no longer considered to be a process vent after the stream has been controlled and monitored in accordance with the applicable provisions of this subpart.

Product means a polymer produced using the same monomers and varying in additives (e.g., initiators, terminators, etc.); catalysts; or in the relative proportions of monomers, that is manufactured by a process unit. With respect to polymers, more than one recipe may be used to produce the same product. As an example, styrene acrylonitrile resin and methyl methacrylate butadiene styrene resin each represent a different product. Product also means a chemical that is not a polymer, that is manufactured by a process unit. By-products, isolated intermediates, impurities, wastes, and trace contaminants are not considered products.

Raw materials preparation section means the equipment at a polymer manufacturing plant designed to prepare raw materials, such as monomers and solvents, for polymerization. For the purposes of the standards in this subpart, this process section includes the equipment used to transfer raw materials from storage and/or the equipment used to transfer recovered material from the material recovery process sections to the raw material preparation section, and ends with the last piece of equipment that prepares the material for polymerization. The raw materials preparation section may include equipment that is used to purify, dry, or otherwise treat raw materials or raw and recovered materials together; to activate catalysts; or to promote esterification including the formation of some short polymer chains (oligomers). The raw materials preparation section does not include equipment that is designed primarily to accomplish the formation of oligomers, the treatment of recovered materials alone, or the storage of raw or recovered materials.

Recipe means a specific composition, from among the range of possible compositions that may occur within a product, as defined in this section. A recipe is determined by the proportions of monomers and, if present, other reactants and additives that are used to make the recipe. For example, acrylonitrile butadiene styrene latex resin (ABS latex) without additives; ABS latex with an additive; and ABS latex with different proportions of acrylonitrile to butadiene are all different recipes of the same product, ABS latex.

Reconstruction means the addition of new components or the replacement of existing components at an affected source or at a previously unaffected stationary source that becomes an affected source as a result of the change, to such an extent that:

(1) The fixed capital cost of the new components exceeds 50 percent of the fixed capital cost that would be required to construct a comparable affected new source; and

(2) It is technologically and economically feasible for the reconstructed source to meet the provisions of this subpart.

Recovery device means:

(1) An individual unit of equipment capable of and normally used for the purpose of recovering chemicals for:

(i) Use;

(ii) Reuse;

(iii) Fuel value (i.e., net heating value); or

(iv) For sale for use, reuse, or fuel value (i.e., net heating value).

(2) Examples of equipment that may be recovery devices include absorbers, carbon adsorbers, condensers, oil-water separators or organic-water separators, or organic removal devices such as decanters, strippers, or thin-film evaporation units. For the purposes of the monitoring, recordkeeping, or reporting requirements of this subpart, recapture devices are considered recovery devices.

Recovery operations equipment means the equipment used to separate the components of process streams. Recovery operations equipment includes distillation units, condensers, etc. Equipment used for wastewater treatment and recovery or recapture devices used as control devices shall not be considered recovery operations equipment.

Residual is defined in § 63.111, except that when the definition in § 63.111 uses the term “Table 9 compounds,” the term “organic HAP listed in Table 6 of subpart JJJ” shall apply for purposes of this subpart.

Shutdown means for purposes including, but not limited to, periodic maintenance, replacement of equipment, or repair, the cessation of operation of an affected source, a TPPU(s) within an affected source, a waste management unit or unit operation within an affected source, or equipment required or used to comply with this subpart, or the emptying or degassing of a storage vessel. For purposes of the wastewater provisions of § 63.1330, shutdown does not include the routine rinsing or washing of equipment in batch operation between batches. For purposes of the batch process vent provisions in §§ 63.1321 through 63.1327, the cessation of equipment in batch operation is not a shutdown, unless the equipment undergoes maintenance, is replaced, or is repaired.

Solid state polymerization process means a unit operation which, through the application of heat, furthers the polymerization (i.e., increases the intrinsic viscosity) of polymer chips.

Start-up means the setting into operation of an affected source, a TPPU(s) within an affected source, a waste management unit or unit operation within an affected source, or equipment required or used to comply with this subpart, or a storage vessel after emptying and degassing. For both continuous and batch processes, start-up includes initial start-up and operation solely for testing equipment. For both continuous and batch processes, start-up does not include the recharging of equipment in batch operation. For continuous processes, start-up includes transitional conditions due to changes in product for flexible operation units. For batch processes, start-up does not include transitional conditions due to changes in product for flexible operation units.

Steady-state conditions means that all variables (temperatures, pressures, volumes, flow rates, etc.) in a process do not vary significantly with time; minor fluctuations about constant mean values may occur.

Storage vessel means a tank or other vessel that is used to store liquids that contain one or more organic HAP. Storage vessels do not include:

(1) Vessels permanently attached to motor vehicles such as trucks, railcars, barges, or ships;

(2) Pressure vessels designed to operate in excess of 204.9 kilopascals and without emissions to the atmosphere;

(3) Vessels with capacities smaller than 38 cubic meters;

(4) Vessels and equipment storing and/or handling material that contains no organic HAP and/or organic HAP as impurities only;

(5) Wastewater storage tanks; and

(6) Surge control vessels and bottoms receivers.

* * * * *

Supplemental combustion air means the air that is added to a vent stream after the vent stream leaves the unit operation. Air that is part of the vent stream as a result of the nature of the unit operation is not considered supplemental combustion air. Air required to operate combustion device burner(s) is not considered supplemental combustion air. Air required to ensure the proper operation of catalytic oxidizers, to include the intermittent addition of air upstream of the catalyst bed to maintain a minimum threshold flow rate through the catalyst bed or to avoid excessive temperatures in the catalyst bed, is not considered to be supplemental combustion air.

Suspension process means a polymerization process where the monomer(s) is in a state of suspension, with the help of suspending agents, in a medium other than water (typically an organic solvent). The resulting polymers are not soluble in the reactor medium. .

* * * * *

Thermoplastic product process unit (TPPU) means a collection of equipment assembled and connected by hard-piping or ductwork, used to process raw materials and to manufacture a thermoplastic product as its primary product. This collection of equipment includes unit operations; recovery operations equipment, process vents; equipment identified in § 63.149; storage vessels, as determined in § 63.1310(g); and the equipment that is subject to the equipment leak provisions as specified in § 63.1331. Utilities, lines and equipment not containing process fluids, and other non-process lines, such as heating and cooling systems which do not combine their materials with those in the processes they serve, are not part of the thermoplastic product process unit. A thermoplastic product process unit consists of more than one unit operation.

* * * * *

Total resource effectiveness index value or TRE index value means a measure of the supplemental total resource requirement per unit reduction organic HAP associated with a continuous process vent stream, based on vent stream flow rate, emission rate of organic HAP, net heating value, and corrosion properties (whether or not the continuous process vent stream contains halogenated compounds), as quantified by the equations given under § 63.115.

Vent stream, as used in reference to batch process vents, continuous process vents, and aggregate batch vent streams, means the emissions from one or more process vents.

Waste management unit is defined in § 63.111, except that where the definition in § 63.111 uses the term “chemical manufacturing process unit,” the term “TPPU” shall apply for purposes of this subpart.

Wastewater means water that:

(1) Contains either:

(i) An annual average concentration of organic HAP listed on Table 6 of this subpart, except for ethylene glycol, of at least 5 parts per million by weight and has an annual average flow rate of 0.02 liter per minute or greater; or

(ii) An annual average concentration of organic HAP listed on Table 6 of this subpart, except for ethylene glycol, of at least 10,000 parts per million by weight at any flow rate; and

(2) Is discarded from a TPPU that is part of an affected source. Wastewater is process wastewater or maintenance wastewater.

Wastewater stream means a stream that contains wastewater as defined in this section.

32. Section 63.1313 is amended by:

a. Revising paragraph (a) introductory text;

b. Revising paragraph (a)(2);

c. Revising paragraph (b);

d. Revising paragraph (c); and

e. Adding paragraph (d).

The revisions and additions read as follows:

§ 63.1313 Emission standards.

(a) Except as allowed under paragraphs (b) through (d) of this section, the owner or operator of an existing or new affected source shall comply with the provisions in:

* * * * *

(2) Section 63.1315, or §§ 63.1316 through 63.1320, as appropriate, for continuous process vents;

* * * * *

(b) When emissions of different kinds (i.e., emissions from continuous process vents subject to either § 63.1315 or §§ 63.1316 through 63.1320, batch process vents, aggregate batch vent streams, storage vessels, process wastewater, and/or in-process equipment subject to § 63.149) are combined, and at least one of the emission streams would be classified as Group 1 in the absence of combination with other emission streams, the owner or operator shall comply with the requirements of either paragraph (b)(1) or (b)(2) of this section, as appropriate. For purposes of this paragraph (b), combined emission streams containing one or more batch process vents and containing one or more continuous process vents subject to § 63.1315, § 63.1316(b)(1)(i)(A), § 63.1316(b)(1)(ii), § 63.1316(b)(2)(i), § 63.1316(b)(2)(ii), or § 63.1316(c)(1), excluding § 63.1316(c)(1)(ii), may comply with either paragraph (b)(1) or (b)(2) of this section, as appropriate. For purposes of this paragraph (b), the owner or operator of an affected source with combined emission streams containing one or more batch process vents but not containing one or more continuous process vents subject to § 63.1315, § 63.1316(b)(1)(i)(A), § 63.1316(b)(1)(ii), § 63.1316(b)(2)(i), § 63.1316(b)(2)(ii), or § 63.1316(c)(1), excluding § 63.1316(c)(1)(ii), shall comply with paragraph (b)(3) of this section.

(1) Comply with the applicable requirements of this subpart for each kind of emission in the stream as specified in paragraphs (a)(1) through (a)(7) of this section.

(2) Comply with the first set of requirements, identified in paragraphs (b)(2)(i) through (b)(2)(vi) of this section, which applies to any individual emission stream that is included in the combined stream, where either that emission stream would be classified as Group 1 in the absence of combination with other emission streams, or the owner or operator chooses to consider that emission stream to be Group 1 for purposes of this paragraph. Compliance with the first applicable set of requirements identified in paragraphs (b)(2)(i) through (b)(2)(vi) of this section constitutes compliance with all other requirements in paragraphs (b)(2)(i) through (b)(2)(vi) of this section applicable to other types of emissions in the combined stream.

(i) The requirements of this subpart for Group 1 continuous process vents subject to § 63.1315, including applicable monitoring, recordkeeping, and reporting;

(ii) The requirements of § 63.1316(b)(1)(i)(A), § 63.1316(b)(1)(ii), § 63.1316(b)(2)(i), § 63.1316(b)(2)(ii), or § 63.1316(c)(1), excluding § 63.1316(c)(1)(ii), as appropriate, for control of emissions from continuous process vents subject to the control requirements of § 63.1316, including applicable monitoring, recordkeeping, and reporting requirements;

(iii) The requirements of § 63.119(e), as specified in § 63.1314, for control of emissions from Group 1 storage vessels, including applicable monitoring, recordkeeping, and reporting;

(iv) The requirements of § 63.139, as specified in § 63.1330, for control devices used to control emissions from waste management units, including applicable monitoring, recordkeeping, and reporting;

(v) The requirements of § 63.139, as specified in § 63.1330, for closed vent systems for control of emissions from in-process equipment subject to § 63.149, as specified in § 63.1330, including applicable monitoring, recordkeeping, and reporting; or

(vi) The requirements of this subpart for aggregate batch vent streams subject to § 63.1321(c), including applicable monitoring, recordkeeping, and reporting.

(3) The owner or operator of an affected source with combined emission streams containing one or more batch process vents but not containing one or more continuous process vents subject to § 63.1315, § 63.1316(b)(1)(i)(A), § 63.1316(b)(1)(ii), § 63.1316(b)(2)(i), § 63.1316(b)(2)(ii), or § 63.1316(c)(1), excluding § 63.1316(c)(1)(ii), shall comply with paragraph (b)(3)(i) and (b)(3)(ii) of this section.

(i) The owner or operator of the affected source shall comply with § 63.1321 for the batch process vent(s).

(ii) The owner or operator of the affected source shall comply with either paragraph (b)(1) or (b)(2) of this section, as appropriate, for the remaining emission streams.

(c) Instead of complying with §§ 63.1314, 63.1315, 63.1316 through 63.1320, 63.1321, and 63.1330, the owner or operator of an existing affected source may elect to control any or all of the storage vessels, batch process vents, aggregate batch vent streams, continuous process vents, and wastewater streams and associated waste management units within the affected source to different levels using an emissions averaging compliance approach that uses the procedures specified in § 63.1332. The restrictions concerning which emission points may be included in an emissions average, including how many emission points may be included, are specified in § 63.1332(a)(1). An owner or operator electing to use emissions averaging shall still comply with the provisions of §§ 63.1314, 63.1315, 63.1316 through 63.1320, 63.1321, and 63.1330 for affected source emission points not included in the emissions average.

(d) A State may decide not to allow the use of the emissions averaging compliance approach specified in paragraph (c) of this section.

33. Section 63.1314 is amended by:

a. Revising paragraph (a) introductory text;

b. Revising paragraph (a)(1) through (a)(3);

c. Revising paragraph (a)(5) through (a)(16);

d. Revising paragraph (b) introductory text;

e. Revising paragraph (c); and

f. Adding paragraph (a)(17).

The revisions and additions read as follows:

§ 63.1314 Storage vessel provisions.

(a) This section applies to each storage vessel that is assigned to an affected source, as determined by § 63.1310(g). Except as provided in paragraphs (b) through (d) of this section, the owner or operator of an affected source shall comply with the requirements of §§ 63.119 through 63.123 and 63.148 for those storage vessels, with the differences noted in paragraphs (a)(1) through (a)(17) of this section for the purposes of this subpart.

(1) When the term “storage vessel” is used in §§ 63.119 through 63.123, the definition of this term in § 63.1312 shall apply for the purposes of this subpart.

(2) When the term “Group 1 storage vessel” is used in §§ 63.119 through 63.123, the definition of this term in § 63.1312 shall apply for the purposes of this subpart.

(3) When the term “Group 2 storage vessel” is used in §§ 63.119 through 63.123, the definition of this term in § 63.1312 shall apply for the purposes of this subpart.

* * * * *

(5) When December 31, 1992, is referred to in § 63.119, March 29, 1995 shall apply instead, for the purposes of this subpart.

(6) When April 22, 1994, is referred to in § 63.119, June 19, 2000 shall apply instead, for the purposes of this subpart.

(7) Each owner or operator of an affected source shall comply with this paragraph (a)(7) instead of § 63.120(d)(1)(ii) for the purposes of this subpart. If the control device used to comply with § 63.119(e) is also used to comply with any of the requirements found in § 63.1315, § 63.1316, § 63.1322, or § 63.1330, the performance test required in or accepted by the applicable requirements of §§ 63.1315, 63.1316, 63.1322, and 63.1330 is acceptable for demonstrating compliance with § 63.119(e) for the purposes of this subpart. The owner or operator is not required to prepare a design evaluation for the control device as described in § 63.120(d)(1)(i), if the performance test meets the criteria specified in paragraphs (a)(7)(i) and (a)(7)(ii) of this section.

(i) The performance test demonstrates that the control device achieves greater than or equal to the required control efficiency specified in § 63.119(e)(1) or § 63.119(e)(2), as applicable; and

(ii) The performance test is submitted as part of the Notification of Compliance Status required by § 63.1335(e)(5).

(8) When the term “range” is used in §§ 63.120(d)(3), 63.120(d)(5), and 63.122(g)(2), the term “level” shall apply instead, for the purposes of this subpart.

(9) For purposes of this subpart, the monitoring plan required by § 63.120(d)(2) shall specify for which control devices the owner or operator has selected to follow the procedures for continuous monitoring specified in § 63.1334. For those control devices for which the owner or operator has selected to not follow the procedures for continuous monitoring specified in § 63.1334, the monitoring plan shall include a description of the parameter or parameters to be monitored to ensure that the control device is being properly operated and maintained, an explanation of the criteria used for selection of that parameter (or parameters), and the frequency with which monitoring will be performed (e.g., when the liquid level in the storage vessel is being raised), as specified in § 63.120(d)(2)(i).

(10) For purposes of this subpart, the monitoring plan required by § 63.122(b) shall be included in the Notification of Compliance Status required by § 63.1335(e)(5).

(11) When the Notification of Compliance Status requirements contained in § 63.152(b) are referred to in §§ 63.120, 63.122, and 63.123, the Notification of Compliance Status requirements contained in § 63.1335(e)(5) shall apply for the purposes of this subpart.

(12) When the Periodic Report requirements contained in § 63.152(c) are referred to in §§ 63.120 and 63.122, the Periodic Report requirements contained in § 63.1335(e)(6) shall apply for the purposes of this subpart.

(13) When other reports as required in § 63.152(d) are referred to in § 63.122, the reporting requirements contained in § 63.1335(e)(7) shall apply for the purposes of this subpart.

(14) When the Initial Notification requirements contained in § 63.151(b) are referred to in § 63.122, the owner or operator of an affected source subject to this subpart need not comply for the purposes of this subpart.

(15) When the determination of equivalence criteria in § 63.102(b) is referred to in § 63.121(a), the provisions in § 63.6(g) shall apply for the purposes of this subpart.

(16) When § 63.119(a) requires compliance according to the schedule provisions in § 63.100, owners and operators of affected sources shall instead comply with the requirements in §§ 63.119(a)(1) through 63.119(a)(4) by the compliance date for storage vessels, which is specified in § 63.1311.

(17) In § 63.120(e)(1), instead of the reference to § 63.11(b), the requirements of § 63.1333(e) shall apply.

(b) Owners or operators of Group 1 storage vessels that are assigned to a new affected source producing SAN using a continuous process shall control emissions to the levels indicated in paragraphs (b)(1) and (b)(2) of this section.

* * * * *

(c) Owners or operators of Group 1 storage vessels that are assigned to a new or existing affected source producing ASA/AMSAN shall control emissions by at least 98 percent relative to uncontrolled emissions.

* * * * *

34. Section 63.1315 is amended by:

a. Revising paragraphs (a)(1) through (a)(4);

b. Revising paragraphs (a)(9) through (a)(17);

c. Revising paragraph (b) introductory text;

d. Revising paragraph (b)(1)(ii);

e. Revising paragraph (c); and

f. Revising paragraph (d).

The revisions read as follows:

§ 63.1315 Continuous process vents provisions.

(a) * * *

(1) When the term “process vent” is used in §§ 63.113 through 63.118, the term “continuous process vent,” and the definition of this term in § 63.1312 shall apply for the purposes of this subpart.

(2) When the term “Group 1 process vent” is used in §§ 63.113 through 63.118, the term “Group 1 continuous process vent,” and the definition of this term in § 63.1312 shall apply for the purposes of this subpart.

(3) When the term “Group 2 process vent” is used in §§ 63.113 through 63.118, the term “Group 2 continuous process vent,” and the definition of this term in § 63.1312 shall apply for the purposes of this subpart.

(4) When December 31, 1992 is referred to in § 63.113, apply the date March 29, 1995, for the purposes of this subpart.

* * * * *

(9) When § 63.114(e) specifies that an owner or operator shall submit the information required in § 63.152(b) in order to establish the parameter monitoring range, the owner or operator of an affected source shall comply with the provisions of § 63.1334 for establishing the parameter monitoring level and shall comply with § 63.1335(e)(5) for purposes of reporting information related to establishment of the parameter monitoring level for purposes of this subpart. Further, the term “level” shall apply when the term “range” is used in §§ 63.114, 63.117, and 63.118.

(10) When reports of process changes are required under § 63.118(g), (h), (i), or (j), paragraphs (a)(10)(i) through (a)(10)(iv) of this section shall apply for the purposes of this subpart. In addition, for the purposes of this subpart, paragraph (a)(10)(v) of this section applies, and § 63.118(k) does not apply to owners or operators of affected sources.

(i) For the purposes of this subpart, whenever a process change, as defined in § 63.115(e), is made that causes a Group 2 continuous process vent to become a Group 1 continuous process vent, the owner or operator shall submit a report within 180 days after the process change is made or with the next Periodic Report, whichever is later. A description of the process change shall be submitted with the report of the process change, and the owner or operator of the affected source shall comply with the Group 1 provisions in §§ 63.113 through 63.118 in accordance with § 63.1310(i)(2)(ii) or (i)(2)(iii), as applicable.

(ii) Whenever a process change, as defined in § 63.115(e), is made that causes a Group 2 continuous process vent with a TRE greater than 4.0 to become a Group 2 continuous process vent with a TRE less than 4.0, the owner or operator shall submit a report within 180 days after the process change is made or with the next Periodic Report, whichever is later. A description of the process change shall be submitted with the report of the process change, and the owner or operator shall comply with the provisions in § 63.113(d) by the dates specified in § 63.1311.

(iii) Whenever a process change, as defined in § 63.115(e), is made that causes a Group 2 continuous process vent with a flow rate less than 0.005 standard cubic meter per minute to become a Group 2 continuous process vent with a flow rate of 0.005 standard cubic meter per minute or greater and a TRE index value less than or equal to 4.0, the owner or operator shall submit a report within 180 days after the process change is made or with the next Periodic Report, whichever is later. A description of the process change shall be submitted with the report of the process change, and the owner or operator shall comply with the provisions in § 63.113(d) by the dates specified in § 63.1311.

(iv) Whenever a process change, as defined in § 63.115(e), is made that causes a Group 2 continuous process vent with an organic HAP concentration less than 50 parts per million by volume to become a Group 2 continuous process vent with an organic HAP concentration of 50 parts per million by volume or greater and a TRE index value less than or equal to 4.0, the owner or operator shall submit a report within 180 days after the process change is made or with the next Periodic Report, whichever is later. A description of the process change shall be submitted with the report of the process change, and the owner or operator shall comply with the provisions in § 63.113(d) by the dates specified in § 63.1311.

(v) The owner or operator is not required to submit a report of a process change if one of the conditions listed in paragraphs (a)(10)(v)(A), (a)(10)(v)(B), (a)(10)(v)(C), or (a)(10)(v)(D) of this section is met.

(A) The process change does not meet the definition of a process change in § 63.115(e);

(B) The vent stream flow rate is recalculated according to § 63.115(e) and the recalculated value is less than 0.005 standard cubic meter per minute;

(C) The organic HAP concentration of the vent stream is recalculated according to § 63.115(e) and the recalculated value is less than 50 parts per million by volume; or (D) The TRE index value is recalculated according to § 63.115(e) and the recalculated value is greater than 4.0, or for the affected sources producing methyl methacrylate butadiene styrene resin the recalculated value is greater than 6.7.

(11) When the provisions of § 63.116(c)(3) and (c)(4) specify that Method 18, 40 CFR part 60, appendix A shall be used, Method 18 or Method 25A, 40 CFR part 60, appendix A may be used for the purposes of this subpart. The use of Method 25A, 40 CFR part 60, appendix A shall conform with the requirements in paragraphs (a)(11)(i) and (a)(11)(ii) of this section.

(i) The organic HAP used as the calibration gas for Method 25A, 40 CFR part 60, appendix A shall be the single organic HAP representing the largest percent by volume of the emissions.

(ii) The use of Method 25A, 40 CFR part 60, appendix A is acceptable if the response from the high-level calibration gas is at least 20 times the standard deviation of the response from the zero calibration gas when the instrument is zeroed on the most sensitive scale.

(12) When § 63.118, periodic reporting and recordkeeping requirements, refers to § 63.152(f), the recordkeeping requirements in § 63.1335(d) shall apply for purposes of this subpart.

(13) If a batch process vent or aggregate batch vent stream is combined with a continuous process vent, the owner or operator of the affected source containing the combined vent stream shall comply with paragraph (a)(13)(i); with paragraph (a)(13)(ii) and with paragraph (a)(13)(iii) or (iv); or with paragraph (a)(13)(v) of this section, as appropriate.

(i) If a batch process vent or aggregate batch vent stream is combined with a Group 1 continuous process vent prior to the combined vent stream being routed to a control device, the owner or operator of the affected source containing the combined vent stream shall comply with the requirements in paragraph (a)(13)(i)(A) or (B) of this section.

(A) All requirements for a Group 1 process vent stream in §§ 63.113 through 63.118, except as otherwise provided in this section. As specified in § 63.1333(a)(1), performance tests shall be conducted at maximum representative operating conditions. For the purpose of conducting a performance test on a combined vent stream, maximum representative operating conditions shall be when batch emission episodes are occurring that result in the highest organic HAP emission rate (for the combined vent stream) that is achievable during one of the periods listed in § 63.1333(a)(1)(i) or § 63.1333(a)(1)(ii), without causing any of the situations described in paragraphs (a)(13)(i)(A)(1) through (3) to occur.

(1) Causing damage to equipment.

(2) Necessitating that the owner or operator make product that does not meet an existing specification for sale to a customer; or

(3) Necessitating that the owner or operator make product in excess of demand.

(B) Comply with the provisions in § 63.1313(b)(1), as allowed under § 63.1313(b).

(ii) If a batch process vent or aggregate batch vent stream is combined with a continuous process vent prior to the combined vent stream being routed to a recovery device, the TRE index value for the combined vent stream shall be calculated at the exit of the last recovery device. The TRE shall be calculated during periods when one or more batch emission episodes are occurring that result in the highest organic HAP emission rate (in the combined vent stream that is being routed to the recovery device) that is achievable during the 6-month period that begins 3 months before and ends 3 months after the TRE calculation, without causing any of the situations described in paragraphs (a)(13)(ii)(A) through (C) to occur.

(A) Causing damage to equipment.

(B) Necessitating that the owner or operator make product that does not meet an existing specification for sale to a customer; or

(C) Necessitating that the owner or operator make product in excess of demand.

(iii) If the combined vent stream described in paragraph (a)(10)(ii) of this section meets the requirements in paragraphs (a)(13)(iii)(A), (B), and (C) of this section, the combined vent stream shall be subject to the requirements for Group 1 process vents in §§ 63.113 through 63.118, except as otherwise provided in this section, as applicable. Performance tests for the combined vent stream shall be conducted at maximum operating conditions, as described in paragraph (a)(13)(i) of this section.

(A) The TRE index value of the combined stream is less than or equal to 1.0;

(B) The flow rate of the combined vent stream is greater than or equal to 0.005 standard cubic meter per minute; and

(C) The total organic HAP concentration is greater than or equal to 50 parts per million by volume for the combined vent stream.

(iv) If the combined vent stream described in paragraph (a)(10)(ii) of this section meets the requirements in paragraph (a)(13)(iv)(A), (B), or (C) of this section, the combined vent stream shall be subject to the requirements for Group 2 process vents in §§ 63.113 through 63.118, except as otherwise provided in this section, as applicable.

(A) The TRE index value of the combined vent stream is greater than 1.0;

(B) The flow rate of the combined vent stream is less than 0.005 standard cubic meter per minute; or

(C) The total organic HAP concentration is less than 50 parts per million by volume for the combined vent stream.

(v) If a batch process vent or aggregate batch vent stream is combined with a Group 2 continuous process vent, the owner or operator shall comply with the requirements in either paragraph (a)(13)(v)(A) or (a)(13)(v)(B) of this section.

(A) The owner or operator shall comply with the requirements in §§ 63.113 through 63.118 for Group 1 process vents; or

(B) The owner or operator shall comply with § 63.1322(e)(2) for batch process vents and aggregate batch vent streams.

(14) If any gas stream that originates outside of an affected source that is subject to this subpart is normally conducted through the same final recovery device as any continuous process vent stream subject to this subpart, the owner or operator of the affected source with the combined vent stream shall comply with all requirements in §§ 63.113 through 63.118 of subpart G of this part, except as otherwise noted in this section, as applicable.

(i) Instead of measuring the vent stream flow rate at the sampling site specified in § 63.115(b)(1), the sampling site for vent stream flow rate shall be prior to the final recovery device and prior to the point at which the gas stream that is not controlled under this subpart is introduced into the combined vent stream.

(ii) Instead of measuring total organic HAP or TOC concentrations at the sampling site specified in § 63.115(c)(1), the sampling site for total organic HAP or TOC concentration shall be prior to the final recovery device and prior to the point at which the gas stream that is not controlled under this subpart is introduced into the combined vent stream.

(iii) The efficiency of the final recovery device (determined according to paragraph (a)(14)(iv) of this section) shall be applied to the total organic HAP or TOC concentration measured at the sampling site described in paragraph (a)(14)(ii) of this section to determine the exit concentration. This exit concentration of total organic HAP or TOC shall then be used to perform the calculations outlined in § 63.115(d)(2)(iii) and § 63.115(d)(2)(iv), for the combined vent stream exiting the final recovery device.

(iv) The efficiency of the final recovery device is determined by measuring the total organic HAP or TOC concentration using Method 18 or 25A, 40 CFR part 60, appendix A, at the inlet to the final recovery device after the introduction of any gas stream that is not controlled under this subpart, and at the outlet of the final recovery device.

(15) When § 63.115(c)(3)(ii)(B) and (d)(2)(iv) and § 63.116(c)(3)(ii)(B) and (c)(4)(ii)(C) refer to Table 2 of subpart F of this part, the owner or operator is only required to consider organic HAP listed on Table 6 of this subpart for purposes of this subpart.

(16) The compliance date for continuous process vents subject to the provisions of this section is specified in § 63.1311.

(17) In § 63.116(a), instead of the reference to § 63.11(b), the requirements in § 63.1333(e) shall apply.

* * * * *

(b) Owners or operators of existing affected sources producing MBS shall comply with either paragraph (b)(1) or (b)(2) of this section.

(1) * * *

(ii) When complying with this paragraph (b) and the term “TRE of 4.0” is used, or related terms indicating a TRE index value of 4.0, referred to in §§ 63.113 through 63.118, are used, the term “TRE of 6.7,” shall apply instead, for the purposes of this subpart. The TRE range of 3.7 to 6.7 for continuous process vents at existing affected sources producing MBS corresponds to the TRE range of 1.0 to 4.0 for other continuous process vents, as it applies to monitoring, recordkeeping, and reporting.

* * * * *

(c) Owners or operators of new affected sources producing SAN using a batch process shall comply with the applicable requirements in § 63.1321.

(d) Affected sources producing PET or polystyrene using a continuous process are not subject to the provisions of this section and instead are subject to the emissions control provisions of § 63.1316, the monitoring provisions of § 63.1317, the testing and compliance demonstration provisions of § 63.1318, the recordkeeping provisions of § 63.1319, and the reporting provisions of § 63.1320. However, in some instances, as specified in § 63.1316, select continuous process vents present at affected sources producing PET or polystyrene using a continuous process are subject to the provisions of this section.

* * * * *

35. Section 63.1316 is amended by:

a. Revising the section title;

b. Revising paragraph (a);

c. Revising paragraph (b); introductory text;

d. Revising paragraph (b)(1) introductory text;

e. Revising paragraph (b)(1)(i) introductory text;

f. Revising paragraphs (b)(1)(i)(A) and (b)(1)(i)(B);

g. Revising paragraphs (b)(1)(ii) (b)(1)(iii), and (b)(1)(iv);

h. Revising paragraph (b)(2) introductory text;

i. Revising paragraphs (b)(2)(i), (b)(2)(ii), (b)(2)(iii), and (b)(2)(iv);

j. Revising paragraph (c) introductory text;

k. Revising paragraph (c)(1) introductory text;

l. Revising paragraphs (c)(1)(i) and (c)(1)(ii);

m. Revising paragraph (c)(1)(iii)(A);

n. Revising paragraph (c)(1)(iii)(C); and

o. Revising paragraph (c)(3).

The revisions read as follows:

§ 63.1316 PET and polystyrene affected sources—emissions control provisions.

(a) The owner or operator of an affected source producing PET using a continuous process shall comply with paragraph (b) of this section. The owner or operator of an affected source producing polystyrene using a continuous process shall comply with paragraph (c) of this section. As specified in paragraphs (b) and (c) of this section, owners or operators shall comply with § 63.1315 for certain continuous process vents and with § 63.1321 for all batch process vents. The owner or operator of an affected source producing PET using a batch process or producing polystyrene using a batch process shall comply with § 63.1315 for continuous process vents and with § 63.1321 for batch process vents, instead of the provisions of §§ 63.1316 through 63.1320.

(b) The owner or operator of an affected source producing PET using a continuous process shall comply with the requirements specified in paragraphs (b)(1) or (b)(2) of this section, as appropriate, and are not required to comply with the requirements specified in 40 CFR part 60, subpart DDD. Compliance can be based on either organic HAP or TOC.

(1) The owner or operator of an affected source producing PET using a continuous dimethyl terephthalate process shall comply with paragraphs (b)(1)(i) through (b)(1)(iv) of this section.

(i) The owner or operator of an existing affected source with organic HAP emissions greater than 0.12 kg organic HAP per Mg of product from continuous process vents in the collection of material recovery sections (i.e., methanol recovery) within the affected source shall comply with either paragraph (b)(1)(i)(A), (b)(1)(i)(B), or (b)(1)(i)(C) of this section. Emissions from continuous process vents in the collection of material recovery sections within the affected source shall be determined by the procedures specified in § 63.1318(b). The owner or operator of a new affected source shall comply with either paragraph (b)(1)(i)(A), (b)(1)(i)(B), or (b)(1)(i)(C) of this section.

(A) Organic HAP emissions from all continuous process vents in each individual material recovery section shall, as a whole, be no greater than 0.018 kg organic HAP per Mg of product from the associated TPPU(s); or alternatively, organic HAP emissions from all continuous process vents in the collection of material recovery sections within the affected source shall, as a whole, be no greater than 0.018 kg organic HAP per Mg product from all associated TPPU(s);

(B) As specified in § 63.1318(d), the owner or operator shall maintain the daily average outlet gas stream temperature from each final condenser in a material recovery section at a temperature of +3°C (+37°F) or less (i.e., colder);

* * * * *

(ii) Limit organic HAP emissions from continuous process vents in the collection of polymerization reaction sections within the affected source by complying with either paragraph (b)(1)(ii)(A) or (b)(1)(ii)(B) of this section.

(A) Organic HAP emissions from all continuous process vents in each individual polymerization reaction section (including emissions from any equipment used to further recover ethylene glycol, but excluding emissions from process contact cooling towers) shall, as a whole, be no greater than 0.02 kg organic HAP per Mg of product from the associated TPPU(s); or alternatively, organic HAP emissions from all continuous process vents in the collection of polymerization reaction sections within the affected source shall, as a whole, be no greater than 0.02 kg organic HAP per Mg product from all associated TPPU(s); or

(B) Comply with paragraph (b)(1)(v) of this section.

(iii) Continuous process vents not included in a material recovery section, as specified in paragraph (b)(1)(i) of this section, and not included in a polymerization reaction section, as specified in paragraph (b)(1)(ii) of this section, shall comply with § 63.1315.

(iv) Batch process vents shall comply with § 63.1321.

* * * * *

(2) The owner or operator of an affected source producing PET using a continuous terephthalic acid process shall comply with paragraphs (b)(2)(i) through (b)(2)(iv) of this section.

(i) Limit organic HAP emissions from continuous process vents in the collection of raw material preparation sections within the affected source by complying with either paragraph (b)(2)(i)(A) or (b)(2)(i)(B) of this section.

(A) Organic HAP emissions from all continuous process vents associated with the esterification vessels in each individual raw materials preparation section shall, as a whole, be no greater than 0.04 kg organic HAP per Mg of product from the associated TPPU(s); or alternatively, organic HAP emissions from all continuous process vents associated with the esterification vessels in the collection of raw material preparation sections within the affected source shall, as a whole, be no greater than 0.04 kg organic HAP per Mg of product from all associated TPPU(s). Other continuous process vents (i.e., those not associated with the esterification vessels) in the collection of raw materials preparation sections within the affected source shall comply with § 63.1315; or

(B) Comply with paragraph (b)(2)(v) of this section.

(ii) Limit organic HAP emissions from continuous process vents in the collection of polymerization reaction sections within the affected source by complying with either paragraph (b)(2)(ii)(A) or (b)(2)(ii)(B) of this section.

(A) Organic HAP emissions from all continuous process vents in each individual polymerization reaction section (including emissions from any equipment used to further recover ethylene glycol, but excluding emissions from process contact cooling towers) shall, as a whole, be no greater than 0.02 kg organic HAP per Mg of product from the associated TPPU(s); or alternatively, organic HAP emissions from all continuous process vents in the collection of polymerization reaction sections within the affected source shall, as a whole, be no greater than 0.02 kg organic HAP per Mg of product from all associated TPPU(s); or

(B) Comply with paragraph (b)(2)(v) of this section.

(iii) Continuous process vents not included in a raw materials preparation section, as specified in paragraphs (b)(2)(i) of this section, and not included in a polymerization reaction section, as specified in paragraph (b)(2)(ii) of this section, shall comply with § 63.1315.

(iv) Batch process vents shall comply with § 63.1321.

* * * * *

(c) The owner or operator of an affected source producing polystyrene resin using a continuous process shall comply with the requirements specified in paragraphs (c)(1) through (c)(3) of this section, as appropriate, instead of the requirements specified in 40 CFR part 60, subpart DDD. Compliance can be based on either organic HAP or TOC.

(1) Limit organic HAP emissions from continuous process vents in the collection of material recovery sections within the affected source by complying with either paragraph (c)(1)(i), (c)(1)(ii), or (c)(1)(iii) of this section.

(i) Organic HAP emissions from all continuous process vents in each individual material recovery section shall, as a whole, be no greater than 0.0036 kg organic HAP per Mg of product from the associated TPPU(s); or alternatively, organic HAP emissions from all continuous process vents in the collection of material recovery sections within the affected source shall, as a whole, be no greater than 0.0036 kg organic HAP per Mg of product from all associated TPPU(s);

(ii) As specified in § 63.1318(d), the owner or operator shall maintain the daily average outlet gas stream temperature from each final condenser in a material recovery section at a temperature of −25°C (−13°F) or less (i.e., colder); or

(iii) * * *

(A) Reduce the emissions in a combustion device to achieve 98 weight percent reduction or to achieve a concentration of 20 parts per million by volume (ppmv) on a dry basis, whichever is less stringent. If an owner or operator elects to comply with the 20 ppmv standard, the concentration shall include a correction to 3 percent oxygen only when supplemental combustion air is used to combust the emissions;

* * * * *

(C) Combust the emissions in a flare that complies with the requirements of § 63.1333(e).

* * * * *

(3) Batch process vents shall comply with § 63.1321.

36. Section 63.1317 is revised (including the section title) to read as follows:

§ 63.1317 PET and polystyrene affected sources—monitoring provisions.

Continuous process vents using a control or recovery device to comply with § 63.1316 shall comply with the applicable monitoring provisions specified for continuous process vents in § 63.1315(a), except that references to group determinations (i.e., total resource effectiveness) do not apply and owners or operators are not required to comply with § 63.113.

37. Section 63.1318 is amended by:

a. Revising the section title;

b. Revising paragraph (a);

c. Revising paragraph (b) introductory text;

d. Revising paragraph (b)(1)(i) introductory text;

e. Revising paragraph (c); and

f. Revising paragraph (d).

The revisions read as follows:

§ 63.1318 PET and polystyrene affected sources—testing and compliance demonstration provisions.

(a) Except as specified in paragraphs (b) through (d) of this section, continuous process vents using a control or recovery device to comply with § 63.1316 shall comply with the applicable testing and compliance provisions for continuous process vents specified in § 63.1315, except that, for the purposes of this paragraph (a), references to group determinations (i.e., total resource effectiveness) do not apply and owners or operators are not required to comply with § 63.113.

(b) PET Affected Sources Using a Dimethyl Terephthalate Process—Applicability Determination Procedure. Owners or operators shall calculate organic HAP emissions from the collection of material recovery sections at an existing affected source producing PET using a continuous dimethyl terephthalate process to determine whether § 63.1316(b)(1)(i) is applicable using the procedures specified in either paragraph (b)(1) or (b)(2) of this section.

(1) * * *

(i) The mass emission rate for each continuous process vent, Ei, shall be determined according to the procedures specified in § 63.116(c)(4). The sampling site for determining whether § 63.1316(b)(1)(i) is applicable shall be at the outlet of the last recovery or control device. When the provisions of § 63.116(c)(4) specify that Method 18, 40 CFR part 60, appendix A shall be used, Method 18 or Method 25A, 40 CFR part 60, appendix A may be used for the purposes of this subpart. The use of Method 25A, 40 CFR part 60, appendix A shall comply with paragraphs (b)(1)(i)(A) and (b)(1)(i)(B) of this section.

* * * * *

(c) Compliance with Mass Emissions per Mass Product Standards. Owners or operators complying with § 63.1316(b)(1)(i)(A), (b)(1)(ii), (b)(2)(i), (b)(2)(ii), and (c)(1)(i) shall demonstrate compliance with the mass emissions per mass product requirements using the procedures specified in paragraph (b)(1) of this section.

(d) Compliance with Temperature Limits for Final Condensers. Owners or operators complying with § 63.1316(b)(1)(i)(B) or § 63.1316(c)(1)(ii) shall demonstrate continuous compliance based on an average exit temperature determined for each operating day. Calculation of the daily average exit temperature shall follow the provisions of § 63.1335(d)(3). The provisions of § 63.1334(f) and (g) shall apply for the purposes of determining whether or not an owner or operator is to be deemed out of compliance for a given operating day.

38. Section 63.1319 is amended by:

a. Revising the section title;

b. Revising paragraph (a);

c. Revising paragraph (b) introductory text;

d. Revising paragraph (b)(2); and

e. Revising paragraph (c).

The revisions read as follows:

§ 63.1319 PET and polystyrene affected sources—recordkeeping provisions.

(a) Except as specified in paragraphs (b) and (c) of this section, owners or operators using a control or recovery device to comply with § 63.1316 shall comply with the applicable recordkeeping provisions specified in § 63.1315, except that, for the purposes of this paragraph (a), references to group determinations (i.e., total resource effectiveness) do not apply, and owners or operators are not required to comply with § 63.113.

(b) Records Demonstrating Compliance With the Applicability Determination Procedure for PET Affected Sources Using a Dimethyl Terephthalate Process. Owners or operators complying with § 63.1316(b)(1)(i) by demonstrating that mass emissions per mass product are less than or equal to the level specified in § 63.1316(b)(1)(i) (i.e., 0.12 kg organic HAP per Mg of product) shall keep the following records.

* * * * *

(2) Records of any change in process operation that increases the mass emissions per mass product.

(c) Records Demonstrating Compliance with Temperature Limits for Final Condensers. Owners or operators of continuous process vents complying with § 63.1316(b)(1)(i)(B) or § 63.1316(c)(1)(ii) shall keep records of the daily averages required by § 63.1318, per the recordkeeping provisions specified in § 63.1335(d).

39. Section 63.1320 is revised to read as follows:

§ 63.1320 PET and polystyrene affected sources—reporting provisions.

(a) Except as specified in paragraph (b) of this section, owners and operators using a control or recovery device to comply with § 63.1316 shall comply with the applicable reporting provisions specified in § 63.1315, except that, for the purposes of this paragraph (a), references to group determinations (i.e., total resource effectiveness) do not apply, and owners or operators are not required to comply with § 63.113.

(b) Reporting for PET Affected Sources Using a Dimethyl Terephthalate Process. Owners or operators complying with § 63.1316 by demonstrating that mass emissions per mass product are less than or equal to the level specified in § 63.1316(b)(1)(i) (i.e., 0.12 kg organic HAP per Mg of product) shall comply with paragraphs (b)(1) through (b)(3) of this section.

(1) Include the information specified in § 63.1319(b)(2) in each Periodic Report, required by § 63.1335(e)(6), as appropriate.

(2) Include the information specified in § 63.1319(b)(1) in the Notification of Compliance Status, required by § 63.1335(e)(5).

(3) Whenever a process change, as defined in § 63.115(e), is made that causes emissions from continuous process vents in the collection of material recovery sections (i.e., methanol recovery) within the affected source to be greater than 0.12 kg organic HAP per Mg of product, the owner or operator shall submit a report within 180 days after the process change is made or the information regarding the process change is known to the owner or operator. This report may be included in the next Periodic Report as specified in § 63.1335(e)(6)(iii)(D)(2). The report shall include the information specified in § 63.1319(b)(1) and a description of the process change.

40. Section 63.1321 is amended by revising paragraphs (a) and (c), to read as follows:

§ 63.1321 Batch process vents provisions.

(a) Batch process vents. Except as specified in paragraphs (b) through (d) of this section, owners and operators of new and existing affected sources with batch process vents shall comply with the requirements in §§ 63.1322 through 63.1327. The batch process vent group status shall be determined in accordance with § 63.1323. Owners or operators of batch process vents classified as Group 1 shall comply with the reference control technology requirements for Group 1 batch process vents in § 63.1322, the monitoring requirements in § 63.1324, the performance test methods and procedures to determine compliance in § 63.1325, the recordkeeping requirements in § 63.1326, and the reporting requirements in § 63.1327. Owners or operators of all Group 2 batch process vents shall comply with the applicable reference control technology requirements in § 63.1322, the applicable recordkeeping requirements in § 63.1326, and the applicable reporting requirements in § 63.1327.

* * * * *

(c) Aggregate batch vent streams. Aggregate batch vent streams, as defined in § 63.1312, are subject to the control requirements specified in § 63.1322(b), as well as the monitoring, testing, recordkeeping, and reporting requirements specified in §§ 63.1324 through 63.1327 for aggregate batch vent streams.

* * * * *

41. Section 63.1322 is amended by:

a. Revising paragraph (a) introductory text;

b. Revising paragraph (a)(1)(i);

c. Revising paragraph (b) introductory text;

d. Revising paragraph (b)(1)(i);

e. Revising paragraph (b)(2);

f. Revising paragraphs (c)(1) and (c)(2);

g. Revising paragraph (e);

h. Revising paragraph (f);

i. Revising paragraph (g); and

j. Adding paragraph (h).

The revisions and additions read as follows:

§ 63.1322 Batch process vents—reference control technology.

(a) Batch process vents. The owner or operator of a Group 1 batch process vent, as determined using the procedures in § 63.1323, shall comply with the requirements of either paragraph (a)(1) or (a)(2) of this section, except as provided for in paragraph (a)(3) of this section. Compliance may be based on either organic HAP or TOC.

(1) * * *

(i) The owner or operator shall comply with the requirements of § 63.1333(e) for the flare.

* * * * *

(b) Aggregate batch vent streams. The owner or operator of an aggregate batch vent stream that contains one or more Group 1 batch process vents shall comply with the requirements of either paragraph (b)(1) or (b)(2) of this section, except as provided for in paragraph (b)(3) of this section. Compliance may be based on either organic HAP or TOC.

(1) * * *

(i) The owner or operator shall comply with the requirements of § 63.1333(e) for the flare.

* * * * *

(2) For each aggregate batch vent stream, reduce organic HAP emissions by 90 weight percent or to a concentration of 20 parts per million by volume, whichever is less stringent, on a continuous basis using a control device. For purposes of complying with the 20 parts per million by volume outlet concentration standard, the outlet concentration shall be calculated on a dry basis. When a combustion device is used for purposes of complying with the 20 parts per million by volume outlet concentration standard, the concentration shall be corrected to 3 percent oxygen if supplemental combustion air is used to combust the emissions. If supplemental combustion air is not used, a correction to 3 percent oxygen is not required.

* * * * *

(c) * * *

(1) If a combustion device is used to comply with paragraph (a)(2), (a)(3), (b)(2), or (b)(3) of this section for a halogenated batch process vent, halogenated aggregate batch vent stream, or halogenated continuous process vent, said emissions exiting the combustion device shall be ducted to a halogen reduction device that reduces overall emissions of hydrogen halides and halogens by at least 99 percent before discharge to the atmosphere.

(2) A halogen reduction device may be used to reduce the halogen atom mass emission rate of said emissions to less than 3,750 kg/yr for batch process vents or aggregate batch vent streams and to less than 0.45 kilograms per hour for continuous process vents prior to venting to any combustion control device, and thus make the batch process vent, aggregate batch vent stream, or continuous process vent nonhalogenated. The nonhalogenated batch process vent, aggregate batch vent stream, or continuous process vent shall then comply with the requirements of either paragraph (a) or (b) of this section, as appropriate.

* * * * *

(e) Combination of batch process vents or aggregate batch vent streams with continuous process vents. If a batch process vent or aggregate batch vent stream is combined with a continuous process vent, the owner or operator shall determine whether the combined vent stream is subject to the provisions of §§ 63.1321 through 63.1327 according to paragraphs (e)(1) and (e)(2) of this section.

(1) A batch process vent or aggregate batch vent stream combined with a continuous process vent is not subject to the provisions of §§ 63.1321 through 63.1327, if the requirements in paragraph (e)(1)(i) and in either paragraph (e)(1)(ii) or (e)(1)(iii) are met.

(i) The only emissions to the atmosphere from the batch process vent or aggregate batch vent stream prior to being combined with the continuous process vent are from equipment subject to § 63.1331.

(ii) The batch process vent or aggregate batch vent stream is combined with a Group 1 continuous process vent prior to the combined vent stream being routed to a control device. In this paragraph (e)(1)(ii), the definition of control device as it relates to continuous process vents shall be used. Furthermore, the combined vent stream discussed in this paragraph (e)(1)(ii) shall be subject to § 63.1315(a)(13)(i).

(iii) The batch process vent or aggregate batch vent stream is combined with a continuous process vent prior to being routed to a recovery device. In this paragraph (e)(1)(iii), the definition of recovery device as it relates to continuous process vents shall be used. Furthermore, the combined vent stream discussed in this paragraph (e)(1)(iii) shall be subject to § 63.1315(a)(13)(ii).

(2) If the batch process vent or aggregate batch vent stream is combined with a Group 2 continuous process vent, the group status of the batch process vent shall be determined prior to its combination with the Group 2 continuous process vent, in accordance with § 63.1323, and the combined vent stream shall be subject to the requirements for aggregate batch vent streams in §§ 63.1321 through 63.1327.

(f) Group 2 batch process vents with annual emissions greater than or equal to the level specified in § 63.1323(d). The owner or operator of a Group 2 batch process vent with annual emissions greater than or equal to the level specified in § 63.1323(d) shall comply with the provisions of paragraph (f)(1), (f)(2), or (h) of this section.

(1) The owner or operator of an affected source shall comply with the requirements in paragraphs (f)(1)(i) through (f)(1)(iv) of this section.

(i) The owner or operator shall establish a batch mass input limitation that ensures the Group 2 batch process vent does not become a Group 1 batch process vent.

(ii) Over the course of the affected source's “year,” as reported in the Notification of Compliance Status in accordance with § 63.1335(e)(5)(iv), the owner or operator shall not charge a mass of HAP or material to the batch unit operation that is greater than the level established as the batch mass input limitation.

(iii) The owner or operator shall comply with the recordkeeping requirements in § 63.1326(d)(2), and the reporting requirements in § 63.1327(a)(3), (b), and (c).

(iv) The owner or operator shall comply with § 63.1323(i) when process changes are made.

(2) Comply with the requirements of this subpart for Group 1 batch process vents.

(g) Group 2 batch process vents with annual emissions less than the level specified in § 63.1323(d). The owner or operator of a Group 2 batch process vent with annual emissions less than the level specified in § 63.1323(d) shall comply with paragraphs (g)(1), (g)(2), (g)(3), or (g)(4) of this section.

(1) The owner or operator of the affected source shall comply with the requirements in paragraphs (g)(1)(i) through (g)(1)(iv) of this section.

(i) The owner or operator shall establish a batch mass input limitation that ensures emissions do not exceed the level specified in § 63.1323(d).

(ii) Over the course of the affected source's “year,” as reported in the Notification of Compliance Status in accordance with § 63.1335(e)(5)(iv), the owner or operator shall not charge a mass of HAP or material to the batch unit operation that is greater than the level established as the batch mass input limitation.

(iii) The owner or operator shall comply with the recordkeeping requirements in § 63.1326(d)(1), and the reporting requirements in § 63.1327(a)(2), (b), and (c).

(iv) The owner or operator of the affected source shall comply with § 63.1323(i) when process changes are made.

(2) Comply with the requirements of paragraph (f)(1) of this section;

(3) Comply with the requirements of paragraph (f)(2) of this section; or

(4) Comply with the requirements of paragraph (h) of this section.

(h) Owners or operators of Group 2 batch process vents are not required to establish a batch mass input limitation if the batch process vent is Group 2 at the conditions specified in paragraphs (h)(1) and (h)(2) of this section and if the owner or operator complies with the recordkeeping provisions in §§ 63.1326(a)(1) through (3), 63.1326(a)(9), and 63.1326(a)(4) through (6) as applicable, and the reporting requirements in § 63.1327(a)(5), (a)(6), and (b).

(1) Emissions for the single highest-HAP recipe (considering all products that are produced in the batch unit operation) are used in the group determination; and

(2) The group determination assumes that the batch unit operation is operating at the maximum design capacity of the TPPU for 12 months.

42. Section 63.1323 is amended by:

a. Revising paragraph (a)(1);

b. Revising paragraph (b) introductory text;

c. Revising paragraphs (b)(1) and (b)(2);

d. Revising paragraphs (b)(4)(i)(A) through (b)(4)(i)(C);

e. Revising paragraph (b)(4)(ii)(B)(1);

f. Revising paragraph (b)(5) introductory text;

g. Revising paragraph (b)(5)(ii);

h. Revising paragraph (b)(5)(iii) introductory text;

i. Revising paragraph (b)(5)(iv);

j. Revising paragraph (b)(5)(v) introductory text;

k. Revising paragraph (b)(5)(v)(A);

l. Revising paragraph (b)(6);

m. Revising paragraph (d);

n. Revising paragraph (e) introductory text;

o. Revising paragraph (e)(1) introductory text;

p. Revising paragraph (e)(1)(i);

q. Revising paragraph (e)(1)(iii);

r. Revising paragraphs (e)(2) and (e)(3);

s. Revising paragraph (g);

t. Revising paragraph (h)(1)(iii);

u. Revising paragraph (h)(2);

v. Revising paragraph (i);

w. Revising paragraph (j) introductory text;

x. Revising paragraph (j)(3); and

y. Adding paragraph (b)(9).

The revisions and additions read as follows:

§ 63.1323 Batch process vents—methods and procedures for group determination.

(a) * * *

(1) The procedures specified in paragraphs (b) through (g) of this section shall be followed to determine the group status of each batch process vent. This determination shall be made in accordance with either paragraph (a)(1)(i) or (a)(1)(ii) of this section.

(i) An owner or operator may choose to determine the group status of a batch process vent based on the expected mix of products. For each product, emission characteristics of the single highest-HAP recipe, as defined in paragraph (a)(1)(iii) of this section, for that product shall be used in the procedures in paragraphs (b) through (i) of this section.

(ii) An owner or operator may choose to determine the group status of a batch process vent based on annualized production of the single highest-HAP recipe, as defined in paragraph (a)(1)(iii) of this section, considering all products produced or processed in the batch unit operation. The annualized production of the highest-HAP recipe shall be based exclusively on the production of the single highest-HAP recipe of all products produced or processed in the batch unit operation for a 12 month period. The production level used may be the actual production rate. It is not necessary to assume a maximum production rate (i.e., 8,760 hours per year at maximum design production).

(iii) The single highest-HAP recipe for a product means the recipe of the product with the highest total mass of HAP charged to the reactor during the production of a single batch of product.

* * * * *

(b) Determination of annual emissions. The owner or operator shall calculate annual uncontrolled TOC or organic HAP emissions for each batch process vent using the methods described in paragraphs (b)(1) through (b)(8) of this section. To estimate emissions from a batch emissions episode, owners or operators may use either the emissions estimation equations in paragraphs (b)(1) through (b)(4) of this section, or direct measurement as specified in paragraph (b)(5) of this section. Engineering assessment may be used to estimate emissions from a batch emission episode only under the conditions described in paragraph (b)(6) of this section. In using the emissions estimation equations in paragraphs (b)(1) through (b)(4) of this section, individual component vapor pressure and molecular weight may be obtained from standard references. Methods to determine individual HAP partial pressures in multicomponent systems are described in paragraph (b)(9) of this section. Other variables in the emissions estimation equations may be obtained through direct measurement, as defined in paragraph (b)(5) of this section, through engineering assessment, as defined in paragraph (b)(6)(ii) of this section, by process knowledge, or by any other appropriate means. Assumptions used in determining these variables must be documented. Once emissions for the batch emission episode have been determined using either the emissions estimation equations, direct measurement, or engineering assessment, emissions from a batch cycle shall be calculated in accordance with paragraph (b)(7) of this section, and annual emissions from the batch process vent shall be calculated in accordance with paragraph (b)(8) of this section.

(1) TOC or organic HAP emissions from the purging of an empty vessel shall be calculated using Equation 2 of this subpart. Equation 2 of this subpart does not take into account evaporation of any residual liquid in the vessel.

Where:

Eepisode = Emissions, kg/episode.

Vves = Volume of vessel, m³.

P = TOC or total organic HAP partial pressure, kPa.

MWwavg = Weighted average molecular weight of TOC or organic HAP in vapor, determined in accordance with paragraph (b)(4)(i)(D) of this section, kg/kmol.

R = Ideal gas constant, 8.314 m³·kPa/kmol·K.

T = Temperature of vessel vapor space, K.

m = Number of volumes of purge gas used.

(2) TOC or organic HAP emissions from the purging of a filled vessel shall be calculated using Equation 3 of this subpart.

Where:

Eepisode = Emissions, kg/episode.

y = Saturated mole fraction of all TOC or organic HAP in vapor phase.

Vdr = Volumetric gas displacement rate, m³/min.

P = Pressure in vessel vapor space, kPa.

MWwavg = Weighted average molecular weight of TOC or organic HAP in vapor, determined in accordance with paragraph (b)(4)(i)(D) of this section, kg/kmol.

R = Ideal gas constant, 8.314 m³·kPa/kmol·K.

T = Temperature of vessel vapor space, K.

Pi = Vapor pressure of TOC or individual organic HAP i, kPa.

xi = Mole fraction of TOC or organic HAP i in the liquid.

n = Number of organic HAP in stream. Note: Summation not applicable if TOC emissions are being estimated.

Tm = Minutes/episode.

* * * * *

(4) * * *

(i) * * *

(A) Emissions caused by heating of a vessel shall be calculated using Equation 5 of this subpart. The assumptions made for this calculation are atmospheric pressure of 760 millimeters of mercury (mm Hg) and the displaced gas is always saturated with volatile organic compounds (VOC) vapor in equilibrium with the liquid mixture.

Where:

Eepisode = Emissions, kg/episode.

(Pi)T1, (Pi)T2 = Partial pressure (kPa) of TOC or each organic HAP i in the vessel headspace at initial (T1) and final (T2) temperature.

n = Number of organic HAP in stream. Note: Summation not applicable if TOC emissions are being estimated.

Δη = Number of kilogram-moles (kg-moles) of gas displaced, determined in accordance with paragraph (b)(4)(i)(B) of this section.

101.325 = Constant, kPa.

(MWWAVG,T1), (MWWAVG,T2) = Weighted average molecular weight of TOC or total organic HAP in the displaced gas stream, determined in accordance with paragraph (b)(4)(i)(D) of this section, kg/kmol.

(B) The moles of gas displaced, Δη, is calculated using Equation 6 of this subpart.

Where:

Δη = Number of kg-moles of gas displaced.

Vfs = Volume of free space in the vessel, m³.

R = Ideal gas constant, 8.314 m³·kPa/kmol·K.

Pa1 = Initial noncondensible gas partial pressure in the vessel, kPa.

Pa2 = Final noncondensible gas partial pressure, kPa.

T1 = Initial temperature of vessel, K.

T2 = Final temperature of vessel, K.

(C) The initial and final pressure of the noncondensible gas in the vessel shall be calculated using Equation 7 of this subpart.

Where:

Pa = Initial or final partial pressure of noncondensible gas in the vessel headspace, kPa.

101.325 = Constant, kPa.

(Pi)T = Partial pressure of TOC or each organic HAP i in the vessel headspace, kPa, at the initial or final temperature (T1 or T2).

n = Number of organic HAP in stream. Note: Summation not applicable if TOC emissions are being estimated.

* * * * *

(ii) * * *

(B) * * *

(1) If the final temperature of the heatup is at or lower than 5 K below the boiling point, the final temperature for the last increment shall be the final temperature for the heatup, even if the last increment is less than 5 K.

* * * * *

(5) The owner or operator may estimate annual emissions for a batch emission episode by direct measurement. If direct measurement is used, the owner or operator shall either perform a test for the duration of a representative batch emission episode or perform a test during only those periods of the batch emission episode for which the emission rate for the entire episode can be determined or for which the emissions are greater than the average emission rate of the batch emission episode. The owner or operator choosing either of these options shall develop an emission profile for the entire batch emission episode, based on either process knowledge or test data collected, to demonstrate that test periods are representative. Examples of information that could constitute process knowledge include calculations based on material balances and process stoichiometry. Previous test results may be used provided the results are still relevant to the current batch process vent conditions. Performance tests shall follow the procedures specified in paragraphs (b)(5)(i) through (b)(5)(iii) of this section. The procedures in either paragraph (b)(5)(iv) or (b)(5)(v) of this section shall be used to calculate the emissions per batch emission episode.

* * * * *

(ii) Annual average batch vent flow rate shall be determined as specified in paragraph (e) of this section.

(iii) Method 18 or Method 25A, 40 CFR part 60, appendix A, shall be used to determine the concentration of TOC or organic HAP, as appropriate. Alternatively, any other method or data that has been validated according to the applicable procedures in Method 301 of appendix A of this part may be used. The use of Method 25A, 40 CFR part 60, appendix A shall conform with the requirements in paragraphs (b)(5)(iii)(A) and (b)(5)(iii)(B) of this section.

* * * * *

(iv) If an integrated sample is taken over the entire batch emission episode to determine the average batch vent concentration of TOC or total organic HAP, emissions shall be calculated using Equation 9 of this subpart.

Where:

Eepisode = Emissions, kg/episode.

K = Constant, 2.494 × 10⁻⁶ (ppmv)⁻¹ (gm-mole/scm) (kg/gm) (min/hr), where standard temperature is 20 °C.

Cj = Average batch vent concentration of TOC or sample organic HAP component j of the gas stream, dry basis, ppmv.

Mj = Molecular weight of TOC or sample organic HAP component j of the gas stream, gm/gm-mole.

AFR = Average batch vent flow rate of gas stream, dry basis, scmm.

Th = Hours/episode

n = Number of organic HAP in stream. Note: Summation not applicable if TOC emissions are being estimated using a TOC concentration measured using Method 25A, 40 CFR part 60, appendix A.

(v) If grab samples are taken to determine the average batch vent concentration of TOC or total organic HAP, emissions shall be calculated according to paragraphs (b)(5)(v)(A) and (b)(5)(v)(B) of this section.

(A) For each measurement point, the emission rate shall be calculated using Equation 10 of this subpart.

Where:

Epoint = Emission rate for individual measurement point, kg/hr.

K = Constant, 2.494 × 10−⁻⁶ (ppmv)⁻¹ (gm-mole/scm) (kg/gm) (min/hr), where standard temperature is 20 °C.

Cj = Concentration of TOC or sample organic HAP component j of the gas stream, dry basis, ppmv.

Mj = Molecular weight of TOC or sample organic HAP component j of the gas stream, gm/gm-mole.

FR = Flow rate of gas stream for the measurement point, dry basis, scmm.

n = Number of organic HAP in stream. Note: Summation not applicable if TOC emissions are being estimated using a TOC concentration measured using Method 25A, 40 CFR part 60, appendix A.

* * * * *

(6) Engineering assessment may be used to estimate emissions from a batch emission episode, if the criteria in paragraph (b)(6)(i) are met. Data or other information used to demonstrate that the criteria in paragraph (b)(6)(i) of this section have been met shall be reported as specified in paragraph (b)(6)(iii) of this section. Paragraph (b)(6)(ii) of this section defines engineering assessment, for the purposes of estimating emissions from a batch emissions episode. All data, assumptions, and procedures used in an engineering assessment shall be documented.

(i) If the criteria specified in paragraph (b)(6)(i)(A), (B), or (C) are met for a specific batch emission episode, the owner or operator may use engineering assessment, as described in paragraph (b)(6)(ii) of this section, to estimate emissions from that batch emission episode, and the owner or operator is not required to use the emissions estimation equations described in paragraphs (b)(1) through (b)(4) of this section to estimate emissions from that batch emission episode.

(A) Previous test data, where the measurement of organic HAP or TOC emissions was an outcome of the test, show a greater than 20 percent discrepancy between the test value and the value estimated using the applicable equations in paragraphs (b)(1) through (b)(4) of this section. Paragraphs (b)(6)(i)(A)(1) and (2) of this section describe test data that will be acceptable under this paragraph (b)(6)(i)(A).

(1) Test data for the batch emission episode obtained during production of the product for which the demonstration is being made.

(2) Test data obtained for a batch emission episode from another process train, where the test data were obtained during production of the product for which the demonstration is being made. Test data from another process train may be used only if the owner or operator can demonstrate that the data are representative of the batch emission episode for which the demonstration is being made, taking into account the nature, size, operating conditions, production rate, and sequence of process steps (e.g., reaction, distillation, etc.) of the equipment in the other process train.

(B) Previous test data obtained during the production of the product for which the demonstration is being made, for the batch emission episode with the highest organic HAP emissions on a mass basis, show a greater than 20 percent discrepancy between the test value and the value estimated using the applicable equations in paragraphs (b)(1) through (b)(4) of this section. If the criteria in this paragraph (b)(6)(i)(B) are met, then engineering assessment may be used for all batch emission episodes associated with that batch cycle for the batch unit operation.

(C) The owner or operator has requested and been granted approval to use engineering assessment to estimate emissions from a batch emissions episode. The request to use engineering assessment to estimate emissions from a batch emissions episode shall contain sufficient information and data to demonstrate to the Administrator that engineering assessment is an accurate means of estimating emissions for that particular batch emissions episode. The request to use engineering assessment to estimate emissions for a batch emissions episode shall be submitted in the Precompliance Report required under § 63.506(e)(3).

(ii) Engineering assessment includes, but is not limited to, the following:

(A) Previous test results, provided the tests are representative of current operating practices;

(B) Bench-scale or pilot-scale test data obtained under conditions representative of current process operating conditions;

(C) Flow rate, TOC emission rate, or organic HAP emission rate specified or implied within a permit limit applicable to the batch process vent; and

(D) Design analysis based on accepted chemical engineering principles, measurable process parameters, or physical or chemical laws or properties. Examples of analytical methods include, but are not limited to:

(1) Use of material balances;

(2) Estimation of flow rate based on physical equipment design such as pump or blower capacities;

(3) Estimation of TOC or organic HAP concentrations based on saturation conditions; and

(4) Estimation of TOC or organic HAP concentrations based on grab samples of the liquid or vapor.

(iii) Data or other information used to demonstrate that the criteria in paragraph (b)(6)(i) of this section have been met shall be reported as specified in paragraphs (b)(6)(iii)(A) and (b)(6)(iii)(B) of this section.

(A) Data or other information used to demonstrate that the criteria in paragraph (b)(6)(i)(A) or (b)(6)(i)(B) of this section have been met shall be reported in the Notification of Compliance Status, as required in § 63.1327(a)(6).

(B) The request for approval to use engineering assessment to estimate emissions from a batch emissions episode as allowed under paragraph (b)(6)(i)(C) of this section, and sufficient data or other information for demonstrating to the Administrator that engineering assessment is an accurate means of estimating emissions for that particular batch emissions episode shall be submitted with the Precompliance Report, as required in § 63.1335(e)(3).

* * * * *

(9) Individual HAP partial pressures in multicomponent systems shall be determined using the appropriate method specified in paragraphs (b)(9)(i) through (b)(9)(iii) of this section.

(i) If the components are miscible, use Raoult's law to calculate the partial pressures;

(ii) If the solution is a dilute aqueous mixture, use Henry's law constants to calculate partial pressures;

(iii) If Raoult's law or Henry's law are not appropriate or available, the owner or operator may use any of the options in paragraphs (b)(9)(iii)(A), (B), or (C) of this section.

(A) Experimentally obtained activity coefficients, Henry's law constants, or solubility data;

(B) Models, such as group-contribution models, to predict activity coefficients; or

(C) Assume the components of the system behave independently and use the summation of all vapor pressures from the HAPs as the total HAP partial pressure.

* * * * *

(d) Minimum emission level exemption. A batch process vent with annual emissions of TOC or organic HAP less than 11,800 kg/yr is considered a Group 2 batch process vent and the owner or operator of said batch process vent shall comply with the requirements in § 63.1322(f) or (g). Annual emissions of TOC or organic HAP are determined at the exit of the batch unit operation, as described in paragraph (a)(2) of this section, and are determined as specified in paragraph (b) of this section. The owner or operator of said batch process vent is not required to comply with the provisions in paragraphs (e) through (g) of this section.

(e) Determination of average batch vent flow rate and annual average batch vent flow rate. The owner or operator shall determine the average batch vent flow rate for each batch emission episode in accordance with one of the procedures provided in paragraphs (e)(1) through (e)(2) of this section. The annual average batch vent flow rate for a batch process vent shall be calculated as specified in paragraph (e)(3) of this section.

(1) Determination of the average batch vent flow rate for a batch emission episode by direct measurement shall be made using the procedures specified in paragraphs (e)(1)(i) through (e)(1)(iii) of this section.

(i) The volumetric flow rate (FRi) for a batch emission episode, in standard cubic meters per minute (scmm) at 20°C, shall be determined using Method 2, 2A, 2C, or 2D, 40 CFR part 60, appendix A, as appropriate.

* * * * *

(iii) The average batch vent flow rate for a batch emission episode shall be calculated using Equation 14 of this subpart.

Where:

AFRepisode = Average batch vent flow rate for the batch emission episode, scmm.

FRi = Flow rate for individual measurement i, scmm.

n = Number of flow rate measurements taken during the batch emission episode.

(2) The average batch vent flow rate for a batch emission episode may be determined by engineering assessment, as defined in paragraph (b)(6)(i) of this section. All data, assumptions, and procedures used shall be documented.

(3) The annual average batch vent flow rate for a batch process vent shall be calculated using Equation 15 of this subpart.

Where:

AFR = Annual average batch vent flow rate for the batch process vent, scmm.

DURi = Duration of type i batch emission episodes annually, hrs/yr.

AFRepisode,i = Average batch vent flow rate for type i batch emission episode, scmm.

n = Number of types of batch emission episodes venting from the batch process vent.

* * * * *

(g) Group 1/Group 2 status determination. The owner or operator shall compare the cutoff flow rate, calculated in accordance with paragraph (f) of this section, with the annual average batch vent flow rate, determined in accordance with paragraph (e)(3) of this section. The group determination status for each batch process vent shall be made using the criteria specified in paragraphs (g)(1) and (g)(2) of this section.

(1) If the cutoff flow rate is greater than or equal to the annual average batch vent flow rate of the stream, the batch process vent is classified as a Group 1 batch process vent.

(2) If the cutoff flow rate is less than the annual average batch vent flow rate of the stream, the batch process vent is classified as a Group 2 batch process vent.

(h) * * *

(1) * * *

(iii) Average concentration of organic compounds containing halogens and hydrogen halides as measured by Method 26 or 26A, 40 CFR part 60, appendix A.

* * * * *

(2) The annual mass emissions of halogen atoms for a batch process vent shall be calculated using Equation 17 of this subpart.

Where:

Ehalogen = Mass of halogen atoms, dry basis, kg/yr.

K = Constant, 0.022 (ppmv)⁻¹ (kg-mole per scm) (minute/yr), where standard temperature is 20 °C.

AFR = Annual average batch vent flow rate of the batch process vent, determined according to paragraph (e) of this section, scmm.

Mj,i = Molecular weight of halogen atom i in compound j, kg/kg-mole.

Lj,i = Number of atoms of halogen i in compound j.

n = Number of halogenated compounds j in the batch process vent.

m = Number of different halogens i in each compound j of the batch process vent.

Cavgj = Annual average batch vent concentration of halogenated compound j in the batch process vent as determined by using Equation 18 of this subpart, dry basis, ppmv.

Where:

DURi = Duration of type i batch emission episodes annually, hrs/yr.

Ci = Average batch vent concentration of halogenated compound j in type i batch emission episode, ppmv.

n = Number of types of batch emission episodes venting from the batch process vent.

* * * * *

(i) Process changes affecting Group 2 batch process vents. Whenever process changes, as described in paragraph (i)(1) of this section, are made that affect one or more Group 2 batch process vents and that could reasonably be expected to change one or more Group 2 batch process vents to Group 1 batch process vents or that could reasonably be expected to reduce the batch mass input limitation for one or more Group 2 batch process vents, the owner or operator shall comply with paragraphs (i)(2) and (3) of this section.

(1) Examples of process changes include the changes listed in paragraphs (i)(1)(i), (i)(1)(ii), and (i)(1)(iii) of this section.

(i) For all batch process vents, examples of process changes include, but are not limited to, changes in feedstock type or catalyst type; or whenever there is replacement, removal, or modification of recovery equipment considered part of the batch unit operation as specified in paragraph (a)(2) of this section; or increases in production capacity or production rate. For purposes of this paragraph (i), process changes do not include: Process upsets; unintentional, temporary process changes; and changes that are within the margin of variation on which the original group determination was based.

(ii) For Group 2 batch process vents where the group determination and batch mass input limitation are based on the expected mix of products, the situations described in paragraphs (i)(1)(ii)(A) and (B) of this section shall be considered to be process changes.

(A) The production of combinations of products not considered in establishing the batch mass input limitation.

(B) The production of a recipe of a product with a total mass of HAP charged to the reactor during the production of a single batch of product that is higher than the total mass of HAP for the recipe used as the single highest-HAP recipe for that product in the batch mass input limitation determination.

(iii) For Group 2 batch process vents where the group determination and batch mass input limitation are based on the single highest-HAP recipe (considering all products produced or processed in the batch unit operation), the production of a recipe having a total mass of HAP charged to the reactor (during the production of a single batch of product) that is higher than the total mass of HAP for the highest-HAP recipe used in the batch mass input limitation determination shall be considered to be a process change.

(2) For each batch process vent affected by a process change, the owner or operator shall redetermine the group status by repeating the procedures specified in paragraphs (b) through (g) of this section, as applicable; alternatively, engineering assessment, as described in paragraph (b)(6)(i) of this section, may be used to determine the effects of the process change.

(3) Based on the results from paragraph (i)(2) of this section, owners or operators of affected sources shall comply with either paragraph (i)(3)(i), (ii), or (iii) of this section.

(i) If the group redetermination described in paragraph (i)(2) of this section indicates that a Group 2 batch process vent has become a Group 1 batch process vent as a result of the process change, the owner or operator shall submit a report as specified in § 63.1327(b) and shall comply with the Group 1 provisions in §§ 63.1322 through 63.1327 in accordance with § 63.1310(i)(2)(ii) or (i)(2)(iii), as applicable.

(ii) If the redetermination described in paragraph (i)(2) of this section indicates that a Group 2 batch process vent with annual emissions less than the level specified in paragraph (d) of this section, that is in compliance with § 63.1322(g), now has annual emissions greater than or equal to the level specified in paragraph (d) of this section but remains a Group 2 batch process vent, the owner or operator shall comply with the provisions in paragraphs (i)(3)(ii)(A) through (C) of this section.

(A) Redetermine the batch mass input limitation;

(B) Submit a report as specified in § 63.1327(c); and

(C) Comply with § 63.1322(f), beginning with the year following the submittal of the report submitted according to paragraph (i)(3)(ii)(B) of this section.

(iii) If the group redetermination described in paragraph (i)(2) of this section indicates no change in group status or no change in the relation of annual emissions to the levels specified in paragraph (d) of this section, the owner or operator shall comply with paragraphs (i)(3)(iii)(A) and (i)(3)(iii)(B) of this section.

(A) The owner or operator shall redetermine the batch mass input limitation; and

(B) The owner or operator shall submit the new batch mass input limitation in accordance with § 63.1327(c).

(j) Process changes to new SAN affected sources using a batch process. Whenever process changes, as described in paragraph (j)(1) of this section, are made to a new affected source producing SAN using a batch process that could reasonably be expected to adversely impact the compliance status (i.e., achievement of 84 percent emission reduction) of the affected source, the owner or operator shall comply with paragraphs (j)(2) and (3) of this section.

* * * * *

(3) Where the redetermined percent reduction is less than 84 percent, the owner or operator of the affected source shall submit a report as specified in § 63.1327(d) and shall comply with § 63.1322(a)(3) and all associated provisions in accordance with § 63.1310(i).

43. Section 63.1324 is amended by:

a. Revising the section title;

b. Revising paragraph (a) introductory text;

c. Revising paragraph (a)(2);

d. Revising paragraph (c) introductory text;

e. Revising paragraph (c)(4)(ii);

f. Revising paragraph (c)(7);

g. Revising paragraph (d) introductory text;

h. Revising paragraph (e) introductory text;

i. Revising paragraph (e)(2);

j. Revising paragraph (f)(1) introductory text;

k. Revising paragraph (f)(1)(ii);

l. Revising paragraph (f)(3); and

m. Removing paragraph (e)(3).

The revisions read as follows:

§ 63.1324 Batch process vents—monitoring equipment.

(a) General requirements. Each owner or operator of a batch process vent or aggregate batch vent stream that uses a control device to comply with the requirements in § 63.1322(a) or § 63.1322(b), shall install the monitoring equipment specified in paragraph (c) of this section. All monitoring equipment shall be installed, calibrated, maintained, and operated according to manufacturer's specifications or other written procedures that provide adequate assurance that the equipment would reasonably be expected to monitor accurately.

* * * * *

(2) Except as otherwise provided in this subpart, the owner or operator shall operate control devices such that the daily average of monitored parameters, established as specified in paragraph (f) of this section, remains above the minimum level or below the maximum level, as appropriate.

* * * * *

(c) Batch process vent and aggregate batch vent stream monitoring equipment. The monitoring equipment specified in paragraphs (c)(1) through (c)(8) of this section shall be installed as specified in paragraph (a) of this section. The parameters to be monitored are specified in Table 7 of this subpart.

* * * * *

(4) * * *

(ii) A flow measurement device equipped with a continuous recorder shall be located at the scrubber influent for liquid flow. Gas stream flow shall be determined using one of the procedures specified in paragraphs (c)(4)(ii)(A) through (c)(4)(ii)(C) of this section.

(A) The owner or operator may determine gas stream flow using the design blower capacity, with appropriate adjustments for pressure drop.

(B) If the scrubber is subject to regulations in 40 CFR parts 264 through 266 that have required a determination of the liquid to gas (L/G) ratio prior to the applicable compliance date for this subpart, the owner or operator may determine gas stream flow by the method that had been utilized to comply with those regulations. A determination that was conducted prior to the compliance date for this subpart may be utilized to comply with this subpart if it is still representative.

(C) The owner or operator may prepare and implement a gas stream flow determination plan that documents an appropriate method which will be used to determine the gas stream flow. The plan shall require determination of gas stream flow by a method which will at least provide a value for either a representative or the highest gas stream flow anticipated in the scrubber during representative operating conditions other than start-ups, shutdowns, or malfunctions. The plan shall include a description of the methodology to be followed and an explanation of how the selected methodology will reliably determine the gas stream flow, and a description of the records that will be maintained to document the determination of gas stream flow. The owner or operator shall maintain the plan as specified in § 63.1335(a).

* * * * *

(7) Where a carbon adsorber is used, an integrating regeneration steam flow or nitrogen flow, or pressure monitoring device having an accuracy of ±10 percent of the flow rate, level, or pressure, or better, capable of recording the total regeneration steam flow or nitrogen flow, or pressure (gauge or absolute) for each regeneration cycle; and a carbon bed temperature monitoring device, capable of recording the carbon bed temperature after each regeneration and within 15 minutes of completing any cooling cycle are required.

* * * * *

(d) Alternative monitoring parameters. An owner or operator of a batch process vent or aggregate batch vent stream may request approval to monitor parameters other than those required by paragraph (c) of this section. The request shall be submitted according to the procedures specified in § 63.1327(f) and § 63.1335(f). Approval shall be requested if the owner or operator:

* * * * *

(e) Monitoring of bypass lines. Owners or operators of a batch process vent or aggregate batch vent stream using a vent system that contains bypass lines that could divert emissions away from a control device used to comply with § 63.1322(a) or § 63.1322(b) shall comply with either paragraph (e)(1) or (e)(2) of this section. Equipment such as low leg drains, high point bleeds, analyzer vents, open-ended valves or lines, and pressure relief valves needed for safety purposes are not subject to this paragraph (e).

* * * * *

(2) Secure the bypass line damper or valve in the non-diverting position with a car-seal or a lock-and-key type configuration. A visual inspection of the seal or closure mechanism shall be performed at least once every month to ensure that the damper or valve is maintained in the non-diverting position and emissions are not diverted through the bypass line. Records shall be generated as specified in § 63.1326(e)(4).

(f)* * *

(1) For each parameter monitored under paragraph (c) or (d) of this section, the owner or operator shall establish a level, defined as either a maximum or minimum operating parameter as denoted in Table 8 of this subpart, that indicates proper operation of the control device. The level shall be established in accordance with the procedures specified in § 63.1334. The level may be based upon a prior performance test conducted for determining compliance with a regulation promulgated by EPA, and the owner or operator is not required to conduct a performance test under § 63.1325, provided that the prior performance test meets the conditions of § 63.1325(b)(3).

* * * * *

(ii) For aggregate batch vent streams using a control device to comply with § 63.1322(b)(2), the established level shall reflect the applicable emission reduction requirement specified in § 63.1322(b)(2).

* * * * *

(3) The operating day shall be defined as part of establishing the parameter monitoring level and shall be submitted with the information in paragraph (f)(2) of this section. The definition of operating day shall specify the time(s) at which an operating day begins and ends. The operating day shall not exceed 24 hours.

* * * * *

44. Section 63.1325 is amended by:

a. Revising paragraph (a);

b. Revising paragraph (b) introductory text;

c. Revising paragraph (b)(3);

d. Revising paragraph (b)(5);

e. Revising paragraph (c) introductory text;

f. Revising paragraph (c)(1)(i)(A);

g. Revising paragraph (c)(1)(i)(B) introductory text;

h. Revising paragraph (c)(1)(i)(C);

i. Revising paragraph (c)(1)(i)(D) introductory text;

j. Revising paragraph (c)(1)(ii);

k. Revising paragraph (c)(1)(iii) introductory text;

l. Revising paragraph (c)(1)(iii)(A);

m. Revising paragraph (c)(1)(v);

n. Revising paragraph (c)(2) introductory text;

o. Revising paragraph (d)(1);

p. Revising paragraph (d)(2)(ii);

q. Revising paragraphs (d)(3) and (d)(4);

r. Revising paragraph (e);

s. Revising paragraph (g); and

t. Removing paragraph (b)(6).

The revisions read as follows:

§ 63.1325 Batch process vents—performance test methods and procedures to determine compliance.

(a) Use of a flare. When a flare is used to comply with § 63.1322(a)(1), § 63.1322(a)(3), § 63.1322(b)(1), or § 63.1322(b)(3), the owner or operator of an affected source shall comply with § 63.1333(e).

(b) Exceptions to performance tests. An owner or operator is not required to conduct a performance test when a control device specified in paragraphs (b)(1) through (b)(5) of this section is used to comply with § 63.1322(a)(2) or (a)(3).

* * * * *

(3) A control device for which a performance test was conducted for determining compliance with a regulation promulgated by the EPA and the test was conducted using the same Methods specified in this section and either no deliberate process changes have been made since the test, or the owner or operator can demonstrate that the results of the performance test, with or without adjustments, reliably demonstrate compliance despite process changes. Recovery devices used for controlling emissions from continuous process vents complying with § 63.1322(a)(3) are also eligible for the exemption described in this paragraph (b)(3).

* * * * *

(5) A hazardous waste incinerator for which the owner or operator has been issued a final permit under 40 CFR part 270 and complies with the requirements of 40 CFR part 264, subpart O, or has certified compliance with the interim status requirements of 40 CFR part 265, subpart O.

(c) Batch process vent testing and procedures for compliance with § 63.1322(a)(2). Except as provided in paragraph (a) or (b) of this section, an owner or operator using a control device to comply with § 63.1322(a)(2) shall conduct a performance test using the procedures specified in paragraph (c)(1) of this section in order to determine the control efficiency of the control device. An owner or operator shall determine the percent reduction for the batch cycle using the control efficiency of the control device as specified in paragraphs (c)(2)(i) through (c)(2)(iii) of this section and the procedures specified in paragraph (c)(2) of this section. Compliance may be based on either total organic HAP or TOC. For purposes of this paragraph (c), the term “batch emission episode” shall have the meaning “period of the batch emission episode selected for control,” which may be the entire batch emission episode or may only be a portion of the batch emission episode.

(1)* * *

(i) * * *

(A) Alternatively, an owner or operator may choose to test only those periods of the batch emission episode during which the emission rate for the entire episode can be determined or during which the emissions are greater than the average emission rate of the batch emission episode. The owner or operator choosing either of these options shall develop an emission profile for the entire batch emission episode, based on either process knowledge or test data collected, to demonstrate that test periods are representative. Examples of information that could constitute process knowledge include calculations based on material balances and process stoichiometry. Previous test results may be used provided the results are still relevant to the current batch process vent conditions.

(B) Method 1 or 1A, 40 CFR part 60, appendix A, as appropriate, shall be used for selection of the sampling sites if the flow measuring device is a pitot tube, except that references to particulate matter in Method 1A do not apply for the purposes of this subpart. No traverse is necessary when Method 2A or 2D, 40 CFR part 60, appendix A is used to determine gas stream volumetric flow rate. Inlet sampling sites shall be located as specified in paragraphs (c)(1)(i)(B)(1) and (c)(1)(i)(B)(2) of this section. Outlet sampling sites shall be located at the outlet of the control device prior to release to the atmosphere.

* * * * *

(C) Gas stream volumetric flow rate and/or average batch vent flow rate shall be determined as specified in § 63.1323(e).

(D) Method 18 or Method 25A, 40 CFR part 60, appendix A shall be used to determine the concentration of organic HAP or TOC, as appropriate. Alternatively, any other method or data that has been validated according to the applicable procedures in Method 301 of appendix A of this part may be used. The use of Method 25A, 40 CFR part 60, appendix A shall conform with the requirements in paragraphs (c)(1)(i)(D)(1) and (c)(1)(i)(D)(2) of this section.

* * * * *

(ii) If an integrated sample is taken over the entire test period to determine average batch vent concentration of TOC or total organic HAP, emissions per batch emission episode shall be calculated using Equations 19 and 20 of this subpart.

Where:

Eepisode=Inlet or outlet emissions, kg/episode.

K=Constant, 2.494×10−⁶ (ppmv)−¹ (gm-mole/scm) (kg/gm) (min/hr), where standard temperature is 20 °C.

Cj=Average inlet or outlet concentration of TOC or sample organic HAP component j of the gas stream for the batch emission episode, dry basis, ppmv.

Mj=Molecular weight of TOC or sample organic HAP component j of the gas stream, gm/gm-mole.

AFR = Average inlet or outlet flow rate of gas stream for the batch emission episode, dry basis, scmm.

Th=Hours/episode.

n=Number of organic HAP in stream. Note: Summation is not applicable if TOC emissions are being estimated using a TOC concentration measured using Method 25A, 40 CFR part 60, appendix A.

(iii) If grab samples are taken to determine average batch vent concentration of TOC or total organic HAP, emissions shall be calculated according to paragraphs (c)(1)(iii)(A) and (B) of this section.

(A) For each measurement point, the emission rates shall be calculated using Equations 21 and 22 of this subpart.

Where:

Epoint=Inlet or outlet emission rate for the measurement point, kg/hr.

K=Constant, 2.494 × 10−⁶ (ppmv)−¹ (gm-mole/scm) (kg/gm) (min/hr), where standard temperature is 20 −oC.

Cj=Inlet or outlet concentration of TOC or sample organic HAP component j of the gas stream, dry basis, ppmv.

Mj=Molecular weight of TOC or sample organic HAP component j of the gas stream, gm/gm-mole.

FR=Inlet or outlet flow rate of gas stream for the measurement point, dry basis, scmm.

n=Number of organic HAP in stream. Note: Summation is not applicable if TOC emissions are being estimated using a TOC concentration measured using Method 25A, 40 CFR part 60, appendix A.

* * * * *

(v) If the batch process vent entering a boiler or process heater with a design capacity less than 44 megawatts is introduced with the combustion air or as a secondary fuel, the weight-percent reduction of total organic HAP or TOC across the device shall be determined by comparing the TOC or total organic HAP in all combusted batch process vents and primary and secondary fuels with the TOC or total organic HAP, respectively, exiting the combustion device.

(2) The percent reduction for the batch cycle shall be determined using Equation 26 of this subpart and the control device efficiencies specified in paragraphs (c)(2)(i) through (c)(2)(iii) of this section. All information used to calculate the batch cycle percent reduction, including a definition of the batch cycle identifying all batch emission episodes, shall be recorded as specified in § 63.1326(b)(2). This information shall include identification of those batch emission episodes, or portions thereof, selected for control.

Where:

PR = Percent reduction

Eunc = Mass rate of TOC or total organic HAP for uncontrolled batch emission episode i, kg/hr.

Einlet,con = Mass rate of TOC or total organic HAP for controlled batch emission episode i at the inlet to the control device, kg/hr.

R = Control efficiency of control device as specified in paragraphs (c)(2)(i) through (c)(2)(iii) of this section.

n = Number of uncontrolled batch emission episodes, controlled batch emission episodes, and control devices. The value of n is not necessarily the same for these three items.

* * * * *

(d) * * *

(1) Sampling sites shall be located at the inlet and outlet of the scrubber or other halogen reduction device used to reduce halogen emissions in complying with § 63.1322(c)(1) or at the outlet of the halogen reduction device used to reduce halogen emissions in complying with § 63.1322(c)(2).

(2) * * *

(ii) Gas stream volumetric flow rate and/or average batch vent flow rate shall be determined as specified in § 63.1323(e).

(3) To determine compliance with the percent reduction specified in § 63.1322(c)(1), the mass emissions for any hydrogen halides and halogens present at the inlet of the scrubber or other halogen reduction device shall be summed together. The mass emissions of any hydrogen halides or halogens present at the outlet of the scrubber or other halogen reduction device shall be summed together. Percent reduction shall be determined by subtracting the outlet mass emissions from the inlet mass emissions and then dividing the result by the inlet mass emissions and multiplying by 100.

(4) To determine compliance with the emission limit specified in § 63.1322(c)(2), the annual mass emissions for any hydrogen halides and halogens present at the outlet of the halogen reduction device and prior to any combustion device shall be summed together and compared to the emission limit specified in § 63.1322(c)(2).

* * * * *

(e) Aggregate batch vent stream testing for compliance with § 63.1322(b)(2) or (b)(3). Except as specified in paragraphs (e)(1) through (e)(3) of this section, owners or operators of aggregate batch vent streams complying with § 63.1322(b)(2) or (b)(3) shall conduct a performance test using the performance testing procedures for continuous process vents in § 63.116(c).

(1) For purposes of this subpart, when the provisions of § 63.116(c) specify that Method 18, 40 CFR part 60, appendix A, shall be used, Method 18 or Method 25A, 40 CFR part 60, appendix A, may be used. The use of Method 25A, 40 CFR part 60, appendix A, shall conform with the requirements in paragraphs (e)(1)(i) and (e)(1)(ii) of this section.

(i) The organic HAP used as the calibration gas for Method 25A, 40 CFR part 60, appendix A, shall be the single organic HAP representing the largest percent by volume of the emissions.

(ii) The use of Method 25A, 40 CFR part 60, appendix A, is acceptable if the response from the high-level calibration gas is at least 20 times the standard deviation of the response from the zero calibration gas when the instrument is zeroed on the most sensitive scale.

(2) When § 63.116(c)(4) refers to complying with an emission reduction of 98 percent, for purposes of this subpart, the 90 percent reduction requirement specified in § 63.1322(b)(2) shall apply.

* * * * *

(g) Batch mass input limitation. The batch mass input limitation required by § 63.1322(g)(1) shall be determined by the owner or operator such that annual emissions for the batch process vent remain less than the level specified in § 63.1323(d). The batch mass input limitation required by § 63.1322(f)(1) shall be determined by the owner or operator such that annual emissions remain at a level that ensures that said batch process vent remains a Group 2 batch process vent, given the actual annual flow rate for said batch process vent determined according to the procedures specified in § 63.1323(e)(3). The batch mass input limitation shall be determined using the same basis, as described in § 63.1323(a)(1), used to make the group determination (i.e., expected mix of products or highest-HAP recipe.) The establishment of the batch mass input limitation is not dependent upon any past production or activity level.

(1) If the expected mix of products serves as the basis for the batch mass input limitation, the batch mass input limitation shall be determined based on any foreseeable combination of products that the owner or operator expects to manufacture.

(2) If the single highest-HAP recipe serves as the basis for the batch mass input limitation, the batch mass input limitation shall be determined based solely on the production of the single highest-HAP recipe, considering all products produced or processed in the batch unit operation.

45. Section 63.1326 is amended by:

a. Revising paragraph (a) introductory text;

b. Revising paragraphs (a)(1) and (a)(2);

c. Revising paragraph (a)(3)(i);

d. Revising paragraph (a)(4);

e. Revising paragraphs (a)(7) through (a)(9);

f. Revising paragraph (b) introductory text;

g. Revising paragraph (b)(2);

h. Revising paragraphs (b)(3)(ii) and (b)(3)(iii);

i. Revising paragraph (b)(4)(iv);

j. Revising paragraphs (d)(1) and (d)(2);

k. Revising paragraph (e) introductory text;

l. Revising paragraphs (e)(1)(i) and (e)(1)(ii);

m. Revising paragraph (e)(2) introductory text;

n. Revising paragraph (e)(2)(ii);

o. Revising paragraph (e)(4);

p. Revising paragraph (f); and

q. Adding paragraph (g).

The revisions and additions read as follows:

§ 63.1326 Batch process vents—recordkeeping provisions.

(a) Group determination records for batch process vents. Except as provided in paragraphs (a)(7) and (a)(8) of this section, each owner or operator of an affected source shall maintain the records specified in paragraphs (a)(1) through (a)(6) of this section for each batch process vent subject to the group determination procedures of § 63.1323. Except for paragraph (a)(1) of this section, the records required by this paragraph (a) are restricted to the information developed and used to make the group determination under §§ 63.1323(b) through 63.1323(g), as appropriate. If an owner or operator did not need to develop certain information (e.g., annual average batch vent flow rate) to determine the group status, this paragraph (a) does not require that additional information be developed. Paragraph (a)(9) of this section specifies the recordkeeping requirements for Group 2 batch process vents that are exempt from the batch mass input limitation provisions, as allowed under § 63.1322(h).

(1) An identification of each unique product that has emissions from one or more batch emission episodes venting from the batch process vent, along with an identification of the single highest-HAP recipe for each product and the mass of HAP fed to the reactor for that recipe.

(2) A description of, and an emission estimate for, each batch emission episode, and the total emissions associated with one batch cycle, as described in either paragraph (a)(2)(i) or (a)(2)(ii) of this section, as appropriate.

(i) If the group determination is based on the expected mix of products, records shall include the emission estimates for the single highest-HAP recipe of each unique product identified in paragraph (a)(1) of this section that was considered in making the group determination under § 63.1323.

(ii) If the group determination is based on the single highest-HAP recipe (considering all products produced or processed in the batch unit operation), records shall include the emission estimates for the single highest-HAP recipe.

(3) * * *

(i) For Group 2 batch process vents, said emissions shall be determined at the batch mass input limitation.

* * * * *

(4) The annual average batch vent flow rate for the batch process vent, determined in accordance with § 63.1323(e).

* * * * *

(7) If a batch process vent is subject to § 63.1322(a) or (b), none of the records in paragraphs (a)(1) through (a)(6) of this section are required.

(8) If the total annual emissions from the batch process vent during the group determination are less than the appropriate level specified in § 63.1323(d), only the records in paragraphs (a)(1) through (a)(3) of this section are required.

(9) For each Group 2 batch process vent that is exempt from the batch mass input limitation provisions because it meets the criteria of § 63.1322(h), the records specified in paragraphs (a)(9)(i) and (ii) shall be maintained.

(i) Documentation of the maximum design capacity of the TPPU; and

(ii) The mass of HAP or material that can be charged annually to the batch unit operation at the maximum design capacity.

(b) Compliance demonstration records. Each owner or operator of a batch process vent or aggregate batch vent stream complying with § 63.1322(a) or (b), shall keep the following records, as applicable, readily accessible:

* * * * *

(2) If the owner or operator of a batch process vent has chosen to comply with § 63.1322(a)(2), records documenting the batch cycle percent reduction as specified in § 63.1325(c)(2); and

(3) * * *

(ii) All visible emission readings, heat content determinations, flow rate measurements, and exit velocity determinations made during the compliance determination required by § 63.1333(e); and

(iii) Periods when all pilot flames were absent.

(4) * * *

(iv) For a scrubber or other halogen reduction device following a combustion device to control halogenated batch process vents or halogenated aggregate batch vent streams, the percent reduction of total hydrogen halides and halogens as determined under § 63.1325(d)(3) or the emission limit determined under § 63.1325(d)(4).

* * * * *

(d) * * *

(1) The owner or operator of a Group 2 batch process vent that has chosen to comply with § 63.1322(g) shall keep the following records readily accessible:

(i) Records designating the established batch mass input limitation required by § 63.1322(g)(1) and specified in § 63.1325(g).

(ii) Records specifying the mass of HAP or material charged to the batch unit operation.

(2) The owner or operator of a Group 2 batch process vent that has chosen to comply with § 63.1322(f) shall keep the following records readily accessible:

(i) Records designating the established batch mass input limitation required by § 63.1322(f)(1) and specified in § 63.1325(g).

(ii) Records specifying the mass of HAP or material charged to the batch unit operation.

(e) Controlled batch process vent continuous compliance records. Each owner or operator of a batch process vent that has chosen to use a control device to comply with § 63.1322(a) shall keep the following records, as applicable, readily accessible:

(1) * * *

(i) For flares, the records specified in Table 7 of this subpart shall be maintained in place of continuous records.

(ii) For carbon adsorbers, the records specified in Table 7 of this subpart shall be maintained in place of batch cycle daily averages.

(2) Records of the batch cycle daily average value of each continuously monitored parameter, except as provided in paragraph (e)(2)(iii) of this section, as calculated using the procedures specified in paragraphs (e)(2)(i) and (e)(2)(ii) of this section.

* * * * *

(ii) Monitoring data recorded during periods of monitoring system breakdowns, repairs, calibration checks, and zero (low-level) and high-level adjustments shall not be included in computing the batch cycle daily averages. In addition, monitoring data recorded during periods of non-operation of the TPPU (or specific portion thereof) resulting in cessation of organic HAP emissions, or periods of start-up, shutdown, or malfunction shall not be included in computing the batch cycle daily averages.

* * * * *

(4) Where a seal or closure mechanism is used to comply with § 63.1324(e)(2), hourly records of whether a diversion was detected at any time are not required. The owner or operator shall record whether the monthly visual inspection of the seals or closure mechanisms has been done, and shall record the occurrence of all periods when the seal mechanism is broken, the bypass line damper or valve position has changed, or the key for a lock-and-key type configuration has been checked out, and records of any car-seal that has broken.

* * * * *

(f) Aggregate batch vent stream continuous compliance records. In addition to the records specified in paragraphs (b) and (c) of this section, each owner or operator of an aggregate batch vent stream using a control device to comply with § 63.1322(b)(1) or (b)(2) shall keep the following records readily accessible:

(1) Continuous records of the equipment operating parameters specified to be monitored under § 63.1324(c) and listed in Table 7 of this subpart, as applicable, or specified by the Administrator in accordance with § 63.1327(f), as allowed under § 63.1324(d), with the exceptions listed in (f)(1)(i) and (f)(1)(ii) of this section.

(i) For flares, the records specified in Table 7 of this subpart shall be maintained in place of continuous records.

(ii) For carbon adsorbers, the records specified in Table 7 of this subpart shall be maintained in place of daily averages.

(2) Records of the daily average value of each continuously monitored parameter for each operating day determined according to the procedures specified in § 63.1335(d).

(3) For demonstrating compliance with the monitoring of bypass lines as specified in § 63.1324(e), records as specified in paragraphs (e)(3) or (e)(4) of this section, as appropriate.

(g) Documentation supporting the establishment of the batch mass input limitation shall include the information specified in paragraphs (g)(1) through (g)(5) of this section, as appropriate.

(1) Identification of whether the purpose of the batch mass input limitation is to comply with § 63.1322(f)(1) or (g)(1).

(2) Identification of whether the batch mass input limitation is based on the single highest-HAP recipe (considering all products) or on the expected mix of products for the batch process vent as allowed under § 63.1323(a)(1).

(3) Definition of the operating year, for the purposes of determining compliance with the batch mass input limitation.

(4) If the batch mass input limitation is based on the expected mix of products, the owner or operator shall provide documentation that describes as many scenarios for differing mixes of products (i.e., how many of each type of product) as the owner or operator desires the flexibility to accomplish. Alternatively, the owner or operator shall provide a description of the relationship among the mix of products that will allow a determination of compliance with the batch mass input limitation under any number of scenarios.

(5) The mass of HAP or material allowed to be charged to the batch unit operation per year under the batch mass input limitation.

46. Section 63.1327 is amended by:

a. Revising paragraph (a) introductory text;

b. Revising paragraph (b);

c. Revising paragraph (c) introductory text;

d. Revising paragraph (c)(2);

e. Revising paragraph (d);

f. Revising paragraph (e);

g. Revising paragraph (g);

h. Removing paragraph (c)(3);

i. Adding paragraph (a)(5); and

j. Adding paragraph (a)(6).

The revisions and additions read as follows:

§ 63.1327 Batch process vents—reporting requirements.

(a) The owner or operator of a batch process vent or aggregate batch vent stream at an affected source shall submit the information specified in paragraphs (a)(1) through (a)(6) of this section, as appropriate, as part of the Notification of Compliance Status specified in § 63.1335(e)(5).

* * * * *

(5) For each Group 2 batch process vent that is exempt from the batch mass input limitation provisions because it meets the criteria of § 63.1322(h), the information specified in § 63.1326(a)(1) through (3), and the information specified in § 63.1326(a)(4) through (6) as applicable, calculated at the conditions specified in § 63.1322(h).

(6) When engineering assessment has been used to estimate emissions from a batch emissions episode and the criteria specified in § 63.1323(b)(6)(i)(A) or (B) have been met, the owner or operator shall submit the information demonstrating that the criteria specified in § 63.1323(b)(6)(i)(A) or (B) have been met as part of the Notification of Compliance Status required by § 63.1335(e)(5).

(b) Whenever a process change, as defined in § 63.1323(i)(1), is made that causes a Group 2 batch process vent to become a Group 1 batch process vent, the owner or operator shall notify the Administrator and submit a description of the process change within 180 days after the process change is made or with the next Periodic Report, whichever is later. The owner or operator of an affected source shall comply with the Group 1 batch process vent provisions in §§ 63.1321 through 63.1327 in accordance with § 63.480(i)(2)(ii).

(c) Whenever a process change, as defined in § 63.1323(i)(1), is made that causes a Group 2 batch process vent with annual emissions less than the level specified in § 63.1323(d) for which the owner or operator has chosen to comply with § 63.1322(g) to have annual emissions greater than or equal to the level specified in § 63.1323(d) but remains a Group 2 batch process vent, or if a process change is made that requires the owner or operator to redetermine the batch mass input limitation as specified in § 63.1323(i)(3), the owner or operator shall submit a report within 180 days after the process change is made or with the next Periodic Report, whichever is later. The following information shall be submitted:

* * * * *

(2) The batch mass input limitation determined in accordance with § 63.1322(f)(1).

(d) Whenever a process change, as defined in § 63.1323(j)(1), is made that could potentially cause the percent reduction for all process vents at a new SAN affected source using a batch process to be less than 84 percent, the owner or operator shall notify the Administrator and submit a description of the process change within 180 days after the process change is made or with the next Periodic Report, whichever is later. The owner or operator shall comply with § 63.1322(a)(3) and all associated provisions in accordance with § 63.1310(i).

(e) The owner or operator is not required to submit a report of a process change if one of the conditions specified in paragraphs (e)(1) or (e)(2) of this section is met.

(1) The change does not meet the description of a process change in § 63.1323(i) or (j).

(2) The redetermined group status remains Group 2 for an individual batch process vent with annual emissions greater than or equal to the level specified in § 63.1323(d) and the batch mass input limitation does not decrease, a Group 2 batch process vent with annual emissions less than the level specified in § 63.1323(d) complying with § 63.1322(g) continues to have emissions less than the level specified in § 63.1323(d) and the batch mass input limitation does not decrease, or the achieved emission reduction remains at 84 percent or greater for new SAN affected sources using a batch process.

* * * * *

(g) Owners or operators of affected sources complying with § 63.1324(e), shall comply with paragraph (g)(1) or (g)(2) of this section, as appropriate.

(1) Submit reports of the times of all periods recorded under § 63.1326(e)(3) when the batch process vent is diverted from the control device through a bypass line, with the next Periodic Report.

(2) Submit reports of all occurrences recorded under § 63.1326(e)(4) in which the seal mechanism is broken, the bypass line damper or valve position has changed, or the key to unlock the bypass line damper or valve was checked out, with the next Periodic Report.

47. Section 63.1328 is revised to read as follows:

§ 63.1328 Heat exchange systems provisions.

(a) Except as specified in paragraph (b) of this section, each owner or operator of an affected source shall comply with § 63.104, with the differences noted in paragraphs (c) through (h) of this section, for the purposes of this subpart.

(b) The provisions of paragraph (a) of this section do not apply to each process contact cooling tower that is associated with an existing affected source manufacturing PET.

(c) When the term “chemical manufacturing process unit” is used in § 63.104, the term “thermoplastic product process unit” shall apply for purposes of this subpart, with the exception noted in paragraph (d) of this section.

(d) When the phrase “a chemical manufacturing process unit meeting the conditions of § 63.100(b)(1) through (b)(3) of this subpart, except for chemical manufacturing process units meeting the condition specified in § 63.100(c) of this subpart” is used in § 63.104(a), the term “a TPPU, except for TPPUs meeting the condition specified in § 63.1310(b)” shall apply for purposes of this subpart.

(e) When § 63.104 refers to Table 4 of subpart F of this part or Table 9 of subpart G of this part, the owner or operator is only required to consider organic HAP listed on Table 6 of this subpart, except for ethylene glycol which need not be considered under this section, for purposes of this subpart.

(f) When § 63.104(c)(3) specifies the monitoring plan retention requirements, and when § 63.104(f)(1) refers to the record retention requirements in § 63.103(c)(1), the requirements in §§ 63.1335(a) and 63.1335(h) shall apply, for purposes of this subpart.

(g) When § 63.104(f)(2) requires information to be reported in the Periodic Reports required by § 63.152(c), the owner or operator shall instead report the information specified in § 63.104(f)(2) in the Periodic Reports required by § 63.1335(e)(6), for the purposes of this subpart.

(h) The compliance date for heat exchange systems subject to the provisions of this section is specified in § 63.1311.

48. Section 63.1329 is amended by:

a. Revising paragraph (a);

b. Revising paragraph (c) introductory text;

c. Revising paragraphs (c)(1)(i) through (c)(1)(iii); and

d. Revising paragraph (c)(2).

The revisions read as follows:

§ 63.1329 Process contact cooling towers provisions.

(a) The owner or operator of each new affected source that manufactures PET is required to comply with paragraph (b) of this section. The owner or operator of each existing affected source that manufactures PET using a continuous terephthalic acid high viscosity multiple end finisher process that utilizes a process contact cooling tower shall comply with paragraph (c) of this section, and is not required to comply with paragraph (b) of this section. The compliance date for process contact cooling towers subject to the provisions of this section is specified in § 63.1311.

* * * * *

(c) Existing affected source requirements. The owner or operator of an existing affected source subject to this section who manufactures PET using a continuous terephthalic acid high viscosity multiple end finisher process, and who is subject or becomes subject to 40 CFR part 60, subpart DDD, shall maintain an ethylene glycol concentration in the process contact cooling tower at or below 4.0 percent by weight averaged on a daily basis over a rolling 14-day period of operating days. Compliance with this paragraph (c) shall be determined as specified in paragraphs (c)(1) through (c)(4) of this section. It should be noted that compliance with this paragraph (c) does not exempt owners or operators from complying with the provisions of § 63.1330 for those process wastewater streams that are sent to the process contact cooling tower.

(1) * * *

(i) At least one sample per operating day shall be collected using the procedures specified in 40 CFR 60.564(j)(1)(i). An average ethylene glycol concentration by weight shall be calculated on a daily basis over a rolling 14-day period of operating days. Each daily average ethylene glycol concentration so calculated constitutes a performance test.

(ii) The owner or operator may elect to reduce the sampling program to any 14 consecutive operating day period once every two calendar months, if at least seventeen consecutive 14-day rolling average concentrations immediately preceding the reduced sampling program are each less than 1.2 weight percent ethylene glycol. If the average concentration obtained over the 14 operating day sampling during the reduced test period exceeds the upper 95 percent confidence interval calculated from the most recent test results in which no one 14-day average exceeded 1.2 weight percent ethylene glycol, then the owner or operator shall reinstitute a daily sampling program. The 95 percent confidence interval shall be calculated as specified in paragraph (c)(1)(iii) of this section. A reduced program may be reinstituted if the requirements specified in this paragraph (c)(1)(ii) are met.

(iii) The upper 95 percent confidence interval shall be calculated using the Equation 27 of this subpart:

Where:

CI95 = 95 percent confidence interval

Xi = daily ethylene glycol concentration for each operating day used to calculate each 14-day rolling average used in test results to justify implementing the reduced testing program.

n = number of ethylene glycol concentrations.

(2) Measuring an alternative parameter, such as carbon oxygen demand or biological oxygen demand, that is demonstrated to be directly proportional to the ethylene glycol concentration shall be allowed. Such parameter shall be measured during the initial 14-day performance test during which the facility is shown to be in compliance with the ethylene glycol concentration standard whereby the ethylene glycol concentration is determined using the procedures described in paragraph (c)(1) of this section. The alternative parameter shall be measured on a daily basis and the average value of the alternative parameter shall be calculated on a daily basis over a rolling 14-day period of operating days. Each daily average value of the alternative parameter constitutes a performance test.

* * * * *

49. Section 63.1330 is amended by:

a. Revising paragraph (a);

b. Revising paragraph (b); and

c. Adding paragraph (c).

The revisions and additions read as follows:

§ 63.1330 Wastewater provisions.

(a) Except as specified in paragraphs (d) and (e) of this section, the owner or operator of each affected source shall comply, as specified in paragraph (b) of this section, with the requirements of §§ 63.132 through 63.147 for each process wastewater stream originating at an affected source, with the requirements of § 63.148 for leak inspection provisions, and with the requirements of § 63.149 for equipment that is subject to § 63.149. Further, the owner or operator of each affected source shall comply with the requirements of § 63.105(a) for maintenance wastewater as specified in paragraph (c) of this section.

(b) The owner or operator of each affected source shall comply with the requirements of §§ 63.132 through 63.149, with the differences noted in paragraphs (b)(1) through (b)(22) of this section for the purposes of this subpart.

(1) When the determination of equivalence criteria in § 63.102(b) is referred to in §§ 63.132, 63.133, and 63.137, the provisions in § 63.6(g) shall apply for the purposes of this subpart.

(2) When the storage vessel requirements contained in §§ 63.119 through 63.123 are referred to in §§ 63.132 through 63.149, §§ 63.119 through 63.123 are applicable, with the exception of the differences referred to in § 63.1314, for the purposes of this subpart.

(3) When § 63.146(a) requires the submission of a request for approval to monitor alternative parameters according to the procedures specified in § 63.151(f) or (g), owners or operators requesting to monitor alternative parameters shall follow the procedures specified in § 63.1335(f) for the purposes of this subpart.

(4) When § 63.147(d) requires owners or operators to keep records of the daily average value of each continuously monitored parameter for each operating day as specified in § 63.152(f), owners and operators shall instead keep records of the daily average value of each continuously monitored parameter as specified in § 63.1335(d) for the purposes of this subpart.

(5) When §§ 63.132 through 63.149 refer to an “existing source,” the term “existing affected source,” as defined in § 63.1310(a), shall apply for the purposes of this subpart.

(6) When §§ 63.132 through 63.149 refer to a “new source,” the term “new affected source,” as defined in § 63.1310(a), shall apply for the purposes of this subpart.

(7) When § 63.132(a) and (b) refer to the “applicable dates specified in § 63.100 of subpart F of this part,” the compliance dates specified in § 63.1311 shall apply for the purposes of this subpart.

(8) The provisions of paragraphs (b)(8)(i), (b)(8)(ii), and (b)(8)(iii) of this section clarify the organic HAP that an owner or operator shall consider when complying with the requirements in §§ 63.132 through 63.149.

(i) When §§ 63.132 through 63.149 refer to table 8 of compounds, the owner or operator is only required to consider 1,3-butadiene for purposes of this subpart.

(ii) When §§ 63.132 through 63.149 refer to table 9 of compounds, the owner or operator is only required to consider compounds that meet the definition of organic HAP in § 63.1312 and that are listed on table 9 of 40 CFR part 63, for the purposes of this subpart, except for ethylene glycol which need not be considered.

(iii) When §§ 63.132 through 63.149 refer to compounds in table 36 of 40 CFR part 63, subpart G, or compounds on List 1 and/or List 2, as listed on table 36 of 40 CFR part 63, subpart G, the owner or operator is only required to consider compounds that meet the definition of organic HAP in § 63.1312 and that are listed in table 36 of 40 CFR part 63, subpart G, for the purposes of this subpart.

(9) Whenever §§ 63.132 through 63.149 refer to a “chemical manufacturing process unit,” the term “thermoplastic product process unit,” (or TPPU) as defined in § 63.1312, shall apply for the purposes of this subpart. In addition, when § 63.149 refers to “a chemical manufacturing process unit that meets the criteria of § 63.100(b) of subpart F of this part,” the term “a TPPU as defined in § 63.1312(b)” shall apply for the purposes of this subpart.

(10) Whenever §§ 63.132 through 63.149 refer to a Group 1 wastewater stream or a Group 2 wastewater stream, the definitions of these terms contained in § 63.1312 shall apply for the purposes of this subpart.

(11) When § 63.149(d) refers to “§ 63.100(f) of subpart F”, the phrase “§ 63.1310(c)” shall apply for the purposes of this subpart. In addition, where § 63.149(d) states “and the item of equipment is not otherwise exempt from controls by the provisions of subpart A, F, G, or H of this part”, the phrase “and the item of equipment is not otherwise exempt from controls by the provisions of subparts A, F, G, H, or JJJ of this part” shall apply for the purposes of this subpart.

(12) When § 63.149(e)(1) and (e)(2) refer to “a chemical manufacturing process unit subject to the new source requirements of 40 CFR § 63.100(l)(1) or 40 CFR § 63.100(l)(2),” the phrase “a TPPU that is part of a new affected source or that is a new affected source,” shall apply for the purposes of this subpart.

(13) When the Notification of Compliance Status requirements contained in § 63.152(b) are referred to in §§ 63.138 and 63.146, the Notification of Compliance Status requirements contained in § 63.1335(e)(5) shall apply for the purposes of this subpart. In addition, when §§ 63.132 through 63.149 require that information be reported according to § 63.152(b) in the Notification of Compliance Status, the owner or operator of an affected source shall report the specified information in the Notification of Compliance Status required by § 63.1335(e)(5) for the purposes of this subpart.

(14) When the Periodic Report requirements contained in § 63.152(c) are referred to in § 63.146, the Periodic Report requirements contained in § 63.1335(e)(6) shall apply for the purposes of this subpart. In addition, when §§ 63.132 through 63.149 require that information be reported in the Periodic Reports required in § 63.152(c), the owner or operator of an affected source shall report the specified information in the Periodic Reports required in § 63.1335(e)(6) for the purposes of this subpart.

(15) When § 63.143(f) specifies that owners or operators shall establish the range that indicates proper operation of the treatment process or control device, the owner or operator shall instead comply with the requirements of § 63.1334(c) or (d) for establishing parameter level maximums/minimums for the purposes of this subpart.

(16) When § 63.146(b)(7) and § 63.146(b)(8) require that “the information on parameter ranges specified in § 63.152(b)(2)” be reported in the Notification of Compliance Status, owners and operators of affected sources are instead required to report the information on parameter levels as specified in § 63.1335(e)(5)(ii) for the purposes of this subpart.

(17) When the term “range” is used in §§ 63.132 through 63.149, the term “level” apply instead for the purposes of this subpart. This level shall be determined using the procedures specified in § 63.1334.

(18) For the purposes of this subpart, the owner or operator of an affected source is not required to include process wastewater streams that contain styrene when conducting performance tests for the purposes of calculating the required mass removal (RMR) or the actual mass removal (AMR) under the provisions described in § 63.145(f) or § 63.145(g). For purposes of this paragraph, a process wastewater stream is considered to contain styrene if the wastewater stream meets the requirements in paragraph (b)(18)(i), (ii), (iii), (iv), or (v) of this section.

(i) The wastewater stream originates at equipment that produces ABS or ABS latex;

(ii) The wastewater stream originates at equipment that produces EPS;

(iii) The wastewater stream originates at equipment that produces MABS;

(iv) The wastewater stream originates at equipment that produces MBS; or

(v) The wastewater stream originates at equipment that produces SAN.

(19) When the provisions of § 63.139(c)(1)(ii), § 63.145(d)(4), or § 63.145(i)(2) specify that Method 18, 40 CFR part 60, appendix A, shall be used, Method 18 or Method 25A, 40 CFR part 60, appendix A, may be used for the purposes of this subpart. The use of Method 25A, 40 CFR part 60, appendix A, shall conform with the requirements in paragraphs (b)(19)(i) and (b)(19)(ii) of this section.

(i) The organic HAP used as the calibration gas for Method 25A, 40 CFR part 60, appendix A, shall be the single organic HAP representing the largest percent by volume of the emissions.

(ii) The use of Method 25A, 40 CFR part 60, appendix A, is acceptable if the response from the high-level calibration gas is at least 20 times the standard deviation of the response from the zero calibration gas when the instrument is zeroed on the most sensitive scale.

(20) In § 63.145(j), instead of the reference to § 63.11(b), and instead of § 63.145(j)(1) and § 63.145(j)(2), the requirements in § 63.1333(e) shall apply.

(21) The owner or operator of a facility which receives a Group 1 wastewater stream, or a residual removed from a Group 1 wastewater stream, for treatment pursuant to § 63.132(g) is subject to the requirements of § 63.132(g) with the differences identified in this section, and is not subject to subpart DD of this part with respect to that material.

(22) When § 63.132(g) refers to “§§ 63.133 through 63.137” or “§§ 63.133 through 63.147”, the provisions in this section 63.1330 shall apply, for the purposes of this subpart.

(c) For each affected source, the owner or operator shall comply with the requirements for maintenance wastewater in § 63.105, except that when § 63.105(a) refers to “organic HAPs listed in table 9 of subpart G of this part,” the owner or operator is only required to consider compounds that meet the definition of organic HAP in § 63.1312 and that are listed in table 9 of 40 CFR part 63, subpart G, except for ethylene glycol which need not be considered, for the purposes of this subpart.

* * * * *

50. Section 63.1331 is amended by:

a. Revising paragraph (a) introductory text;

b. Revising paragraph (a)(2);

c. Revising paragraphs (a)(4) and (a)(5);

d. Revising paragraph (a)(6) introductory text;

e. Revising paragraph (a)(6)(i);

f. Revising paragraphs (a)(6)(ii)(A) and (a)(6)(ii)(B);

g. Revising paragraph (a)(7);

h. Revising paragraph (a)(8) introductory text;

i. Revising paragraph (a)(10);

j. Revising paragraph (b);

k. Adding paragraphs (a)(6)(iii) and (a)(6)(iv);

l. Adding paragraphs (a)(11) through (a)(13); and

m. Removing and reserving paragraph (a)(9).

The revisions and additions read as follows:

§ 63.1331 Equipment leak provisions.

(a) Except as provided for in paragraphs (b) and (c) of this section, the owner or operator of each affected source shall comply with the requirements of subpart H of this part, with the differences noted in paragraphs (a)(1) through (a)(13) of this section.

* * * * *

(2) The compliance date for the equipment leak provisions contained in this section is provided in § 63.1311. Whenever subpart H of this part refers to the compliance dates specified in any paragraph contained in § 63.100, the compliance dates listed in § 63.1311(d) shall instead apply, for the purposes of this subpart. When § 63.182(c)(4) refers to “sources subject to subpart F,” the phrase “sources subject to this subpart” shall apply, for the purposes of this subpart. In addition, extensions of compliance dates are addressed by § 63.1311(e) instead of § 63.182(a)(6), for the purposes of this subpart.

* * * * *

(4) As specified in § 63.1335(e)(5), the Notification of Compliance Status required by paragraphs § 63.182(a)(2) and § 63.182(c) shall be submitted within 150 days (rather than 90 days) of the applicable compliance date specified in § 63.1311 for the equipment leak provisions.

(5) The information specified by § 63.182(a)(3) and § 63.182(d) (i.e., Periodic Reports) shall be submitted as part of the Periodic Reports required by § 63.1335(e)(6).

(6) For pumps, valves, connectors, and agitators in heavy liquid service; pressure relief devices in light liquid or heavy liquid service; and instrumentation systems, owners or operators of affected sources producing PET shall comply with the requirements of paragraphs (a)(6)(i) and (a)(6)(ii) of this section instead of with the requirements of § 63.169. Owners or operators of PET affected sources shall comply with all other provisions of subpart H of this part for pumps, valves, connectors, and agitators in heavy liquid service; pressure relief devices in light liquid or heavy liquid service; and instrumentation systems, except as specified in paragraphs (a)(6)(iii) through (a)(6)(iv) of this section.

(i) A leak is determined to be detected if there is evidence of a potential leak found by visual, audible, or olfactory means. Method 21, 40 CFR part 60, appendix A may not be used to determine the presence or absence of a leak.

(ii)(A) When a leak is detected, it shall be repaired as soon as practical, but not later than 15 days after it is detected, except as provided in § 63.171.

(B) The first attempt at repair shall be made no later than 5 days after each leak is detected.

* * * * *

(iii) An owner or operator is not required to develop an initial list of identification numbers as would otherwise be required under § 63.181(b)(1)(i) or § 63.181(b)(4).

(iv) When recording the detection of a leak under § 63.182(d)(1), the owner or operator of an affected source shall comply with paragraphs (a)(6)(iv)(A) through (a)(6)(iv)(B) of this section.

(A) When complying with § 63.181(d)(1), provide an identification number for the leaking equipment at the time of recordkeeping. Further, the owner or operator is not required to record the identification number of the instrument (i.e., Method 21 instrument) because the use of Method 21 is not an acceptable method for determining a leak under this paragraph (a)(6).

(B) An owner or operator is not required to comply with § 63.181(d)(4) which requires a record of the maximum instrument reading measured by Method 21 of 40 CFR part 60, appendix A.

(7) When § 63.166(b)(4)(i) refers to Table 9 of subpart G of this part, the owner or operator is only required to consider organic HAP listed on Table 6 of this subpart for purposes of this subpart, except for ethylene glycol which need not be considered.

(8) When the provisions of subpart H of this part specify that Method 18, 40 CFR part 60, appendix A, shall be used, Method 18 or Method 25A, 40 CFR part 60, appendix A, may be used for the purposes of this subpart. The use of Method 25A, 40 CFR part 60, appendix A, shall conform with the requirements in paragraphs (a)(8)(i) and (a)(8)(ii) of this section.

* * * * *

(9) [Reserved.]

(10) If specific items of equipment, comprising part of a process unit subject to this subpart, are managed by different administrative organizations (e.g., different companies, affiliates, departments, divisions, etc.), those items of equipment may be aggregated with any TPPU within the affected source for all purposes under subpart H of this part, providing there is no delay in achieving the applicable compliance date.

(11) When the terms “equipment” and “equipment leak” are used in subpart H of this part, the definitions of these terms in § 63.1312 shall apply for the purposes of this subpart.

(12) The phrase “the provisions of subparts F, I, or JJJ of this part” shall apply instead of the phrase “the provisions of subpart F or I of this part” throughout §§ 63.163 and 63.168, for the purposes of this subpart. In addition, the phrase “subparts F, I, and JJJ” shall apply instead of the phrase “subparts F and I” in § 63.174(c)(2)(iii), for the purposes of this subpart.

(13) An owner or operator using a flare to comply with the requirements of this section shall conduct a compliance demonstration as specified in § 63.1333(e).

(b) The provisions of this section do not apply to each TPPU producing PET using a process other than a continuous terephthalic acid (TPA) high viscosity multiple end finisher process that is part of an affected source if all of the equipment leak components subject to this section § 63.1331 in the TPPU are either in vacuum service or in heavy liquid service.

(1) Owners and operators of a TPPU exempted under paragraph (b) of this section shall comply with paragraph (b)(1)(i) or (b)(1)(ii) of this section.

(i) Retain information, data, and analyses used to demonstrate that all of the components in the exempted TPPU are either in vacuum service or in heavy liquid service. For components in vacuum service, examples of information that could document this include, but are not limited to, analyses of process stream composition and process conditions, engineering calculations, or process knowledge. For components in heavy liquid service, such documentation shall include an analysis or demonstration that the process fluids do not meet the criteria of “in light liquid service” or “in gas or vapor service.”

(ii) When requested by the Administrator, demonstrate that all of the components in the TPPU are either in vacuum service or in heavy liquid service.

(2) If changes occur at a TPPU exempted under paragraph (b) of this section such that all of the components in the TPPU are no longer either in vacuum service or in heavy liquid service (e.g., by either process changes or the addition of new components), the owner or operator of the affected source shall comply with the provisions of this section for all of the components at the TPPU. The owner or operator shall submit a report within 180 days after the process change is made or the information regarding the process change is known to the owner or operator. This report may be included in the next Periodic Report, as specified in paragraph (a)(5) of this section. A description of the process change shall be submitted with this report.

* * * * *

51. Section 63.1333 is amended by:

a. Revising the section title;

b. Revising paragraph (a) introductory text;

c. Revising paragraphs (a)(1) and (a)(2);

d. Revising paragraph (a)(4);

e. Revising paragraph (b) introductory text;

f. Adding paragraph (a)(5); and

g. Adding paragraph (e).

The revisions and additions read as follows:

§ 63.1333 Additional requirements for performance testing.

(a) Performance testing shall be conducted in accordance with § 63.7(a)(1), (a)(3), (d), (e)(1), (e)(2), (e)(4), (g), and (h), with the exceptions specified in paragraphs (a)(1) through (a)(5) of this section and the additions specified in paragraphs (b) through (d) of this section. Sections 63.1314 through 63.1330 also contain specific testing requirements.

(1) Performance tests shall be conducted according to the provisions of § 63.7(e)(1) and (e)(2), except that performance tests shall be conducted at maximum representative operating conditions achievable during one of the time periods described in paragraph (a)(1)(i) of this section, without causing any of the situations described in paragraph (a)(1)(ii) of this section to occur.

(i) The 6-month period that ends 2 months before the Notification of Compliance Status is due, according to § 63.1335(e)(5); or the 6-month period that begins 3 months before the performance test and ends 3 months after the performance test.

(ii) Causing damage to equipment; necessitating that the owner or operator make product that does not meet an existing specification for sale to a customer; or necessitating that the owner or operator make product in excess of demand.

(2) The requirements in § 63.1335(e)(5) shall apply instead of the references in § 63.7(g) to the Notification of Compliance Status requirements in § 63.9(h).

* * * * *

(4) The owner or operator shall notify the Administrator of the intention to conduct a performance test at least 30 days before the performance test is scheduled to allow the Administrator the opportunity to have an observer present during the test. If after 30 days notice for an initially scheduled performance test, there is a delay (due to operational problems, etc.) in conducting the scheduled performance test, the owner or operator of an affected facility shall notify the Administrator as soon as possible of any delay in the original test date, either by providing at least 7 days prior notice of the rescheduled date of the performance test, or by arranging a rescheduled date with the Administrator by mutual agreement.

(5) Performance tests shall be performed no later than 150 days after the compliance dates specified in this subpart (i.e., in time for the results to be included in the Notification of Compliance Status), rather than according to the time periods in § 63.7(a)(2) of subpart A of this part.

(b) Each owner or operator of an existing affected source producing MBS complying with § 63.1315(b)(2) shall determine compliance with the mass emission per mass product standard by using Equation 49 of this subpart. When determining Ei, when the provisions of § 63.116(c)(4) specify that Method 18, 40 CFR part 60, appendix A, shall be used, Method 18 or Method 25A, 40 CFR part 60, appendix A, may be used for the purposes of this subpart. The use of Method 25A, 40 CFR part 60, appendix A, shall conform with the requirements in paragraphs (b)(1) and (b)(2) of this section.

Where:

ERMBS = Emission rate of organic HAP or TOC from continuous process vents, kg/Mg product.

Ei = Emission rate of organic HAP or TOC from continuous process vent i as calculated using the procedures specified in § 63.116(c)(4), kg/month.

PPM = Amount of polymer produced in one month as determined by the procedures specified in § 63.1318(b)(1)(ii), Mg/month.

n = Number of continuous process vents.

* * * * *

(e) Notwithstanding any other provision of this subpart, if an owner or operator of an affected source uses a flare to comply with any of the requirements of this subpart, the owner or operator shall comply with paragraphs (e)(1) through (e)(3) of this section. The owner or operator is not required to conduct a performance test to determine percent emission reduction or outlet organic HAP or TOC concentration. If a compliance demonstration has been conducted previously for a flare, using the techniques specified in paragraphs (e)(1) through (e)(3) of this section, that compliance demonstration may be used to satisfy the requirements of this paragraph if either no deliberate process changes have been made since the compliance demonstration, or the results of the compliance demonstration reliably demonstrate compliance despite process changes.

(1) Conduct a visible emission test using the techniques specified in § 63.11(b)(4);

(2) Determine the net heating value of the gas being combusted, using the techniques specified in § 63.11(b)(6); and

(3) Determine the exit velocity using the techniques specified in either § 63.11(b)(7)(i) (and § 63.11(b)(7)(iii), where applicable) or § 63.11(b)(8), as appropriate.

52. Section 63.1334 is amended by:

a. Revising paragraph (a);

b. Revising paragraph (b) introductory text;

c. Revising paragraph (b)(3) introductory text;

d. Revising paragraphs (b)(3)(i)(A) through (b)(3)(i)(D);

e. Revising paragraph (b)(3)(ii);

f. Revising paragraph (c);

g. Revising paragraph (d);

h. Revising paragraph (f)(1) introductory text;

i. Revising paragraphs (f)(1)(ii) and (f)(1)(iii);

j. Revising paragraph (f)(2) introductory text;

k. Revising paragraph (f)(2)(ii);

l. Removing and reserving paragraph (b)(1);

m. Removing and reserving paragraph (e);

n. Removing paragraph (b)(3)(i)(E);

o. Adding paragraph (f)(1)(v); and

p. Adding paragraph (f)(3) through (f)(7).

The revisions and additions read as follows:

§ 63.1334 Parameter monitoring levels and excursions.

(a) Establishment of parameter monitoring levels. The owner or operator of a control or recovery device that has one or more parameter monitoring level requirements specified under this subpart shall establish a maximum or minimum level for each measured parameter. If a performance test is required by this subpart for a control device, the owner or operator shall use the procedures in either paragraph (b) or (c) of this section to establish the parameter monitoring level(s). If a performance test is not required by this subpart for a control device, the owner or operator may use the procedures in paragraph (b), (c) or (d) of this section to establish the parameter monitoring level(s). When using the procedures specified in paragraph (c) or (d) of this section, the owner or operator shall submit the information specified in § 63.1335(e)(3)(vii) for review and approval as part of the Precompliance Report.

(1) The owner or operator shall operate control and recovery devices such that the daily average of monitored parameters remains above the minimum established level or below the maximum established level, except as otherwise stated in this subpart.

(2) As specified in § 63.1335(e)(5), all established levels, along with their supporting documentation and the definition of an operating day, shall be submitted as part of the Notification of Compliance Status.

(3) Nothing in this section shall be construed to allow a monitoring parameter excursion caused by an activity that violates other applicable provisions of subpart A, F, G, or H of this part.

(b) Establishment of parameter monitoring levels based exclusively on performance tests. In cases where a performance test is required by this subpart, or the owner or operator of the affected source elects to do a performance test in accordance with the provisions of this subpart, and an owner or operator elects to establish a parameter monitoring level for a control, recovery, or recapture device based exclusively on parameter values measured during the performance test, the owner or operator of the affected source shall comply with the procedures in paragraphs (b)(1) through (b)(4) of this section, as applicable.

(1) [Reserved.]

* * * * *

(3) Batch process vents. The monitoring level(s) shall be established using the procedures specified in either paragraph (b)(3)(i) or (b)(3)(ii) of this section. The procedures specified in this paragraph (b)(3) may only be used if the batch emission episodes, or portions thereof, selected to be controlled were tested, and monitoring data were collected, during the entire period in which emissions were vented to the control device, as specified in § 63.1325(c)(1)(i). If the owner or operator chose to test only a portion of the batch emission episode, or portion thereof, selected to be controlled, the procedures in paragraph (c) of this section shall be used.

(i) * * *

(A) The average monitored parameter value shall be calculated for each batch emission episode, or portion thereof, in the batch cycle selected to be controlled. The average shall be based on all values measured during the required performance test.

(B) If the level to be established is a maximum operating parameter, the level shall be defined as the minimum of the average parameter values of the batch emission episodes, or portions thereof, in the batch cycle selected to be controlled (i.e., identify the emission episode, or portion thereof, which requires the lowest parameter value in order to assure compliance. The average parameter value that is necessary to assure compliance for that emission episode, or portion thereof, shall be the level for all emission episodes, or portions thereof, in the batch cycle, that are selected to be controlled).

(C) If the level to be established is a minimum operating parameter, the level shall be defined as the maximum of the average parameter values of the batch emission episodes, or portions thereof, in the batch cycle selected to be controlled (i.e., identify the emission episode, or portion thereof, which requires the highest parameter value in order to assure compliance. The average parameter value that is necessary to assure compliance for that emission episode, or portion thereof, shall be the level for all emission episodes, or portions thereof, in the batch cycle, that are selected to be controlled).

(D) Alternatively, an average monitored parameter value shall be calculated for the entire batch cycle based on all values measured during each batch emission episode, or portion thereof, selected to be controlled.

(ii) Instead of establishing a single level for the batch cycle, as described in paragraph (b)(3)(i) of this section, an owner or operator may establish separate levels for each batch emission episode, or portion thereof, selected to be controlled. Each level shall be determined as specified in paragraph (b)(3)(i)(A) of this section.

* * * * *

(c) Establishment of parameter monitoring levels based on performance tests, supplemented by engineering assessments and/or manufacturer's recommendations. In cases where a performance test is required by this subpart, or the owner or operator elects to do a performance test in accordance with the provisions of this subpart, and an owner or operator elects to establish a parameter monitoring level for a control, recovery, or recapture device under this paragraph (c), the owner or operator shall supplement the parameter values measured during the performance test with engineering assessments and/or manufacturer's recommendations. Performance testing is not required to be conducted over the entire range of expected parameter values.

(d) Establishment of parameter monitoring based on engineering assessments and/or manufacturer's recommendations. In cases where a performance test is not required by this subpart and an owner or operator elects to establish a parameter monitoring level for a control, recovery, or recapture device under this paragraph (d), the determination of the parameter monitoring level shall be based exclusively on engineering assessments and/or manufacturer's recommendations.

(e) [Reserved.]

(f) Parameter monitoring excursion definitions. (1) With respect to storage vessels (where the applicable monitoring plan specifies continuous monitoring), continuous process vents, aggregate batch vent streams, and process wastewater streams, an excursion means any of the three cases listed in paragraphs (f)(1)(i) through (f)(1)(iii) of this section. For a control or recovery device where multiple parameters are monitored, if one or more of the parameters meets the excursion criteria in paragraphs (f)(1)(i) through (f)(1)(iii) of this section, this is considered a single excursion for the control or recovery device. For each excursion, the owner or operator shall be deemed out of compliance with the provisions of this subpart, except as provided in paragraph (g) of this section.

* * * * *

(ii) When the period of control or recovery device operation, with the exception noted in paragraph (f)(1)(v) of this section, is 4 hours or greater in an operating day, and monitoring data are insufficient, as defined in paragraph (f)(1)(iv) of this section, to constitute a valid hour of data for at least 75 percent of the operating hours.

(iii) When the period of control or recovery device operation, with the exception noted in paragraph (f)(1)(v) of this section, is less than 4 hours in an operating day and more than two of the hours during the period of operation do not constitute a valid hour of data due to insufficient monitoring data, as defined in paragraph (f)(1)(iv) of this section.

* * * * *

(v) The periods listed in paragraphs (f)(1)(v)(A) through (f)(1)(v)(E) of this section are not considered to be part of the period of control or recovery device operation, for the purposes of paragraphs (f)(1)(ii) and (f)(1)(iii) of this section.

(A) Monitoring system breakdowns, repairs, calibration checks, and zero (low-level) and high-level adjustments;

(B) Start-ups;

(C) Shutdowns;

(D) Malfunctions; or

(E) Periods of non-operation of the affected source (or portion thereof), resulting in cessation of the emissions to which the monitoring applies.

(2) With respect to batch process vents, an excursion means one of the two cases listed in paragraphs (f)(2)(i) and (f)(2)(ii) of this section. For a control device where multiple parameters are monitored, if one or more of the parameters meets the excursion criteria in either paragraph (f)(2)(i) or (f)(2)(ii) of this section, this is considered a single excursion for the control device. For each excursion, the owner or operator shall be deemed out of compliance with the provisions of this subpart, except as provided in paragraph (g) of this section.

* * * * *

(ii) When monitoring data are insufficient for an operating day. Monitoring data shall be considered insufficient when measured values are not available for at least 75 percent of the 15-minute periods when batch emission episodes selected to be controlled are being vented to the control device during the operating day, using the procedures specified in paragraphs (f)(2)(ii)(A) through (f)(2)(ii)(D) of this section.

(A) Determine the total amount of time during the operating day when batch emission episodes selected to be controlled are being vented to the control device.

(B) Subtract the time during the periods listed in paragraphs (f)(2)(ii)(B)(1) through (f)(2)(ii)(B)(4) of this section from the total amount of time determined in paragraph (f)(2)(ii)(A) of this section, to obtain the operating time used to determine if monitoring data are insufficient.

(1) Monitoring system breakdowns, repairs, calibration checks, and zero (low-level) and high-level adjustments;

(2) Start-ups;

(3) Shutdowns; or

(4) Malfunctions.

(C) Determine the total number of 15-minute periods in the operating time used to determine if monitoring data are insufficient, as was determined in accordance with paragraph (f)(2)(ii)(B) of this section.

(D) If measured values are not available for at least 75 percent of the total number of 15-minute periods determined in paragraph (f)(2)(ii)(C) of this section, the monitoring data are insufficient for the operating day.

(3) For storage vessels where the applicable monitoring plan does not specify continuous monitoring, an excursion is defined in paragraph (f)(3)(i) or (ii) of this section, as applicable. For a control or recovery device where multiple parameters are monitored, if one or more of the parameters meets the excursion criteria, this is considered a single excursion for the control or recovery device. For each excursion, the owner or operator shall be deemed out of compliance with the provisions of this subpart, except as provided in paragraph (g) of this section.

(i) If the monitoring plan specifies monitoring a parameter and recording its value at specific intervals (such as every 15 minutes or every hour), either of the cases listed in paragraph (f)(3)(i)(A) or (f)(3)(i)(B) of this section is considered a single excursion for the control device. For each excursion, the owner or operator shall be deemed out of compliance with the provisions of this subpart, except as provided in paragraph (g) of this section.

(A) When the average value of one or more parameters, averaged over the duration of the filling period for the storage vessel, is above the maximum level or below the minimum level established for the given parameters.

(B) When monitoring data are insufficient. Monitoring data shall be considered insufficient when measured values are not available for at least 75 percent of the specific intervals at which parameters are to be monitored and recorded, according to the storage vessel's monitoring plan, during the filling period for the storage vessel.

(ii) If the monitoring plan does not specify monitoring a parameter and recording its value at specific intervals (for example, if the relevant operating requirement is to exchange a disposable carbon canister before expiration of its rated service life), the monitoring plan shall define an excursion in terms of the relevant operating requirement.

(4) With respect to continuous process vents complying with the mass emissions per mass product requirements specified in § 63.1316(b)(1)(i)(A), (b)(1)(ii), (b)(2)(i), (b)(2)(ii), or (c)(1)(i), an excursion has occurred when the mass emission rate calculated as specified in § 63.1318(c) exceeds the appropriate mass emissions per mass product requirement. For each excursion, the owner or operator shall be deemed out of compliance with the provisions of this subpart, except as provided in paragraph (g) of this section.

(5) With respect to continuous process vents complying with the temperature limits for final condensers specified in § 63.1316(b)(1)(i)(B) or (c)(1)(ii), an excursion has occurred when the daily average exit temperature exceeds the appropriate condenser temperature limit. For each excursion, the owner or operator shall be deemed out of compliance with the provisions of this subpart, except as provided in paragraph (g) of this section. The periods listed in paragraphs (f)(5)(i) through (f)(5)(v) of this section are not considered to be part of the period of operation for the condenser for purposes of determining the daily average exit temperature.

(i) Monitoring system breakdowns, repairs, calibration checks, and zero (low-level) and high-level adjustments;

(ii) Start-ups;

(iii) Shutdowns;

(iv) Malfunctions; or

(v) Periods of non-operation of the affected source (or portion thereof), resulting in cessation of the emissions to which the monitoring applies.

(6) With respect to new affected sources producing SAN using a batch process, an excursion has occurred when the percent reduction calculated using the procedures specified in § 63.1333(c) is less than 84 percent. For each excursion, the owner or operator shall be deemed out of compliance with the provisions of this subpart, except as provided in paragraph (g) of this section. The periods listed in paragraphs (f)(6)(i) through (f)(6)(v) of this section are not considered to be part of the period of control or recovery device operation for purposes of determining the percent reduction.

(i) Monitoring system breakdowns, repairs, calibration checks, and zero (low-level) and high-level adjustments;

(ii) Start-ups;

(iii) Shutdowns;

(iv) Malfunctions; or

(v) Periods of non-operation of the affected source (or portion thereof), resulting in cessation of the emissions to which the monitoring applies.

(7) With respect to continuous process vents complying with the mass emissions per mass product requirement specified in § 63.1315(b)(2), an excursion has occurred when the mass emission rate calculated as specified in § 63.1333(b) exceeds the mass emissions per mass product requirement specified in § 63.1315(b)(2). For each excursion, the owner or operator shall be deemed out of compliance with the provisions of this subpart, except as provided in paragraph (g) of this section.

* * * * *

53. Section 63.1335 is amended by:

a. Revising paragraph (a);

b. Revising paragraph (b)(1) introductory text;

c. Revising paragraph (b)(1)(i) introductory text;

d. Revising paragraphs (b)(1)(i)(A) through (b)(1)(i)(C);

e. Revising paragraph (b)(1)(ii);

f. Revising paragraph (b)(2);

g. Revising paragraph (d) introductory text;

h. Revising paragraph (d)(2);

i. Revising paragraph (d)(3);

j. Revising paragraphs (d)(6) through (d)(9);

k. Revising paragraph (e) introductory text;

l. Revising paragraphs (e)(1) through (e)(3);

m. Revising paragraph (e)(4) introductory text;

n. Revising paragraph (e)(4)(i);

o. Revising paragraph (e)(4)(ii) introductory text;

p. Revising paragraph (e)(4)(ii)(B);

q. Revising paragraph (e)(4)(ii)(D);

r. Revising paragraph (e)(4)(ii)(F)(2);

s. Revising paragraphs (e)(4)(ii)(F)(4) and (e)(4)(ii)(F)(5);

t. Revising paragraph (e)(4)(ii)(H)(2);

u. Revising paragraph (e)(4)(ii)(J)(2);

v. Revising paragraph (e)(4)(ii)(L)(2);

w. Revising paragraph (e)(4)(ii)(N);

x. Revising paragraphs (e)(4)(iii) and (e)(4)(iv) introductory text;

y. Revising paragraph (e)(4)(iv)(A) introductory text;

z. Revising paragraph (e)(4)(iv)(B) introductory text;

aa. Revising paragraph (e)(4)(iv)(C);

bb. Revising paragraph (e)(5) introductory text;

cc. Revising paragraph (e)(5)(i) introductory text;

dd. Revising paragraph (e)(5)(i)(A);

ee. Revising paragraph (e)(5)(ii) introductory text;

ff. Revising paragraph (e)(5)(iv);

gg. Revising paragraphs (e)(5)(vi) through (e)(5)(viii);

hh. Revising paragraph (e)(6) introductory text;

jj. Revising paragraphs (e)(6)(i) and (e)(6)(ii);

kk. Revising paragraph (e)(6)(iii)(B);

ll. Revising paragraph (e)(6)(iii)(D) introductory text;

mm. Revising paragraphs (e)(6)(iii)(D)(2) and (e)(6)(iii)(D)(3);

nn. Revising paragraph (e)(6)(iv);

oo. Revising paragraph (e)(6)(v)(B);

pp. Revising paragraphs (e)(6)(vi) through (e)(6)(xi);

qq. Revising paragraph (e)(7) introductory text;

rr. Revising paragraph (e)(7)(ii);

ss. Revising paragraph (e)(8) introductory text;

tt. Revising paragraphs (e)(8)(i) and (e)(8)(ii);

uu. Revising paragraph (f) introductory text;

vv. Revising paragraph (f)(3) introductory text;

ww. Revising paragraph (g) introductory text;

xx. Revising paragraph (g)(3) introductory text;

yy. Revising paragraph (g)(3)(i)(A);

zz. Revising paragraph (g)(4);

aaa. Revising paragraph (h) introductory text;

bbb. Revising paragraph (h)(1) introductory text;

ccc. Revising paragraph (h)(1)(ii)(B);

ddd. Revising paragraph (h)(1)(iv);

eee. Revising paragraph (h)(1)(vi) introductory text;

fff. Revising paragraphs (h)(1)(vi)(B) and (h)(1)(vi)(C);

ggg. Revising paragraph (h)(2)(i);

hhh. Revising paragraph (h)(2)(iii);

iii. Removing paragraph (b)(1)(i)(D);

jjj. Removing paragraph (d)(10);

kkk. Removing paragraph (e)(8)(iii);

lll. Removing and reserving paragraph (c);

mmm. Removing and reserving paragraph (d)(4) and (d)(5);

nnn. Removing and reserving paragraphs (e)(6)(iii)(C);

ooo. Adding paragraphs (e)(5)(ix) through (e)(5)(xi);

ppp. Adding paragraph (e)(6)(iii)(D)(4);

qqq. Adding paragraph (e)(6)(xii);

rrr. Adding paragraphs (e)(7)(iii) and (e)(7)(iv); and

sss. Adding paragraph (h)(1)(vi)(D).

The revisions and additions read as follows:

§ 63.1335 General recordkeeping and reporting provisions.

(a) Data retention. Unless otherwise specified in this subpart, the owner or operator of an affected source shall keep copies of all applicable records and reports required by this subpart for at least 5 years, as specified in paragraph (a)(1) of this section, with the exception listed in paragraph (a)(2) of this section.

(1) All applicable records shall be maintained in such a manner that they can be readily accessed. The most recent 6 months of records shall be retained on site or shall be accessible from a central location by computer or other means that provides access within 2 hours after a request. The remaining 4 and one-half years of records may be retained offsite. Records may be maintained in hard copy or computer-readable form including, but not limited to, on paper, microfilm, computer, floppy disk, magnetic tape, or microfiche.

(2) If an owner or operator submits copies of reports to the appropriate EPA Regional Office, the owner or operator is not required to maintain copies of reports. If the EPA Regional Office has waived the requirement of § 63.10(a)(4)(ii) for submittal of copies of reports, the owner or operator is not required to maintain copies of those reports.

(b) * * *

(1) Start-up, shutdown, and malfunction plan. The owner or operator of an affected source shall develop and implement a written start-up, shutdown, and malfunction plan as specified in § 63.6(e)(3). This plan shall describe, in detail, procedures for operating and maintaining the affected source during periods of start-up, shutdown, and malfunction and a program for corrective action for malfunctioning process and air pollution control equipment used to comply with this subpart. Inclusion of Group 2 emission points is not required, unless these points are included in an emissions average. For equipment leaks (subject to § 63.1331), the start-up, shutdown, and malfunction plan requirement is limited to control devices and is optional for other equipment. For equipment leaks, the start-up, shutdown, and malfunction plan may include written procedures that identify conditions that justify a delay of repair. A provision for ceasing to collect, during a start-up, shutdown, or malfunction, monitoring data that would otherwise be required by the provisions of this subpart may be included in the start-up, shutdown, and malfunction plan only if the owner or operator has demonstrated to the Administrator, through the Precompliance Report or a supplement to the Precompliance Report, that the monitoring system would be damaged or destroyed if it were not shut down during the start-up, shutdown, or malfunction. The affected source shall keep the start-up, shutdown, and malfunction plan on-site. Records associated with the plan shall be kept as specified in paragraphs (b)(1)(i)(A) through (b)(1)(i)(C) of this section. Reports related to the plan shall be submitted as specified in paragraph (b)(1)(ii) of this section.

(i) Records of start-up, shutdown, and malfunction. The owner or operator shall keep the records specified in paragraphs (b)(1)(i)(A) through (b)(1)(i)(C) of this section.

(A) Records of the occurrence and duration of each start-up, shutdown, and malfunction of operation of process equipment or control devices or recovery devices or continuous monitoring systems used to comply with this subpart during which excess emissions (as defined in § 63.1310(j)(4)) occur.

(B) For each start-up, shutdown, or malfunction during which excess emissions (as defined in § 63.1310(j)(4)) occur, records reflecting whether the procedures specified in the affected source's start-up, shutdown, and malfunction plan were followed, and documentation of actions taken that are not consistent with the plan. For example, if a start-up, shutdown, and malfunction plan includes procedures for routing a control device to a backup control device, records shall be kept of whether the plan was followed. These records may take the form of a “checklist,” or other form of recordkeeping that confirms conformance with the start-up shutdown, and malfunction plan for the event.

(C) Records specified in paragraphs (b)(1)(i)(A) through (b)(1)(i)(B) of this section are not required if they pertain solely to Group 2 emission points that are not included in an emissions average.

(ii) Reports of start-up, shutdown, and malfunction. For the purposes of this subpart, the semiannual start-up, shutdown, and malfunction reports shall be submitted on the same schedule as the Periodic Reports required under paragraph (e)(6) of this section instead of being submitted on the schedule specified in § 63.10(d)(5)(i). The reports shall include the information specified in § 63.10(d)(5)(i).

(2) Application for approval of construction or reconstruction. For new affected sources, each owner or operator shall comply with the provisions in § 63.5 regarding construction and reconstruction, excluding the provisions specified in § 63.5(d)(1)(ii)(H), (d)(1)(iii), (d)(2), and (d)(3)(ii).

(c) [Reserved.]

(d) Recordkeeping and documentation. Owners or operators required to keep continuous records shall keep records as specified in paragraphs (d)(1) through (d)(7) of this section, unless an alternative recordkeeping system has been requested and approved as specified in paragraph (g) of this section, and except as provided in paragraph (h) of this section. If a monitoring plan for storage vessels pursuant to § 63.1314(a)(9) requires continuous records, the monitoring plan shall specify which provisions, if any, of paragraphs (d)(1) through (d)(7) of this section apply. As described in § 63.1314(a)(9), certain storage vessels are not required to keep continuous records as specified in this paragraph. Owners and operators of such storage vessels shall keep records as specified in the monitoring plan required by § 63.1314(a)(9). Paragraphs (d)(8) and (d)(9) of this section specify documentation requirements.

* * * * *

(2) The owner or operator shall record either each measured data value or block average values for 1 hour or shorter periods calculated from all measured data values during each period. If values are measured more frequently than once per minute, a single value for each minute may be used to calculate the hourly (or shorter period) block average instead of all measured values. Owners or operators of batch process vents shall record each measured data value.

(3) Daily average (or batch cycle daily average) values of each continuously monitored parameter shall be calculated for each operating day as specified in paragraphs (d)(3)(i) through (d)(3)(ii) of this section, except as specified in paragraphs (d)(6) and (d)(7) of this section.

(i) The daily average value or batch cycle daily average shall be calculated as the average of all parameter values recorded during the operating day, except as specified in paragraph (d)(7) of this section. For batch process vents, as specified in § 63.1326(e)(2)(i), only parameter values measured during those batch emission episodes, or portions thereof, in the batch cycle that the owner or operator has chosen to control shall be used to calculate the average. The calculated average shall cover a 24-hour period if operation is continuous, or the number of hours of operation per operating day if operation is not continuous.

(ii) The operating day shall be the period the owner or operator specifies in the operating permit or the Notification of Compliance Status for purposes of determining daily average values or batch cycle daily average values of monitored parameters.

(4) [Reserved]

(5) [Reserved]

(6) Records required when all recorded values are within the established limits. If all recorded values for a monitored parameter during an operating day are above the minimum level or below the maximum level established in the Notification of Compliance Status or operating permit, the owner or operator may record that all values were above the minimum level or below the maximum level rather than calculating and recording a daily average (or batch cycle daily average) for that operating day.

(7) Monitoring data recorded during periods identified in paragraphs (d)(7)(i) through (d)(7)(v) of this section shall not be included in any average computed under this subpart. Records shall be kept of the times and durations of all such periods and any other periods during process or control device or recovery device operation when monitors are not operating.

(i) Monitoring system breakdowns, repairs, calibration checks, and zero (low-level) and high-level adjustments;

(ii) Start-ups;

(iii) Shutdowns;

(iv) Malfunctions;

(v) Periods of non-operation of the affected source (or portion thereof), resulting in cessation of the emissions to which the monitoring applies.

(8) For continuous monitoring systems used to comply with this subpart, records documenting the completion of calibration checks, and records documenting the maintenance of continuous monitoring systems that are specified in the manufacturer's instructions or that are specified in other written procedures that provide adequate assurance that the equipment would reasonably be expected to monitor accurately.

(9) The owner or operator of an affected source granted a waiver under § 63.10(f) shall maintain the information, if any, specified by the Administrator as a condition of the waiver of recordkeeping or reporting requirements.

(e) Reporting and notification. In addition to the reports and notifications required by subpart A of this part as specified in Table 1 of this subpart, the owner or operator of an affected source shall prepare and submit the reports listed in paragraphs (e)(3) through (e)(8) of this section, as applicable. All reports required by this subpart, and the schedule for their submittal, are listed in Table 9 of this subpart.

(1) Owners and operators shall not be in violation of the reporting requirements of this subpart for failing to submit information required to be included in a specified report if the owner or operator meets the requirements in paragraphs (e)(1)(i) through (e)(1)(iii) of this section. Examples of circumstances where this paragraph may apply include information related to newly-added equipment or emission points, changes in the process, changes in equipment required or utilized for compliance with the requirements of this subpart, or changes in methods or equipment for monitoring, recordkeeping, or reporting.

(i) The information was not known in time for inclusion in the report specified by this subpart;

(ii) The owner or operator has been diligent in obtaining the information; and

(iii) The owner or operator submits a report according to the provisions of paragraphs (e)(1)(iii)(A) through (e)(1)(iii)(C) of this section.

(A) If this subpart expressly provides for supplements to the report in which the information is required, the owner or operator shall submit the information as a supplement to that report. The information shall be submitted no later than 60 days after it is obtained, unless otherwise specified in this subpart.

(B) If this subpart does not expressly provide for supplements, but the owner or operator must submit a request for revision of an operating permit pursuant to part 70 or part 71, due to circumstances to which the information pertains, the owner or operator shall submit the information with the request for revision to the operating permit.

(C) In any case not addressed by paragraph (e)(1)(iii)(A) or (e)(1)(iii)(B) of this paragraph, the owner or operator shall submit the information with the first Periodic Report, as required by this subpart, which has a submission deadline at least 60 days after the information is obtained.

(2) All reports required under this subpart shall be sent to the Administrator at the appropriate address listed in § 63.13. If acceptable to both the Administrator and the owner or operator of an affected source, reports may be submitted on electronic media.

(3) Precompliance Report. Owners or operators of affected sources requesting an extension for compliance; requesting approval to use alternative monitoring parameters, alternative continuous monitoring and recordkeeping, or alternative controls; requesting approval to use engineering assessment to estimate emissions from a batch emissions episode, as described in § 63.1323(b)(6)(i)(C); wishing to establish parameter monitoring levels according to the procedures contained in § 63.1334(c) or (d); or requesting approval to incorporate a provision for ceasing to collect monitoring data, during a start-up, shutdown, or malfunction, into the start-up, shutdown, and malfunction plan, when that monitoring equipment would be damaged if it did not cease to collect monitoring data, as permitted under § 63.1310(j)(3), shall submit a Precompliance Report according to the schedule described in paragraph (e)(3)(i) of this section. The Precompliance Report shall contain the information specified in paragraphs (e)(3)(ii) through (e)(3)(viii) of this section, as appropriate.

(i) Submittal dates. The Precompliance Report shall be submitted to the Administrator no later than December 19, 2000. If a Precompliance Report was submitted prior to June 19, 2000 and no changes need to be made to that Precompliance Report, the owner or operator shall re-submit the earlier report or submit notification that the previously submitted report is still valid. Unless the Administrator objects to a request submitted in the Precompliance Report within 45 days after its receipt, the request shall be deemed approved. For new affected sources, the Precompliance Report shall be submitted to the Administrator with the application for approval of construction or reconstruction required in paragraph (b)(2) of this section. Supplements to the Precompliance Report may be submitted as specified in paragraph (e)(3)(ix) of this section.

(ii) A request for an extension for compliance, as specified in § 63.1311(e), may be submitted in the Precompliance Report. The request for a compliance extension shall include the data outlined in § 63.6(i)(6)(i)(A), (B), and (D), as required in § 63.1311(e)(1).

(iii) The alternative monitoring parameter information required in paragraph (f) of this section shall be submitted in the Precompliance Report if, for any emission point, the owner or operator of an affected source seeks to comply through the use of a control technique other than those for which monitoring parameters are specified in this subpart or in subpart G of this part or seeks to comply by monitoring a different parameter than those specified in this subpart or in subpart G of this part.

(iv) If the affected source seeks to comply using alternative continuous monitoring and recordkeeping as specified in paragraph (g) of this section, the owner or operator shall submit a request for approval in the Precompliance Report.

(v) The owner or operator shall report the intent to use alternative controls to comply with the provisions of this subpart in the Precompliance Report. The Administrator may deem alternative controls to be equivalent to the controls required by the standard, under the procedures outlined in § 63.6(g).

(vi) If a request for approval to use engineering assessment to estimate emissions from a batch emissions episode, as described in § 63.1323(b)(6)(i)(C) is being made, the information required by § 63.1323(b)(6)(iii)(B) shall be submitted in the Precompliance Report.

(vii) If an owner or operator establishes parameter monitoring levels according to the procedures contained in § 63.1334(c) or (d), the following information shall be submitted in the Precompliance Report:

(A) Identification of which procedures (i.e., § 63.1334(c) or (d)) are to be used; and

(B) A description of how the parameter monitoring level is to be established. If the procedures in § 63.1334(c) are to be used, a description of how performance test data will be used shall be included.

(viii) If the owner or operator is requesting approval to incorporate a provision for ceasing to collect monitoring data, during a start-up, shutdown, or malfunction, into the start-up, shutdown, and malfunction plan, when that monitoring equipment would be damaged if it did not cease to collect monitoring data, the information specified in paragraphs (e)(3)(viii)(A) and (B) shall be supplied in the Precompliance Report or in a supplement to the Precompliance Report. The Administrator shall evaluate the supporting documentation and shall approve the request only if, in the Administrator's judgment, the specific monitoring equipment would be damaged by the contemporaneous start-up, shutdown, or malfunction.

(A) Documentation supporting a claim that the monitoring equipment would be damaged by the contemporaneous start-up, shutdown, or malfunction; and

(B) A request to incorporate such a provision for ceasing to collect monitoring data during a start-up, shutdown, or malfunction, into the start-up, shutdown, and malfunction plan.

(ix) Supplements to the Precompliance Report may be submitted as specified in paragraphs (e)(3)(ix)(A) or (e)(3)(ix)(B) of this section. Unless the Administrator objects to a request submitted in a supplement to the Precompliance Report within 45 days after its receipt, the request shall be deemed approved.

(A) Supplements to the Precompliance Report may be submitted to clarify or modify information previously submitted.

(B) Supplements to the Precompliance Report may be submitted to request approval to use alternative monitoring parameters, as specified in paragraph (e)(3)(iii) of this section; to use alternative continuous monitoring and recordkeeping, as specified in paragraph (e)(3)(iv) of this section; to use alternative controls, as specified in paragraph (e)(3)(v) of this section; to use engineering assessment to estimate emissions from a batch emissions episode, as specified in paragraph (e)(3)(vi) of this section; to establish parameter monitoring levels according to the procedures contained in § 63.1334(c) or (d), as specified in paragraph (e)(3)(vii) of this section; or to include a provision for ceasing to collect monitoring data during a start-up, shutdown, or malfunction, in the start-up, shutdown, and malfunction plan, when that monitoring equipment would be damaged if it did not cease to collect monitoring data, as specified in paragraph (e)(3)(viii) of this section.

(4) Emissions Averaging Plan. For all existing affected sources using emissions averaging, an Emissions Averaging Plan shall be submitted for approval according to the schedule and procedures described in paragraph (e)(4)(i) of this section. The Emissions Averaging Plan shall contain the information specified in paragraph (e)(4)(ii) of this section, unless the information required in paragraph (e)(4)(ii) of this section is submitted with an operating permit application. An owner or operator of an affected source who submits an operating permit application instead of an Emissions Averaging Plan shall submit the information specified in paragraph (e)(8) of this section. In addition, a supplement to the Emissions Averaging Plan, as required under paragraph (e)(4)(iii) of this section, is to be submitted whenever additional alternative controls or operating scenarios may be used to comply with this subpart. Updates to the Emissions Averaging Plan shall be submitted in accordance with paragraph (e)(4)(iv) of this section.

(i) Submittal and approval. The Emissions Averaging Plan shall be submitted no later than September 19, 2000, and it is subject to Administrator approval. If an Emissions Averaging Plan was submitted prior to June 19, 2000 and no changes need to be made to that Emissions Averaging Plan, the owner or operator shall re-submit the earlier plan or submit notification that the previously submitted plan is still valid. The Administrator shall determine within 120 days whether the Emissions Averaging Plan submitted presents sufficient information. The Administrator shall either approve the Emissions Averaging Plan, request changes, or request that the owner or operator submit additional information. Once the Administrator receives sufficient information, the Administrator shall approve, disapprove, or request changes to the plan within 120 days.

(ii) Information required. The Emissions Averaging Plan shall contain the information listed in paragraphs (e)(4)(ii)(A) through (e)(4)(ii)(N) of this section for all emission points included in an emissions average.

* * * * *

(B) The required information shall include the projected emission debits and credits for each emission point and the sum for the emission points involved in the average calculated according to § 63.1332. The projected credits shall be greater than or equal to the projected debits, as required under § 63.1332(e)(3).

* * * * *

(D) The required information shall include the specific identification of each emission point affected by a pollution prevention measure. To be considered a pollution prevention measure, the criteria in § 63.1332(j)(1) shall be met. If the same pollution prevention measure reduces or eliminates emissions from multiple emission points in the average, the owner or operator shall identify each of these emission points.

* * * * *

(F) * * *

(2) The required documentation shall include the estimated values of all parameters needed for input to the emission debit and credit calculations in § 63.1332(g) and (h). These parameter values shall be specified in the affected source's Emissions Averaging Plan (or operating permit) as enforceable operating conditions. Changes to these parameters shall be reported as required by paragraph (e)(4)(iv) of this section.

* * * * *

(4) The required documentation shall include the anticipated nominal efficiency if a control technology achieving a greater percent emission reduction than the efficiency of the reference control technology is or will be applied to the emission point. The procedures in § 63.1332(i) shall be followed to apply for a nominal efficiency, and the report specified in paragraph (e)(7)(ii) of this section shall be submitted with the Emissions Averaging Plan as specified in paragraph (e)(7)(ii)(A) of this section.

(5) The required documentation shall include the monitoring plan specified in § 63.122(b), to include the information specified in § 63.120(d)(2)(i) and in either § 63.120(d)(2)(ii) or (d)(2)(iii) for each storage vessel controlled with a closed-vent system using a control device other than a flare.

* * * * *

(H) * * *

(2) The required documentation shall include the estimated values of all parameters needed for input to the emission debit and credit calculations in § 63.1332(g) and (h). These parameter values shall be specified in the affected source's Emissions Averaging Plan (or operating permit) as enforceable operating conditions. Changes to these parameters shall be reported as required by paragraph (e)(4)(iv) of this section.

* * * * *

(J) * * *

(2) The required documentation shall include the estimated values of all parameters needed for input to the emission debit and credit calculations in § 63.1332(g) and (h). These parameter values shall be specified in the affected source's Emissions Averaging Plan (or operating permit) as enforceable operating conditions. Changes to these parameters shall be reported as required by paragraph (e)(4)(iv) of this section.

* * * * *

(L) * * *

(2) The required documentation shall include the estimated values of all parameters needed for input to the wastewater emission credit and debit calculations in § 63.1332(g) and (h). These parameter values shall be specified in the affected source's Emissions Averaging Plan (or operating permit) as enforceable operating conditions. Changes to these parameters shall be reported as required by paragraph (e)(4)(iv) of this section.

* * * * *

(N) The required information shall include documentation of the data required by § 63.1332(k). The documentation shall demonstrate that the emissions from the emission points proposed to be included in the average will not result in greater hazard or, at the option of the Administrator, greater risk to human health or the environment than if the emission points were not included in an emissions average.

(iii) Supplement to Emissions Averaging Plan. The owner or operator required to prepare an Emissions Averaging Plan under paragraph (e)(4) of this section shall also prepare a supplement to the Emissions Averaging Plan for any additional alternative controls or operating scenarios that may be used to achieve compliance.

(iv) Updates to Emissions Averaging Plan. The owner or operator of an affected source required to submit an Emissions Averaging Plan under paragraph (e)(4) of this section shall also submit written updates of the Emissions Averaging Plan to the Administrator for approval under the circumstances described in paragraphs (e)(4)(iv)(A) through (e)(4)(iv)(C) of this section unless the relevant information has been included and submitted in an operating permit application or amendment.

(A) The owner or operator who plans to make a change listed in either paragraph (e)(4)(iv)(A)(1) or (e)(4)(iv)(A)(2) of this section shall submit an Emissions Averaging Plan update at least 120 days prior to making the change.

* * * * *

(B) The owner or operator who has made a change as defined in paragraph (e)(4)(iv)(B)(1) or (e)(4)(iv)(B)(2) of this section shall submit an Emissions Averaging Plan update within 90 days after the information regarding the change is known to the affected source. The update may be submitted in the next quarterly periodic report if the change is made after the date the Notification of Compliance Status is due.

* * * * *

(C) The Administrator shall approve or request changes to the Emissions Averaging Plan update within 120 days of receipt of sufficient information regarding the change for emission points included in emissions averages.

(5) Notification of Compliance Status. For existing and new affected sources, a Notification of Compliance Status shall be submitted. For equipment leaks subject to § 63.1331, the owner or operator shall submit the information required in § 63.182(c) in the Notification of Compliance Status within 150 days after the first applicable compliance date for equipment leaks in the affected source, and an update shall be provided in the first Periodic Report that is due at least 150 days after each subsequent applicable compliance date for equipment leaks in the affected source. For all other emission points, including heat exchange systems, the Notification of Compliance Status shall contain the information listed in paragraphs (e)(5)(i) through (e)(5)(xi) of this section, as applicable, and shall be submitted no later than 150 days after the compliance dates specified in this subpart.

(i) The results of any emission point group determinations, process section applicability determinations, performance tests, inspections, continuous monitoring system performance evaluations, any other information used to demonstrate compliance, values of monitored parameters established during performance tests, and any other information required to be included in the Notification of Compliance Status under §§ 63.1311(m), 63.122, and 63.1314 for storage vessels, § 63.117 for continuous process vents, § 63.146 for process wastewater, §§ 63.1316 through 63.1320 for continuous process vents subject to § 63.1316, § 63.1327 for batch process vents, § 63.1329 for process contact cooling towers, and § 63.1332 for emission points included in an emissions average. In addition, the owner or operator of an affected source shall comply with paragraph (e)(5)(i)(A) and (e)(5)(i)(B) of this section.

(A) For performance tests, group determinations, and process section applicability determinations that are based on measurements, the Notification of Compliance Status shall include one complete test report, as described in paragraph (e)(5)(i)(B) of this section, for each test method used for a particular kind of emission point. For additional tests performed for the same kind of emission point using the same method, the results and any other information, from the test report, that is requested on a case-by-case basis by the Administrator shall be submitted, but a complete test report is not required.

* * * * *

(ii) For each monitored parameter for which a maximum or minimum level is required to be established under § 63.114(e) for continuous process vents, § 63.1324 for batch process vents and aggregate batch vent streams, § 63.143(f) for process wastewater, § 63.1332(m) for emission points in emissions averages, paragraph (e)(8) of this section, or paragraph (f) of this section, the Notification of Compliance Status shall contain the information specified in paragraphs (e)(5)(ii)(A) through (e)(5)(ii)(D) of this section, unless this information has been established and provided in the operating permit application. Further, as described in § 63.1314(a)(9), for those storage vessels for which the monitoring plan required by § 63.1314(a)(9) specifies compliance with the provisions of § 63.1334, the owner or operator shall provide the information specified in paragraphs (e)(5)(ii)(A) through (e)(5)(ii)(D) of this section for each monitored parameter, unless this information has been established and provided in the operating permit application. For those storage vessels for which the monitoring plan required by § 63.1314(a)(9) does not require compliance with the provisions of § 63.1334, the owner or operator shall provide the information specified in § 63.120(d)(3) as part of the Notification of Compliance Status, unless this information has been established and provided in the operating permit application.

* * * * *

(iv) The determination of applicability for flexible operation units as specified in § 63.1310(f).

* * * * *

(vi) The results for each predominant use determination made under § 63.1310(g), for storage vessels assigned to an affected source subject to this subpart.

(vii) The results for each predominant use determination made under § 63.1310(h), for recovery operations equipment assigned to an affected source subject to this subpart.

(viii) For owners or operators of Group 2 batch process vents establishing a batch mass input limitation as specified in § 63.1325(g), the affected source's operating year for purposes of determining compliance with the batch mass input limitation.

(ix) If any emission point is subject to this subpart and to other standards as specified in § 63.1311, and if the provisions of § 63.1311 allow the owner or operator to choose which testing, monitoring, reporting, and recordkeeping provisions will be followed, then the Notification of Compliance Status shall indicate which rule's requirements will be followed for testing, monitoring, reporting, and recordkeeping.

(x) An owner or operator who transfers a Group 1 wastewater stream or residual removed from a Group 1 wastewater stream for treatment pursuant to § 63.132(g) shall include in the Notification of Compliance Status the name and location of the transferee and a description of the Group 1 wastewater stream or residual sent to the treatment facility.

(xi) An owner or operator complying with paragraph (h)(1) of this section shall notify the Administrator of the election to comply with paragraph (h)(1) of this section as part of the Notification of Compliance Status or as part of the appropriate Periodic Report as specified in paragraph (e)(6)(ix) of this section.

(6) Periodic Reports. For existing and new affected sources, the owner or operator shall submit Periodic Reports as specified in paragraphs (e)(6)(i) through (e)(6)(xi) of this section. In addition, for equipment leaks subject to § 63.1331, the owner or operator shall submit the information specified in § 63.182(d) under the conditions listed in § 63.182(d), and for heat exchange systems subject to § 63.1328, the owner or operator shall submit the information specified in § 63.104(f)(2) as part of the Periodic Report required by this paragraph (e)(6). Section 63.1334 shall govern the use of monitoring data to determine compliance for Group 1 emissions points and for Group 1 and Group 2 emission points included in emissions averages with the following exception: As discussed in § 63.1314(a)(9), for storage vessels to which the provisions of § 63.1334 do not apply, as specified in the monitoring plan required by § 63.120(d)(2), the owner or operator is required to comply with the requirements set out in the monitoring plan, and monitoring records may be used to determine compliance.

(i) Except as specified in paragraphs (e)(6)(xi) and (e)(6)(xii) of this section, a report containing the information in paragraph (e)(6)(ii) of this section or containing the information in paragraphs (e)(6)(iii) through (e)(6)(x) of this section, as appropriate, shall be submitted semiannually no later than 60 days after the end of each 6-month period. The first report shall be submitted no later than 240 days after the date the Notification of Compliance Status is due and shall cover the 6-month period beginning on the date the Notification of Compliance Status is due.

(ii) If none of the compliance exceptions specified in paragraphs (e)(6)(iii) through (e)(6)(ix) of this section occurred during the 6-month period, the Periodic Report required by paragraph (e)(6)(i) of this section shall be a statement that there were no compliance exceptions as described in this paragraph for the 6-month period covered by that report and no activities specified in paragraphs (e)(6)(iii) through (e)(6)(ix) of this section occurred during the 6-month period covered by that report.

(iii) * * *

(B) The daily average values or batch cycle daily average values of monitored parameters for both excused excursions, as defined in § 63.1334(g), and unexcused excursions, as defined in § 63.1334(f). For excursions caused by lack of monitoring data, the start-time and duration of periods when monitoring data were not collected shall be specified.

(C) [Reserved]

(D) The information in paragraphs (e)(6)(iii)(D)(1) through (e)(6)(iii)(D)(4) of this section, as applicable:

* * * * *

(2) Notification if a process change is made such that the group status of any emission point changes from Group 2 to Group 1. The owner or operator is not required to submit a notification of a process change if that process change caused the group status of an emission point to change from Group 1 to Group 2. However, until the owner or operator notifies the Administrator that the group status of an emission point has changed from Group 1 to Group 2, the owner or operator is required to continue to comply with the Group 1 requirements for that emission point. This notification may be submitted at any time.

(3) Notification if one or more emission point(s) (other than equipment leaks) or one or more TPPU is added to an affected source. The owner or operator shall submit the information contained in paragraphs (e)(6)(iii)(D)(3)(i) through (e)(6)(iii)(D)(3)(ii) of this section:

(i) A description of the addition to the affected source; and

(ii) Notification of the group status of the additional emission point or all emission points in the TPPU.

(4) For process wastewater streams sent for treatment pursuant to § 63.132(g), reports of changes in the identity of the treatment facility or transferee.

* * * * *

(iv) For each batch process vent with a batch mass input limitation, every second Periodic Report shall include the mass of HAP or material input to the batch unit operation during the 12-month period covered by the preceding and current Periodic Reports, and a statement of whether the batch process vent was in or out of compliance with the batch mass input limitation.

(v) * * *

(B) For additional tests performed for the same kind of emission point using the same method, results and any other information, pertaining to the performance test, that is requested on a case-by-case basis by the Administrator shall be submitted, but a complete test report is not required.

(vi) Notification of a change in the primary product of a TPPU, in accordance with the provisions in § 63.1310(f). This includes a change in primary product from one thermoplastic product to either another thermoplastic product or to a non-thermoplastic product.

(vii) The results for each change made to a predominant use determination made under § 63.1310(g) for a storage vessel that is assigned to an affected source subject to this subpart after the change. (viii) The Periodic Report shall include the results for each change made to a predominant use determination made under § 63.1310(h) for recovery operations equipment assigned to an affected source subject to this subpart after the change.

(ix) An owner or operator complying with paragraph (h)(1) of this section shall notify the Administrator of the election to comply with paragraph (h)(1) of this section as part of the Periodic Report or as part of the Notification of Compliance Status as specified in paragraph (e)(5)(xi) of this section.

(x) An owner or operator electing not to retain daily average or batch cycle daily average values under paragraph (h)(2) of this section shall notify the Administrator as specified in paragraph (h)(2)(i) of this section.

(xi) The owner or operator of an affected source shall submit quarterly reports for all emission points included in an emissions average as specified in paragraphs (e)(6)(xi)(A) through (e)(6)(xi)(C) of this section.

(A) The quarterly reports shall be submitted no later than 60 days after the end of each quarter. The first report shall be submitted with the Notification of Compliance Status no later than 150 days after the compliance date.

(B) The quarterly reports shall include the information specified in paragraphs (e)(6)(xi)(B)(1) through (e)(6)(xi)(B)(7) of this section for all emission points included in an emissions average.

(1) The credits and debits calculated each month during the quarter;

(2) A demonstration that debits calculated for the quarter are not more than 1.30 times the credits calculated for the quarter, as required under § 63.1332(e)(4);

(3) The values of any inputs to the debit and credit equations in § 63.1332(g) and (h) that change from month to month during the quarter or that have changed since the previous quarter;

(4) Results of any performance tests conducted during the reporting period including one complete report for each test method used for a particular kind of emission point as described in paragraph (e)(6)(v) of this section;

(5) Reports of daily average (or batch cycle daily average) values of monitored parameters for excursions as defined in § 63.1334(f);

(6) For excursions caused by lack of monitoring data, the duration of periods when monitoring data were not collected shall be specified; and

(7) Any other information the affected source is required to report under the operating permit or Emissions Averaging Plan for the affected source.

(C) Every fourth quarterly report shall include the following:

(1) A demonstration that annual credits are greater than or equal to annual debits as required by § 63.1332(e)(3); and

(2) A certification of compliance with all the emissions averaging provisions in § 63.1332.

(xii) The owner or operator of an affected source shall submit quarterly reports for particular emission points and process sections not included in an emissions average as specified in paragraphs (e)(6)(xii)(A) through (e)(6)(xii)(D) of this section.

(A) The owner or operator of an affected source shall submit quarterly reports for a period of 1 year for an emission point or process section that is not included in an emissions average if:

(1) A control or recovery device for a particular emission point or process section has more excursions, as defined in § 63.1334(f), than the number of excused excursions allowed under § 63.1334(g) for a semiannual reporting period; or

(2) The Administrator requests that the owner or operator submit quarterly reports for the emission point or process section.

(B) The quarterly reports shall include all information specified in paragraphs (e)(6)(iii) through (e)(6)(ix) of this section applicable to the emission point or process section for which quarterly reporting is required under paragraph (e)(6)(xii)(A) of this section. Information applicable to other emission points within the affected source shall be submitted in the semiannual reports required under paragraph (e)(6)(i) of this section.

(C) Quarterly reports shall be submitted no later than 60 days after the end of each quarter.

(D) After quarterly reports have been submitted for an emission point for 1 year without more excursions occurring (during that year) than the number of excused excursions allowed under § 63.1334(g), the owner or operator may return to semiannual reporting for the emission point or process section.

(7) Other reports. Other reports shall be submitted as specified in paragraphs (e)(7)(i) through (e)(7)(iv) of this section.

* * * * *

(ii) For owners or operators of affected sources required to request approval for a nominal control efficiency for use in calculating credits for an emissions average, the information specified in § 63.1332(i) shall be submitted as specified in paragraph (e)(7)(ii)(A) or (B) of this section, as appropriate.

(A) If use of a nominal control efficiency is part of the initial Emissions Averaging Plan described in paragraph (e)(4)(ii) of this section, the information in paragraph (e)(7)(ii) of this section shall be submitted with the Emissions Averaging Plan.

(B) If an owner or operator elects to use a nominal control efficiency after submittal of the initial Emissions Averaging Plan as described in paragraph (e)(4)(ii) of this section, the information in paragraph (e)(7)(ii) of this section shall be submitted at the discretion of the owner or operator.

(iii) When the conditions of §§ 63.1310(f)(3)(iii), 63.1310(f)(9), or 63.1310(f)(10)(iii) are met, reports of changes to the primary product for a TPPU or process unit as required by §§ 63.1310(f)(3)(iii), 63.1310(f)(9), or 63.1310(f)(10)(iii)(C), respectively, shall be submitted.

(iv) Owners or operators of TPPU or emission points (other than equipment leak components subject to § 63.1331) that are subject to § 63.1310(i)(1) or (i)(2) shall submit a report as specified in paragraphs (e)(7)(iv)(A) and (B) of this section.

(A) Reports shall include:

(1) A description of the process change or addition, as appropriate;

(2) The planned start-up date and the appropriate compliance date, according to § 63.1310(i)(1) or (2); and

(3) Identification of the group status of emission points (except equipment leak components subject to § 63.1331) specified in paragraphs (e)(7)(iv)(A)(3)(i) through (e)(7)(iv)(A)(3)(iii) of this section, as applicable.

(i) All the emission points in the added TPPU as described in § 63.1310(i)(1).

(ii) All the emission points in an affected source designated as a new affected source under § 63.1310(i)(2)(i).

(iii) All the added or created emission points as described in § 63.1310(i)(2)(ii) or (i)(2)(iii).

(4) If the owner or operator wishes to request approval to use alternative monitoring parameters, alternative continuous monitoring or recordkeeping, alternative controls, engineering assessment to estimate emissions from a batch emissions episode, or wishes to establish parameter monitoring levels according to the procedures contained in § 63.1334(c) or (d), a Precompliance Report shall be submitted in accordance with paragraph (e)(7)(iv)(B) of this section.

(B) Reports shall be submitted as specified in paragraphs (e)(7)(iv)(B)(1) through (e)(7)(iv)(B)(3) of this section, as appropriate.

(1) Owners or operators of an added TPPU subject to § 63.1310(i)(1) shall submit a report no later than 180 days prior to the compliance date for the TPPU.

(2) Owners or operators of an affected source designated as a new affected source under § 63.1310(i)(2)(i) shall submit a report no later than 180 days prior to the compliance date for the affected source.

(3) Owners or operators of any emission point (other than equipment leak components subject to § 63.1331) subject to § 63.1310(i)(2)(ii) or (i)(2)(iii) shall submit a report no later than 180 days prior to the compliance date for those emission points.

(8) Operating permit application. An owner or operator who submits an operating permit application instead of an Emissions Averaging Plan or a Precompliance Report shall include the following information with the operating permit application:

(i) The information specified in paragraph (e)(4) of this section for points included in an emissions average; and

(ii) The information specified in paragraph (e)(3) of this section, Precompliance Report, as applicable.

(f) Alternative monitoring parameters. The owner or operator who has been directed by any section of this subpart or any section of another subpart referenced by this subpart, that expressly referenced this paragraph (f) to set unique monitoring parameters, or who requests approval to monitor a different parameter than those specified in § 63.1314 for storage vessels, § 63.1315 or § 63.1317, as appropriate, for continuous process vents, § 63.1321 for batch process vents and aggregate batch vent streams, or § 63.1330 for process wastewater shall submit the information specified in paragraphs (f)(1) through (f)(3) of this section in the Precompliance Report, as required by paragraph (e)(3) of this section. The owner or operator shall retain for a period of 5 years each record required by paragraphs (f)(1) through (f)(3) of this section.

* * * * *

(3) The required information shall include a description of the proposed monitoring, recordkeeping, and reporting system, to include the frequency and content of monitoring, recordkeeping, and reporting. Further, the rationale for the proposed monitoring, recordkeeping, and reporting system shall be included if either condition in paragraph (f)(3)(i) or (f)(3)(ii) of this section is met:

* * * * *

(g) Alternative continuous monitoring and recordkeeping. An owner or operator choosing not to implement the provisions listed in § 63.1315 or § 63.1317, as appropriate, for continuous process vents, § 63.1321 for batch process vents and aggregate batch vent streams, or § 63.1330 for process wastewater, may instead request approval to use alternative continuous monitoring and recordkeeping provisions according to the procedures specified in paragraphs (g)(1) through (g)(4) of this section. Requests shall be submitted in the Precompliance Report as specified in paragraph (e)(3)(iv) of this section, if not already included in the operating permit application, and shall contain the information specified in paragraphs (g)(2)(ii) and (g)(3)(ii) of this section, as applicable.

* * * * *

(3) An owner or operator may request approval to use an automated data compression recording system that does not record monitored operating parameter values at a set frequency, but records all values that meet set criteria for variation from previously recorded values, in accordance with paragraphs (g)(3)(i) and (g)(3)(ii) of this section.

(i) * * *

(A) Measure the operating parameter value at least once during every 15 minute period;

* * * * *

(4) An owner or operator may request approval to use other alternative monitoring systems according to the procedures specified in § 63.8(f)(4).

(h) Reduced recordkeeping program. For any parameter with respect to any item of equipment, the owner or operator may implement the recordkeeping requirements specified in paragraph (h)(1) or (h)(2) of this section as alternatives to the continuous operating parameter monitoring and recordkeeping provisions that would otherwise apply under this subpart. The owner or operator shall retain for a period of 5 years each record required by paragraph (h)(1) or (h)(2) of this section, except as otherwise provided in paragraph (h)(1)(vi)(D) of this section.

(1) The owner or operator may retain only the daily average (or batch cycle daily average) value, and is not required to retain more frequent monitored operating parameter values, for a monitored parameter with respect to an item of equipment, if the requirements of paragraphs (h)(1)(i) through (h)(1)(vi) of this section are met. An owner or operator electing to comply with the requirements of paragraph (h)(1) of this section shall notify the Administrator in the Notification of Compliance Status as specified in paragraph (e)(5)(xi) of this section or, if the Notification of Compliance Status has already been submitted, in the Periodic Report immediately preceding implementation of the requirements of paragraph (h)(1) of this section as specified in paragraph (e)(6)(ix) of this section.

* * * * *

(ii) * * *

(B) The running average is based on at least six 1-hour average values; and

* * * * *

(iv) The monitoring system will alert the owner or operator by an alarm or other means, if the running average parameter value calculated under paragraph (h)(1)(ii) of this section reaches a set point that is appropriately related to the established limit for the parameter that is being monitored.

* * * * *

(vi) The owner or operator shall retain the records identified in paragraphs (h)(1)(vi)(A) through (h)(1)(vi)(D) of this section.

* * * * *

(B) A description of the applicable monitoring system(s), and of how compliance will be achieved with each requirement of paragraphs (h)(1)(i) through (h)(1)(v) of this section. The description shall identify the location and format (e.g., on-line storage, log entries) for each required record. If the description changes, the owner or operator shall retain both the current and the most recent superseded description, as provided in paragraph (a) of this section, except as provided in paragraph (h)(1)(vi)(D) of this section.

(C) A description, and the date, of any change to the monitoring system that would reasonably be expected to impair its ability to comply with the requirements of paragraph (h)(1) of this section.

(D) Owners and operators subject to paragraph (h)(1)(vi)(B) of this section shall retain the current description of the monitoring system as long as the description is current. The current description shall, at all times, be retained on-site or be accessible from a central location by computer or other means that provides access within 2 hours after a request. The owner or operator shall retain all superseded descriptions for at least 5 years after the date of their creation. Superseded descriptions shall be retained on-site (or accessible from a central location by computer or other means that provides access within 2 hours after a request) for at least 6 months after their creation. Thereafter, superseded descriptions may be stored off-site.

(2) * * *

(i) If the owner or operator elects not to retain the daily average (or batch cycle daily average) values, the owner or operator shall notify the Administrator in the next Periodic Report as specified in paragraph (e)(6)(x) of this section. The notification shall identify the parameter and unit of equipment.

* * * * *

(iii) The owner or operator shall retain the records specified in paragraphs (h)(1)(i) through (h)(1)(iii) of this section, for the duration specified in paragraph (h) of this section. For any calendar week, if compliance with paragraphs (h)(1)(i) through (h)(1)(iv) of this section does not result in retention of a record of at least one occurrence or measured parameter value, the owner or operator shall record and retain at least one parameter value during a period of operation other than a start-up, shutdown, or malfunction.

* * * * *

54. Revising Tables 1, 2, 6, 7, and 8, and adding Table 9 to Subpart JJJ of Part 63, to read as follows:

Table 1 to Subpart JJJ of Part 63.—Applicability of General Provisions to Subpart JJJ Affected Sources
Reference | Applies to subpart JJJ | Explanation
63.1(a)(1) | Yes | § 63.1312 specifies definitions in addition to or that supersede definitions in § 63.2.
63.1(a)(2) | Yes
63.1(a)(3) | Yes | § 63.1311(g) through (l) and § 63.160(b) identify those standards which may apply in addition to the requirements of subparts JJJ and H of this part, and specify how compliance shall be achieved.
63.1(a)(4) | Yes | Subpart JJJ (this table) specifies the applicability of each paragraph in subpart A to subpart JJJ.
63.1(a)(5) | No | [Reserved.]
63.1(a)(6)-63.1(a)(8) | Yes
63.1(a)(9) | No | [Reserved.]
63.1(a)(10) | Yes
63.1(a)(11) | Yes
63.1(a)(12)-63.1(a)(14) | Yes
63.1(b)(1) | No | § 63.1310(a) contains specific applicability criteria.
63.1(b)(2) | Yes
63.1(b)(3) | No | § 63.1310(b) provides documentation requirements for TPPUs not considered affected sources.
63.1(c)(1) | Yes | Subpart JJJ (this table) specifies the applicability of each paragraph in subpart A to subpart JJJ.
63.1(c)(2) | No | Area sources are not subject to subpart JJJ.
63.1(c)(3) | No | [Reserved.]
63.1(c)(4) | Yes
63.1(c)(5) | Yes | Except that affected sources are not required to submit notifications that are not required by subpart JJJ.
63.1(d) | No | [Reserved.]
63.1(e) | Yes
63.2 | Yes | § 63.1312 specifies those subpart A definitions that apply to subpart JJJ.
63.3 | Yes
63.4(a)(1)-63.4(a)(3) | Yes
63.4(a)(4) | No | [Reserved.]
63.4(a)(5) | Yes
63.4(b) | Yes
63.4(c) | Yes
63.5(a)(1) | Yes | Except the terms “source” and “stationary source” should be interpreted as having the same meaning as “affected source.”
63.5(a)(2) | Yes
63.5(b)(1) | Yes | Except § 63.1310(i) defines when construction or reconstruction is subject to new source standards.
63.5(b)(2) | No | [Reserved.]
63.5(b)(3) | Yes
63.5(b)(4) | Yes | Except that the Initial Notification and § 63.9(b) requirements do not apply.
63.5(b)(5) | Yes
63.5(b)(6) | Yes | Except that § 63.1310(i) defines when construction or reconstruction is subject to new source standards.
63.5(c) | No | [Reserved.]
63.5(d)(1)(i) | Yes | Except that the references to the Initial Notification and § 63.9(b)(5) do not apply.
63.5(d)(1)(ii) | Yes | Except that § 63.5(d)(1)(ii)(H) does not apply.
63.5(d)(1)(iii) | No | §§ 63.1335(e)(5) and 63.1331(a)(4) specify Notification of Compliance Status requirements.
63.5(d)(2) | No
63.5(d)(3) | Yes | Except § 63.5(d)(3)(ii) does not apply, and equipment leaks subject to § 63.1331 are exempt.
63.5(d)(4) | Yes
63.5(e) | Yes
63.5(f)(1) | Yes
63.5(f)(2) | Yes | Except that where § 63.9(b)(2) is referred to, the owner or operator need not comply.
63.6(a) | Yes
63.6(b)(1) | No | The dates specified in § 63.1311(b) apply, instead.
63.6(b)(2) | No
63.6(b)(3) | No
63.6(b)(4) | No
63.6(b)(5) | No
63.6(b)(6) | No | [Reserved.]
63.6(b)(7) | No
63.6(c)(1) | Yes | Except that § 63.1311 specifies the compliance date.
63.6(c)(2) | No
63.6(c)(3) | No | [Reserved.]
63.6(c)(4) | No | [Reserved.]
63.6(c)(5) | Yes
63.6(d) | No | [Reserved.]
63.6(e) | Yes | Except as otherwise specified for individual paragraphs. Does not apply to Group 2 emission points, unless they are included in an emissions average.ᵃ
63.6(e)(1)(i) | No | This is addressed by § 63.1310(j)(4).
63.6(e)(1)(ii) | Yes
63.6(e)(1)(iii) | Yes
63.6(e)(2) | Yes
63.6(e)(3)(i) | Yes | For equipment leaks (subject to § 63.1331), the start-up, shutdown, and malfunction plan requirement of § 63.6(e)(3)(i) is limited to control devices and is optional for other equipment. The start-up, shutdown, malfunction plan may include written procedures that identify conditions that justify a delay of repair.
63.6(e)(3)(i)(A) | No | This is addressed by § 63.1310(j)(4).
63.6(e)(3)(i)(B) | Yes |
63.6(e)(3)(i)(C) | Yes
63.6(e)(3)(ii) | Yes |
63.3(e)(3)(iii) | No | Recordkeeping and reporting are specified in § 63.1335(b)(1).
63.6(e)(3)(iv) | No | Recordkeeping and reporting are specified in § 63.1335(b)(1).
63.6(e)(3)(v) | Yes
63.6(e)(3)(vi) | Yes
63.6(e)(3)(vii) | Yes
63.6(e)(3)(vii) (A) | Yes
63.6(e)(3)(vii) (B) | Yes | Except the plan shall provide for operation in compliance with § 63.1310(j)(4).
63.6(e)(3)(vii) (C) | Yes
63.6(e)(3)(viii) | Yes
63.6(f)(1) | Yes
63.6(f)(2) | Yes | Except § 63.7(c), as referred to in § 63.6(f)(2)(iii)(D), does not apply, and except that § 63.6(f)(2)(ii) does not apply to equipment leaks subject to § 63.1331.
63.6(f)(3) | Yes
63.6(g) | Yes
63.6(h) | No | Subpart JJJ does not require opacity and visible emission standards.
63.6(i)(1) | Yes
63.6(i)(2) | Yes
63.6(i)(3) | Yes
63.6(i)(4)(i)(A) | Yes
63.6(i)(4)(i)(B) | No | Dates are specified in § 63.1311(e) and § 63.1335(e)(3)(i).
63.6(i)(4)(ii) | No
63.6(i)(5)-(14) | Yes
63.6(i)(15) | No | [Reserved.]
63.6(i)(16) | Yes
63.6(j) | Yes
63.7(a)(1) | Yes
63.7(a)(2) | No | § 63.1335(e)(5) specifies the submittal dates of performance test results for all emission points except equipment leaks; for equipment leaks, compliance demonstration results are reported in the Periodic Reports.
63.7(a)(3) | Yes
63.7(b) | No | § 63.1333(a)(4) specifies notification requirements.
63.7(c) | No
63.7(d) | Yes
63.7(e)(1) | Yes | Except that all performance tests shall be conducted at maximum representative operating conditions achievable at the time without disruption of operations or damage to equipment.
63.7(e)(2) | Yes
63.7(e)(3) | No | Subpart JJJ specifies requirements.
63.7(e)(4) | Yes
63.7(f) | Yes | Except that § 63.144(b)(5)(iii)(A) and (B) shall apply for process wastewater. Also, because a site specific test plan is not required, the notification deadline in § 63.7(f)(2)(i) shall be 60 days prior to the performance test, and in § 63.7(f)(3), approval or disapproval of the alternative test method shall not be tied to the site specific test plan.
63.7(g) | Yes | Except that the requirements in § 63.1335(e)(5) shall apply instead of references to the Notification of Compliance Status report in § 63.9(h). In addition, equipment leaks subject to § 63.1331 are not required to conduct performance tests.
63.7(h) | Yes | Except § 63.7(h)(4)(ii) is not applicable, because the site-specific test plans in § 63.7(c)(2) are not required.
63.8(a)(1) | Yes
63.8(a)(2) | No
63.8(a)(3) | No | [Reserved.]
63.8(a)(4) | Yes
63.8(b)(1) | Yes
63.8(b)(2) | No | Subpart JJJ specifies locations to conduct monitoring.
63.8(b)(3) | Yes
63.8(c)(1) | Yes
63.8(c)(1)(i) | Yes
63.8(c)(1)(ii) | No | For all emission points except equipment leaks, comply with § 63.1335(b)(1)(i)(B); for equipment leaks, comply with § 63.181(g)(2)(iii).
63.8(c)(1)(iii) | Yes
63.8(c)(2) | Yes
63.8(c)(3) | Yes
63.8(c)(4) | No | § 63.1334 specifies monitoring frequency; not applicable to equipment leaks because § 63.1331 does not require continuous monitoring systems.
63.8(c)(5)-63.8(c)(8) | No
63.8(d) | No
63.8(e) | No
63.8(f)(1)-63.8(f)(3) | Yes
63.8(f)(4)(i) | No | Timeframe for submitting request is specified in § 63.1335(f) or (g); not applicable to equipment leaks because § 63.1331 (through reference to subpart H) specifies acceptable alternative methods.
63.8(f)(4)(ii) | No | Contents of request are specified in § 63.1335(f) or (g).
63.8(f)(4)(iii) | No
63.8(f)(5)(i) | Yes
63.8(f)(5)(ii) | No
63.8(f)(5)(iii) | Yes
63.8(f)(6) | No | Subpart JJJ does not require continuous emission monitors.
63.8(g) | No | Data reduction procedures specified in § 63.1335(d) and (h); not applicable to equipment leaks.
63.9(a) | Yes
63.9(b) | No | Subpart JJJ does not require an initial notification.
63.9(c) | Yes
63.9(d) | Yes
63.9(e) | No | § 63.1333(a)(4) specifies notification deadline.
63.9(f) | No | Subpart JJJ does not require opacity and visible emission standards.
63.9(g) | No
63.9(h) | No | § 63.1335(e)(5) specifies Notification of Compliance Status requirements.
63.9(i) | Yes
63.9(j) | No
63.10(a) | Yes
63.10(b)(1) | No | § 63.1335(a) specifies record retention requirements.
63.10(b)(2) | No | Subpart JJJ specifies recordkeeping requirements.
63.10(b)(3) | No | § 63.1310(b) requires documentation of sources that are not affected sources.
63.10(c) | No | § 63.1335 specifies recordkeeping requirements.
63.10(d)(1) | Yes
63.10(d)(2) | No | § 63.1335(e) specifies performance test reporting requirements; not applicable to equipment leaks.
63.10(d)(3) | No | Subpart JJJ does not require opacity and visible emission standards.
63.10(d)(4) | Yes
63.10(d)(5)(i) | Yes | Except that reports required by § 63.10(d)(5)(i) may be submitted at the same time as Periodic Reports specified in § 63.1335(e)(6). The start-up, shutdown, and malfunction plan, and any records or reports of start-up, shutdown, and malfunction do not apply to Group 2 emission points unless they are included in an emissions average.
63.10(d)(5)(ii) | No
63.10(e) | No | § 63.1335 specifies reporting requirements.
63.10(f) | Yes
63.11 | Yes | Except that instead of § 63.11(b), § 63.1333(e) shall apply.
63.12 | Yes | Except that the authority of § 63.1332(i) and the authority of § 63.177 (for equipment leaks) shall not be delegated to States.
63.13-63.15 | Yes
ᵃ The plan and any records or reports of start-up, shutdown, and malfunction do not apply to Group 2 emission points unless they are included in an emissions average.

Table 2 to Subpart JJJ of Part 63.—Group 1 Storage Vessels at Existing Affected Sources
Vessel capacity (cubic meters) | Vapor pressure ᵃ (kilopascals)
75≤capacity 151 | ≥13.1
151≤capacity | ≥5.2
ᵃ Maximum true vapor pressure of total organic HAP at storage temperature.

Table 6 to Subpart JJJ of Part 63.—Known Organic HAP Emitted From the Production of Thermoplastic Products
Thermoplastic product/subcategory | Organic HAP/chemical name (CAS No.): Acetaldehyde (75-07-0) | Organic HAP/chemical name (CAS No.): Acrylonitrile (107-13-1) | Organic HAP/chemical name (CAS No.): 1,3 Butadiene (106-99-0) | Organic HAP/chemical name (CAS No.): 1,4-Dioxane (123-91-1) | Organic HAP/chemical name (CAS No.): Ethylene Glycol (107-21-1) | Organic HAP/chemical name (CAS No.): Methanol (67-56-1) | Organic HAP/chemical name (CAS No.): Styrene (100-42-5)
ABS latex |  | ✔ | ✔ |  |  |  | ✔
BS using a batch emulsion process |  | ✔ | ✔ |  |  |  | ✔
ABS using a batch suspension process |  | ✔ | ✔ |  |  |  | ✔
ABS using a continuous emulsion process |  | ✔ | ✔ |  |  |  | ✔
ABS using a continuous mass process |  | ✔ | ✔ |  |  |  | ✔
ASA/AMSAN |  | ✔ |  |  |  |  | ✔
EPS |  |  |  |  |  |  | ✔
MABS |  |  |  |  |  |  | ✔
BS |  |  | ✔ |  |  |  | ✔
Nitrile resin |  | ✔ |  |  |  |
PET using a batch dimethyl terephthalate process | ✔ |  |  | ✔ | ✔ | ✔ |
PET using a batch terephthalic acid process | ✔ |  |  | ✔ | ✔ |  |
PET using a continuous dimethyl terephthalate process | ✔ |  |  | ✔ | ✔ | ✔ |
PET using a continuous terephthalic acid process | ✔ |  |  | ✔ | ✔ |  |
PET using a continuous terephthalic acid high viscosity multiple end finisher process | ✔ |  |  | ✔ | ✔ |  |
Polystyrene resin using a batch process |  |  |  |  |  |  | ✔
Polystyrene resin using a continuous process |  |  |  |  |  |  | ✔
SAN using a batch process |  | ✔ |  |  |  |  | ✔
SAN using a continuous process |  | ✔ |  |  |  |  | ✔
CAS No. = Chemical Abstract Service Number.
ABS = Acrylonitrile butadiene styrene resin.
ASA/AMSAN = Acrylonitrile styrene resin/alpha methyl styrene acrylonitrile resin.
EPS = expandable polystyrene resin.
MABS = methyl methacrylate acrylonitrile butadiene styrene resin.
PET = poly(ethylene terephthalate) resin.
SAN = styrene acrylonitrile resin.
MBS = methyl methacrylate butadiene styrene resin.

Table 7 of Subpart JJJ of Part 63.—Group 1 Batch Process Vents and Aggregate Batch Vent Streams—Monitoring, Recordkeeping, and Reporting Requirements
Control device | Parameters to be monitored | Recordkeeping and reporting requirements for monitored parameters
Thermal incinerator | Firebox temperature ᵃ | 1. Continuous records as specified in § 63.1326(e)(1).ᵇ
|  | 2. Record and report the average firebox temperature measured during the performance test—NCS.ᶜ
|  | 3. Record the batch cycle daily average firebox temperature as specified in § 63.1326(e)(2).
|  | 4. Report all batch cycle daily average temperatures that are below the minimum operating value established in the NCS or operating permit and all instances when monitoring data are not collected—PR.d, e
Catalytic incinerator | Temperature upstream and downstream of the catalyst bed | 1. Continuous records as specified in § 63.1326(e)(1).ᵇ
|  | 2. Record and report the average upstream and downstream temperatures and the average temperature difference across the catalyst bed measured during the performance test—NCS.ᶜ
|  | 3. Record the batch cycle daily average upstream temperature and temperature difference across catalyst bed as specified in § 63.1326(e)(2).
|  | 4. Report all batch cycle daily average upstream temperatures that are below the minimum upstream value established in the NCS or operating permit—PR.d, e
|  | 5. Report all batch cycle daily average temperature differences across the catalyst bed that are below the minimum difference established in the NCS or operating permit—PR.ᵈ,ᵉ
|  | 6. Report all instances when monitoring data are not collected.ᵉ
Boiler or Process Heater with a design heat input capacity less than 44 megawatts and where the batch process vents or aggregate batch vent streams are not introduced with or used as the primary fuel | Firebox temperature ᵃ | 1. Continuous records as specified in § 63.1326(e)(1).ᵇ
|  | 2. Record and report the average firebox temperature measured during the performance test—NCSᶜ
|  | 3. Record the batch cycle daily average firebox temperature as specified in § 63.1326(e)(2).ᵈ
|  | 4. Report all batch cycle daily average temperatures that are below the minimum operating value established in the NCS or operating permit and all instances when monitoring data are not collected—PR.d e
Flare | Presence of a flame at the pilot light | 1. Hourly records of whether the monitor was continuously operating during batch emission episodes, or portions thereof, selected for control and whether a flame was continuously present at the pilot light during said periods.
|  | 2. Record and report the presence of a flame at the pilot light over the full period of the compliance determination—NCS.ᶜ
|  | 3. Record the times and durations of all periods during batch emission episodes, or portions thereof, selected for control when all flames at the pilot light of a flare are absent or the monitor is not operating.
|  | 4. Report the times and durations of all periods during batch emission episodes, or portions thereof, selected for control when all flames at the pilot light of a flare are absent—PR.ᵈ
Scrubber for halogenated batch process vents or aggregate batch vent streams (Note: Controlled by a combustion device other than a flare) | pH of scrubber effluent, and | 1. Continuous records as specified in § 63.1326(e)(1). ᵇ
|  | 2. Record and report the average pH of the scrubber effluent measured during the performance test—NCS.ᶜ
|  | 3. Record the batch cycle daily average pH of the scrubber effluent as specified in § 63.1326(e)(2).
|  | 4. Report all batch cycle daily average pH values of the scrubber effluent that are below the minimum operating value established in the NCS or operating permit and all instances when monitoring data are not collected—PR.d e
Scrubber for halogenated batch process vents or aggregate batch vent streams (Note: Controlled by a combustion device other than a flare) | Scrubber liquid and gas flow rates [§ 63.1324(b)(4)(ii)] | 1. Records as specified in § 63.1326(e)(1). ᵇ
|  | 2. Record and report the scrubber liquid/gas ratio averaged over the full period of the performance test—NCS.ᶜ
|  | 3. Record the batch cycle daily average scrubber liquid/gas ratio as specified in § 63.1326(e)(2).
|  | 4. Report all batch cycle daily average scrubber liquid/gas ratios that are below the minimum value established in the NCS or operating permit and all instances when monitoring data are not collected—PR.d, e
Absorber ᶠ | Exit temperature of the absorbing liquid, and | 1. Continuous records as specified in § 63.1326(e)(1).ᵇ
|  | 2. Record and report the average exit temperature of the absorbing liquid measured during the performance test—NCS.ᶜ
|  | 3. Record the batch cycle daily average exit temperature of the absorbing liquid as specified in § 63.1326(e)(2) for each batch cycle.
|  | 4. Report all the batch cycle daily average exit temperatures of the absorbing liquid that are below the minimum operating value established in the NCS or operating permit and all instances when monitoring data are not collected—PR.d, e
Absorber ᶠ | Exit specific gravity for the absorbing liquid | 1. Continuous records as specified in § 63.1326(e)(1).ᵇ
|  | 2. Record and report the average exit specific gravity measured during the performance test—NCS.ᶜ
|  | 3. Record the batch cycle daily average exit specific gravity as specified in § 63.1326(e)(2).
|  | 4. Report all batch cycle daily average exit specific gravity values that are below the minimum operating value established in the NCS or operating permit and all instances when monitoring data are not collected—PR.d, e
Condenser ᶠ | Exit (product side) temperature | 1. Continuous records as specified in § 63.1326(e)(1).ᵇ
|  | 2. Record and report the average exit temperature measured during the performance test—NCS.ᶜ
|  | 3. Record the batch cycle daily average exit temperature as specified in § 63.1326(e)(2).
|  | 4. Report all batch cycle daily average exit temperatures that are above the maximum operating value established in the NCS or operating permit and all instances when monitoring data are not collected—PR.d, e
Carbon Adsorber ᶠ | Total regeneration steam flow or nitrogen flow, or pressure (gauge or absolute) during carbon bed regeneration cycle(s), and | 1. Record the total regeneration steam flow or nitrogen flow, or pressure for each carbon bed regeneration cycle.
|  | 2. Record and report the total regeneration steam flow or nitrogen flow, or pressure during each carbon bed regeneration cycle measured during the performance test—NCS.ᶜ
|  | 3. Report all carbon bed regeneration cycles when the total regeneration steam flow or nitrogen flow, or pressure is above the maximum value established in the NCS or operating permit—PR.d, e
Carbon Adsorber | Temperature of the carbon bed after regeneration and within 15 minutes of completing any cooling cycle(s) | 1. Record the temperature of the carbon bed after each regeneration and within 15 minutes of completing any cooling cycle(s).
|  | 2. Record and report the temperature of the carbon bed after each regeneration and within 15 minutes of completing any cooling cycles(s) measured during the performance test—NCS.ᶜ
|  | 3. Report all carbon bed regeneration cycles when the temperature of the carbon bed after regeneration, or within 15 minutes of completing any cooling cycle(s), is above the maximum value established in the NCS or operating permit—PR.d, e
All control devices | Diversion to the atmosphere from the control device or | 1. Hourly records of whether the flow indicator was operating during batch emission episodes, or portions thereof, selected for control and whether a diversion was detected at any time during said periods as specified in § 63.1326(e)(3).
|  | 2. Record and report the times of all periods during batch emission episodes, or portions thereof, selected for control when emissions are diverted through a bypass line or the flow indicator is not operating—PR.ᵈ
All control devices | Monthly inspections of sealed valves | 1. Records that monthly inspections were performed as specified in § 63.1326(e)(4)(i).
|  | 2. Record and report all monthly inspections that show the valves are in the diverting position or that a seal has been broken—PR.ᵈ
Absorber, Condenser, and Carbon Adsorber (as an alternative to the requirements previously presented in this table) | Concentration level or reading indicated by an organic monitoring device at the outlet of the control device | 1. Continuous records as specified in § 63.1326(e)(1).ᵇ
|  | 2. Record and report the average batch vent concentration level or reading measured during the performance test—NCS.ᶜ
|  | 3. Record the batch cycle daily average concentration level or reading as specified in § 63.1326(e)(2).
|  | 4. Report all batch cycle daily average concentration levels or readings that are above the maximum value established in the NCS or operating permit and all instances when monitoring data are not collected—PR.d, e
ᵃ Monitor may be installed in the firebox or in the ductwork immediately downstream of the firebox before any substantial heat exchange is encountered.
ᵇ “Continuous records”; is defined in § 63.111.
ᶜ NCS = Notification of Compliance Status described in § 63.1335(e)(5).
ᵈ PR = Periodic Reports described in § 63.1335(e)(6).
ᵉ The periodic reports shall include the duration of periods when monitoring data are not collected as specified in § 63.1335(e)(6)(iii)(C).
ᶠ Alternatively, these devices may comply with the organic monitoring device provisions listed at the end of this table.

Table 8 to Subpart JJJ of Part 63—Operating Parameters for Which Levels Are Required To Be Established for Continuous and Batch Process Vents and Aggregate Batch Vent Streams
Device | Parameters to be monitored | Established operating parameter(s)
Thermal incinerator | Firebox temperature | Minimum temperature.
Catalytic incinerator | Temperature upstream and downstream of the catalyst bed | Minimum upstream temperature; and minimum temperature difference across the catalyst bed.
Boiler or process heater | Firebox temperature | Minimum temperature.
Scrubber for halogenated vents | pH of scrubber effluent; and scrubber liquid and gas flow rates [§ 63.1324(b)(4)(ii)] | Minimum pH; and minimum liquid/gas ratio.
Absorber | Exit temperature of the absorbing liquid; and exit specific gravity of the absorbing liquid | Maximum temperature; and maximum specific gravity.
Condenser | Exit temperature | Maximum temperature.
Carbon adsorber | Total regeneration steam flow or nitrogen flow, or pressure (gauge or absolute) ᵃ during carbon bed regeneration cycle; and temperature of the carbon bed after regeneration (and within 15 minutes of completing any cooling cycle(s)) | Maximum flow or pressure; and maximum temperature.
Other devices (or as an alternate to the requirements previously presented in this table) ᵇ | HAP concentration level or reading at outlet of device | Maximum HAP concentration or reading.
ᵃ 25 to 50 mm (absolute) is a common pressure level obtained by pressure swing absorbers.
ᵇ Concentration is measured instead of an operating parameter.

Table 9 of Subpart JJJ of Part 63—Routine Reports Required by This Subpart
Reference | Description of report | Due date
§ 63.1335(b) and Subpart A | Refer to Table 1 and Subpart A | Refer to Subpart A
63.1335(e)(3) | Precompliance Report ᵃ | Existing affected sources—12 months prior to the compliance date. New affected sources—with application for approval of construction or reconstruction.
63.1335(e)(4) | Emissions Averaging Plan | 18 months prior to the compliance date.
63.1335(e)(4)(iv) | Updates to Emissions Averaging Plan | 120 days prior to making the change necessitating the update.
63.1335(e)(5) | Notification of Compliance Status ᵇ | Within 150 days after the compliance date.
63.1335(e)(6) | Periodic Reports | Semiannually, no later than 60 days after the end of each 6-month period. See § 63.1335(e)(6)(i) for the due date for the first report.
63.1335(e)(6)(xi) | Quarterly reports for Emissions Averaging | No later than 60 days after the end of each quarter. First report is due with the Notification of Compliance Status.
63.1335(e)(6)(xii) | Quarterly reports upon request of the Administrator | No later than 60 days after the end of each quarter.
63.1335(e)(7)(i) | Storage Vessels Notification of Inspection | At least 30 days prior to the refilling of each storage vessel or the inspection of each storage vessel.
63.1335(e)(7)(ii) | Requests for Approval of a Nominal Control Efficiency for Use in Emissions Averaging | Initial submittal is due with the Emissions Averaging Plan specified in § 63.1335(e)(4)(ii); later submittals are made at the discretion of the owner or operator as specified in § 63.1335(e)(7)(ii) (B).
63.1335(e)(7)(iii) | Notification of Change in the Primary Product | For Notification under § 63.1310(f)(3)(ii)—notification submittal date at the discretion of the owner or operator.ᶜ
|  | For Notification under § 63.1310(f)(4)(ii)—within 6 months of making the determination.
ᵃ There may be two versions of this report due at different times; one for equipment subject to § 63.1331 and one for other emission points subject to this subpart.
ᵇ There will be two versions of this report due at different times; one for equipment subject to § 63.1331 and one for other emission points subject to this subpart.
ᶜ Note that the TPPU remains subject to this subpart until the notification under § 63.1310(f)(3)(i) is made.

[FR Doc. 00-11418 Filed 6-16-00; 8:45 am]

BILLING CODE 6560-50-P